POSTAL SERVICE

39 CFR Part 111

Changes to the Domestic Mail Manual to Implement Docket No. R2000-1

AGENCY: Postal Service.

ACTION: Final rule.

SUMMARY: This final rule sets forth the Domestic Mail Manual (DMM) standards adopted by the Postal Service to implement the rate, fee, and classification changes for all classes of mail included in the Decision of the Governors of the Postal Service in Postal Rate Commission Docket No. R2000-1.

EFFECTIVE DATE: This final rule is effective at 12:01 a.m. on January 7, 2001.

FOR FURTHER INFORMATION CONTACT: Sherry Suggs, Office of Mail Preparation and Standards, 703-292-3648.

SUPPLEMENTARY INFORMATION: On January 12, 2000, the United States Postal Service, in conformance with sections 3622 and 3623 of the Postal Reorganization Act (39 U.S.C. 101 et. seq.), filed a request for a recommended decision by the Postal Rate Commission (PRC) on proposed rate, fee, and classification changes. The PRC designated this filing as Docket No. R2000-1. The PRC issued a notice of filing in Order No. 1279 on January 14, 2000.

On August 29, 2000, the Postal Service published for comment in the Federal Register a proposed rule (65 FR 52479) that provided information on the implementation rules for the rate, fee, and classification changes that the Postal Service proposed to adopt if its requested changes in Docket No. R2000-1 were recommended by the PRC and approved by the Governors of the Postal Service.

On November 13, 2000, pursuant to 39 U.S.C. 3624, the PRC issued its Recommended Decision on the Postal Service's Request to the Governors of the Postal Service. The PRC recommendations made revisions to some of the mail classification structure, rates, and fees requested by the Postal Service. Based on an extensive analysis of the PRC's Recommended Decision and deliberation as to its consequences to the Postal Service and its customers, and pursuant to 39 U.S.C. 3625, the Governors acted on the PRC's recommendations on December 4, 2000. The Governors determined to allow the recommended rates and fees and the majority of the classification recommendations to take effect under protest. The Governors expressed disagreement with the Commission's estimate of required revenues in the test year, and returned the Recommended Decision to the Commission for reconsideration of the Postal Services revenue requirement. In a separate decision, the Governors rejected the PRC's recommendation to establish a one-pound flat rate for Priority Mail and “shell” classifications for Information Based Indicia Program Mail and Courtesy Envelope Mail. The Governors also rejected the Commission's recommendation to include footnotes in the Standard Mail rate schedules indicating a 3.3 ounce maximum weight and breakpoint weight.

The Board of Governors set an implementation date of January 7, 2001, for the rates, fees, and classifications allowed to take effect. This final rule contains the DMM standards adopted by the Postal Service to implement the Governors' decision. The revised DMM standards will take effect on January 7, 2001.

Part A summarizes the major changes made to the DMM implementing language since publication of the proposed rule (65 FR 52479). This includes changes made because of differences in the Postal Service's proposal and the PRC's recommended decision, changes made in response to the Governors' decisions, and changes made by the Postal Service in response to mailer comments or for other reasons. Part B of this final rule summarizes, by class of mail and special service category, all of the revisions made to current DMM Issue 55 to implement R2000-1. Part C of this final rule contains an analysis of the comments received on the proposed rule and the Postal Service responses. Part D summarizes the changes by DMM module and section. The actual implementing language for the DMM follows at the end of this final rule.

As information, the DMM language in this final rule incorporates revisions to the DMM from four previously published Federal Register final rules that also will take effect on January 7, 2001. These final rules are:

1. “Sack Preparation Changes for Periodicals Nonletter-Size Pieces and Periodicals Prepared on Pallets” published on July 28, 2000 (65 FR 46361).

2. “Line-of-Travel Sequencing for Basic Carrier Route Periodicals” published on July 28, 2000 (65 FR 46363).

3. “Preparation Changes for Palletized Standard Mail (A) and Bound Printed Matter and for Standard Mail (A) and Standard Mail (B) Claimed at DBMC Rates” published on August 8, 2000 (65 FR 48385).

4. “Domestic Mail Manual Changes for Sacking and Palletizing Periodicals Nonletters and Standard Mail (A) Flats, for Traying First-Class Flats, and for Labeling Pallets” published on August 16, 2000 (65 FR 50054).

Accordingly, the numbering and the language of the DMM sections in this final rule have been synchronized with these other final rules and may not match the numbering and language in current DMM Issue 55.

A. Major Changes and Additions Other than Rate and Fee Levels Since Publication of the August 29, 2000, Proposed Rule

1. Express Mail

The Postal Service has added clarifying language to DMM S500.3.0 to provide for use of electronic option Delivery Confirmation with Priority Mail, Standard Mail parcels, and Package Services mail enclosed in Express Mail drop shipment mailings. Use of electronic option Signature Confirmation also will be permitted for Priority Mail and Package Services mail that is enclosed in Express Mail drop shipments. Retail option Delivery Confirmation and Signature Service is not available for mail enclosed in Express Mail drop shipment mailings.

2. Priority Mail

The Postal Service has added clarifying language to DMM S070 to provide for use of electronic option Delivery Confirmation with Standard Mail parcels and Package Services mail enclosed in Priority Mail drop shipment mailings. Use of electronic option Signature Confirmation also will be permitted for Package Services mail that is enclosed in Priority Mail drop shipments. Use of retail option Delivery Confirmation and Signature Confirmation is not permitted with Standard Mail and will not be permitted with Package Services mail enclosed in Priority Mail drop shipments. Delivery Confirmation (either retail or electronic option) is not available for the Priority Mail portion of the drop shipment.

3. First-Class Mail

a. Maximum Weight for Automation Heavy Letters

The maximum weight for First-Class Mail heavy letters that may qualify for automation letter rates will be 3.3 ounces (.2063 pound).

b. Barcodes on Automation Flats

DMM C840.3.0 has been revised to allow application of two POSTNET barcodes on the address side of flat-size automation rate pieces provided certain conditions are met.

4. Periodicals

a. DDU Rates for Periodicals Mail Entered under Exceptional Dispatch

Based on the Postal Rate Commission's recommended decision, the final rule will include DMM changes that will provide for DDU rates for Periodicals mail entered under exceptional dispatch. The change will limit DDU rates under exceptional dispatch to zones 1 and 2 and provides a restriction on eligibility to publications with circulation of 25,000 and under.

b. DMM Renumbering

The information contained in DMM E220 in the proposed rule has been renumbered as DMM E217.

c. Maximum Weight for Automation Heavy Letters

The maximum weight for Periodicals heavy letters that may qualify for automation letter rates will be 3.3 ounces (.2063 pound).

d. Barcodes on Automation Flats

DMM C840.3.0 has been revised to allow application of two POSTNET barcodes on the address side of flat-size automation rate pieces provided certain conditions are met.

5. Standard Mail (formerly Standard Mail (A))

a. Maximum Weight Limit for Automation Letters

The maximum weight for heavy letters that may qualify for automation letter rates will be 3.3 ounces (.2063 pound).

b. Computation of Postage

Proposed DMM E610.5.7 (formerly DMM E612.4.5) that contained language that mailers must compute postage using both piece and piece/pound rates and pay whichever is higher, was removed. Because all pieces weighing 3.3 ounces or less will pay postage using minimum per piece rates and all pieces weighing more than 3.3 ounces will pay postage using the piece/pound rates, this computation by mailers is not necessary.

c. Barcodes on Automation Flats

DMM C840.3.0 has been revised to allow application of two POSTNET barcodes on the address side of flat-size automation rate pieces provided certain conditions are met.

d. Permissible Use of Electronic Option Delivery Confirmation With Standard Mail Parcels Enclosed in a Priority Mail or Express Mail Drop Shipment

The Postal Service has added clarifying language to DMM S070 and S500.3.0 to provide for use of electronic option Delivery Confirmation with Standard Mail enclosed in Priority Mail Drop Shipment or Express Mail Drop Shipment mailings. Use of retail option Delivery Confirmation is not permitted with Standard Mail. Delivery Confirmation also is not available for the Priority Mail portion of the drop shipment.

6. Combined Package Services Mail for DSCF and DDU Rates

a. Overflow Sacks

Based on comments received on the proposed rule, standards were added to DMM E753.2 and 3 to provide for the preparation of 5-digit overflow sacks for Combined Package Services mailings prepared in sacks or on pallets.

b. Clarification of Destination Entry Rate Eligibility

In DMM E753, references to “destination entry” were changed to “DSCF and DDU” to clarify that DBMC rates are not available under DMM E753 for combined Package Services mailings.

c. Clarification of Minimum Pallet Volumes

Minor changes were made throughout DMM E753 for combined Package Services mail prepared on pallets to clarify that there are two options for meeting minimum pallet volumes. Pallets must contain (1) a minimum of 50 combined parcels and 250 pounds of combined Package Services mail, or (2) 36 inches of mail. In addition, E753.1.1b(2) was amended to clarify that the height of the pallet is excluded when determining the minimum of 36 inches of mail on pallets.

d. Clarification of Postage Payment Method

DMM E753.1.1g was revised and new DMM E753.1.1h added to clarify that postage for combined Package Services mailings must be paid by permit imprint under an approved manifest mailing system agreement.

e. Maximum Height for Pallet Boxes

DMM M041.4.2 has been revised to add a requirement that for mailings prepared in pallet boxes to qualify for the DSCF or DDU rate, the height of the pallet box may not exceed 60 inches (excluding the pallet) as is currently required for Parcel Select DSCF and DDU rate mail (DMM M041.4.2).

7. Bound Printed Matter

a. Eligibility of Flat-Size Presorted Bound Printed Matter for DDU Rates

The final implementing standards in DMM E753 permit flat-size Presorted Bound Printed Matter sorted to 5-digit containers or 5-digit bedloaded packages to qualify for DDU rates if the pieces weigh over one pound and are entered at the appropriate destination delivery unit. The Drop Shipment Product must be used to determine the correct destination entry facility for the 5-digit sorted flat-size Bound Printed Matter entered at Presorted rates. If the Drop Shipment Product lists multiple facilities for a single 5-digit ZIP Code, the mailer must inquire about the correct drop site when contacting the DDU to schedule an appointment.

b. Clarification of Package and Sack Minimums

DMM M045, M722, and M723 were amended to include a clarification of the term “whichever comes first,” as it is used in the minimum size standards for preparing packages and sacks.

c. Correction of Summary of Changes to Machinable Parcel Sacking Standards

The summary of changes information in the proposed rule incorrectly stated that there were no changes to machinable parcel sack preparation other than eliminating the 1,000 cubic inch sack sortation option. The summary of changes in this final rule correctly shows that machinable parcel preparation is revised to add the “whichever comes first” criterion to the minimum sack requirements, and to allow mailers the option of preparing an ASF sack when such pieces are entered at the DBMC rates.

d. Clarification of Carrier Route Rate Eligibility

DMM E712.4.3, which was contained in the proposed rule, is deleted in this final rule. This section was erroneously included in the proposed rule and contained Carrier Route rate eligibility standards that conflicted with E712.2.0.

e. Clarification of Packaging Standards in M020

DMM M020 has been clarified to (1) show that mixed ADC packages may contain fewer than two physical pieces, (2) clarify that each physical package of Bound Printed Matter must always contain at least two pieces except for mixed ADC packages and, under the conditions described in that section, packages of Carrier Route mail prepared in sacks.

f. Revision of Maximum Individual Piece Weight for Package Preparation

The proposed rule preparation requirements for sacked mailings of irregular parcels stated that pieces weighing 10 pounds or less must be packaged prior to sacking. However, for Presorted rate irregular parcels, the minimum package size was proposed to be and is stated in this final rule to be 10 pieces or 10 pounds, whichever comes first, with a stipulation that each package must contain at least 2 pieces. Under this scenario, a single piece weighing 10 pounds would meet the minimum packaging standard and would also be required to meet the standard that each package contain at least 2 pieces. The standard requiring at least 2 pieces in each physical package would, for a 10-pound mailpiece, actually result in a minimum package size of 20 pounds rather than 10 pounds.

To eliminate this discrepancy, the cut-off weight for preparing irregular parcels in packages in DMM M722 has been changed from “weighing 10 pounds or less” to “weighing less than 10 pounds.”

To keep the packaging requirements parallel, this change also has been made for carrier route irregular parcels in sacks (DMM M723) and for all packages on pallets (DMM M045).

g. Revised Sacking Criteria for Presorted Irregular Parcels Weighing 10 or More Pounds

DMM M722.4.0, Required Preparation—Irregular Parcels Weighing 10 Pounds or More, has been revised to remove the sacking criterion of 10 or more pieces. The proposed rule stated that irregular parcels each weighing over 10 pounds were to be sacked whenever there were at least 10 pieces or 20 pounds, whichever occurs first, for a presort destination. Under the stated “whichever occurs first” rule, pieces that weigh over 2 pounds would always be sacked under the minimum 20-pound rule. Since this section pertains to only pieces that individually weigh 10 or more pounds, the option to sack based on the criterion of at least 10 pieces for a presort destination would never be used and it is therefore deleted.

h. Exception to Packaging for Presorted Rate Irregular Parcels in 5-Digit Sacks

An exception has been added to the packaging requirement in DMM M722 for Presorted rate irregular parcels that are prepared in 5-digit sacks. Mailers of Presorted rate irregular parcels prepared in 5-digit sacks, may at their option, prepare such pieces loose in sacks without physical packaging provided the number of pieces in the sack meets the minimum package size and sack size requirements and the pieces in the 5-digit sack(s) are individually wrapped or enveloped.

i. Clarification of Mixed ADC Sack Preparation to Qualify for DBMC Rates

Mailers who opt to claim the DBMC rates for mail in mixed ADC sacks are required to prepare separate mixed ADC sacks for pieces eligible for and claimed at the DBMC rate and for pieces not claimed at the DBMC rate (one set of mixed ADC sacks containing packages qualifying for DBMC rates and one set of mixed ADC sacks for packages that do not qualify for DBMC rates). For this purpose, DMM E650 and E752 have been clarified to specify that mailers must assign ADC packages to the respective qualifying or nonqualifying mixed ADC sacks based on the “label to” ZIP code for the ADC (DMM L804). For mixed ADC packages, separate mixed ADC packages must be prepared based on the individual addresses on the pieces. That is, a mixed ADC package(s) for pieces within the ASF or BMC entry point must be prepared and a separate mixed ADC package(s) for pieces outside the entry ASF or DBMC area must be prepared (using either Exhibit E650.5.1 or Exhibit E751.1.3).

j. Correction of Eligibility of Presorted Rate Machinable Parcels for DSCF Rates

DMM E752.3.3 has been amended to remove the requirement that was incorrectly published in the proposed rule that stated mailers of palletized machinable parcels at Presorted rates would be required to determine if the 5-digit facility was able to handle pallets using the Drop Shipment Product maintained by the National Customer Support Center (NCSC) and that pallets could not be prepared if the 5-digit facility was unable to handle pallets.

k. Maximum Height for Pallet Boxes at DSCF and DDU Rates

DMM M041.4.2 has been revised to add a requirement that for mailings prepared in pallet boxes to qualify for the DSCF or DDU rate, the height of the pallet box may not exceed 60 inches (excluding the pallet) as is currently required for Parcel Select DSCF and DDU rate mail (DMM M041.4.2).

8. Parcel Post

Some of the standards for Parcel Post have been reorganized for clarity since the publication of the proposed rule. Specifically, the criteria for nonmachinable parcels for purposes of applicability of the nonmachinable surcharges for inter-BMC, Intra-BMC, and DBMC rate parcels have been moved from E711 to C700.

There have been no substantive changes to the standards for Parcel Post since publication of the proposed rule.

9. Media Mail and Library Mail

DMM M045.3.6 has been corrected to show that pallets of Presorted Media Mail and Presorted Library Mail must show “PSVC” on Line 2 to indicate the class of mail.

10. Special Services

a. Business Reply Mail

Effective November 5, 2000, the Postal Service completely rewrote DMM standards for business reply mail (see Postal Bulletin 22035 (10-19-00), available via www.usps.com). This rewrite was done for clarity and consistency. Therefore, standards for business reply mail in this final rule have been reorganized to reflect the new structure of DMM units E150, P014, R900, and S922.

A provision in the DMCS that required permit holders to maintain an advance deposit account solely for the use of business reply mail has been deleted. Therefore, DMM S922.3.3 is revised to show that permit holders will be able to maintain a single advance deposit account from which multiple items can be deducted (e.g., BRM, QBRM, merchandise return service, incoming shortpaid mail, address correction notices, etc.). If permit holders request separation of charges, then they must pay an annual accounting fee for each separation, as appropriate.

b. Insurance

DMM S913.1.5 was rewritten to clarify the additional services that can be added to insurance.

c. Registered Mail

A sentence was added to the DMM to clarify that registered items receive registered treatment while they are being forwarded or returned (DMM F010.5.4e). DMM S911.1.5 was rewritten to clarify the additional services that can be added to registered mail.

d. Return Receipt

Editorial changes were made to DMM S915.1.2 to clarify that certain special services can be combined with return receipt only at the time of mailing. DMM S915.1.7 was revised to allow Delivery Confirmation and Signature Confirmation services to be added as additional services, provided that one of the prerequisite services in DMM S915.1.2 is purchased first. DMM S915.2.2 was amended to remove instructions related to activation of the signature capture process. DMM S915.4.2 was amended to clarify procedures for requesting delivery information.

e. Return Receipt for Merchandise

Proposed DMM S917.1.2 is revised to remove First-Class Mail as eligible matter. Return receipt for merchandise service is not currently an option for First-Class Mail that is 13 ounces or less; the reference to First-Class Mail was included in the proposed rule in error. Return receipt for merchandise service is available only for Priority Mail, Standard Mail parcels that are subject to the residual shape surcharge, and Package Services.

f. Signature Confirmation

Minor changes were made to the DMM language to clarify how delivery information can be retrieved and to clarify requirements for the package identification code. In addition, mailers who have previously received certification for label printing under the Delivery Confirmation program are not required to obtain any additional certification to use Signature Confirmation (DMM S919.3.3). Standards were added to allow mailers to use an integrated barcode to combine Delivery Confirmation or Signature Confirmation and insurance services (DMM S919.1.7, 3.4, and 4.0). Waiver of signature is not available when Signature Confirmation is combined with other special services (DMM S919.1.10). DMM C850.1.4 was amended to include information about concatenated and integrated barcodes with Signature Confirmation service. Language was added to F020.3.7 to show that pieces with Signature Confirmation are forwarded without payment of additional special service fees. P014.2.34f was amended to add language for refunds for Signature Confirmation service. S913.2.5 was amended to add information about integrated barcodes with Signature Confirmation and insurance.

g. Mailing List Services

DMM A910.2.2 was revised to show that the minimum fee ($7.50) for correcting a mailing list applies to lists with fewer than 30 names or addresses. This revision was omitted from the proposed rule.

h. Merchandise Return Service

DMM S923.3.4 was amended to clarify that a separate accounting fee must be paid for each separate withdrawal (billing) requested by a permit holder. This change is consistent with current standards for business reply mail.

i. Payment Period for Fee Renewals

On December 14, 2000, the Postal Service revised current DMM sections E100.4.1, E612.4.7, E630.1.5, S922.2.3, S922.3.3, S923.3.1, and S924.3.1 to allow customers to renew fee payments any time during the last 60 days of the current period (see Postal Bulletin 22039 (12-14-00)). Affected sections in this final rule have been revised accordingly to be consistent with the 60-day payment period.

B. Summary by Class of Mail and Special Service of All DMM Revisions for R2000-1

1. Express Mail

a. Express Mail Rate Highlights

Overall, Express Mail rates will increase by an average of 3.6%. Moderate increases will occur for all Express Mail rates, except for a $0.30 decrease in the ½-pound rates for Custom Designed Service and for Next Day and Second Day Post Office to Post Office Service. The fee for pickup service will increase from $8.25 to $10.25 per occurrence. The fee for delivery stops (Custom Designed Service only) will increase from $8.25 to $10.25. The fee for every $100 increment of additional insurance desired above the standard $500 of coverage will increase from $0.95 to $1.00.

b. Express Mail Rate Structure

There are no changes to the rate structure of Express Mail. Same Day Airport Service is still suspended.

c. Express Mail Preparation Changes

There are no changes to mail preparation requirements for Express Mail.

2. Priority Mail

a. Priority Mail Rate Highlights

Overall, Priority Mail rates will increase by an average of 16%. The fee for pickup service will increase from $8.25 to $10.25 per occurrence.

b. Priority Mail Rate Structure

(1) One Pound or Less Priority Mail Rate

A unique Priority Mail rate has been implemented for pieces weighing 1 pound or less. Prior to this change all Priority Mail pieces weighing 2 pounds or less were charged the 2-pound rate. Mail that is placed in a Priority Mail flat-rate envelope will continue to be charged the 2-pound rate regardless of the actual weight of the piece.

(2) Keys and Identification Devices

Keys and identification devices that weigh more than 13 ounces but not more than 1 pound will be eligible for the new 1-pound Priority Mail rate plus the fee. The fee for keys and identification devices will increase from $0.30 to $0.35.

c. Priority Mail Preparation Changes

There are no changes to mail preparation requirements for Priority Mail.

3. First-Class Mail

a. First-Class Mail Rate Highlights

Overall, First-Class Mail rates will increase by an average of 1.8%. The single-piece first-ounce letter rate increases by only one cent, from $0.33 to $0.34, and the rate for each additional ounce reduces by one cent from $0.22 to $0.21. The single-piece card rate remains at $0.20.

The first-ounce letter rate for Qualified Business Reply Mail (QBRM) increases from $0.30 to $0.31, and the card rate for QBRM reduces from $0.18 to $0.17.

The nonstandard surcharge for single-piece rate mail weighing one ounce or less will remain the same at $0.11. The nonstandard surcharge for Presorted rate and Automation rate pieces will remain the same at $0.05.

The basic automation flat rate will increase from $0.30 to $0.31 for the first ounce. The combined 3/5-digit rate category for automation flats will be eliminated. New and separate automated rate categories for 3-digit automation flats and for 5-digit automation flats will be implemented. The annual presort mailing fee will increase from $100 to $125.

b. First-Class Mail Rate Structure

The current automation flats 3/5-digit rate will be split into two separate rates: a 3-digit automation rate and a 5-digit automation rate.

c. First-Class Mail Preparation Changes

(1) Maximum Weight Limit for Automation Heavy Letters (C810.2.3)

The maximum weight for heavy letters that may qualify for automation letter rates also will be 3.3 ounces (.2063 pound).

(2) Automation Flats (DMM M011, M030, M033, M820, M910)

The Postal Service will change the standards for the preparation of 5-digit packages and 5-digit trays of automation flats under DMM 820 from required levels of sortation to optional levels of sortation. This is supported by the new rate structure that provides separate 5-digit and 3-digit rates for automation flats. All other current mail preparation requirements will remain the same.

The Postal Service will also add a new tray-based presort option for automation flats. When using this option, mailers will not need to prepare automation flats in 5-digit, 3-digit, ADC, and mixed ADC packages. Instead, mailers will prepare flat trays to 5-digit (optional), 3-digit, and ADC destinations whenever there are 90 or more pieces to a presort destination, and place remaining pieces in mixed ADC tray(s) that have no minimum tray quantity. Ninety is the average number of pieces that fills a flat tray up to the bottom of the handholds when at least a single stack of mail is lying flat on the bottom of the tray. When there are 90 or more pieces for a presort destination (other than mixed ADC), mailers will be required to physically fill flat tray(s) for that destination and will be allowed one less-than-full tray or one overflow tray per 5-digit, 3-digit, and ADC destination. Preparation of 5-digit trays also will be optional under this tray-based preparation option. Rates will be based on the sortation level of the tray to which a piece is sorted. Mailers choosing to prepare their mail using this option will not be eligible to prepare their mail as outlined in new M910 which will also go into effect when the rates resulting from the R2000-1 rate case are implemented. (M910 will permit co-traying of packages from automation rate mailings and packages from Presorted rate mailings that are part of the same mailing job and meet other criteria.)

(3) Tray Containers (DMM M033)

For clarification, new information has been added to M033.1.2 to show that the lids required to be placed on First-Class Mail flat trays must be placed on the tray green side up prior to strapping under M033.1.5b.

(4) Application of Two POSTNET Barcodes for Automation Flats (DMM C840.3.0)

Mailers have requested the ability to qualify flat-size mailpieces that bear two POSTNET barcodes for the automation flat rates. Mailers indicate that a mailpiece bearing a barcode that is not CASS-certified can in some instances be upgraded to contain a second delivery point barcode that meets the CASS- or MASS-certification criterion for eligibility for automation flat rates if it is subsequently processed through an MLOCR or other barcoding system.

However, unlike automated processing of letter mail, FSM barcode readers will read the first barcode it recognizes. Therefore, which barcode is read depends on the orientation of the mailpiece when fed through the flat sorter and the location of the barcodes on the mailpiece.

A cooperative effort between the Postal Service and MLOCR vendors led to the development of standards that will allow mailers to submit mailpieces that bear two POSTNET barcodes to qualify for automation flat-rates. The Postal Service believes these standards meet both the interest of the mailers in qualifying for the most advantageous postage rate discounts at the lowest possible mailing costs and the interest of the Postal Service to generate more barcoded flat-size mailpieces. In addition, MLOCR vendors plan to offer FASTforwardˢᵐ to their clients in the future to meet the First-Class Mail requirement for move update in DMM E140.

The Postal Service will allow the application of two POSTNET barcodes on the addressed side of flat-size automation rate pieces providing certain requirements are met. The presence of two POSTNET barcodes on a flat-size mailpiece will be permitted only when the first barcode is applied in the address block and that barcode is either a 5-digit barcode or it is a ZIP+4 or delivery point barcode that is not CASS-certified. The second barcode must be a delivery point barcode and must be CASS- or MASS-certified. It is preferred, but not required, that the second barcode be applied in the lower right area of the mailpiece parallel to and in the same direction as the delivery address. A greater than one-inch separation between the two barcodes is required. The second POSTNET barcode must not be placed near the return address. A no-spray clear zone of at least one inch below the return address is required. This is because OCRs on Postal Service flat sorting machines use the location of the POSTNET barcode to determine the location of the destination address block. If a POSTNET barcode is applied close to the return address and is scanned first, it is highly probable that the OCR will encode the return address and inadvertently return the mailpiece to the sender. The preferred location of the lower right area of the mailpiece will increase the likelihood that the CASS- or MASS-certified delivery point barcode is the first one read by the FSMs.

The application of two POSTNET barcodes is a temporary solution and may be revised subsequent to implementation of planet codes and/or testing and implementation of other options. At that time, MLOCR vendors and or mailers will be given a 90-day transition period to comply with the new requirements.

4. Periodicals

a. Periodicals Rate Highlights

The overall proposed average rate increase for Periodicals decreased from 12.7% to 9.5%. Outside-County Periodicals will have an average increase of 9.5% while Within-County Periodicals will have an average increase of 6.8%. Regular, Nonprofit and Classroom will have average increases of 9.9%, 7.2% and 9.6%, respectively.

Two of the preferred subclasses (Nonprofit and Classroom) will be combined with the Regular subclass to form an Outside-County subclass with one set of rates. Nonprofit and Classroom publications will receive a 5% discount on total Outside-County postage, excluding the postage for advertising pounds. The Within-County subclass will remain a separate subclass with a separate set of rates.

The nonadvertising percentage per piece discount, the delivery unit (Outside-County and In-County) per piece discounts, and the SCF per piece discount will increase. The Outside-County (except delivery unit, which decreases), Science-of-Agriculture (except delivery unit, which decreases), and In-County pound rates will increase along with all per piece rates for both subclasses (Outside-County and Within County). See DMM R200 for individual rates and discounts.

The fee for original entry will increase from $305 to $350. The re-entry and newsagents' fees will decrease from $50 to $40. The fee for additional entry will remain unchanged at $50.

DMM changes will provide for DDU rates for Periodicals entered under exceptional dispatch authorizations. The change will limit DDU rates under exceptional dispatch to mail destined to zones 1 and 2 and will generally restrict eligibility to publications with circulation of 25,000 and under.

b. Periodicals Rate Structure

Regular, Nonprofit, and Classroom publications will use the same Outside-County rate schedule. Nonprofit and Classroom publications will receive a 5% discount on total Outside-County postage, excluding the postage for advertising pounds. The 5% discount does not apply to commingled nonsubscriber copies in excess of the 10% allowance provided under DMM E215. In-County rates will remain a separate rate schedule.

c. Periodicals Mail Preparation Changes

(1) Bundles on Pallets

The current DMM describes a “bundle” as a group of packages secured together as a unit that equates to a sack. The current DMM provides both for preparation of packages on pallets under DMM M045.2.0 and for preparation of bundles on pallets under DMM M045.3.0. The Postal Service is not aware of any mailers that currently opt to prepare bundles on pallets. Accordingly, the Postal Service will delete the option to prepare bundles on pallets under current DMM M045.3.0. The provisions for preparing packages on pallets will remain in DMM M045.2.0.

(2) Maximum Weight Limit for Automation Heavy Letters (C810.2.3)

The maximum weight for heavy letters that may qualify for automation letter rates also will be 3.3 ounces (.2063 pound).

(3) Other Rulemakings

Mailers are reminded that three final rule Federal Register notices have previously been published that set forth required and optional preparation requirements for Periodicals that also will be effective on January 7, 2001. These are: (1) “Sack Preparation Changes for Periodicals Nonletter-Size Pieces and Periodicals Prepared on Pallets” published on July 28, 2000 (65 FR 46361), (2) “Line-of-Travel Sequencing for Basic Carrier Route Periodicals” published on July 28, 2000 (65 FR 46363), and (3) “Domestic Mail Manual Changes for Sacking and Palletizing Periodicals Nonletters and Standard Mail (A) Flats, for Traying First-Class Flats, and for Labeling Pallets” published August 16, 2000 (65 FR 50054). In addition, a final rule has been published concerning “Sack Preparation Changes for Periodicals Nonletter-Size Mailing Jobs that Include Automation Flat Rate and Presorted Rate Mailings.” This final rule requires, effective January 7, 2001, use of the co-sacking preparation method in DMM M910 for Periodicals nonletter-size mailing jobs that include both an automation flats mailing and a Presorted flats mailing. Information concerning optional use of DMM M910 and its associated preparation criteria was published in Postal Bulletin 22036 (11-2-00). Information concerning required use of DMM M910 by Periodicals mailers will be published in Postal Bulletin 22039 (12-14-00) as “Preparation Changes for Periodicals Nonletter-Size Mailing Jobs.”

5. Standard Mail (Formerly Standard Mail (A))

a. Standard Mail Rate Highlights

Regular rates will increase by an average of 8.8%. Rates for commercial Enhanced Carrier Route (ECR) mail will increase by an average of 4.5%. Rates for Nonprofit mail will increase by an average of 4.8%. Rates for Nonprofit Enhanced Carrier Route will increase by an average of 18.3%.

Discounts for destination entry rate mail (DBMC, DSCF, and DDU) have increased. The annual presort mailing fee increases from $100 to $125.

b. Standard Mail Rate Structure

All Standard Mail letters and non-letters are subject to a weight limit of 3.3 ounces (.2063 pound) for the minimum per piece rate.

A new machinable parcel barcoded discount of $0.03 will apply to Standard Mail machinable parcels that are subject to the residual shape surcharge and that meet other preparation requirements. This machinable parcel barcoded discount is available only for the Regular and Nonprofit Standard Mail subclasses (it will not be available for pieces mailed at the Enhanced Carrier Route and Nonprofit Enhanced Carrier Route subclasses).

There are two different residual shape surcharges: Enhanced Carrier Route and Nonprofit Enhanced Carrier Route mail have a residual shape surcharge of $0.15, and Regular and Nonprofit mail have a residual shape surcharge of $0.18.

Return receipt for merchandise, bulk insurance, and electronic option Delivery Confirmation are available for Standard Mail parcels that are subject to the residual shape surcharge.

c. Standard Mail Preparation Changes

(1) Name Change and DMM Restructuring

The name of the mail class “Standard Mail (A)” will change to “Standard Mail.” Throughout this final rule, “Standard Mail” is used consistently in the DMM text to indicate the class formerly known as “Standard Mail (A).” For brevity, not all DMM sections for which only name changes apply were reproduced in this final rule. This change will, however, be implemented throughout all of DMM Issue 56, which will transmit the final implementing rules for R2000-1.

DMM sections C600, D600, E600, M600, P600, and R600 now contain standards for only Standard Mail. Matter in these sections that formerly contained standards for Package Services mail have been moved into new sections under C700, D700, E700, M700, P700, and R700, respectively. (Former P700, which contains information on special postage payment systems, is renumbered as P900.)

Matter pertaining only to Standard Mail in former E611 and E612 is consolidated and reorganized into new E610. DMM E620 and E630 are reorganized so that E620 pertains to Presorted rate Standard Mail and E630 pertains to Enhanced Carrier Route Standard Mail.

(2) Sack and Pallet Labels (DMM M031, M032, M045, M600)

Currently, the contents line of sack and pallet labels for irregular parcel and machinable parcel mailings must show “STD A” or “STD B” as applicable for the class being mailed. Because of the name changes of “Standard Mail (A)” to “Standard Mail” and of “Standard Mail (B)” to “Package Services,” the use of “STD A” on “Standard Mail” sack and pallet labels for irregular parcel and machinable parcel mailings is changed to “STD” (Package Services labels will use “PSVC”).

(3) Dimensions for Machinable Parcels (DMM C050)

The minimum dimensions for a machinable parcel in DMM C050.4.1a are changed to not less than 6 inches long, 3 inches high, ¼ inch thick, and 6 ounces in weight. (A mailpiece exactly ¼ inch thick is subject to the 3½-inch height minimum under C010.) Some parcels may be successfully processed on BMC parcel sorters although they do not conform to the new machinability standards in DMM C050.4.1. If this is the case, a BMC plant manager may authorize a mailer to enter such parcels as machinable parcels if the parcels are tested on BMC parcel sorters and prove to be machinable. Such an authorization will apply only to mail that is both entered at a post office within the service area of the authorizing BMC area and is for delivery to an address within the service area of that BMC. These changes also apply to Package Services mail.

(4) Preparation of Bundles (DMM M045, M600)

The current DMM describes a “bundle” as a group of packages secured together as a unit that equates to a sack. Because the Postal Service is not aware of any mailers that currently opt to prepare bundles on pallets, the provision in M045.3.0 that contains an option to prepare bundles on pallets is removed. The provisions for preparing packages on pallets will remain in DMM M045.2.0.

The current DMM also provides for preparation of bedloaded bundles of Presorted and Carrier Route rate mail under DMM M610.6.0 and M620.6.0, respectively. Such preparation requires Rates and Classification Service Center (RCSC) authorization. The records of the Postal Service currently indicate that there are no mailers authorized to prepare bedloaded bundles in the manner described in the DMM. Because of this, and because bedloaded bundles are generally not cost-efficient for the Postal Service to handle and process, the Postal Service is removing the options to prepare bedloaded bundles under DMM M610.6.0 and M620.6.0.

(5) Machinable Parcel Barcoded Discount (DMM C850, E610, E620, P600)

The new machinable parcel barcoded discount of $0.03 will apply to machinable parcels (as defined in DMM C050) for which the residual shape surcharge (RSS) surcharge is paid and that bear a correct, readable 5-digit barcode under C850 for the ZIP Code shown in the delivery address and are prepared as machinable parcels under M045 or M610. Machinable parcels prepared in 5-digit sacks or on 5-digit pallets entered at DSCF rates may qualify for the barcoded discount even though such pieces will not be processed using BMC barcode scanning equipment. Otherwise, rates for 5-digit sorted machinable parcels entered at DSCF rates could be higher than for BMC sorted machinable parcels that were entered at DBMC rates and which also qualified for the barcoded discount. Machinable parcels entered at DBMC rates may claim the machinable parcel barcoded discount only if they are entered at a BMC. An exception is that properly prepared machinable pieces of DBMC rate mail entered at the Phoenix, Arizona, ASF may claim the barcoded discount because that facility uses barcode scanning equipment. The machinable parcel barcoded discount is not available for pieces mailed at the Enhanced Carrier Route or Nonprofit Enhanced Carrier Route subclasses.

If all pieces in a mailing are eligible for the machinable parcel barcoded discount under E610 and E620, then the mailing may be paid with meter stamps, permit imprint, or precanceled stamps under the applicable standards. If fewer than 100 percent of the pieces in the mailing are eligible for the machinable parcel barcoded discount, then payment with precanceled stamps is not permitted; use of metered postage is permissible only if exact postage is affixed to each piece in the mailing; and use of permit imprints is permitted only under a manifest mailing system (P910).

(6) Special Services With Standard Mail (DMM E610, P600)

Standard Mail that is subject to the residual shape surcharge (pieces prepared as parcels or that are not letter-size or flat-size as defined in DMM C050) may receive the following additional special services upon payment of the appropriate fees: bulk insurance, return receipt for merchandise, and electronic option Delivery Confirmation. Other Standard Mail is not eligible for any special services. Mail prepared with detached address labels under A060 and mail using Bulk Parcel Return Service (BPRS) also are not eligible for any special services.

Mailpieces for which one or more of these special services are requested must bear a return address under A010 and must bear an ancillary service endorsement that results in return of the mailpiece to the sender if undeliverable as addressed (Address Service Requested, Forwarding Service Requested, or Return Service Requested).

Mailings for which bulk insurance is requested must pay postage and fees through a manifest mailing system (P910).

For electronic option Delivery Confirmation, the following postage payment requirements apply. If electronic option Delivery Confirmation is requested for all the pieces in the mailing and the mailing consists of pieces of identical weight, then postage may be paid with metered postage or permit imprints under the existing standards in P600.2.0 and P600.3.0 (as restructured in this final rule). However, if Delivery Confirmation is not requested for all pieces in the mailing, or if the pieces are not of identical weight, then either the exact metered postage must be affixed to each piece or a manifest mailing system must be used for permit imprint mail under P910. Precanceled stamps may not be used for postage payment on pieces with Delivery Confirmation (see DMM S918.1.5).

If return receipt for merchandise is requested for all the pieces in the mailing and the mailing consists of pieces of identical weight, then postage must be paid with metered postage or permit imprints under the applicable standards in DMM P600.2.0 and P600.3.0. If return receipt for merchandise is not requested for all of the pieces in the mailing, or if the pieces are not identical weight, then either the exact metered postage must be affixed to each piece, or a manifest mailing system must be used for permit imprint mail under P910. Precanceled stamps are not permitted for use with return receipt for merchandise.

(7) Maximum Weight Limit for Automation Heavy Letters (DMM C810.2.3)

The maximum weight for heavy letters that may qualify for automation letter rates also will be 3.3 ounces (.2063 pound).

(8) Barcodes on Automation Flats (DMM C840.3.0)

DMM C840.3.0 has been revised to allow application of two POSTNET barcodes on the address side of flat-size automation rate pieces provided certain conditions are met.

(9) Permissible Use of Electronic Option Delivery Confirmation With Standard Mail Parcels Enclosed in an Express Mail or Priority Mail Drop Shipment (DMM S070 and S500.3.0)

DMM S070 and S500.3.0 are amended to provide for use of electronic Delivery Confirmation with Standard Mail parcels enclosed in Priority Mail Drop Shipment or Express Mail Drop Shipment mailings.

6. Package Services (Formerly Standard Mail (B))—General

a. Name Change and DMM Restructuring

The name of this mail class will change from “Standard Mail (B)” to “Package Services.” Package Services includes Parcel Post (including Parcel Select), Bound Printed Matter, Media Mail (formerly Special Standard Mail), and Library Mail.

The standards in current DMM sections C600, D600, M600, E600, P600, and R600 that pertain to Package Services have been moved to new sections under DMM C700, D700, E700, M700, P700, and R700. Former P700, which contains information on special postage payment systems, is renumbered as P900.

The standards for Package Services contained in current DMM E611 and E613 are consolidated and reorganized into new E710. Current DMM E630 and E650, which contain eligibility standards for Package Services, are moved into new DMM E700. Each of the four subclasses of Package Services mail has its own eligibility sections: DMM E711 for Parcel Post; DMM E712 for Bound Printed Matter; DMM E713 for Media Mail (formerly Special Standard Mail); and DMM E714 for Library Mail. Information pertaining to eligibility of Package Services mail for destination entry rates is moved to DMM E750. Current DMM M630 is moved and reorganized into new DMM M710 for Parcel Post, DMM M720 for Bound Printed Matter, DMM M730 for Media Mail, and DMM M740 for Library Mail.

b. Combining Different Subclasses of Package Services to Qualify for DSCF and DDU Rates

New provisions are added in DMM E753 that allow mailers to combine different subclasses of Package Services machinable, irregular, and nonmachinable parcels in the same 5-digit sack or on the same 5-digit pallet to qualify for DSCF and DDU rates. For sack preparation, 10 or more parcels of any combination of Package Services subclasses, except for mail at Carrier Route Bound Printed Matter rates, may be placed in the same 5-digit sack and entered at destination SCFs or at destination delivery units. For pallet preparation, 5-digit pallets that contain either 50 pieces and 250 pounds or that contain at least 36 inches of Package Services parcels (any combination of subclasses, except mail at Carrier Route Bound Printed Matter rates) may be prepared and entered at destination SCFs or at destination delivery units. Any Parcel Post pieces and any Presorted Bound Printed Matter in such sacks or on such pallets will be eligible for the appropriate DSCF or DDU rate provided all other eligibility requirements for the applicable destination entry rate are met. Media Mail and Library Mail pieces are subject to their respective single-piece or 5-digit rates depending upon whether the 500-piece minimum quantity requirement for the 5-digit rates is met for each subclass. Mailers must request authorization to use this preparation method and pay postage using permit imprints under a manifest mailing system agreement. See E753 for a full description of the requirements and rate applicability.

7. Parcel Post

a. Parcel Post Rate Highlights

Parcel Post rates will increase by an average of 2.7%. The nonmachinable surcharge for Inter-BMC Parcel Post will increase from $1.65 to $2.00 per parcel. The Parcel Post Origin BMC Presort and BMC Presort discounts will increase from $0.57 to $0.90 per piece and from $0.22 to $0.23 per piece, respectively. The barcoded discount for qualifying Parcel Post (including Parcel Select) machinable parcels will remain at $0.03 per piece. The annual destination entry fee for Parcel Select will increase from $100 to $125.

b. Parcel Post Rate Structure

Pieces weighing less than 16 ounces are now eligible for Parcel Post (including Parcel Select) rates. A one-pound rate is added. The rates for a piece weighing one pound or less and the rates for a piece weighing more than one pound but not more than 2 pounds are the same. A $1.35 nonmachinable surcharge for Intra-BMC Parcel Post and a $1.45 nonmachinable surcharge for DBMC Parcel Select are added.

c. Parcel Post Mail Preparation Changes

(1) Rate Markings (DMM M012 and M710)

There are no changes to the marking requirements for Parcel Post and Parcel Select.

(2) Sack and Pallet Labels (DMM M031, M032, M045, M710)

The abbreviation “STD” or “STD B” on the contents line of sack and pallet labels for Parcel Post (including Parcel Select) is changed to “PSVC” (an abbreviation for Package Services). Labels for 5-digit sacks and pallets prepared to qualify for Parcel Select DSCF and DDU rates are revised to add the processing category “PARCELS” to the contents line to read “PSVC PARCELS 5D.” For containers of combined Package Services parcels, line 2 will also read “PSVC PARCELS 5D.”

(3) Dimensions for Machinable Parcels (DMM C050)

The minimum dimensions for a machinable parcel in DMM C050.4.1a are changed to not less than 6 inches long, 3 inches high, ¼ inch thick, and 6 ounces in weight. (A mailpiece exactly ¼ inch thick is subject to the 3½-inch height minimum under C010.) (The previous minimum weight was 8 ounces unless certain other conditions were met.) Some parcels may be successfully processed on BMC parcel sorters although they do not conform to the machinability standards in new DMM C050.4.1. If this is the case, a BMC plant manager may authorize a mailer to enter such parcels as machinable parcels if the parcels are tested on BMC parcel sorters and prove to be machinable. Such an authorization applies only to mail that is both entered at a post office within the authorizing BMC's service area and is for delivery to an address within that BMC's service area. These changes also apply to Standard Mail.

(4) Machinable Parcel Preparation Requirements (DMM M045 and M710)

The rules for sacking and palletizing Parcel Post (including Parcel Select) machinable parcels are clarified to point out that they are optional preparation methods for Parcel Post. In addition, the sacking rules are modified to delete the 1,000 cubic inch option for preparing sacks of machinable parcels. If Parcel Post mailers choose to sack under the machinable parcel preparation standards, sacks for a 5-digit, ASF, or BMC destination have a minimum volume requirement of 10 pieces or 20 pounds.

(5) Postage Payment (P700)

P700 is clarified to indicate that precanceled stamps must not be used for postage payment of any Parcel Post or Parcel Select mail, including matter at single-piece rates.

8. Bound Printed Matter

a. Bound Printed Matter Rate Highlights

The Postal Service has calculated that Bound Printed Matter (BPM) rates will increase by an average of 9.8%. New destination entry discounts for Presorted rate and Carrier Route rate mailings of Bound Printed Matter are available to encourage the deposit of mail at the destination BMC, SCF, or delivery unit. There is an annual destination entry mailing fee for mail entered at destination entry rates of $125. The barcoded discount for qualifying Presorted Bound Printed Matter machinable parcels will remain at $0.03 per piece.

b. Bound Printed Matter Rate Structure

The local zone rate category has been eliminated for Bound Printed Matter. Destination entry rates for Presorted and Carrier Route Bound Printed Matter entered at destination BMCs, SCFs, and delivery units are provided. To qualify for destination entry rates mailers must pay the annual destination entry mailing fee described above and meet the preparation requirements in DMM E752 that are summarized below. There are no destination entry rates for single-piece Bound Printed Matter.

Another major change is that pieces weighing less than 16 ounces are eligible for Bound Printed Matter rates; however, there are no rate categories for pieces less than 1 pound for single-piece, Presorted, and Carrier Route mail. Therefore, single-piece Bound Printed Matter that weighs less than 1 pound will be charged the 1-pound rate (which is the same as the 1.5-pound rate), and Presorted and Carrier Route Bound Printed Matter that weighs less than 1 pound will be charged the full 1-pound rate, plus the applicable per piece charge.

c. Bound Printed Matter Mail Preparation Changes

(1) Rate Markings (DMM M012 and M720)

There are two changes to the marking requirements for Bound Printed Matter. The first allows mailers to use the abbreviation “BPM” as the basic (subclass) marking that must appear in the postage area on each piece. The second prohibits mailers from using the “Presorted Standard” (or “PRSRT STD”) marking on Presorted and Carrier Route Bound Printed Matter after a 1-year grace period. Because of the renaming of Standard Mail (B) to Package Services, “Standard” and “STD” are no longer applicable as class of mail descriptions for Bound Printed Matter. Mailers will have until January 1, 2002 to discontinue use of the “Presorted Standard” (or “PRSRT STD”) marking.

(2) Sack and Pallet Labels (DMM M031, M032, M045, M700)

The abbreviations “STD” or “STD B” on the contents line of sack and pallet labels for Bound Printed Matter are changed to “PSVC” (an abbreviation for Package Services).

(3) Address Matching Requirements for Presorted Bound Printed Matter (DMM E712)

A new requirement is added that all 5-digit ZIP Codes included in addresses on pieces claimed at Presorted Bound Printed Matter rates must be verified and corrected within 12 months before the mailing date using a USPS-approved method. The mailer must certify on the postage statement that this standard has been met when the mail is presented to the USPS. This standard applies to each address individually, not to a specific list or mailing. See E712.3.1.

(4) Dimensions for Machinable Parcels (DMM M050)

The minimum dimensions for a machinable parcel in DMM C050.4.1a are changed to not less than 6 inches long, 3 inches high, ¼ inch thick, and 6 ounces in weight. (A mailpiece exactly ¼ inch thick is subject to the 3½-inch height minimum under C010.) (The previous minimum weight was 8 ounces unless certain other conditions were met.) Some parcels may be successfully processed on BMC parcel sorters although they do not conform to the machinability standards in DMM C050.4.1. If this is the case, a BMC plant manager may authorize a mailer to enter such parcels as machinable parcels if the parcels are tested on BMC parcel sorters and prove to be machinable. Such an authorization applies only to mail that is both entered at a post office within the authorizing BMC's service area and is for delivery to an address within that BMC's service area. These changes also apply to Standard Mail.

(5) Sortation for Sacked Presorted Rate Bound Printed Matter (DMM M722)

(a) General. All flats and all irregular parcels that weigh less than 10 pounds must be prepared in packages prior to sacking. Machinable parcels are still placed directly in sacks without packaging, and irregular parcels weighing 10 pounds or more must be placed into sacks without packaging. Irregular parcels weighing 10 pounds or more that are placed directly in sacks must be individually enveloped, be placed in a full-length sleeve or wrapper, or be polywrapped. The provisions for preparing sacks to a particular presort destination based on a 1,000 cubic inch minimum are deleted.

(b) Flats. For flats prepared in sacks, mailers are required to prepare packages whenever there are at least 10 pieces or 10 pounds of mail, whichever occurs first, for a presort destination (5-digit, 3-digit, ADC), with remaining pieces placed in mixed ADC packages. “Whichever occurs first” means a mailing of identical-weight pieces weighing one pound or less must be packaged using the 10-piece package minimum, and those that weigh more must be prepared using the 10-pound package minimum. (See M722 for information concerning mailings of nonidentical weight pieces.) The maximum weight of any package is 20 pounds, except that 5-digit packages placed in 5-digit sacks may weigh up to 40 pounds. This allows packages prepared in other than 5-digit sacks to be processed on small parcel and bundle sorters (SPBSs). Each physical package is required to contain at least 2 addressed pieces except for mixed ADC packages.

These packages are required to be placed in sacks whenever there are at least 20 pieces or 20 pounds, whichever occurs first, for a sack destination (5-digit, 3-digit, optional SCF, ADC), with remaining packages placed in mixed ADC sacks. “Whichever occurs first” means that if the individual pieces in the mailing weigh one pound or less they must be sacked whenever there are 20 or more pieces to a sack destination, and individual pieces that weigh more than one pound must be sacked when there are 20 or more pounds to a sack destination. (See M722 for information concerning mailings of nonidentical weight pieces.)

(c) Irregular Parcels That Each Weigh Less Than 10 Pounds. For Presorted irregular parcels, mailers are required to prepare the mail in packages if the individual pieces weigh less than 10 pounds. Packages must be prepared whenever there are at least 10 pieces or 10 pounds to a presort destination, whichever occurs first. “Whichever occurs first” means a mailing of identical-weight pieces weighing one pound or less must be packaged using the 10-piece package minimum, and those that weigh more must be prepared using the 10-pound package minimum. (See M722 for information concerning mailings of nonidentical weight pieces.) The package destinations are the same as for flat-size pieces (5-digit, 3-digit, ADC, and mixed ADC). Mixed ADC packages may contain fewer than 10 pieces or 10 pounds of mail.

Sortation to ADCs is made using DMM L004 instead of L603, and mixed ADC sacks are labeled using DMM L004 instead of L604. The maximum weight of any package is 20 pounds, except that 5-digit packages placed in 5-digit sacks may weigh up to 40 pounds. Each physical package is required to contain at least 2 addressed pieces except for mixed ADC packages.

There is one exception to the packaging requirement. Mailers of irregular parcel BPM prepared in 5-digit sacks, may at their option, prepare such pieces loose in sacks without physical packaging provided the number of pieces in the sack meets the minimum package size and sack size requirements and the pieces in the 5-digit sack(s) are individually wrapped or enveloped.

Packages must be placed in 5-digit, 3-digit, optional SCF, and ADC sacks whenever there are 10 or more pieces or 20 or more pounds, whichever occurs first, for a sack destination. Remaining packages must be placed in mixed ADC sacks. “Whichever occurs first” means that if the individual pieces in the mailing weigh two pounds or less they must be sacked whenever there are 10 or more pieces to a sack destination, and individual pieces weighing more than two pounds must be sacked when there are 20 or more pounds to a sack destination. (See M722 for information concerning mailings of nonidentical weight pieces.)

(d) Irregular Parcels That Each Weigh 10 or More Pounds. Presorted irregular parcels that each weigh 10 or more pounds are not packaged, but must be placed in 5-digit, 3-digit, optional SCF, and ADC sacks whenever there are 20 or more pounds for a sack destination. Remaining pieces are placed in mixed ADC sacks. Sortation to ADCs is made using DMM L004 instead of L603, and mixed ADC sacks are labeled using DMM L004 instead of L604. Irregular parcel-size pieces that each weigh 10 or more pounds are required to be individually enveloped, be placed in a full-length sleeve or wrapper, or be polywrapped prior to sacking.

(e) Machinable Parcels. For machinable parcels, sacks are prepared when there are at least 10 pieces or 20 pounds, whichever occurs first, for a required or optional sack level. The option to use 1,000 cubic inches as a minimum sacking criterion is deleted. The new “whichever occurs first” criterion means that if the individual pieces in the mailing weigh two pounds or less they must be sacked whenever there are 10 or more pieces to a sack destination, and individual pieces weighing more than two pounds must be sacked when there are 20 or more pounds to a sack destination. (See M722 for information concerning mailings of nonidentical weight pieces.) In addition, an optional ASF sack sortation level using DMM L602 is added for pieces that are entered at DBMC rates.

(6) Sortation for Sacked Carrier Route Rate Bound Printed Matter (DMM M020, M723)

(a) Flats. For flat-size mail, the basic eligibility requirement to qualify for carrier route rates of a minimum of 10 pieces/20 pounds/1,000 cubic inches of mail for the same carrier route is changed to require a minimum of 10 pieces or 10 pounds of mail, whichever occurs first, prepared in a package or packages for the same carrier route. “Whichever occurs first” means a mailing of identical-weight pieces weighing one pound or less must be packaged using the 10-piece package minimum, and those that weigh more than one pound must be prepared using the 10-pound package minimum. (See M722 for information concerning mailings of nonidentical weight pieces.)

In addition, the maximum weight of any flat-size package is 40 pounds. Each physical package must contain a minimum of two addressed pieces. The only exception to a minimum two-piece package is that the last physical package to an individual carrier route destination may consist of a single addressed piece provided that all other packages to that carrier route destination contained at least two addressed pieces and that the total group of pieces to that carrier route meets the applicable Carrier Route rate eligibility minimum in E712 (for flats, 10 pieces or 10 pounds, whichever occurs first).

Packages of flat-sized mail must be sacked for an individual carrier route whenever there are at least 20 pieces or 20 pounds of mail for a carrier route, whichever occurs first. The new “whichever occurs first” criterion means that if the individual pieces in the mailing weigh one pound or less they must be sacked whenever there are 20 or more pieces to a sack destination, and individual pieces weighing more than one pound must be sacked when there are 20 or more pounds to a sack destination. (See M722 for information concerning mailings of nonidentical weight pieces.)

Remaining carrier route packages must be sacked in 5-digit carrier routes sacks or, at the mailer's option, sacked to 5-digit scheme carrier routes sacks using L001.

(b) Irregular Parcels Weighing Less Than 10 Pounds Each. For mailings of Carrier Route irregular parcels that each weigh less than 10 pounds, mailers must prepare the mail in packages prior to sacking. A package must be prepared whenever there are at least 10 pieces or 20 pounds of mail to an individual carrier route, whichever occurs first. The new “whichever occurs first” criterion means that if the individual pieces in the mailing weigh two pounds or less they must be packaged whenever there are 10 or more pieces to a carrier route destination, and individual pieces weighing more than two pounds must be packaged when there are 20 or more pounds to a carrier route destination. (See M722 for information concerning mailings of nonidentical weight pieces.)

The maximum weight of any package is 40 pounds. Each physical package is required to contain a minimum of two addressed pieces. The only exception to a minimum two-piece package is that the last physical package to an individual carrier route destination may consist of a single addressed piece provided that all other packages to that carrier route destination contain at least two addressed pieces and that the total group of pieces to that carrier route meets the applicable Carrier Route rate eligibility minimum in E712 (for irregular parcels weighing less than 10 pounds, 10 pieces or 20 pounds, whichever occurs first).

Carrier route packages of irregular parcels must be placed in direct carrier route sacks when there are 10 or more pieces or 20 or more pounds to a carrier route, whichever occurs first. The new “whichever occurs first” criterion means that if the individual pieces in the mailing weigh two pounds or less they must be sacked whenever there are 10 or more pieces to a sack destination, and individual pieces weighing more than two pounds must be sacked when there are 20 or more pounds to a sack destination. (See M722 for information concerning mailings of nonidentical weight pieces.) Carrier route packages that cannot be placed in direct carrier route sacks must be placed in 5-digit carrier routes sacks. Preparation of 5-digit scheme carrier routes sacks for irregular parcels is not permitted.

(c) Irregular Parcels That Each Weigh 10 or More Pounds. For mailings of Carrier Route irregular parcels that each weigh 10 or more pounds, the mail is not prepared in packages, but must be placed only in direct carrier route sacks that each contain a minimum of 20 pounds of mail. Smaller volumes in a carrier route sack are not permitted.

(d) Machinable Parcels. Machinable parcels will be permitted to qualify for Carrier Route Bound Printed Matter rates if placed in direct carrier route sacks that each contain a minimum of 10 pieces or 20 pounds of mail, whichever occurs first. (Machinable parcels prepared on pallets under M045 are not eligible for Carrier Route Bound Printed Matter rates.) The new “whichever occurs first” criterion means that if the individual pieces in the mailing weigh two pounds or less they must be sacked whenever there are 10 or more pieces to a sack destination, and individual pieces that weigh more than two pounds must be sacked when there are 20 or more pounds to a sack destination. (See M722 for information concerning mailings of nonidentical weight pieces.) Smaller volumes in a sack are not permitted.

(e) Residual Pieces. The provisions for marking and sortation of residual pieces that do not qualify for the Carrier Route Bound Printed Matter rates have changed. Such pieces may no longer be sorted to carrier routes and may not bear the “Carrier Route Presort” marking. Such residual pieces are required to be marked and sorted in accordance with the requirements for Presorted rate mailings and will continue to qualify for the Presorted rates (see M723.1.5).

(7) Preparation of Packages on Pallets (DMM M040 and M045)

Flats prepared as packages on pallets are permitted to use optional scheme sort (DMM L001). For flat-size pieces prepared in a copalletized mailing job that contains both a Presorted rate mailing and a Carrier Route rate mailing, separate 5-digit pallets must be prepared for carrier route mail (optional 5-digit scheme carrier routes and required 5-digit carrier routes pallets), and separate 5-digit pallets must be prepared for Presorted rate mail (optional 5-digit scheme and required 5-digit pallets).

For irregular parcels prepared as packages on pallets, mailers must prepare co-palletized Carrier Route and Presorted mail on the same 5-digit pallet. Scheme sortation is not permitted for packages of irregular parcels on pallets.

For flats and irregular parcels, packages are required to be made to a required package destination (carrier route, 5-digit, 3-digit, ADC) whenever there are 10 or more pieces or 10 or more pounds for a presort destination, whichever occurs first, except that the last package to a presort destination may weigh less than 10 pounds. “Whichever occurs first” means a mailing of identical-weight pieces weighing one pound or less must be packaged using the 10-piece package minimum, and those that weigh more must be prepared using the 10-pound package minimum. (See M722 for information concerning mailings of nonidentical weight pieces.) When there are at least 10 pieces, but fewer than 10 pounds for a presort destination, the pieces must be prepared in a single physical package.

ADC packages must be prepared using DMM L004 instead of L603. The maximum physical package size is 20 pounds except as follows. For Presorted rate mail, 5-digit packages may weigh up to 40 pounds if placed on a 5-digit scheme (flats only) or 5-digit pallet. For Carrier Route rate mail, flat-size carrier route packages may weigh up to 40 pounds if they are placed on 5-digit scheme carrier routes, or 5-digit carrier routes pallets, and irregular parcel-size carrier route packages may weigh up to 40 pounds if they are placed on a 5-digit pallet. Each physical package is required to contain at least 2 pieces.

When individual pieces weigh 10 or more pounds, they cannot be prepared as packages on pallets (except in those instances where 40-pound packages are permitted as described above). Such pieces that weigh 10 or more pounds are required to be prepared either as machinable parcels on pallets (eligible only for Presorted rates) or in sacks under M722 (Presorted rates) and/or M723 (Carrier Route rates). The new 20-pound package weight limit for flats and irregular parcels allows the packages to be processed on small parcel and bundle sorters (SPBSs).

(8) PAVE Certification and Package Reallocation

A requirement for the use of standardized documentation or Presort Accuracy Validation and Evaluation (PAVE)-certified software for Bound Printed Matter has not been added to the standards. However, the Postal Service plans to develop PAVE tests for Bound Printed Matter in the future. At that time, standardized documentation requirements will be developed and a Federal Register proposed rule to require either use of standardized documentation or use of PAVE-certified software for Presorted and Carrier Route Bound Printed Matter will be published for comment. Because use of optional package reallocation to protect SCF and BMC pallets requires use of PAVE-certified software, use of package reallocation for Bound Printed Matter flats is not available at this time. Use of package reallocation will be offered for Bound Printed Matter once use of PAVE-certified software becomes available.

(9) Bedloaded Bundles (DMM M722, M723)

The provisions for preparing bedloaded bundles in previous DMM M630.7.0 have been removed. A “bundle” is described as a group of packages secured together as a unit that equates to a sack. The Postal Service does not believe that any mailers are currently preparing true bedloaded “bundles,” although some mailers do prepare bedloaded “packages.” The Postal Service is implementing preparation rules for Bound Printed Matter that are designed to reduce handling and processing costs. Bedloaded packages or bundles are generally not cost-efficient for the Postal Service to handle and process. Therefore, these final sortation rules eliminate the option to prepare bedloaded bundles and allow mailers to prepare bedloaded packages only for mail that is prepared for and entered at the DDU rates (because DDU rate mail must be unloaded by the mailer). Such bedloaded packages may weigh up to 40 pounds each. See M722 and M723.

(10) Destination Bulk Mail Center (DBMC) Rates (DMM E752)

Destination Bulk Mail Center (DBMC) rates apply to Presorted and Carrier Route Bound Printed Matter mailings that are prepared in any permissible sack or pallet level and that are deposited at a BMC or ASF, are addressed for delivery to one of the 3-digit ZIP Codes served by the BMC or ASF where deposited that are listed in Exhibit E751.1.3, and are placed in a sack or pallet that is labeled to the BMC or ASF where deposited, or labeled to a postal facility within the service area of that BMC or ASF under Exhibit E751.1.3.

Flats or irregular parcels in an ADC sack or in a palletized ADC package are eligible for the DBMC rates if the ADC facility ZIP Code (as shown in Line 1 of the corresponding sack label or the ADC facility that is the destination of the palletized ADC package as would be shown on an ADC sack label for that facility using DMM L004, Column B) is within the service area of the BMC or ASF at which the sack is deposited.

Flats or irregular parcels in mixed ADC sacks qualify for the DBMC rates only if all the pieces in the sack are for the service area of the DBMC or DASF as shown in Exhibit E751.1.3. Mailers who opt to claim the DBMC rates for mail in mixed ADC sacks are required to prepare separate mixed ADC sacks for pieces eligible for and claimed at the DBMC rate and for pieces not claimed at the DBMC rate (one set of mixed ADC sacks containing packages qualifying for DBMC rates and one set of mixed ADC sacks for packages that do not qualify for DBMC rates). For this purpose, DMM E650 and E752 specify that mailers assign ADC packages to the respective qualifying or nonqualifying mixed ADC sacks based on the “label to” ZIP Code for the ADC. For mixed ADC packages, separate mixed ADC packages must be prepared based on the individual addresses on the pieces. That is, a mixed ADC package(s) for pieces within the ASF or BMC entry point must be prepared and a separate mixed ADC package(s) for pieces outside the entry ASF or DBMC area (using either Exhibit E650.5.1 or E751.1.3) must be prepared.

Machinable parcels palletized under M045 or sacked under M722 may be sorted to destination BMCs under L601 or to destination BMCs and ASFs under L601 and L602. Sortation of machinable parcels to ASFs is optional but is required to be eligible for DBMC rates for mail with a 3-digit ZIP Code prefix within the ASF service area in Exhibit E751.1.3. Mailers may opt to sort some or all machinable parcels for ASF service area ZIP Codes to ASFs only when the mail will be deposited at the respective ASFs where the DBMC rates are claimed, under applicable volume standards, using L602. Mailers may also opt to sort machinable parcels only to destination BMCs under L601. If machinable parcels are sorted to only destination BMCs under L601, then only mail for 3-digit ZIP Codes served by a BMC as listed in Exhibit E751.1.3 would be eligible for DBMC rates (mail for 3-digit ZIP Codes served by an ASF in Exhibit E751.1.3 sorted to the BMC pallet would not be eligible for DBMC rates, nor would mail for 3-digit ZIP Codes that do not appear in Exhibit E751.1.3).

Machinable parcels in mixed BMC sacks or on mixed BMC pallets that are sorted to the origin BMC under M045 or M722 are eligible for the DBMC rates only if both of the following conditions are met: (1) The mixed BMC sack or pallet is entered at the origin BMC facility to which it is labeled, and (2) the pieces are for 3-digit ZIP Codes listed as eligible destination ZIP Codes for that BMC in Exhibit E751.1.3.

(11) Destination Sectional Center Facility (DSCF) Rates (DMM E752)

Destination Sectional Center Facility (DSCF) rates apply to Presorted and Carrier Route Bound Printed Matter mailings that meet all of the following conditions:

(a) Are eligible for and prepared to qualify for Presorted or Carrier Route rates.

(b) Are deposited at an SCF listed in L005, except that machinable parcels prepared on pallets for the 5-digit ZIP Codes listed in Exhibit E751.6.0 must be entered at the corresponding BMC facility shown in that Exhibit (not at the SCF) unless an exception is requested and granted. An exception to Exhibit 751.6.0 must be requested at least 15 days in advance of the mailing in writing from the area manager of operations support who has jurisdiction over the BMC and SCF. Exceptions, if granted, will be for a limited time.

(c) Are addressed for delivery to one of the 3-digit ZIP Codes served by the SCF where deposited under L005.

(d) Are placed in a sack or on a pallet (subject to the standards for the rate claimed) that is labeled to the DSCF where deposited, or labeled to a postal facility within the service area of that SCF (see L005).

Flats in sacks for the carrier route, 5-digit carrier routes scheme, 5-digit carrier routes, 5-digit, 3-digit, and optional SCF sort levels may claim DSCF rates under the conditions described above. Flats on 5-digit scheme carrier routes, 5-digit carrier routes, 5-digit scheme, 5-digit, 3-digit, SCF, and ASF pallets may claim DSCF rates under the conditions described above.

Irregular parcels in sacks for the carrier route, 5-digit carrier routes, 5-digit, 3-digit, and optional SCF sort levels may claim DSCF rates under the conditions described above. Irregular parcels on 5-digit, 3-digit, SCF, and ASF pallets may claim DSCF rates under the conditions described above.

Machinable parcels in direct carrier route sacks, in 5-digit sacks, or on 5-digit pallets may claim DSCF rates under the conditions described above. Machinable parcels prepared to claim Carrier Route rates are eligible for DSCF rates only when prepared in direct carrier route sacks (machinable parcels qualify for Carrier Route rates only when prepared in direct carrier route sacks). Presorted rate machinable parcels on 5-digit pallets may claim DSCF rates under the conditions described above. Note that palletized machinable parcels for the 5-digit ZIP Codes listed in Exhibit E751.6.0 must be entered at the applicable BMC to claim DSCF rates.

For mailings prepared for the DSCF rate in pallet boxes, the height of the pallet box may not exceed 60 inches (excluding the pallet) as is currently required for Parcel Select DSCF rate mail (DMM M041.4.2).

(12) Destination Delivery Unit (DDU) Rates (DMM E752)

New Destination Delivery Unit (DDU) rates apply to Presorted and Carrier Route rate Bound Printed Matter mailings that are addressed for delivery within the ZIP Code(s) served by the destination delivery unit and are deposited at the appropriate destination delivery unit facility.

For flat-size Presorted Bound Printed Matter, DDU rates may be claimed only for individual pieces that weigh more than one pound. (This minimum weight may increase in the near future dependent on AFSM 100 machinability requirements.) To qualify for DDU rates, Presorted rate flats must be prepared in 5-digit sacks, or on optional 5-digit scheme or required 5-digit pallets, or be prepared as bedloaded 5-digit packages. The Drop Shipment Product must be used to determine the correct destination entry facility for the 5-digit destination of the container. If the Drop Shipment Product lists multiple facilities for a single 5-digit ZIP Code, the mailer must inquire about the correct drop site when contacting the DDU to schedule an appointment.

For flat-size Carrier Route Bound Printed Matter, DDU rates may be claimed for mail prepared in carrier route, optional 5-digit carrier routes scheme, and 5-digit carrier routes sacks; on 5-digit scheme carrier routes scheme and 5-digit carrier routes pallets; or in bedloaded carrier route packages. There is no minimum weight for individual flat-size pieces to qualify for Carrier Route rate flat-size pieces. Carrier Route rate flat-size mail must be entered at the facility where the carrier cases flat-size mail as shown in the Drop Shipment Product.

For irregular parcels of Carrier Route Bound Printed Matter, DDU rates may be claimed for mail prepared in carrier route and, for pieces each weighing less than pounds only, in 5-digit carrier routes sacks. For irregular parcels of Presorted Bound Printed Matter, DDU rates may be claimed for mail prepared in 5-digit sacks or on 5-digit pallets. Irregular parcels prepared as bedloaded carrier route packages or bedloaded 5-digit packages also are eligible for DDU rates.

For machinable parcels of Carrier Route Bound Printed Matter, DDU rates are available for carrier route parcels prepared in direct carrier route sacks. For machinable parcels of Presorted Bound Printed Matter, DDU rates are available for parcels prepared in 5-digit sacks or on 5-digit pallets.

To claim the DDU rates, both irregular and machinable parcels must be entered at the facility that delivers parcels to the addresses appearing on the deposited pieces. Mailers must use the Drop Shipment Product to determine the location of the 5-digit delivery facility and whether it can handle pallets. When the Drop Shipment Product shows that parcels for a single 5-digit ZIP Code area is delivered out of more than one postal facility, then the facility from which the majority of city carrier routes are delivered is the facility at which the DDU mail must be entered, unless the 5-digit ZIP Code is listed in Exhibit E751.7.0 or Exhibit E751.8.0. For ZIP Codes in Exhibit E751.7.0 and Exhibit E751.8.0, mailers would use the name of the facility associated with the 5-digit ZIP Code on the respective exhibit as the facility at which DDU mail for that 5-digit ZIP Code mail must be entered. Mailers who palletize machinable and irregular parcels must also determine if the 5-digit facility is able to handle pallets using the Drop Shipment Product. If the 5-digit facility is unable to handle pallets, and a mailer transports mail to the DDU facility on pallets, the driver will have to unload the pallets into a container specified by the delivery unit.

(13) Destination Entry Mail Preparation—Plant-Verified Drop Shipment (PVDS) (DMM E752)

Pieces must be part of a mailing of at least 300 pieces of Presorted Bound Printed Matter or part of a mailing of at least 300 pieces of Carrier Route Bound Printed Matter to qualify for DBMC, DSCF, and DDU rates. When Presorted Bound Printed Matter or Carrier Route Bound Printed Matter mailings are submitted under PVDS procedures, mailers may use the total of all line items for all destinations on a PVDS register or PVDS postage statement to meet the respective 300-piece minimum volume requirements. This means that a mailer may enter fewer than 300 pieces per Presorted or Carrier Route mailing at an individual destination, provided there is a total of at least 300 Presorted rate pieces and/or 300 Carrier Route rate pieces for all of the entry points for that single mailing job listed on the PVDS register or PVDS postage statement.

(14) Detached Address Label Mailings (DMM A060)

The preparation requirements for use of DALs with Bound Printed Matter mailings are revised. Mailers must prepare Bound Printed Matter with DALs either on pallets or in sacks as described in DMM A060.

When prepared on pallets, mailers may enter Bound Printed Matter prepared with DALs at any post office provided only 5-digit pallets are prepared and if the following additional requirements and restrictions are met. The 5-digit pallets must meet the minimum volume and other requirements for pallet preparation under M040 and M045, except that for flat-size mail, separate 5-digit pallets for Carrier Route rate and for Presorted rate mail are not required. The mail must not be prepared on pallets when the Drop Shipment Product indicates that the delivery unit that serves the 5-digit pallet destination cannot handle pallets. The destination delivery unit is determined using the Drop Shipment Product under the provisions for the DDU rate in E752. (For delivery units that cannot handle pallets, mail with DALs is required to be prepared in sacks.) The trays or cartons of DALs must be prepared under A060.3.0 and placed on the same pallet as the Bound Printed Matter. In addition, the Bound Printed Matter and the trays of DALs must be stretch-wrapped together as one unit on the pallet.

For mail prepared with DALs in sacks, the matter must be prepared in 5-digit sacks and must be entered at the destination delivery unit. The destination delivery unit must be determined using the Drop Shipment Product under the provisions for the DDU rate in DMM E752. The DALs must be packaged under A060.3.0 and presented to the destination delivery unit with the accompanying items to be distributed with the DALs. The standards for DALs are amended to clarify that items mailed with DALs may not be combined with any special services (new A060.1.7). In addition, the standards for DALs in A060.4.2 are amended to specify that an undeliverable-as-addressed DAL is disposed of as waste, and the accompanying item is treated as specified by the mailer under A060.4.1.

(15) Ancillary Service Endorsements

The handling of undeliverable-as-addressed Bound Printed Matter pieces that are not mailed with a special service or an ancillary service endorsement will be the same as for Standard Mail. Undeliverable-as-addressed Bound Printed Matter pieces mailed with no special service (e.g., Delivery Confirmation, insured), and with no ancillary service endorsement, will be disposed of by the USPS as waste at the delivery unit. Mailers of Bound Printed Matter who want to have their undeliverable-as-addressed pieces forwarded and returned must choose the appropriate ancillary service endorsement and print it on their pieces to obtain such service. There are no other changes to the treatment of undeliverable-as-addressed Package Services mail (except for Bound Printed Matter prepared with detached address labels under DMM A060.4.2 as described earlier.)

(16) Postage Payment

DMM P700 is amended to clarify that precanceled stamps may not be used for payment of Bound Printed Matter postage.

9. Media Mail (Formerly Special Standard Mail)

a. Media Mail Rate Highlights

Media Mail (formerly Special Standard Mail) rates will increase by an average of 6.3%. The barcoded discount for qualifying Media Mail remains at $0.03 per piece. There are separate rate schedules for Media Mail and Library Mail as the shared rate structure is discontinued. The annual presort mailing fee for Media Mail increases to $125.

b. Media Mail Rate Structure

There are separate rate schedules for Media Mail and Library Mail.

c. Media Mail (formerly Special Standard Mail) Preparation Changes

(1) Rate Marking (DMM M012 and M730)

Special Standard Mail is renamed “Media Mail,” and the marking that is required to appear on each piece is changed from “Special Standard” to “Media Mail.” There is a phase-in period until January 1, 2002, to give mailers time to adjust to this change and deplete any existing stocks of permit imprints that may bear the “ Special Standard” marking.

(2) Sack and Pallet Labels (DMM M031, M045, and M730)

The abbreviation “STD” or “STD B” that currently appears on sack and pallet labels for Package Services mailings is changed to “PSVC” (an abbreviation for Package Services).

(3) Clarification of Preparation Requirements

Former M630.4.0 provided for preparing Media Mail as bedloaded bundles under former M630.7.0. However, former M630.7.0 provided only for preparation of Bound Printed Matter as bedloaded bundles, and the eligibility requirements for the Media Mail rates in former E630.4.0 provided only for preparation of Media Mail in sacks, on pallets, or as outside parcels prepared as prescribed by the postmaster of the mailing office. Accordingly, the provisions for preparing bedloaded bundles of Media Mail are deleted from M730 that contains the requirements for presorted Media Mail.

Former E630.4.0 (renumbered as E713) provided for preparing 5-digit and BMC bundles of Media Mail on pallets. The terminology in new E713 is changed to provide for “packages” of Media Mail on pallets. Furthermore, the reference in former M630.4.0 that referred to preparing mail according to the machinable parcel preparation rules is not contained in new M730. There were no provisions for such preparation to qualify for presorted Media Mail rates in former E630.4.0, and such provisions were not added to new E713. The option to prepare sacks and qualify for presorted 5-digit or BMC rates based on a minimum of 1,000 cubic inches of mail is deleted; however, the eight-piece or 20-pound minimum per 5-digit sortation level and the four-piece or 20-pound minimum per BMC sortation level is retained.

(4) Postage Payment (DMM P700)

DMM P700 is amended to clarify that precanceled stamps may not be used for payment of Media Mail postage.

10. Library Mail

a. Library Mail Rate Highlights

Library Mail rates will increase by an average of 4.9%. The barcoded discount for qualifying Library Mail remains at $0.03 per piece. Separate rate schedules are implemented for Media Mail and Library Mail as the shared rate structure is discontinued. The annual presort mailing fee for Library Mail is increased to $125.

b. Library Mail Rate Structure

There are separate rate schedules for Library Mail and Media Mail.

c. Library Mail Preparation Changes

(1) Rate Markings (DMM M012 and M740)

The optional use of “Library Rate” as a rate marking for Library Mail is being discontinued. Matter mailed at Library Mail rates will be required to use only the marking “Library Mail.” There is a phase-in period until January 1, 2002, to give mailers time to adjust to this change and deplete any existing stocks of permit imprints that may bear the “Library Rate” marking.

(2) Sack and Pallet Labels (DMM M031, M045, and M740)

The abbreviation “STD” or “STD B” that currently appears on sack and pallet labels for Package Services mailings is changed to “PSVC” (an abbreviation for Package Services).

(3) Sack Preparation Minimums (DMM M740)

The option to prepare sacks and qualify for presorted 5-digit or BMC rates based on a minimum of 1,000 cubic inches of mail is deleted (see M740).

(4) Postage Payment (DMM P700)

DMM P700 is amended to clarify that precanceled stamps may not be used for payment of Library Mail postage.

11. Special Services and Other Services

a. Address Changes for Election Boards (DMM A910)

The fee will increase from $0.17 to $0.23 for each address card. There are no classification changes for this service. See DMM R900.12.3.

b. Address Correction Notifications (DMM F030)

The manual (hard-copy) fee will increase from $0.50 to $0.60 for each notification. There is no change to the automated (electronic) fee notification (currently $0.20 each). There are no classification changes for this service. See DMM R900.1.0.

c. Bulk Parcel Return Service (DMM S924)

The per piece charge will decrease from $1.75 to $1.62 for each piece returned under Bulk Parcel Return Service (BPRS). The annual BPRS permit fee will increase from $100 to $125. A new annual accounting fee of $375 will be required for BPRS. This fee covers the costs of providing BPRS account maintenance services to mailers and is consistent with accounting fees charged for other special services. Current BPRS permit holders will have until February 5, 2001, to pay their initial annual accounting fee. See DMM R900.3.0.

No special services are available for pieces returned through BPRS.

d. Business Reply Mail

(1) Business Reply Mail (BRM) (DMM S922)

The annual business reply mail (BRM) permit fee will increase from $100 to $125.

The per piece charge for basic BRM (BRM without an annual accounting fee) will increase from $0.30 to $0.35. This per piece charge is in addition to single-piece First-Class Mail (or Priority Mail) postage. The per piece charge for high-volume BRM (BRM with an annual accounting fee) will increase from $0.08 to $0.10. This per piece charge is in addition to single-piece First-Class Mail (or Priority Mail) postage. The annual accounting fee, required for high-volume BRM, will increase from $300 to $375.

A provision in the DMCS that required permit holders to maintain an advance deposit account solely for the use of business reply mail has been deleted. Therefore, permit holders will be able to maintain a single advance deposit account from which postage, fees, and per piece charges for multiple items can be deducted (e.g., BRM, QBRM, merchandise return service, incoming shortpaid mail, address correction notices, etc.). If permit holders request separation of charges, then they must pay an annual accounting fee for each separation.

(2) Qualified Business Reply Mail (QBRM) (DMM E150, S922)

The discounted automation rate for qualified business reply mail (QBRM) letters will increase from $0.30 to $0.31 as described under the First-Class Mail Summary. The discounted automation rate for QBRM cards will decrease from $0.18 to $0.17. The annual accounting fee, required to participate in QBRM, will increase from $300 to $375.

QBRM will be split into two categories with different per piece charges to mirror the current fee structure of regular BRM. The first category is the existing classification and will be called “basic” QBRM. The per piece charge for basic QBRM will remain at $0.05. This per piece charge is in addition to the lower QBRM First-Class Mail postage listed in R100. See DMM R900.4.3.

A new classification, called “high-volume” QBRM, recognizes that, for large volume users, some costs are relatively fixed, rather than varying with marginal volume. High-volume QBRM includes a lower per piece charge and requires payment of a new quarterly fee in addition to the annual accounting fee. The per piece charge for high-volume QBRM will be $0.01. This per piece charge is in addition to the discounted automation QBRM First-Class Mail rate listed in R100. The quarterly fee will be $1,800 per quarter (in addition to the $375 annual accounting fee). Mailers may “opt in” to high-volume QBRM by paying the quarterly fee at any time as their volume warrants, thereby paying lower per piece charges when they expect a larger volume of returned pieces. See DMM R900.4.4.

Quarterly fees apply to any three consecutive calendar months, beginning with the first calendar day of the first month and ending on the last calendar day of the third month. If the quarterly fee is paid on or before the 15th of the month, then the quarterly fee is counted as if it was paid on the first day of that calendar month, but the lower per piece charges begin on the day the fee is paid. If the quarterly fee is paid after the 15th of the month, then the lower per piece charges begin immediately, but the quarterly fee is credited as if it was paid on the first day of the following calendar month and continues through three calendar months. Mailers may not apply for “retroactive” refunds of per piece charges for periods before the quarterly fee was paid.

(3) Bulk Weight Averaged Nonletter-Size Business Reply Mail (DMM S922)

Language has been added to clarify that the monthly maintenance fee applies only to bulk weight averaged nonletter-size BRM. The per piece charge will remain at $0.01. The maintenance fee will remain at $600 per month. The annual business reply mail permit fee will increase from $100 to $125. The annual accounting fee, required to participate in weight averaged nonletter-size BRM, will increase from $300 to $375. See DMM R900.4.5.

e. Carrier Sequencing of Address Cards (DMM A920)

The fee will increase from $0.20 to $0.25 for each card removed due to an incorrect or undeliverable address and for each card added with a new address. There are no classification changes for this service. See DMM R900.2.0.

f. Certificate of Mailing (DMM S914)

For individual pieces, the fee for the original certificate of mailing will increase from $0.60 to $0.75. The firm mailing book fee will remain at $0.25; the fee for an additional copy of a certificate of mailing will increase from $0.60 to $0.75.

For bulk quantities, the fee for one certificate of mailing (for the first 1,000 pieces) will increase from $3.00 to $3.50. There is no change to the fee for a certificate for each additional group of 1,000 pieces (currently $0.40). The fee for an additional copy of a bulk certificate of mailing will increase from $0.60 to $0.75.

There are no classification changes for this service. See DMM R900.6.0.

g. Certified Mail (DMM S912)

The fee will increase from $1.40 to $1.90 in order to cover newly estimated costs for this service. See DMM R900.7.0.

h. Collect on Delivery (COD) (DMM S921)

Fees will increase by $.50 for every $100 value level. The maximum COD value level will increase from $600 to $1,000, with a fee increment of $1.00 for each $100 increment. The fees for registered COD, the notice of nondelivery, and the alteration of COD charges (Form 3849-D) will remain at current levels. The money order limit will remain at $700; therefore, if a recipient pays in cash for COD amounts over $700, then the Postal Service will send two postal money orders to the mailer (and collect two money order fees from the recipient). See DMM R900.8.0.

i. Correction of Mailing Lists (DMM A910)

The charge per correction will increase from $0.20 to $0.25. In conjunction, the minimum charge per list for lists with fewer than 30 addresses will increase from $7.00 to $7.50. There are no classification changes for this service. See DMM R900.12.0.

j. Delivery Confirmation (DMM S918)

The fee for retail option Priority Mail Delivery Confirmation (i.e., purchased by a customer over a retail counter) will increase from $0.35 to $0.40. The fee for retail option Package Services Delivery Confirmation will decrease from $0.60 to $0.50. There will continue to be no fee for electronic option Delivery Confirmation for Priority Mail. The fee for electronic option Delivery Confirmation for Package Services will decrease from $0.25 to $0.12.

Electronic option Delivery Confirmation service will be extended to Standard Mail parcels that are subject to the residual shape surcharge (both Regular and Nonprofit subclasses). Delivery Confirmation service will not be available for the Enhanced Carrier Route or Nonprofit Enhanced Carrier Route subclasses. No retail option will be available for Standard Mail. The fee for electronic option Delivery Confirmation for Standard Mail will be $0.12 per piece, which mirrors the new fee for Package Services. See DMM R900.9.0.

k. Express Mail Insurance (DMM S500)

Fees for Express Mail insurance will increase. There are no classification changes for this service. See DMM R900.10.0.

l. Insurance (DMM S913)

Fees for insurance will increase for all value levels. The fee for unnumbered insurance (items valued at $50 or less) will increase from $0.85 to $1.10. Separate bulk discounts for unnumbered and numbered insurance have been added. In addition, bulk insurance will be available for Standard Mail parcels that are subject to the residual shape surcharge (both Regular and Nonprofit subclasses). Bulk insurance will not be available for the Enhanced Carrier Route or Nonprofit Enhanced Carrier Route subclasses. Regular insurance is not available for Standard Mail. See DMM R900.11.0.

The Postal Service has removed the requirement that insured pieces sent at First-Class Mail and Priority Mail rates be marked “Standard Mail Enclosed.” In addition, merchandise return service (MRS) customers (those who use MRS labels to return a parcel to the permit holder) will be permitted to add insurance to an MRS parcel at their own discretion and expense.

m. Mailing Fees

Presort mailing fees and destination entry mailing fees for all classes of mail will increase. Specific fees and classification changes are included under the separate summaries for each class of mail.

n. Merchandise Return Service (DMM S923)

The per piece (transaction) fee for parcels returned to the permit holder via merchandise return service (MRS) will be eliminated. A new annual accounting fee of $375 is established for MRS. This fee covers the costs of accounting services provided to permit holders and is consistent with accounting fees charged for other special services. Current MRS permit holders have until February 5, 2001, to pay their initial annual accounting fee. A separate annual accounting fee must be paid for each separation of charges and separate billing provided. This makes the application of the new annual accounting fee consistent with Business Reply Mail. See DMM R900.13.0.

If the permit holder has not specified insurance on the MRS label, then customers (those who use merchandise return service labels to return a parcel to the permit holder) will be permitted to add insurance to a MRS parcel at their own discretion and expense. No other special services may be added by the sender. Previously, insurance could be added to a parcel only if specified by the permit holder. The Postal Service has removed the requirement that MRS parcels sent at First-Class Mail and Priority Mail rates be marked “Standard Mail Enclosed.”

Parcels that do not bear a class or rate marking, regardless of weight, will be treated as Parcel Post and will be charged Parcel Post Inter-BMC/ASF rates.

These same changes apply to penalty merchandise return service.

o. Money Orders (DMM S020)

The fee for domestic money orders will decrease from $0.80 to $0.75 per money order. The fee for APO/FPO money orders will decrease from $0.30 to $0.25 per money order. The inquiry fee will remain at $2.75. There are no classification changes for this service; the maximum amount for a single money order remains at $700. See DMM R900.15.0.

p. Parcel Airlift Service (PAL) (DMM S930)

There are no fee or classification changes for this service. See DMM R900.16.0.

q. Permit Imprint Application Fee (DMM P040)

The application fee for permit imprints will increase from $100 to $125. Other kinds of permit fees (e.g., business reply mail) are covered under separate summary sections. See DMM R900.17.0.

r. Pickup Service (DMM D010)

The pickup service fee will increase from $8.25 to $10.25 per pickup. There are no classification changes for this service. See DMM R900.18.0.

s. Post Office Boxes, Caller Service, and Reserve Call Numbers (DMM D910 and D920)

The Postal Rate Commission has approved the Postal Service's proposal to restructure post office box fee groups and to establish fees for each of the new groups. A nonrefundable fee for each key, over two, requested by a customer has been established at $4.00. In addition, a $10.00 fee for a lock replacement initiated by a customer as been established.

The new structure for post office boxes aligns post office box fees more closely with costs by 5-digit ZIP Code. These costs include estimated real estate value of the space used to provide post office boxes.

The Postal Service submits that this post office box reclassification will result in fairer, more equitable post office box fees for all customers because the fees will more accurately reflect the true costs of providing that service. At this time, box restructuring is constrained based on current fee groups in order to mitigate large fee increases for customers.

Current post office box customers would not pay the new fees until their current box fee period ends. There are no changes to free (Group E) box service. Therefore, customers who currently qualify for free box service may continue to receive it. See DMM R900.19.0.

Post offices will be notified of their new cost group via a special publication that will be distributed before implementation of new rates and fees. Customers will be able to find their new post office box fees via their local post office, the Postal Service web site (www.usps.com), or by calling 1-800-ASK-USPS and providing the 5-digit ZIP Code.

The caller service fee will increase to $375 for all customers at all postal facilities. Caller service fees will no longer be broken out according to post office fee groups. The annual call number reservation fee will decrease from $36 to $30. See R900.5.0.

The Postal Service has deleted a provision from the DMCS that allowed customers with both a post office box and a regular street delivery address served by the same delivery unit to redirect the delivery of all of their mail, regardless of how it was addressed, to the post office box. This redirection of mail often depends on the memory of specific individuals or on an ad hoc handwritten note. The net result easily can be delivery of mail in a fashion contrary to a customer's intent. The Domestic Mail Manual currently does not contain standards related to this provision, although some local post offices redirect mail as a favor to customers. The policy of the Postal Service, as contained in the Domestic Mail Manual, is to deliver mail to the address specified on the mailpiece. Deleting section 921.222 of the DMCS is desirable from the point of view of the customer and the Postal Service. Customers will still be able to have their mail forwarded from one address to another, including a post office box, based on current forwarding procedures. Because no standard currently exists in the Domestic Mail Manual, no changes are necessary to support this DMCS change.

t. Registered Mail (DMM S911)

All registered mail fees will increase. The incremental fee for registered mail per value level will increase from $0.55 to $0.75. The handling charge per $1,000 in value, or fraction thereof, for items valued over $25,000 also will increase from $0.55 to $0.75. There are no classification changes for this service. See DMM R900.20.0.

u. Restricted Delivery (DMM S916)

The restricted delivery fee will increase from $2.75 to $3.20. There are no classification changes for this service. See DMM R900.21.0.

v. Return Receipt (DMM S915)

The regular return receipt fee will increase from $1.25 to $1.50. The return receipt for merchandise fee will increase from $1.40 to $2.35. The fee for a return receipt after mailing will decrease from $7.00 to $3.50. These changes reflect improved cost estimates and the impact of electronic signature capture. See DMM R900.22.0 and 23.0.

There are two classification changes for return receipt service. The first change allows return receipt for merchandise to be combined with unnumbered insurance. The second change extends return receipt for merchandise service to Standard Mail parcels that are subject to the residual shape surcharge (both Regular and Nonprofit subclasses). Return receipt for merchandise will not be available for the Enhanced Carrier Route or Nonprofit Enhanced Carrier Route subclasses.

w. Shipper Paid Forwarding (DMM F010)

The Postal Service is establishing an annual accounting fee of $375 for shipper paid forwarding for customers who choose to pay forwarding charges through a postage due account. This fee is consistent with accounting fees charged for other special services. See DMM R900.24.0.

x. Signature Confirmation (DMM S919)

The Postal Service is establishing a new classification and fee schedule for Signature Confirmation. Signature Confirmation will capture and provide access to all Delivery Confirmation data and an image of the recipient's signature. Signature Confirmation will be available only at the time of mailing for Priority Mail and all subclasses of Package Services. For Priority Mail Signature Confirmation, the fees are $1.25 for electronic option and $1.75 for retail option. For Package Services Signature Confirmation, the fees are $1.25 for electronic option and $1.75 for retail option. See DMM R900.25.0.

y. Special Handling (DMM S930)

There are no fee or classification changes for this service. See DMM R900.26.0.

z. ZIP Code Sortation of Mailing Lists (DMM A910)

Fees for sorting mailing lists by 5-digit ZIP Code for post offices with multiple ZIP Codes will increase from $70.00 to $73.00 per 1,000 addresses. There are no classification changes for this service. See DMM R900.12.0.

12. On-Site Meter Service (DMM P030)

The name of the service will change from “on-site meter settings” to “on-site meter service.” The “single meter” and “unscheduled appointment” categories will be replaced with a new “meter service” category. The “additional meters” category will be replaced with a “meter reset and/or examined” category. These categories will consolidate similar fees and make the service easier to understand and use.

New fees have been established for these realigned categories. The fee for meter service is $31.00. The fee for getting a meter reset and/or examined is $4.00 per meter. The fee for checking a meter in or out of service will decrease from $8.00 to $4.00 per meter. See DMM R900.14.0.

The checking in/out fees will not apply to “secured postage” meters. To qualify as a secured postage meter, a meter must: (1) include a USPS-approved postal security device; (2) print information-based indicia; and (3) be remotely set. Because of the enhanced security that these meters provide, they do not require labor intensive activities during installation or withdrawal. Therefore, these meters do not have significant check-in/out costs.

13. Stamps and Stationery (DMM P021)

a. Stamped Cards

The fee for a single stamped card will increase from $0.01 to $0.02. The fee for double stamped cards will increase from $0.02 to $0.04, and the fee for a sheet of 40 stamped cards will increase from $0.40 to $0.80. These fees are in addition to the postage that is preprinted on the cards and covers the cost of printing and manufacturing stamped cards. See DMM R000.3.0.

b. Stamped Envelopes

The fees for all categories of stamped envelopes will increase. This fee is paid in addition to the postage preprinted on the envelopes. The following classification changes will apply to stamped envelopes:

(1) Merge the printed household 6¾ inch and 10 inch categories into a single category called printed household (basic).

(2) Eliminate the banded categories for 6¾ inch and 10 inch envelopes.

(3) Expand the hologram category to include all envelopes that have a patched-in stamp and rename that category “special” stamped envelopes.

See DMM R000.1.0 and R000.2.0.

C. Summary of Comments From the August 29, 2000, Proposed Rule (65 FR 52479)

The Postal Service received nine pieces of correspondence offering comments on the August 29, 2000, proposed rule. Commenters included two major mailer associations, six publishers, printers and/or mailers, and one individual.

The specific points raised in the comments are presented below, organized by general comments and then by class of mail and special service.

1. General Comments

One commenter commended the Postal Service on publishing a clear, concise, and orderly proposed rule.

One commenter supported the change of the minimum dimensions for a machinable parcel.

One commenter indicated they are pleased with the name change from Standard Mail (B) to Package Services.

One commenter indicated that their association had previously warned the Postal Service that eliminating the advertising requirement for Bound Printed matter would change the nature of that subclass and result in the entry of higher cost materials that would inevitably result in higher rates. This commenter further stated that although all mailers are concerned about rate increases the effect is much greater for catalog mailers than book mailers because books generally cost a substantial amount—$20.00 and more—and that book publishers can more easily absorb additional mailing costs. This commenter indicated it may be feasible to undo the damage by restoring Bound Printed Matter to its previous status by requiring it to contain advertising. This comment is outside the scope of this rulemaking and will not be addressed.

One commenter indicated that their association recommends that the Postal Service give Standard and Package Services mailers a grace period to implement the new tray, sack, and pallet labels for those classes. The Postal Service will work with individual mailers concerning any exceptions needed concerning the requirements of this final rule.

Two commenters indicated that the rate incentive for drop shipping Bound Printed Matter to a destination delivery unit to claim the DDU rates was not sufficient to compensate mailers for the additional costs of preparing and transporting the mail. These comments are outside the scope of this rulemaking process. The rates, rate structure, and basic standards for rates in Docket No. R2000-1 were subject to litigation before the Postal Rate Commission and cannot be revised unilaterally by the Postal Service in a rulemaking process.

2. Express Mail

No comments were received regarding Express Mail.

3. Priority Mail

No comments were received regarding Priority Mail.

4. First-Class Mail

No comments were received regarding First-Class Mail.

5. Periodicals

No comments were received regarding Periodicals.

6. Standard Mail (Formerly Standard Mail (A))

One commenter supported the change that they believed allowed Delivery Confirmation and ancillary service endorsements to be used with Standard Mail pieces subject to the residual shape surcharge that are mailed using Priority Mail Drop Shipment procedures. The Postal Service did not specifically propose use of electronic Delivery Confirmation with Standard Mail parcels entered under Priority Mail Drop Shipment procedures, but has added clarifying language to the final rule DMM language to provide for such use where appropriate.

7. Package Services—Combined Mailings

One commenter supported the change that allows the combining of any subclass into common containers to qualify for applicable DBMC, DSCF, and DDU rates. The Postal Service appreciates this comment but would like to point out that the provisions for Combined Package Services mailings in DMM E753 apply only to matter sorted to 5-digit containers for the purposes of meeting eligibility requirements for DSCF and DDU rates. There are no provisions for Combined Package Services mailings for DBMC rates.

One commenter requested that overflow sacks be permitted in the preparation standards for combined package services mailings in DMM E753 that allows parcels from all Package Services subclasses to be combined in 5-digit sacks to qualify for Parcel Post and Bound Printed Matter DSCF and DDU rates. The proposed rule indicated that each 5-digit sack must contain at least 10 pieces of any combination of Package Services mail. This commenter indicated that, if an overflow sack is not permitted, the number of pieces qualifying for this preparation option would always need to be perfectly divisible by 10 and that this is not a practical scenario for mailers. The Postal Service agrees that the standards for combined package services mailings should include the preparation of overflow sacks and have incorporated the preparation of overflow sacks into the standards in E753. Preparation of overflow sacks will be available both for sacked mailings and for mailings prepared on pallets.

This commenter also believed that irregular parcels were required to be prepared in packages under the Combined Package Services option in DMM E753. This commenter also questioned why irregular parcels were required to be packaged in 5-digit sacks as he believes there appears to be no operational reason for preparing irregular parcel in packages when they are in 5-digit containers. The Postal Service has clarified that packaging is not required for preparation of Combined Package Services mailings under DMM M753. In addition, the Postal Service has added an option to DMM M722 that will allow Presorted Bound Printed Matter irregular parcels prepared in 5-digit sacks to be prepared loose in sacks without packaging if the minimum package size requirement is met and the pieces are individually wrapped or enveloped.

This commenter also pointed out an omission in the wording of proposed DMM E753.2.1a(3). This section of the DMM has been revised in the final rule.

8. Parcel Post (Including Parcel Select)

Two commenters expressed concern that there would be inconsistencies in acceptance practices from location to location because of the proposed new nonmachinable surcharges for intra-BMC rate and DBMC rate parcels. These commenters stated that the inconsistencies could be caused by differences in how parcels will be measured at different acceptance points around the country. The commenters suggested training for acceptance personnel and a transition period for application and compliance with new standards. Postal Service acceptance personnel will receive training on the new provisions in this final rule including the new nonmachinable surcharges for intra-BMC rate and DBMC rate nonmachinable parcels. Postal employees will use the procedures currently in effect for determining if an inter-BMC parcel is nonmachinable when determining whether the nonmachinable surcharges apply to intra-BMC rate and DBMC rate parcels. The Postal Service will make every effort to ensure a smooth transition into new procedures. However, no transition or grace period for application of the nonmachinable surcharges can be granted.

One commenter indicated that use of the term “Parcel Post” in proposed DMM E711.2.2g pertaining to the barcoded discount was incorrect and that this term should be changed to “Parcel Select.” The term Parcel Post used in the DMM encompasses all rate categories of Parcel Post including the destination entry rates, which have been named Parcel Select. DMM E E711.2.2f in this final rule now contains the provisions for the barcoded rate. This section has been amended to show that the barcoded discount and its applicable 50-piece minimum mailing requirement applies to all Parcel Post rate categories, including Parcel Select.

One commenter pointed out that Exhibit E711.2.2, BMC/ASF Service Areas, that is used to determine eligibility for intra-BMC rates had not been updated to move ZIP Code 893 from the Salt Lake City ASF to the Los Angeles BMC. This change was published in Postal Bulletin 22038, November 30, 2000.

9. Bound Printed Matter

One commenter expressed support for the change to ancillary service marking requirements for Bound Printed Matter.

Two commenters stated they were opposed to the proposed requirement to restrict DDU rates to carrier route mail. One of these commenters, a mailer association, indicated that the proposed rule requirement that Bound Printed Matter pieces would be eligible for destination delivery unit (DDU) rates only if prepared as part of a Carrier Route Bound Printed Matter mailing appears to be a “classification” rather than a regulatory change. This commenter indicated there was nothing in the Postal Service's proposal to the PRC that indicated the DDU discount would be limited to carrier route mail. The commenter indicated its belief that the Postal Service overstepped its regulatory authority by adding such a limit to the DDU rate. Another commenter indicated that this requirement does not make sense and would add to costs for both the mailer and the Postal Service.

The Postal Service submits that the proposed rule did not prohibit all Presorted Bound Printed Matter from obtaining DDU rates. The proposed restriction applied only to flat-size pieces at Presorted rates. This restriction contained in the proposed rule is consistent with the Postal Service's treatment of flat-size mail of other classes for eligibility for DDU rates. Currently, Standard Mail and Periodicals must be sorted to carrier route to obtain DDU rates. Furthermore, the Drop Shipment file also directs mailers to the delivery unit where the carrier is located that will deliver the flats. This assumes that the mailer must know the carrier route for flat-size mailpieces. This restriction was proposed in order to give the USPS the ability to process Presorted rate flat-size mail to carrier routes on Flat Sorting Machines at the plant, rather than manually sorting it to carrier routes at the delivery unit.

However, the Postal Service has reconsidered this requirement. The final rule will provide that flat-size pieces of Presorted Bound Printed Matter may qualify for the DDU rates provided each piece weighs over one pound, the pieces are sorted in 5-digit sacks, or on optional 5-digit scheme or required 5-digit pallets, or prepared as bedloaded 5-digit packages. 5-digit containers or in bedloaded 5-digit packages, and are entered at the appropriate destination delivery unit. The Drop Shipment Product must be used to determine the correct destination entry facility for the 5-digit sorted flat-size Presorted Bound Printed Matter. If the Drop Shipment Product lists multiple facilities for a single 5-digit ZIP Code, the mailer must inquire about the correct drop site when contacting the DDU to schedule an appointment. Mail weighing over one pound is less likely to be worked on AFSM 100s and is not processed on FSM 881s. Heavier mail that is directed to an FSM 1000 is less likely to be processed to carrier routes on the FSM at the current time, although that may change after full deployment of AFSM 100s. Therefore, allowing DDU rates currently makes sense for these heavier flats. However, the Postal Service will reassess this decision when it receives the results of the AFSM 100 machinability tests.

One commenter opposed the elimination of the marking “Presorted Standard” on Presorted Bound Printed Matter. This mailer has a customer that currently uses the “Presorted Standard” marking in the permit imprint indicia of pieces mailed at both Standard Mail (A) and Standard Mail (B) rates. For the portion of the mailing that is split off into a Standard Mail (B) mailing, the mailer ink-jets the “Bound Printed Matter” marking on the mailpieces directly to the left or below the permit imprint indicia. The Postal Service understands the concerns of the customer in question. However, the Postal Service In-Office Costing System relies heavily on such markings to appropriately attribute costs to classes and subclasses of mail. Having markings indicating two different classes of mail on the same mailpiece is potentially confusing to data collectors and could result in inaccuracies in data collection. Instructions as to which marking overrides the other would be possible but adds a level of complexity to an already complex system. Furthermore, such dual markings are also confusing to delivery unit employees and Computerized Forwarding System (CFS) employees who rely on such markings to correctly handle and process undeliverable-as-addressed mail. Accordingly, the Postal Service is retaining the prohibition against using the “Presorted Standard” marking on Presorted Bound Printed Matter. Mailers are reminded that they will have until January 1, 2002, to discontinue use of the “Presorted Standard” (or “PRSRT STD”) marking.

One commenter disagreed that Bound Printed Matter weighing less than 1.5 pounds should be charged the rate equal to a piece weighing 1.5 pounds. This commenter recommended a piece-pound calculation be used so that a 1-pound item would be the minimum. The Postal Service will not adopt this suggestion. The instructions in the proposed rule for calculating rates do not differ from the current requirements for calculating Bound Printed Matter rates in DMM P013.5.0. It should be noted that the 1.5-pound weight category is contained in the single-piece rate Bound Printed Matter rate chart. The PRC recommended adding rate cells for pieces weighing not more than one pound to this rate schedule. The 1-pound rates that the PRC recommended are the same as the rates for the 1.5-pound weight cells. Furthermore, the column heading for the weights in rate schedule 522A, Domestic Mail Classification Schedule and in DMM R700 is “Weight not Exceeding (pounds).” This means that all mail that does not exceed the first weight category on the schedule pays rates shown for the first weight category. A piece and pound calculation is not performed for single-piece Bound Printed Matter.

One commenter supported the change to the handling of undeliverable-as-addressed Bound Printed Matter pieces that are not mailed with a special service or an ancillary service endorsement that will make it the same as for Standard Mail. This change provides that undeliverable-as-addressed (UAA) Bound Printed Matter pieces mailed with no special service (e.g., Delivery Confirmation, insured), and with no ancillary service endorsement, will be disposed of by the USPS as waste at the delivery unit. Mailers of Bound Printed Matter who want to have their UAA pieces forwarded and returned must choose the appropriate ancillary service endorsement for the service they desire. Handling of mail for each ancillary service endorsement is in DMM F010. The commenter indicated that this change will allow catalog mailers that generally mail as Standard Mail to mail heavier catalogs, over one pound, without applying the ancillary service endorsement. This commenter indicated the previous requirement was confusing and sometimes costly for such mailers, who had no option for disposing of pieces.

One commenter suggested that packaging should not be required for Presorted Bound Printed Matter irregular parcels prepared in 5-digit sacks. The Postal Service has added to the final mail preparation standard the option of forgoing packaging provided the pieces in the sack meet the minimum packaging volume and the pieces are individually wrapped or enveloped.

Three commenters expressed concern regarding the proposed elimination of the bedloaded bundle preparation option for Bound Printed Matter. One of these commenters suggested that the Postal Service allow customers to continue bedloading on an exception basis or “grandfathering” of existing products because a transition to product palletization will require major changes in some mailer facilities. Another commenter also indicated they had a client that currently bedloads bundles for which the required pallet preparation would be costly, slow down their production process, and require at least until March or April, 2002 to install. That commenter requested that the Postal Service waive the requirements for this customer. The third commenter also indicated that requiring palletization for DSCF or DBMC rates would incur large costs to mailers and that they were not convinced the benefits to the Postal Service would be commensurate. This commenter requested that the Postal Service design a bedloaded entry option for DSCF or DBMC entry that would be subject to strict scheduling, advance notice and other requirements that would permit maximum Postal Service efficiency.

The mail preparation standards that were set forth in the proposed rule are designed to lower the Postal Service costs of handling Bound Printed Matter. Generally, bedloaded packages or bundles of Bound Printed matter are not machinable on BMC parcel sorters and are not cost-efficient for the Postal Service to handle and process. The requirement to sack or palletize mail is designed to enable more mail to be processed on sack sorters and to enable pallets of mail to be cross-docked at BMCs and processing plants, thereby reducing the number of individual piece handlings of Bound Printed Matter. The Postal Service believes that permitting bedloaded packages only when the mail is entered by the mailer at the destination delivery unit for the DDU rates is critical to lowering the overall costs of processing Bound Printed Matter. Accordingly, the sortation requirements in the final rule retain the restriction on bedloaded packages to mail prepared for the DDU rates. The Postal Service will work with mailers on a case-by-case basis to develop interim solutions for those who need time to convert their operations to pallet preparation.

One commenter indicated that lowering the maximum package weight for Bound Printed Matter on pallets from 40 pounds to 20 pounds will create production throughput problems because they will now be able to place only four catalogs in each package. This commenter indicated that this will require slowing their production lines to allow the production of the additional packages.

The Postal Service proposed the 20-pound maximum package size to allow packages to be handled on Small Parcel and Bundle Sorters (SPBSs). As indicated above, most packages of Bound Printed Matter are not prepared to withstand handling on BMC parcel sorting equipment. If packages exceed 20 pounds they cannot be processed on SPBSs. Allowing heavier packages would result in the Postal Service having to process such packages manually at a greater cost than mechanized processing. These costs are eventually reflected in the rates. Accordingly, the Postal Service is retaining the 20-pound package limit in the final rule, except that the following packages have a maximum weight limit of 40 pounds: (1) Carrier route packages in sacked mailings, (2) 5-digit packages in 5-digit sacks, (3) carrier route packages of flats on 5-digit scheme carrier routes or 5-digit carrier routes pallets, (4) carrier route packages of irregular parcels on 5-digit pallets, (5) 5-digit packages of flats on 5-digit scheme pallets, (6) 5-digit packages of flats or irregular parcels on 5-digit pallets, and (7) carrier route bedloaded packages or 5-digit bedloaded packages prepared for the DDU rate.

10. Special Services

The Postal Service received two comments related to special services. One commenter supported the proposal to allow mailers to add special services to Standard Mail (formerly Standard Mail (A)) pieces. Another commenter supported the proposal to add a new “high-volume” category for Qualified Business Reply Mail.

D. Summary by DMM Module of All R2000-1 Revisions

The following are changes organized by DMM module. They are intended as an overview only and should not be viewed by readers as defining every revision.

Global Name Changes

Throughout the DMM sections included in this document, the following name changes have been made:

1. “Special Standard Mail” has been changed to “Media Mail.”

2. “Standard Mail (A)” has been changed to “Standard Mail.”

3. “Standard Mail (B)” has been changed to “Package Services.” Package Services includes all of the Standard Mail (B) subclasses: Parcel Post (including Parcel Select), Bound Printed Matter, Media Mail, and Library Mail.

In addition, the current DMM 600 series, which contains combined rules for Standard Mail (A) and Standard Mail (B), has been split into a 600 series for Standard Mail and a 700 series for Package Services. Within these new series, individual units and sections have been split up and reorganized for clarity. Current DMM P700, which contains standards for special postage payment systems, is renumbered as P900. Throughout the language in the DMM, references to “Standard Mail” have been retained as “Standard Mail” or changed to “Package Services” or “Standard Mail and Package Services,” as appropriate.

A Addressing

A010 is amended to change DMM references to reflect new DMM module numbering. A060.1.4 is amended to incorporate new requirements for preparation of Bound Printed Matter mailings with DALs because of the elimination of local zone rates. Also, it is clarified that mailings made with DALs may not contain any special services or an ancillary service endorsement. A new A060.1.7 is added to exclude DALs on special services mail. A910.2.2 is amended to show that the minimum fee ($7.50) for correcting a mailing list applies to lists with fewer than 30 names or addresses.

C Characteristics and Content

C010 and C020 are revised to reflect new DMM module numbering. C050 is revised to decrease the machinable parcel minimum piece weight from 8 ounces to 6 ounces, to clarify that packaging requirements for soft goods may be found in C010, and to clarify that each destinating BMC manager may authorize the entry of parcels as machinable rather than as irregular if they are tested for machinability and are delivered within the service area of the authorizing facility. C200.5.0 is added to specify size and weight limitations for Periodicals. C600 is revised to delete sections 1.3 and 2.0, which pertain to Package Services. Those sections have been moved to new C700. C700 is added to include characteristics and content standards for Package Services (former C600.1.3 and 2.0 are included in this new section). C700.2.0 is amended to provide for the addition of new nonmachinable surcharges for intra-BMC and Parcel Select DBMC parcels, and to include the criteria for nonmachinability from E630.1.4. C810.2.3 is added to include instructions for determining the length and height for automation letters. C810.2.4 (former C810.2.3) is amended to provide for the revised maximum weight of 3.3 ounces for heavy letters. C840.3.0 is revised to include new requirements under which mailers may submit flat-size automation rate mailings in which pieces contain two POSTNET barcodes.

C850 is amended to add Standard Mail machinable parcels as items eligible for barcoded discounts. C850.1.4 is amended to include information about barcodes for Signature Confirmation service.

D Deposit, Collection, and Delivery

D210 is revised to provide for DDU rate eligibility for Periodicals mail entered under exceptional dispatch authorizations. The change will limit DDU rates under exceptional dispatch to mail destined to zones 1 and 2 and will provide a restriction on eligibility to publications with circulation of 25,000 and under.

D600 is revised to remove information pertaining to Package Services, to add information about deposit of mail under plant-verified drop shipment procedures, and to clarify language. D700 is added to include deposit information for Package Services (formerly contained in D600).

D910.1.5 is amended to clarify that post office box customers must pay the correct fee for the box service they receive. D910.1.7 is added to clarify that post office box service is provided in 6-month increments. D910.1.8 (formerly D910.1.7) is amended to add information about the new key duplication fee and the new lock resetting fee. D910.3.1 is amended for clarity. D910.3.7 is amended to clarify that a post office box may not be used when the primary purpose is to have the Postal Service redirect or transfer mail to another address. D910.4.1 is amended to change the basis of post office box fees. D910.4.3 is deleted to remove references to fee groups; subsequent sections are renumbered. Renumbered D910.4.3 is amended to specify the conditions under which post office box fees can change. D910.4.4 is amended to clarify when post office box fees must be paid. D910.4.7 is amended to show that the exception for payment periods is applicable to all offices with fewer than 500 post office boxes, regardless of fee group. D910.5.1 is amended to explain the new system for grouping ZIP Codes into fee groups. D910.5.2 and 5.3 are amended to clarify the conditions under which a customer could qualify for free (Group E) post office box service. Exhibits D910.5.3a and 5.3b are deleted because of the change to a new fee system. D910.6.1 is amended to clarify how refunds for post office box fees are calculated. D910.7.0 is revised to include the new fee for replacement or duplicate keys and the new fee for replacing post office box locks.

D920.1.4 is amended to move information about reserved caller numbers into new D920.1.5. D920.3.4 is amended to clarify that caller service may not be used when the primary purpose is to have the Postal Service redirect or transfer mail to another address. D920.4.0 is amended and Exhibit 4.1 is deleted to remove references to caller service fee groups. D920.4.2 is amended to clarify that reserved number fees are not refundable. D920.4.3 is amended to remove references to deleted sections. D920.4.5 is amended to clarify the payment periods for caller service. D920.4.8 is amended to show that the exception for payment periods is applicable to all offices with fewer than 500 post office boxes. D920.5.1 is amended to clarify how refunds for caller service fees are calculated. D920.5.3 is added to show that the reserve number fee is not refundable.

E Eligibility

Throughout the E module, references to “Regular” are changed to “Outside-County,” as appropriate. E010.1.4 is amended to change references from “C600” to “C700.” E010.1.6 is amended to add clarity to the first sentence. The first sentence of E020.1.4 is added to clarify that Express Mail cannot be sent through the Department of State. E020.2.3 is amended to show that Signature Confirmation is not available for mail sent through the Department of State. E040.4.1 is amended to change references from “C600” to “C700.” E060 5.3 is amended to reflect the current requirement for a “Parcel Post” rate marking for single-piece rate Parcel Post. E060.10.1 is amended to clarify standards for penalty reply mail. E060.11.1 is amended to add QBRM as an option for penalty business reply mail and to clarify when the annual accounting fee is paid. E060.12.1 is amended by adding a reference to S923. A new E060.12.2 is added to clarify how penalty merchandise return service (MRS) parcels are charged postage and fees. A new E060.12.3 is added to require MRS permit holders to pay an annual accounting fee. E060.12.7c is added to indicate where the recommended rate marking should appear on the MRS label. E060.12.8 is amended to clarify standards for permit holders who choose to add insurance to MRS parcels. E060.12.9 is renumbered as E060.12.10, and new E060.12.9 is added to allow senders to add insurance to MRS parcels at their own discretion and expense. E070.4.2 is amended to change the reference from “E600” to “E700.” E070.6.2 is revised to specify that if Presorted rates are claimed for both Media Mail and Bound Printed Matter, the mail must be prepared under the standards for Bound Printed Matter in M722.

E120.2.4 is revised to add provisions for a new minimum Priority Mail rate for pieces weighing 1 pound or less, and to add information on rates applicable to keys and identification devices. E130.2.2 is revised to clarify the fee for keys and identification devices. E130.2.3 is relocated to M110.1.0. E140.2.2 and E140.2.3 is revised to add separate 5-digit (optional) and 3-digit (required) rate eligibility requirements for automation flats. E150.2.0 is amended by removing the last sentence. E150.3.3 is amended by adding a quarterly QBRM fee under E150.3.2c.

E211.13.1 is amended by revising 13.1d(3) to reference the preferred rate discount. E211.13.2 is amended to clarify that no fee is charged if reentry is only to change eligibility to preferred rates or the preferred rate discount. E211.14.0 has been revised and renumbered as E217.1.0. E212.2.4 has been revised and renumbered as E217.4.0. E215.2.3 is amended by adding references to Preferred rate discount and clarifying qualification categories. New E215.2.4 is added for Publications of Institutions and Societies. E215.2.7 is amended by replacing the second sentence and deleting the third sentence. A new E217 is created that describes and clarifies basic rate eligibility standards for Periodicals including the new preferred rate discount for Nonprofit and Classroom publications that provides a 5% discount on total Outside-County postage, excluding the postage for advertising pounds. E250 is revised to incorporate changes that provide for DDU rates for Periodicals mail entered under exceptional dispatch authorizations. E270 is amended by removing 1.0 and 6.0 and renumbering 2.0 through 9.0 as 1.0 through 7.0 and replacing in 1.0 the word “RATES” with the word “ELIGIBILITY.” Removing the word “rates” and replacing the reference 3.0 and 4.0 as 2.0 and 3.0 amends renumbered E270.1.1. Removing the word “regular” amends renumbered E270.1.3. E270.1.4 is removed. Replacing the word “RATES” with the word “ELIGIBILITY” amends renumbered E270.2.0 and 3.0. Sections E270.2.1 and E270.2.2 are amended by replacing the reference “3.3 through 3.10” with “2.3 through 2.10.” Removing the word “regular” in the last sentence amends renumbered E270.4.0. E270.5.1 is amended by adding a new first sentence clarifying that the Preferred rate discount is available only after USPS authorization. E270.5.5, Rate Anomaly, renumbered as E270.4.5 is removed. In renumbered E270.5.0, 5.1 is removed and E270 5.2 and 5.3 are renumbered as 5.1 and 5.2. Renumbered E270.5.1 is amended by adding a new first sentence describing the Preferred rate discount and revising the second sentence applicable to authorization procedures for Nonprofit and Classroom publications. Adding reference to preferred rate and replacing “Regular Periodicals” with “Outside-County” amends renumbered E270.6.1 and E270.6.2. Renumbered E270.7.4 is amended by replacing “Regular” with “Outside-County,” and the reference “9.5” with “7.5.”

E611 is amended to provide basic eligibility requirements for only Standard Mail and is renumbered as E610. E610.1.0 is amended to show that Standard Mail no longer includes matter previously referred to as Standard Mail (B) or fourth-class mail, and adds the weight limit from former E612.1.0. E610.4.6 is removed because this section is no longer needed since all Package Services mail may now weigh less than 16 ounces. E610.5.0 (formerly E612.4.0) is amended for clarity and incorporates a revised maximum limit for minimum per piece rates. E610.5.4 is added to provide for the barcoded rate for machinable parcels. E610.5.5 is revised to provide for separate residual shape surcharges for Presorted rates and for Enhanced Carrier Route rates. E612.4.9 is renumbered as E610.8.0, is amended for clarity to provide for use of detached address labels. E610.5.6 (previously E612.4.4) is amended to provide for the residual shape surcharge and to include the first sentence of previously numbered E612.4.5. Former E612.4.5 is deleted. Renumbered E610.5.6 (previously E612.4.4) is amended to remove the reference to 4.6, to delete “bulk” and to change “pound rates” to “piece/pound rate.” E612 is removed and, except as noted above, its information added to new E610. E620 is amended to remove information pertaining to Enhanced Carrier Route Mail, and to add new 4.0, which contains standards for the machinable parcel barcoded discount. E630 is revised to contain the eligibility criteria for Enhanced Carrier Route Standard Mail. (Information in former E630 has been moved to new E700.) E640 is amended to replace “Standard Mail (A)” with “Standard Mail” and to replace “E611 and E612” with “E610.” E650 contains the contents of previously numbered E651 and has been amended to change references from “E611 and E612” to “E610.” E670 is amended to change “P750” to “P950”.

A new E700 is created for Package Services as part of the restructuring to establish separate modules for Standard Mail and Package Services mail. A new description has been added above E710 to match the description in the new E610 section. The appropriate provisions of former E611 and E613 are renumbered as the basic standards in E710. Former E613.1.0 is renumbered as E710.1.2 and amended to reflect that minimum weights for subclasses of Package Services mail have been eliminated. Provisions in former E630.1.0 are renumbered as E711 (Parcel Post). E711.2.3 is revised to clarify that certain parcels mailed at a balloon rate may be subject to a nonmachinable surcharge. Provisions in former E630.2.0 are renumbered as E712 (Bound Printed Matter). Provisions in former E630.3.0 and E630.4.0 (Special Standard Mail) are renumbered as E713 (Media Mail). The definition of a full sack is revised in E713 to eliminate the 1,000 cubic inch volume sacking criteria. Provisions in former E630.5.0 and E630.6.0 are renumbered as E714 (Library Mail). The definition of a full sack is revised in E714 to eliminate the 1,000 cubic inch volume sacking criteria. Provisions in former E630.7.0 are renumbered as E715. Former E630.1.4, that contains the description of items subject to Parcel Post nonmachinable surcharges, is renumbered and moved to C700.2.0. E652 is renumbered as E750 for destination entry Package Services mail. E751.4.4 and 4.5 are revised to clarify that an exception to the appointment requirement exists for destination entry shipments containing 100 percent Periodicals or shipments of perishables. E752 is created that contains the eligibility requirements for Bound Printed Matter destination entry discounts. An annual destination entry fee for mail entered at destination entry rates is added. E752 also explains Destination Entry Mail Preparation when mailing under plant-verified drop shipment (PVDS). E753 has been added to provide for the combining of Package Services parcels in 5-digit sacks (E753.2.0) and on 5-digit pallets (E753.3.0) for destination entry at the SCF and DDU levels if also presented with an approved manifest. Sacks containing at least 10 combined pieces or a combined weight of 20 pounds and pallets having at least 50 combined pieces and a combined weight of 250 pounds of mail, or 36 inches of mail, will be allowed. BPM parcels claimed at a Carrier Route rate may not be combined with the other Package Services parcels under E753.

F Forwarding and Related Services

F010.4.5 is amended to add that Standard Mail with insurance is forwarded and returned and to show that registered items are given registered service while they are being forwarded or returned. F010.4.6 is added to make the standards for undeliverable metered mail in this module consistent with standards elsewhere in the DMM. F010.5.3g is added and the chart in F010.5.3 is amended to prohibit the use of the “Change Service Requested” endorsement on Standard Mail with special services. F010.5.4c is added and the chart F010.5.4 is amended to allow BPM with no ancillary service endorsement and no special service to be disposed of by the Postal Service. F010.7.4 is amended to specify that combination parcels are returned at Parcel Post inter-BMC/ASF rates.

F020.3.7 is amended to show that pieces with Delivery Confirmation and Signature Confirmation are forwarded without payment of additional special service fees. F030.2.5 is amended to give mailers participating in Shipper Paid Forwarding the option of paying forwarding charges through a postage due account. If mailers choose this option, then they must pay the annual accounting fee. F030.4.2 is amended to include information about forwarding and return of Standard Mail.

G General Information

G091.3.0 is amended to reflect the increase in the fee for certification of a system as functionally equivalent to Mailing Online from $100 to $125.

L Labeling Lists

L001 is amended to change the introductory paragraph to show that this labeling list may be used with Bound Printed Matter flats. L002 is amended to add “and per piece” to the rate description for Periodicals SCF rates. L004 is amended to show that it may be used with Bound Printed Matter. L601 is amended to show that packages of Bound Printed Matter irregular parcels on pallets may use this list and to show the instructions for labeling mixed BMC containers that were inadvertently omitted from the Federal Register published August 8, 2000 (65 FR 48385). L602 is amended to remove the term “bundles,” and to provide for use of this list by Bound Printed Matter machinable parcels when DBMC rates are claimed.

M Mail Preparation and Sortation

M011.1.3 is amended to add preparation instructions for less-than-full and overflow flat trays and to revise the preparation instructions for 5-digit/scheme carrier routes sort and 5-digit/scheme sort to provide for use of these levels of sortation with BPM flats. M012.3.1 is amended to eliminate the use of “Library Rate” marking effective January 1, 2002 (after which only “Library Mail” may be used as the marking), and to change the marking “Special Standard” to “Media Mail” (“Special Standard” or “SPEC STD” may be used only until January 1, 2002). M012.3.2 is amended to add the marking “Parcel Select.” M012.3.3 is amended to eliminate use of the marking “Presorted Standard” instead of “Presorted” with Presorted BPM effective January 1, 2002 (after which only “Presorted” and “Bound Printed Matter” may be used), and to add use of the abbreviation “BPM” as an optional marking for “Bound Printed Matter.” M013.1.1 is updated to include a carrier route package optional endorsement line information for Carrier Route BPM. M013.2.5 is amended for clarity, to change the labeling list used for ADC sortation of BPM irregular parcels from L603 to L004, and to change the labeling list used for mixed ADC sortation from L604 to L004. M020.1.4 is amended to delete references to bundles. Current M020.1.5 and 1.6 are renumbered 1.6 and 1.7 and a new M020.1.5 is added to describe new physical preparation of BPM packages. M020.2.2 is amended to show that First-Class Mail automation flats prepared under the new tray-based preparation rules are not prepared in packages and to show that the exception in renumbered M020.1.7 also applies to First-Class Mail flats in trays. M020.3.0 is amended to show that the requirement for facing slips used to label carrier route packages applies to all classes of mail. M031.4.7 is amended to specify that the words “CARRIER ROUTES” must appear on 5-digit pallets of BPM only when the pallet consists entirely of irregular parcels eligible for the carrier route rate and that the words “CARRIER ROUTES” must appear after the “5D” pallet level description. M031.4.12 is amended to delete the term “bundle.” M031.5.0 is amended to add new abbreviations for First-Class Mail and Package Services mail. Exhibit M032.1.3a is amended to reflect changes in the content line and CIN numbers of Package Services sack labels. M033.1.2 is amended to clarify that lids on First-Class flat trays must be placed on the trays green side up. M033 is amended to provide for less-than-full and overflow trays for First-Class Mail automation rate mailings prepared under the new tray-based option.

M041.5.6 is amended to require for flat-size BPM that Presorted rate mail must be placed on separate 5-digit pallets (5-digit scheme and 5-digit pallets) from Carrier Route rate mail (5-digit carrier routes or 5-digit scheme carrier routes pallets) and to remove references to palletized bundles. M045.2.0 is revised to clarify requirements and to revise the package minimums, maximums, and physical packaging requirements for BPM. Current M045.3.0, which provides for optional preparation of bundles on pallets for Periodicals and Standard Mail, is deleted. M045.4.0 (as set forth in the final rules published in 65 FR 50054 (August 16, 2000)) is renumbered as M045.3.0. M045.3.0 is amended to provide for separate pallet preparation requirements for BPM flats in M045.3.3 and for irregular parcels in M045.3.4, to renumber the remainder of that section, and to revise the class abbreviation on the contents lines for Package Services mail from “STD” or “STD B” to “PSVC.” M045.3.5 (M045.4.4 as set forth in the final rule published in 65 FR 50054 (August 16, 2000)) is revised to provide for DBMC rates for Bound Printed Matter and to revise line 2 pallet labels to show “STD” instead of “STD A” and to show “PSVC” instead of “STD B.” M045.3.6 (M045.4.5 as set forth in the final rule published in 65 FR 50054 (August 16, 2000)) is revised to change the line 2 pallet labels from “STD” or “STD B” to “PSVC.” M045.5.0 through M045.15.0 (as set forth in the final rule published in 65 FR 50054 (August 16, 2000)) is renumbered as M045.4.0 through M045.14.0. Renumbered M045.6.4 and M045.9.2 are amended by changing the reference “M630” to “M710 or M720.” Renumbered M045.10.0 and 11.0 are amended by changing “STD” or “STD B” to “PSVC.” Renumbered M045.12.1 is amended to change “M630” to “M710,” to change the pallet label contents lines class abbreviation from “STD B” to “PSVC,” and to add “PARCELS” after the class abbreviation. Renumbered M045.12.2 is amended to change “M630” to “M710,” to change the pallet label contents lines class abbreviation from “STD B” to “PSVC” and to add “PARCELS” after the class abbreviation. M045.12.3 is amended to change “Exhibits E652.7.0 and E652.8.0” to “Exhibits E751.7.0 and E751.8.0.” M045.12.4 is amended to change “E652.6.0” to “E751.6.0.” M045.13.0 is amended to change “M630” to “M710” and to change the class abbreviation on the contents line of the pallet label from “STD B” to “PSVC.” M045.14.0 is amended to change the pallet label contents lines class abbreviation from “STD B” to “PSVC,” and to add “PARCELS” after the class abbreviation. M072.2.4 is amended by changing “P710, P720, or P730” to “P910, P920, or P930,” and by changing “E652” to “E751.” M073.2.3 is amended to change “P710” to “P910.”

M110 is added to show the preparation requirements for single-piece First-Class Mail formerly located in E130.2.3.

M610.6.0, which provided for preparation of Standard Mail bedloaded bundles, is deleted. M620.1.1a is amended by changing “E620” to “E630.” M630.1.0, pertaining to Parcel Post, is renumbered in new M710.

M710.1.1 is added to describe general requirements for Parcel Post. M710.1.3 (formerly M630.1.2) is revised to show that DSCF and DDU rate mail need not be separated by zone at the time of acceptance and to change “P710, P720, or P730” to “P910, P920, or P930.” M710.1.4 (formerly M630.8.0) is added to contain standard for commingled zones. M710.1.5 contains the documentation information formerly in M630.1.3 and is amended to clarify the standards and to change “P710, P720, or P730” to “P910, P920, or P930.” M710.2.1 contains standards, formerly in M630.1.4, that are amended by changing the reference “1.5” to “2.2,” by changing “Exhibit E652.6.0” to “Exhibit E751.6.0,” and by changing the reference “Exhibit E652.7.0 and Exhibit E652.8.0” to “Exhibit E751.7.0 and Exhibit E751.8.0.” M710.2.2 (formerly M630.1.5) contains standards that are amended to replace “STD B 5D” on the contents line of DSCF 5-digit sacks with “PSVC PARCELS 5D.” M710.4.0 (formerly M630.6.0) is added to contain provisions for preparation of machinable parcels and is amended to show that this preparation is optional for Parcel Post. M720 (formerly M630.2.0 and 3.0) is added to contain standards for BPM. M721 contains the preparation standards for single-piece rate BPM. M722 contains the preparation standards for Presorted BPM. M722.2.0 contains new packaging and sacking requirements for Presorted BPM flats, including new line 2 sack labeling requirements that change the abbreviation “STD B” to “PSVC.” M722.3.0 contains new packaging and sacking requirements for Presorted BPM irregular parcels weighing less than 10 pounds, including a requirement to use L004 instead of L603 for preparation of ADC sacks, to use L004 instead of L604 for mixed ADC sacks, and new line 2 sack labeling requirements that change the abbreviation “STD B” to “PSVC.” M722.3.6 contains a provision to allow preparation of bedloaded 5-digit packages of Presorted BPM irregular parcels weighing up to 40 pounds when prepared for and entered at DDU rates. M722.4.0 contains preparation requirements for Presorted BPM irregular parcels weighing 10 or more pounds. M722.4.1 prohibits packaging of such pieces and requires that each individual piece must be enclosed in an envelope, full-length sleeve, full-length wrapper, or polywrap before being placed in sacks. M722.4.2 through M722.4.4 contains sacking requirements for Presorted BPM irregular parcels weighing 10 or more pounds including a requirement to use L004 instead of L603 for preparation of ADC sacks, to use L004 instead of L604 for mixed ADC sacks, and new sack labeling requirements that change the abbreviation “STD B” to “PSVC.” M722.4.5 contains a provision to allow preparation of bedloaded 5-digit packages of Presorted BPM irregular parcels weighing up to 40 pounds when prepared for and entered at DDU rates. M722.5.0 contains provisions for preparing Presorted BPM machinable parcels. These provisions eliminate the 1,000 cubic inch sacking minimum option, provide for preparation of an ASF sack when DBMC rates are claimed, and change the line 2 sack labeling class abbreviation from “STD B” to “PSVC.” M723 is added that contains the provisions for preparing Carrier Route BPM. M723.2.0 contains the preparation requirements for Carrier Route BPM flats. M723.2.1 contains new packaging requirements. M723.2.2 through M723.2.4 contains new sacking minimums, requires preparation of carrier route sacks, provides for optional preparation of 5-digit scheme carrier routes sacks for Carrier Route BPM flats and amends the Line 2 sack labels to change the class abbreviation from “STD B” to “PSVC.” M723.2.5 contains a provision to allow preparation of bedloaded carrier route packages of BPM flats weighing up to 40 pounds when prepared for and entered at DDU rates. M723.3.0 contains preparation requirements for Carrier Route BPM weighing less than 10 pounds. M723.3.1 sets forth new packaging requirements for Carrier Route BPM irregular parcels weighing less than 10 pounds. M723.3.2 through M723.3.4 contain sack preparation requirements that change the carrier route sack minimum, make it a required level of sack, and amend line 2 sack labels to change the class abbreviation from “STD B” to “PSVC.” M723.3.5 contains a provision to allow preparation of bedloaded carrier route packages of BPM irregular parcels weighing up to 40 pounds when prepared for and entered at DDU rates. M723.4.0 contains requirements for Carrier Route BPM irregular parcels weighing 10 or more pounds. M723.4.1 requires Carrier Route BPM irregular parcels weighing 10 or more pounds to be prepared only in direct carrier route sacks containing a minimum of 20 pounds of mail. M723.5.0 permits machinable parcels to qualify for Carrier Route BPM rates only if prepared in a direct carrier route sack that contains a minimum of 10 addressed pieces or 20 pounds. M730 is added to contain standards for Media Mail (formerly in M630.4.0) and is amended to reflect the subclass name change to “Media Mail.” M730.1.0 contains basic standards. M730.2.1 (formerly M630.4.4) contains sack and package on pallet preparation for 5-digit Media Mail rates. M730.2.1 is amended to change “bundles” to “packages” and to remove “/1,000 cubic inches.” M730.2.2 (formerly M630.4.5) contains sack preparation for BMC Media Mail rates and is amended to remove “/1,000 cubic inches.” M730.2.3 contains line 2 sack label information for Media Mail (formerly in M630.4.6) amended to change “STD” and “STD B” to “PSVC.” M740 is added that contains the standards for Library Mail in former M630.5.0. M740.1.0 (formerly M630.5.1 through 5.3) contains basic standards for Library Mail and is amended to discontinue use of the “Library Rate” marking beginning January 1, 2002. M740.2.1 (former M630.5.4) contains sack preparation requirements for the 5-digit Library Mail rates and is amended to remove “/1,000 cubic inches” and to change line 2 labels from “STD” and “STD B” to “PSVC.”

M740.2.2 (formerly M630.5.5) contains sack preparation requirements for the BMC Library Mail rates and is amended to remove “/1,000 cubic inches.” M740.2.3 (formerly M630.5.6) contains line 2 sack label information for Library Mail and is amended to change “STD” and “STD B” to “PSVC.”

M820.1.2 is amended to incorporate the separate rates for 5-digit and 3-digit First-Class Mail automation flats. M820.1.5 is amended to exclude First-Class Mail automation flats prepared under the new tray-based preparation rules from package preparation standards. M820.1.11 is added to prohibit combining FSM 881 and FSM 1000 mailpieces in the same tray when the new tray-based preparation option for First-Class Mail automation flats is used. M820.2.1 is amended to make preparation of 5-digit packages for First-Class automation flats optional. M820.2.2 is amended to make preparation of 5-digit trays for First-Class automation flats optional. M820.3.0 is added to provide for an optional tray-based preparation for First-Class automation flats. M910.1.2 is amended to change the reference “M820” to the more specific reference “M820.2.1” so that it is clear the mail must be packaged and must not be prepared under the new option for First-Class Mail automation flats in M820.3.0 for tray-based preparation.

P Postage and Payment Methods

P011.1.1 is amended by renumbering 1.1b through 1.1e as 1.1c through 1.1f and by adding new 1.1b to include prepayment conditions for merchandise return service. P011.3.3 and 3.4 are added to clarify standards for advance deposit accounts and annual accounting fees. A separate annual accounting fee must be paid for each special service deducted from the same account. P012.2.2 is amended to require tray levels and tray destinations in the body elements of the standardized documentation for the new tray-based preparation option for First-Class Mail automation flats. P012.2.3 is amended to add the rate levels and abbreviations for the new tray-based option for First-Class Mail automation flats. P013.1.4 and 1.5 are amended to show how to properly affix postage to single-piece rate mailings and other-than-single-piece rate mailings. P013.2.4 is revised to reflect the new one-pound minimum Priority Mail rate. P013.2.6 is amended to reflect that keys and identification devices weighing more than 13 ounces but not more than one pound would be charged the new one-pound rate. P013.9.0 is amended to clarify how to calculate Package Services postage for pieces with postage affixed and for pieces paid with permit imprint. P014.2.4f is amended to show that customers may receive a refund for Signature Confirmation service. P014.2.4i is amended to include standards for when the destination entry mailing fee for Package Services and Bound Printed Matter is eligible for a full (100%) refund. P014.2.11 is amended to show that the QBRM quarterly fee is not refundable. P022.1.2 is amended to show that postage due stamps cannot be used to pay postage due. P030.3.5 is amended to reflect the new categories for on-site meter service and to exclude secured postage devices from the meter service fees. P070.5.4 is amended to specify that unmarked parcels are rated at the inter-BMC/ASF postage rates. P600.4.0 and 5.0 are added to clarify payment standards for Standard Mail pieces that claim the barcoded discount or are mailed with special services. Current P700, Special Postage Payment Systems, is redesignated as P900. Current P710, P720, P730, P750, and P760 are redesignated as P910, P920, P930, P950, and P960, respectively. A new P700 is created to contain payment standards for Package Services.

R Rates and Fees

The entire module is revised to reflect new rates and fees for all classes of mail.

S Special Services

S010.2.1 is amended to show that the sender of a merchandise return service parcel may file a claim for loss if the sender has purchased the insurance.

S911.1.5 is amended to clarify the additional services that can be added to registered mail and to add Signature Confirmation as an additional service. S912.1.4 is amended to specify the additional services that may be combined with certified mail and S912.1.5 is amended to clarify the standards for a delivery record. S912.2.5a is amended to specify the form number used by customers. S913.1.2 and 1.3 are amended to show that bulk insurance may be added to Standard Mail pieces that are subject to the residual shape surcharge and to remove the required “Standard Mail Enclosed” marking. S913.1.5 is amended to clarify the additional services that can be added to insurance and to add Signature Confirmation as an additional service. S913.1.6 is added to clarify that customers may request a delivery record after mailing. S913.2.5 is amended to include information about integrated barcodes with Signature Confirmation and insurance. S913.4.0 is amended to change “parcel” to “item.”

S914.1.1 is amended to show that certificate of mailing is evidence that mail has been presented for mailing but does not provide a record of delivery. S914.1.2, 1.3, and 1.4 are rewritten for clarity; there are no changes to these standards for bulk certificate of mailing. S914.1.7 is added to specify the additional services that may be combined with certificate of mailing.

S915.1.1 is amended to show that the return receipt is mailed back to the sender. S915.1.2 is amended to show the classes of mail that are eligible for return receipt service and the prerequisite services. S915.1.7 is added to specify the additional services that may be combined with return receipt. S915.2.2 is amended to clarify how to apply for a delivery record after mailing. S915.2.3 is added to specify the time limit for requesting a delivery record after mailing. S915.4.2 is amended to clarify how to request delivery information. S916.1.2 is amended to clarify that restricted delivery cannot be used with Standard Mail. S916.1.7 is added to specify the additional services that may be combined with restricted delivery, including new Signature Confirmation service. S917.1.1 is amended to show that the return receipt is mailed back to the sender. S917.1.2 is amended to show that return receipt for merchandise service is available for Standard Mail pieces that are subject to the residual shape surcharge. S917.1.3 is amended to specify the special services that may be combined with return receipt for merchandise. S917.2.7 is added to clarify how mailers may request a delivery record if return receipt service was not provided. S917.3.0 is amended to remove information about the delivery record.

S918.1.2 is amended to show that electronic option Delivery Confirmation is available for Standard Mail pieces that are subject to the residual shape surcharge. S918.1.3 is amended to show that Delivery Confirmation service is not available for Standard Mail cards, letters, and flats (i.e., pieces that are not subject to the residual shape surcharge). The last sentence of S918.5.0a is deleted to eliminate redundancy.

New unit S919 is added for Signature Confirmation service.

S921.1.1 is amended to show the new $1,000 limit for COD and to clarify that recipients who pay CODs with cash will be charged the applicable money order fee(s). S921.1.4 is amended to specify the additional services that may be combined with COD.

Effective November 5, 2000, the Postal Service completely rewrote DMM standards for business reply mail (see Postal Bulletin 22035 (10-19-00), available via www.usps.com). This rewrite was done for clarity and consistency. Therefore, standards for business reply mail in this final rule have been reorganized to reflect the new structure of DMM units E150, P014, R900, and S922. There have been no substantive changes to these standards since publication in the proposed rule.

S922.3.3 is amended to delete the requirement that BRM permit holders maintain a unique advance deposit account just for BRM. S922.7.7 and 7.8 are added to add a new classification of high-volume qualified business reply mail (QBRM) that includes a quarterly fee and a lower per piece charge.

S923.1.1, 1.3, and 2.7 are amended to remove references to the per piece fee for pieces returned through merchandise return service (MRS). S923.1.11 is amended and 1.12 is removed to show that unmarked MRS pieces will be treated as Parcel Post. S923.2.3 is amended to clarify references to the annual accounting fee. S923.2.7 is amended to remove references to the per piece fee for items returned via merchandise return service. S923.3.0 is amended in its entirety to clarify how postage is paid on returned pieces, to remove references to the per piece charge, and to add the annual accounting fee for the required advance deposit account. S923.4.1 and 4.2 are amended to show that the sender (the person using the merchandise return service label to return a parcel to the permit holder) may add insurance to a MRS parcel at their own discretion and expense. S923.5.6c is amended to clarify that rate markings are optional on MRS labels. All of the exhibits in S923 are amended to remove references to the per piece fee.

S924.1.1 is amended to add a sentence about payment information for Bulk Parcel Return Service (BPRS). S924.1.4 is added to show that no special services can be added to pieces sent through BPRS. S924.3.2, 3.3, and 3.4 are added to clarify the per piece charges and to describe the new annual accounting fee. S924.3.5 is added to specify that the permit holder is responsible for payment of all applicable fees. Exhibit S924.5.0 is amended to change the class marking to “Standard Mail.” S930.1.3 is amended to specify that Signature Confirmation service can be combined with special handling. S930.1.7 is added to clarify that the Parcel Post nonmachinable surcharge is not added to parcels sent special handling. S930.2.3 is amended to specify the additional services that may be combined with parcel airlift service (PAL).

Although exempt from the notice and comment requirements of the Administrative Procedure Act (5 U.S.C. 553(b),(c)) regarding rulemaking by 39 U.S.C. 410(a), the Postal Service hereby adopts the following amendments to the Domestic Mail Manual (DMM), which is incorporated by reference in the Code of Federal Regulations. See 39 CFR part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) as follows:

A ADDRESSING

A000 Basic Addressing

A010 General Addressing Standards

1.0 ADDRESS CONTENT AND PLACEMENT

* * * * *

[Amend 1.2 by replacing “and Standard Mail (A), Standard Mail (B),” with “Standard Mail, Package Services,” no other changes to text.]

* * * * *

[Amend 1.6 by replacing “Standard Mail” with “Standard Mail, and Package Services”; and by replacing “E600” with “E600, and E700'; no other changes to text.]

* * * * *

4.0 RETURN ADDRESS

* * * * *

[Amend 4.3g by replacing “Standard Mail (B)” with “Package Services”; no other changes to text.]

* * * * *

A060 Detached Address Labels (DALs)

1.0 USE

[Amend 1.2 and 1.3 by changing “Standard Mail (A)” to “Standard Mail'; no other changes to text.]

[Revise 1.4 to reflect the elimination of the local zone and to add new 5-digit preparation and entry standards to read as follows:]

1.4 Bound Printed Matter

Unaddressed pieces of Bound Printed Matter may be mailed with DALs when:

a. The mail is prepared on 5-digit pallets meeting the standards in M040 and M045, except that for flat-size mail separate 5-digit pallets of Carrier Route and Presorted rate mail are not required. The mail may not be prepared on pallets when the Drop Shipment Product indicates that the delivery unit that serves the 5-digit pallet destination cannot handle pallets. The destination delivery unit is determined using the Drop Shipment Product under the provisions for the DDU rate in E752. (For such delivery units, mail with DALs must be prepared in sacks.) The trays or cartons of DALs must be prepared under 3.0 and placed on the same pallet as the pieces and must be stretch-wrapped together as one unit.

b. The mail is prepared in 5-digit sacks and entered at the destination delivery unit. The destination entry unit is determined by using the Drop Shipment Product under the provisions for the DDU rate in E752. DALs must be packaged under 3.0 and presented to the destination delivery unit with the accompanying items to be distributed with the DALs.

* * * * *

[Add a new 1.7 to read as follows:]

1.7 Special Services

Items mailed with DALs may not be combined with any special services.

* * * * *

3.0 MAIL PREPARATION

* * * * *

[Remove 3.7 and 3.8.]

* * * * *

4.0 DISPOSITION OF EXCESS OR UNDELIVERABLE MATERIAL

* * * * *

[Amend 4.2 by adding additional restrictions to undeliverable Bound Printed Matter to read as follows:]

4.2 Undeliverable DAL

A DAL that is undeliverable as addressed (UAA) is handled under F010. A UAA Standard Mail or Bound Printed Matter DAL is disposed of as waste. The accompanying item is treated as specified by the mailer under 4.1.

5.0 POSTAGE

* * * * *

[Amend 5.2b by changing “Standard Mail (A)” to “Standard Mail”; no other changes to text.]

[Amend 5.3 by replacing “Standard Mail (B)” with “Package Services”; no other changes to text.]

* * * * *

A900 Customer Support

A910 Mailing List Services

* * * * *

2.0 FEE ASSESSMENT

2.1 Corrections

[Amend 2.1 to show that the minimum fee applies to lists with fewer than 30 corrections:]

The fee for correcting name and address lists or occupant lists is assessed for each name or street address on the list. Individual apartments are considered separate addresses. The minimum fee in R900 applies to lists with fewer than 30 names or addresses. (For assessing the fee, the USPS considers a list to be all the addresses sent at one time to the appropriate postal facility.)

* * * * *

C Characteristics and Content

C000 General Information

C010 General Mailability Standards

1.0 MINIMUM AND MAXIMUM DIMENSIONS

* * * * *

[Amend 1.3 by changing “(see C600)” to “(see C700)”.]

* * * * *

C020 Restricted or Nonmailable Articles and Substances

* * * * *

C023 Hazardous Materials

1.0 GENERAL

[Amend 1.1f by replacing “Standard Mail” with “Standard Mail or Package Services”; no other changes to text.]

* * * * *

C050 Mail Processing Categories

1.0 BASIC INFORMATION

[Amend the second sentence of 1.0 to reflect changes in class names to read as follows:]

* * * Unless permitted by standard, any mailing at other than the single-piece Express Mail, Priority Mail, First-Class Mail, or Package Services rates may not contain pieces from more than one processing category.

* * * * *

[Amend Exhibit 2.0 to show new weight limit for machinable parcels.]

* * * * *

4.0 MACHINABLE PARCEL

4.1 Criteria

[Amend 4.1a to decrease the minimum piece weight from 8 ounces to 6 ounces to read as follows:]

A machinable parcel (see Exhibit 2.0) is any piece that is:

a. Not less than 6 inches long, 3 inches high, ¼ inch thick, and 6 ounces in weight. (A mailpiece exactly ¼ inch thick is subject to the 3½-inch height minimum under C010.)

* * * * *

[Remove 4.1c.]

4.2 Soft Goods

[Amend 4.2 to include reference to C010 for packaging standards to read as follows:]

Soft goods wrapped in paper or plastic bags and enveloped printed matter weighing up to 5 pounds are machinable only if all applicable packaging standards in C010 are met.

4.3 Exception

[Amend 4.3 to clarify the exception authority for machinable parcels to read as follows:]

Some parcels may be successfully processed on BMC parcel sorters even though they do not conform to the general machinability criteria in 4.1. A destinating BMC plant manager may authorize a mailer to enter such parcels as machinable parcels rather than as irregular parcels if the parcels are tested on BMC parcel sorters and prove to be machinable. In addition, the following requirements must be met: all mailed pieces must be properly labeled, entered at a post office within the service area of the authorizing BMC, and bear delivery addresses located within the service area of the authorizing BMC.

* * * * *

C200 Periodicals

1.0 PERMISSIBLE MAILPIECE COMPONENTS

[Amend 1.3, 1.8, and 1.10 to replace “Standard Mail (A)” with “Standard Mail.”]

* * * * *

2.0 IMPERMISSIBLE MAILPIECE COMPONENTS

* * * * *

2.2 Prohibited Matter

[Amend 2.2c to replace “or Standard Mail” with “Standard Mail, or Package Services'; no other changes to text.]

* * * * *

[Amend heading and text of 2.4 by replacing “Standard Mail (B)” with “Package Services”; no other changes to text.]

* * * * *

[Add new section 5.0 to read as follows:]

5.0 PHYSICAL LIMITATIONS

Periodicals mail may not weigh more than 70 pounds or measure more than 108 inches in length and girth combined. Additional size limitations apply to individual Periodicals rate categories.

* * * * *

C600 Standard Mail

1.0 DIMENSIONS

[Revise the heading of 1.1 to read as follows:]

1.1 Basic Standards

[Amend 1.1 and Exhibit 1.1d by changing “Standard Mail (A)” to “Standard Mail.”]

* * * * *

[Redesignate 1.3 as C700.1.0.]

[Redesignate current 2.0 as C700.2.0.]

[Add new 2.0 to read as follows:]

2.0 RESIDUAL SHAPE SURCHARGE

Mail that is prepared as a parcel or is not letter-size or flat-size as defined in C050 is subject to a residual shape surcharge. There is one surcharge for mail entered at Regular and Nonprofit Presorted rates and a different surcharge for mail entered at Enhanced Carrier Route and Nonprofit Enhanced Carrier Route rates.

* * * * *

[Add new

C700 as follows:]

C700 Package Services

[Redesignate C600.1.3 as C700.1.0 and amend the heading by replacing “Standard Mail (B)” with “Package Services”; no other changes to text.]

[Redesignate C600.2.0 as C700.2.0. Insert the criteria for nonmachinability from E630.1.4 and amend to extend the nonmachinable surcharge to intra-BMC and Parcel Select-DBMC pieces to read as follows:]

2.0 NONMACHINABLE PARCEL POST PIECES

[Effective December 12, 2000, the Postal Service amended the criteria for nonmachinability (see Postal Bulletin 22038 (11-30-00), available via www.usps.com)). Those changes are reflected in the following paragraphs.]

Mailpieces described in this section and mailed at the inter-BMC/ASF Parcel Post, intra-BMC/ASF Parcel Post, and DBMC Parcel Select rates are subject to the applicable nonmachinable surcharge in R700 unless the applicable special handling fee is paid. An oversized parcel as described in 1.0c is not subject to the nonmachinable surcharge. Mailpieces are nonmachinable if they meet any of the following criteria:

a. A parcel more than 34 inches long, 17 inches wide, or 17 inches high, or weighing more than 35 pounds.

b. A parcel containing more than 24 ounces of liquid in glass containers, or 1 gallon or more of liquid in metal or plastic containers.

c. An insecurely wrapped or metal-banded parcel.

e. A can, roll, or tube, or wooden or metal box.

f. A shrub or tree.

g. A perishable such as eggs.

h. Books, printed matter, or business forms weighing more than 25 pounds.

i. A high-density parcel weighing more than 15 pounds and exerting more than 60 pounds per-square-foot pressure on its smallest side.

j. A film case weighing more than 5 pounds or with strap-type closures, except any film case the USPS authorizes to be entered as a machinable parcel under C050 and to be identified by the words “Machinable in United States Postal Service Equipment” permanently attached as a nontransferable decal in the lower right corner of the case.

k. Parcels with characteristics (such as inadequate packaging) that could result in damage to the contents or postal machinery if mechanical sortation is used.

[Add new 3.0 to read as follows:]

3.0 POSTAL INSPECTION

Package Services mail is not sealed against postal inspection. Package Services mail may be prepared for automated processing but must allow easy examination.

C800 Automation-Compatible Mail

C810 Letters and Cards

* * * * *

2.0 DIMENSIONS

* * * * *

[Redesignate 2.3 as 2.4; amend redesignated 2.4 by revising the maximum weight limit for heavy letters and by deleting 2.4d through f; and add new 2.3 to read as follows:]

2.3 Determining Height and Length

The length of an automation letter piece is the dimension parallel to the address when the address is read. The height is the dimension perpendicular to the length.

2.4 Maximum Weight

Maximum weight limits are as follows:

a. Upgradable Presorted First-Class Mail and Upgradable Presorted Standard Mail: 2.5 ounces (0.1563 pound).

b. Automation First-Class Mail, automation Periodicals, and automation Standard Mail: 3 ounces (0.1875 pound).

c. Automation First-Class Mail, automation Periodicals, and automation Standard Mail heavy letters, subject to 7.5: 3.3 ounces (0.2063 pound).

* * * * *

7.0 ADDITIONAL STANDARDS FOR SPECIFIC TYPES OF PIECES

* * * * *

7.5 Heavy Letter Mail

[Amend 7.5 by changing the reference “2.3” to “2.4”; no other changes to text.]

* * * * *

C820 Flats

* * * * *

3.0 DIMENSIONS FOR FSM 1000 PROCESSING

* * * * *

3.4 Maximum Weight

[Amend 3.4 by replacing “Standard Mail (A)” with “Standard Mail”; no other changes to text.]

* * * * *

C840 Barcoding Standards for Letters and Flats

* * * * *

2.0 BARCODE LOCATION LETTER—SIZE PIECE

2.1 Barcode Clear Zone

[Amend 2.1 by replacing “Standard Mail (A)” with “Standard Mail”; no other changes to text.]

* * * * *

[Revise 3.0 to read as follows:]

3.0 BARCODE APPLICATION—FLAT-SIZE PIECE

3.1 General Requirements

On any flat-size piece claimed at automation rates, the piece may bear one POSTNET barcode under 3.2, or may bear two POSTNET barcodes under 3.3. Other mailer-applied non-POSTNET barcodes may appear on the address side of the piece if the barcode format is not detectable or confusing to automated postal equipment.

3.2 Applying One POSTNET Barcode

On any flat-size mailpiece claimed at an automation rate, the barcode may be anywhere on the address side as long as it is at least ⅛ inch from any edge of the piece. For FSM 1000 mailpieces, the preferred location of the barcode is at least 2 inches from the edge of the dimension that is the length for that type of automation piece (the longest edge or, for pieces with a folded or bound edge, the folded or bound edge). The portion of the surface of the piece on which the barcode is printed must meet the barcode dimensions and spacing requirements in 4.0 and the reflectance standards in 5.0. Address block barcodes are subject to the standards in 2.5a through 2.5e.

3.3 Applying a Second POSTNET Barcode

A second POSTNET barcode may be applied to the piece at the mailer's option only if the first POSTNET barcode on the piece is an address block barcode prepared under 3.2 that is not CASS-certified. In addition, the second barcode must meet the following requirements:

a. It must be a delivery point barcode (DPBC).

b. The preferred placement is the lower right corner of the mailpiece parallel to and in the same direction as the delivery address.

c. It must be placed at least 1 inch below the return address.

d. The space between the two POSTNET barcodes must be greater than 1 inch.

* * * * *

[Amend title of C850 by replacing “Standard Mail (B)” with “Standard Mail and Package Services” to read as follows:]

C850 Barcoding Standards for Standard Mail and Package Services Machinable Parcels

1.0 GENERAL

[Amend 1.1 by replacing “Standard Mail (B)” with “Standard Mail and Package Services,” and replace “E630” with “E620, E720, E730, or E740”; no other changes to text.]

* * * * *

[Effective November 30, 2000, the Postal Service revised DMM C850.1.4 to include new information about integrated barcodes. See Postal Bulletin 22038 (11-30-00).]

[Amend 1.4 by replacing “Standard Mail (B)” with “Standard Mail and Package Services mail” and “E630” with “E620, E720, E730, or E740.” Amend 1.4c to add information about Signature Confirmation to read as follows:]

1.4 Use with Delivery Confirmation and Signature Confirmation Services

A mailer may qualify for the machinable parcel barcode discount and may apply Delivery Confirmation and Signature Confirmation barcodes provided that the requirements in E600, E700, and S900 are met and the barcode(s) is prepared in one of the following ways:

a. Separate Barcodes. Mailers may place both a postal routing code prepared under 1.0 through 4.0 and separate Delivery Confirmation and Signature Confirmation barcodes on the same mailpiece.

b. Single Concatenated Barcode. Mailers may print on the same mailpiece a single concatenated barcode that combines the postal routing code and Delivery Confirmation and/or Signature Confirmation information as follows:

(1) Only the UCC/EAN Code 128 barcode symbology may be used.

(2) The barcode must be prepared according to the barcode specifications for the UCC/EAN Code 128 in S918, S919, and Publication 91.

(3) The barcode must be prepared according to the data format requirements for concatenated barcodes in Publication 91, Appendix G, Table 25. This format contains the start code, function one code, the “420” application identifier, the 5-digit code of the delivery address on the mailpiece, the function one code, the “91” application identifier, the service type code, the customer ID, the sequential package ID, the MOD 10 check digit, the MOD 103 check digit, and the stop code. The MOD 10 check digit must be calculated using only the Delivery Confirmation barcode or Signature Confirmation barcode elements. The function one codes, the “420” application identifier, and the 5-digit code of the delivery address are not included in the MOD 10 check digit calculation.

(4) Instead of the requirements in 3.0 and 4.0, mailers must use the format, placement, and human-readable information requirements found in S918, S919, and Publication 91. The human-readable numeric representation of the concatenated barcode must show the “420” application identifier, the 5-digit code of the delivery address, the “91” application identifier, the service type code, customer ID, sequential package ID, and MOD 10 check digit. The human-readable information also must include the “USPS Delivery Confirmation” or “USPS Signature Confirmation” text and identification bars.

(5) In addition to the human readable requirements in S918, S919, and Publication 91, the word “ZIP” must be printed to the left of the barcode in 12 point or larger sans serif type. A clear zone between the end of the word “ZIP” and the beginning of the barcode must be maintained. The clear zone must be no less than 10 times the average narrow bar or space element width and no more than ½ inch to the left of the barcode. A clear zone of 0.25 inch is recommended.

(6) If a mailpiece bears a concatenated barcode, then no other barcodes that appear on the mailpiece may contain the postal routing code structure (see 1.5).

(7) All barcode symbols must be printed on substrate material that preserves the optical specification as described in the AIM-USA Uniform Symbology Specification documents. Typically, white label stock commonly used for barcode generation is suitable, providing it is not glossy (causing mirror-like (specular) reflection) nor prone to smearing or smudging.

c. Integrated Barcode. An integrated barcode may be used by mailers who choose to combine Delivery Confirmation or Signature Confirmation with other special services on Priority Mail and Package Services. This option also is available for electronic option Delivery Confirmation with other special services on Standard Mail. Mailers may combine multiple services into a single barcode on the shipping label to eliminate multiple labels and barcodes on parcels. The only approved combinations are Delivery Confirmation combined with insurance and Signature Confirmation combined with insurance. Mailers printing their own barcodes and using the electronic option must meet existing specifications in S918 or S919. Two required changes are:

1. Change the text above the barcode to identify the service requested. Exhibits are included in Publication 91, Delivery Confirmation Technical Guide, November 2000 edition (which includes the addendum on Signature Confirmation and integrated barcodes.)

2. Change the service type code in the barcode to identify the class of mail and/or type of special service combined with Delivery Confirmation or Signature Confirmation. Additional information on the Service Type Code Matrix can be found in Publication 91, Delivery Confirmation Technical Guide, November 2000 edition.

* * * * *

D DEPOSIT, COLLECTION, AND DELIVERY

D000 Basic Information

D010 Pickup Service

* * * * *

2.0 POSTAGE AND FEES

* * * * *

[Amend 2.2 by changing “R600” to “R700”.]

* * * * *

D200 Periodicals

D210 Basic Information

* * * * *

2.0 MAIL DEPOSIT

[Amend 2.0 by replacing “Standard Mail” with “Standard Mail and Package Services mail”; no other changes to text.]

3.0 EXCEPTIONAL DISPATCH

* * * * *

3.2 Intended Use

[Revise 3.2 by amending the first sentence and adding a new second sentence to read as follows:]

The provision for exceptional dispatch is intended for short-haul local distribution (zones 1 and 2) of publications with total circulation of no more than 25,000 and is not to be used to circumvent additional entry standards. Applications for exceptional dispatch for publications with over 25,000 total circulation may be considered on a case-by-case basis for possible waiver of the 25,000-circulation limit.

* * * * *

3.4 Destination Rates

[Revise 3.4 by changing the second sentence to read as follows:]

* * * Copies of Periodicals publications deposited under exceptional dispatch may be eligible for and claimed at the SCF rates if eligible for those rates at both the entry office from which the zone rate postage for those copies is computed and at the post office of deposit by exceptional dispatch. Copies of Periodicals publications deposited under exceptional dispatch may be eligible for and claimed at the destination delivery unit rates provided the applicable standards in E250 are met. * * *

* * * * *

D600 Standard Mail

* * * * *

2.0 MAIL DEPOSIT

[Amend 2.0 by removing 2.1 and 2.3; redesignating 2.2 and 2.4 as 2.1 and 2.2, respectively; revising the heading and amending the contents of redesignated 2.1 to remove the term “bulk rates,” provide for mail entered under plant-verified drop shipment procedures, and amending the text of redesignated 2.2 for clarity to read as follows:]

2.1 General

Standard Mail must be presented at the post office where the permit or license is held and the presort mailing fee is paid. Mailings must be presented at the locations and times specified by the postmaster. Plant-verified drop shipment (PVDS) mailings must be presented for verification, acceptance, and entry under P750. Plant-loaded mailings must be presented, verified, accepted, and entered as specified by the plant load agreement and applicable standards. Metered Standard Mail may be deposited at other than the licensing post office only as permitted under D072. Nonprofit Standard Mail must be presented only at post offices where the organization producing the mailing has an approved nonprofit authorization (E670).

2.2 Separation of Mailings

Pieces at different rates (e.g., 3/5 and basic) may be combined in the same mailing as provided in M011. Separate mailings may be reported on the same postage statement if the pieces in the mailings are in the same processing category (C050), are part of the same mailing job, and are presented for verification at the same time.

[Add new D700 to read as follows:]

D700 Package Services

1.0 SERVICE OBJECTIVES

The USPS does not guarantee the delivery of Package Services mail (Parcel Post (including Parcel Select), Bound Printed Matter, Media Mail, and Library Mail) within a specified time. Package Services mail might receive deferred service. The local post office can provide more information concerning delivery times within its area.

2.0 MAIL DEPOSIT

2.1 Single-Piece Rate Mailings

Single-piece rate Package Services mail must be deposited at a time and place specified by the postmaster or designee at the office of mailing. Metered mail may be deposited at other than the licensing post office only as permitted under D072. Permit imprint mail must be presented at the post office under P040 or P700.

2.2 Presorted, Carrier Route, Destination Entry, and Barcoded Discount Mailings

All presorted, carrier route, destination entry, and barcoded discount mailings must be presented for verification and acceptance at the post office where the permit or license is held. All such mailings must be deposited at locations and times specified by the postmaster or designee at the office that verifies and accepts the mailing. Plant-verified drop shipment (PVDS) mailings must be presented for verification, acceptance, and entry under P750.

Plant-loaded mailings must be presented as specified by the applicable standards and the plant load agreement. Metered mail may be deposited at other than the licensing post office only as permitted under D072.

2.3 Zoned Rates

Pieces paid at zoned rates must be entered at the post office from which the applicable zoned rate postage is computed unless an exception is permitted under E710.

2.4 Drop Shipment Information

Essential information for entering drop shipment Package Services mailings at specific postal facilities can be found in the Drop Shipment Product maintained by the National Customer Support Center (NCSC) (see G043). There is a charge for the Drop Shipment Product (E750).

D900 Other Delivery Services

D910 Post Office Box Service

1.0 BASIC INFORMATION

* * * * *

1.5 Box Availability

[Amend 1.5 by adding the following sentence at the end of the paragraph:]

* * * Regardless of the box size applied for, customers must pay the correct fee for the service they receive.

* * * * *

[Redesignate current 1.7 as 1.8. Add new 1.7 to read as follows:]

1.7 Service Period

Post office box service is provided in 6-month increments.

[Amend redesignated 1.8 to add the new key duplication fee and the lock resetting fee read as follows:]

1.8 Fees

Post office box fees for each 6-month period are listed in R900. Each box customer is charged a refundable deposit for post office box keys. Customers also are charged fees for duplicate and replacement post office box keys and for initiating lock changes on post office boxes.

* * * * *

3.0 CONDITIONS OF USE

[Amend 3.1 by clarifying text to read as follows:]

3.1 Receiving Mail

A box customer may receive through the box any mail that is properly addressed to that box number.

* * * * *

[Amend 3.7 by clarifying to read as follows:]

3.7 Forwarding

A post office box may not be used when the primary purpose is to have the USPS forward or transfer mail to another address free of charge.

* * * * *

4.0 BASIS OF FEES AND PAYMENT

[Amend 4.1 to change the basis of post office box fees to read as follows:]

4.1 General

Post office box fees are based on the size of box provided and the fee group to which the box's 5-digit ZIP Code is assigned.

* * * * *

[Remove 4.3. Redesignate 4.4 through 4.11 as 4.3 through 4.10, respectively. Amend redesignated 4.3 to read as follows:]

4.3 Fee Changes

A change in post office box service fees applicable to a given 5-digit ZIP Code can arise from a general fee change. In addition, the Manager, Special Services, can assign a fee group to a new ZIP Code, and may authorize the reassignment of one or more 5-digit ZIP Codes to the next higher or lower fee group if the past fee group assignments were in error. The Postal Service also may regroup 5-digit ZIP Codes. No ZIP Code may be moved more than once a calendar year and a ZIP Code may be moved only into the next higher or lower fee group. Any change in post office box service fees takes effect on the date of the action that caused the change unless an official announcement specifies another date. If post office box service fees are increased, no customer must pay the new rate until the end of the current service period, and no retroactive adjustment is to be made for a payment received before the date of the change. The fee charged is that in effect on the date of payment.

4.4 Payment

[Amend 4.4 to specify when post office box fees must be paid to read as follows:]

All fees for post office box service are for a 6-month period. Except under 4.6, 4.7, and 4.10, fees must be paid in advance for each 6-month period. The fee may be paid for two periods at a time (i.e., up to one year in advance), but not more. The fee that must be paid is the one that is in effect on the day that the fee is paid. Fees may be paid using cash, credit or debit card, or check or money order payable to the postmaster. A mailed payment must be received by the postmaster on or before the due date.

* * * * *

[Amend the heading of 4.7 by removing “for Group D Offices” to read as follows:]

4.7 Exception

[Amend the first sentence of 4.7 by removing reference to “Group D” to read as follows:]

Postmasters at offices with fewer than 500 post office boxes may set April 1 and October 1 as the beginning of payment periods for box customers in their offices. * * *

* * * * *

[Amend 5.0 by revising 5.1 through 5.3 to show the new fee group assignments:]

5.0 FEE GROUP ASSIGNMENTS

5.1 Regular Fee Groups

Post office boxes are assigned to fee groups listed in R900 based upon estimates of the facility space for post office boxes in each 5-digit ZIP Code. Local post offices can provide information about fees for a particular ZIP Code.

5.2 Free Box Service (Group E)

Customers may qualify for free (Group E) post office box service if their physical address or business location meets all of the following criteria:

a. The physical address or business location is within the geographic delivery ZIP Code boundaries administered by a post office.

b. The physical address or business location constitutes a potential carrier delivery point of service.

c. The USPS chooses not to provide carrier delivery to the physical address or business location.

d. The customer does not receive carrier delivery via an out-of-bounds delivery receptacle.

5.3 Additional Standards for Free Box Service

Only one free (Group E) post office box may be obtained for each potential carrier delivery point of service. Eligibility for Group E boxes does not extend to individual tenants, contractors, employees, or other individuals receiving or eligible to receive single-point delivery such as delivery to a hotel, college, military installation, or transient trailer park. A customer must pay the applicable fee for each additional box requested beyond the initial box obtained at the Group E fee.

[Remove Exhibits 5.3a and 5.3b.]

6.0 FEE REFUND

6.1 Calculation

[Amend 6.1 to clarify fee calculations to read as follows:]

When post office box service is terminated or surrendered by the customer, the unused portion of the fee may be refunded as follows:

a. If service is discontinued any time within the first 3 months of the service period, then one-half of the fee is refunded.

b. If service is discontinued after the beginning of the fourth month of the service period, then none of the fee is refunded.

c. If service is discontinued and the customer has prepaid for the next semi-annual service period, then the entire fee for that next period is refunded.

* * * * *

[Amend the heading of 7.0 by adding reference to “Locks” to read as follows:]

7.0 KEYS AND LOCKS

7.1 Key Deposit

[Amend 7.1 to clarify that customers must pay the refundable key deposit for all keys:]

Two post office box keys are initially issued to each new box customer. Box customers must pay a refundable key deposit on each of these keys. The refundable key deposit must be paid on each additional key requested under 7.2. When box service is terminated, the key deposit is refunded to the customer for each key (including additional or replacement keys in 7.2) that is returned to the post office where the box was issued.

7.2 Additional Key Fee

[Revise 7.2 to add a reference to the key fee to read as follows:]

A box customer may obtain additional or replacement keys by submitting Form 1094 and paying the refundable key deposit (see 7.1) and the key fee in R900. The fee for additional or replacement keys is not refundable. Worn or broken keys are replaced without charge when returned to the post office where the box is located.

* * * * *

[Add new 7.4 to explain the lock replacement fee to read as follows:]

7.4 Lock Replacement

The primary box customer (box applicant) may request that the post office box lock be changed. To change the lock, the customer must first pay the applicable lock fee in R900. Lock fees are charged for replacing keyed locks and combination locks and for re-setting combination locks. Lock fees are not refundable. Customers may turn in post office box keys for the old lock and get a refund of the key deposit. Two keys are provided with the new lock, with a refundable deposit for each key charged under 7.1. Customers may obtain additional keys for the new lock under 7.2.

* * * * *

D920 Caller Service

1.0 BASIC INFORMATION

* * * * *

1.4 Caller Number Service

[Remove the last two sentences of 1.4.]

[Redesignate current 1.5 through 1.9 as 1.6 through 1.10, respectively. Add new 1.5 to read as follows:]

1.5 Reserving a Caller Number

Customers may reserve a caller number for future use by paying the caller number reservation fee in R900. The postmaster determines the reserved numbers and may restrict the availability of this service.

* * * * *

3.0 CONDITIONS OF USE

[Amend 3.4 by clarifying to read as follows:]

3.4 Forwarding

Caller service may not be used when the primary purpose is to have the USPS forward or transfer mail to another address free of charge.

* * * * *

4.0 BASIS OF FEES AND PAYMENT

4.1 Caller Service Fee

[Amend 4.1 by clarifying text to read as follows:]

Customers must pay the caller service fee listed in R900. The fee must be paid for each caller number or separation used, with the following exceptions:

a. If a caller uses many caller numbers but receives only a bulk delivery of mail not separated to those numbers, either because this mail is sorted to the customer's unique 5-digit ZIP Code or because sortation is made by caller name or other identification, then the caller service fee is charged only for each separation actually made. The reserved number fee is charged for each of the caller numbers to which mail received by the caller is addressed.

b. When a post office box service applicant is provided a single caller service separation because of a shortage in available post offices boxes, then the fee charged is the fee for the largest installed post office box. In this instance, neither the caller service fee nor the reserved number fee is charged.

[Remove Exhibit 4.1, Caller Service Groups.]

4.2 Reserved Number

[Amend 4.2 to clarify that reserved number fees are not refundable to read as follows:]

The reserved caller number fee in R900 is charged per calendar year or any part of a calendar year for each number reserved by a customer. Reserved caller number fees are not prorated.

4.3 Fee Changes

[Amend 4.3 by removing references to 4.1b and 4.1 to read as follows:]

A change in caller service fees (including reserved number fees) can arise from a general fee change. Any change in caller service fees takes effect on the date of the action that caused the change unless an official announcement specifies another date. If a caller service fee is increased, no customer must pay at the new rate until the end of the current service period, and no retroactive adjustment is to be made for a payment received before the date of the change. The fee charged is that in effect on the date of payment.

* * * * *

4.5 Payment

[Amend 4.5 to clarify the payment periods for caller service to read as follows:]

The basic caller service fees are for a 6-month period. Fees must be paid in advance for each 6-month period. The fee may be paid for two periods at a time (i.e., up to one year in advance), but not more. The fee that must be paid is the one that is in effect on the day that the fee is paid. Fees may be paid using cash, credit or debit card, or check or money order payable to the postmaster. A mailed payment must be received by the postmaster on or before the due date.

* * * * *

[Amend the heading of 4.8 by removing “for Group D Offices” to read as follows:]

4.8 Exception

[Amend the first sentence of 4.8 by removing reference to Group D offices to read as follows:]

Postmasters at offices with fewer than 500 post office boxes may set April 1 and October 1 as the beginning of payment periods for caller service customers in their offices. * * *

* * * * *

5.0 FEE REFUND

5.1 Discontinued Number

[Amend 5.1 to clarify when refunds can be made to read as follows:]

When caller service is terminated or surrendered by the customer, the unused portion of the fee may be refunded as follows:

a. If service is discontinued any time within the first 3 months of the service period, then one-half of the fee is refunded.

b. If service is discontinued after the beginning of the fourth month of the service period, then none of the fee is refunded.

c. If service is discontinued and the customer has prepaid for the next semi-annual service period, then the entire fee for that next period is refunded.

* * * * *

[Add new 5.3 to show that the reserved number fee is not refundable to read as follows:]

5.3 Reserved Number Fee

The reserved number fee is not refundable.

* * * * *

E ELIGIBILITY

E000 Special Eligibility Standards

E010 Overseas Military Mail

1.0 BASIC STANDARDS

* * * * *

[Amend 1.2 to change “Standard Mail (B)” to “Package Services.”]

* * * * *

1.4 Preparation

[Amend 1.4 by changing “C600” to “C700” and by changing “Standard Mail (B)” to “Package Services” to read as follows:]

Items sent by air or surface mail are subject to the size and weight standards in C100 or C700 unless limited further by this standard. Mail must be addressed under A010. Postage at the applicable Priority Mail or Package Services rates is charged for parcels sent by air or surface transportation.

* * * * *

1.6 Restriction

[Amend the first sentence of 1.6 for added clarity and to refer to the new class and subclass names “Package Services” and “Media Mail,” respectively, to read as follows:]

Regardless of the postage payment method, the following types of mail weighing 16 ounces or more must be presented at a post office retail counter: all single-piece rate Priority Mail and all single-piece rate Package Services mail (Parcel Post, Bound Printed Matter, Media Mail, Library Mail).* * *

* * * * *

3.0 MILITARY ORDINARY MAIL (MOM)

[Amend 3.0 by changing “Standard Mail” to “Standard Mail and Package Services.” Amend 3.0b by changing reference to “Standard Mail (A), or Standard Mail (B)” to “Standard Mail, or Package Services mail”; no other changes to text.]

E020 Department of State Mail

1.0 AVAILABILITY

* * * * *

[Add new 1.4 to show that Express Mail is not eligible to be mailed through Department of State Mail to read as follows:]

1.4 Express Mail

Express Mail may not be sent through the Department of State.

2.0 CONDITIONS FOR AUTHORIZED MAIL

* * * * *

2.3 Special Services

[Amend 2.3 by removing references to Express Mail, which has been moved to new 1.4, and by adding Signature Confirmation to read as follows:]

The following special services are not available for mail transmitted through the Department of State: certified, COD, Delivery Confirmation, insured, registered, restricted delivery, return receipt, return receipt for merchandise, Signature Confirmation, and special handling. If one of those services is requested on this mail, it is returned to the sender endorsed “Service Not Available.”

* * * * *

E040 Free Matter for the Blind and Other Handicapped Persons

* * * * *

4.0 PREPARATION

4.1 Basic Standards

[Amend 4.1b by changing “C600” to “C700.”]

* * * * *

E060 Official Mail (Penalty)

* * * * *

5.0 SERVICES, CLASSES, RATES, PREPARATION, AND DETENTION

* * * * *

5.3 Basic Preparation

[Amend 5.3d to require the Parcel Post marking to read as follows:]

Penalty mail must:

* * * * *

d. For all methods of payment, be endorsed for class or rate except for single-piece rate First-Class Mail not exceeding 13 ounces.

* * * * *

7.0 PENALTY METER

* * * * *

[Amend 7.7 by changing title and references from “On-Site Setting” to “Meter Service” to read as follows:]

7.7 Meter Service

An agency wanting on-site meter service must pay the required fee in cash or with a check when the meter is set.

* * * * *

10.0 GENERAL STANDARDS FOR PENALTY REPLY MAIL

[Amend 10.1 by deleting the last phrase in the last sentence to read as follows:]

10.1 Restriction to Approved Formats

An agency may distribute penalty envelopes, cards, cartons, or labels to any person, concern, or organization. To distribute penalty reply mail, agencies must use the penalty business reply mail format, the penalty metered reply format, penalty mail adhesive stamps or penalty mail stamped stationery, or the penalty merchandise return service label.

* * * * *

11.0 PENALTY BUSINESS REPLY MAIL (BRM)

11.1 General

[Amend 11.1 to add QBRM as an option for penalty mailers and to clarify payment of the annual accounting fee to read as follows:]

An agency may participate in business reply mail service (including Qualified Business Reply Mail). Standards for business reply mail are in S922. Agencies can choose to pay postage and per piece charges for BRM with cash upon delivery or through an advance deposit account. If an agency chooses to pay through an advance deposit account, then it must pay an annual accounting fee, which is billed through an OMAS account. The postage, fees, and per piece charges are the same as those for private-sector customers (R900).

* * * * *

12.0 PENALTY MERCHANDISE RETURN SERVICE

12.1 Description

[Amend 12.1 by replacing “Standard Mail (B)” with “Package Services,” replacing “Special Standard Mail” with “Media Mail,” and adding a reference to S923 to read as follows:]

Merchandise return service allows an authorized permit holder to pay the postage and special service fees on single-piece rate First-Class Mail, Priority Mail, and Package Services (Parcel Post, Bound Printed Matter, and Media Mail) that is returned by the permit holder's customers via a special label produced by the permit holder as specified by S923.

[Redesignate current 12.2 through 12.12 as 12.4 through 12.14, respectively, add new 12.2 to show rate and fee application, and add new 12.3 to show the required accounting fee to read as follows:]

12.2 Postage and Special Service Fees

The standards for payment of postage and fees are:

a. The permit holder guarantees payment of the proper postage and special service fees on all returned merchandise return service articles distributed under the permit holder's permit number. Postage is collected for each article from an OMAS postage due account.

b. Returned parcels are charged single-piece rate postage and special service fees based on the class or subclass marking on the label. If a piece is unmarked, then it is charged Parcel Post rates. If the postage for the returned piece is zoned and there is no way to determine where it was sent from (i.e., no postmark or return address), then postage is calculated at zone 4 (for Priority Mail) or zone 4 inter-BMC rates (for Parcel Post).

c. There is no per piece charge per parcel returned.

12.3 Annual Accounting Fee

All MRS permit holders are required to pay the annual accounting fee in R900, which is assessed automatically through OMAS.

* * * * *

12.7 Label Format

[Amend redesignated 12.7 by changing “Exhibit 12.5a” to “Exhibit 12.7a” and “Exhibit 12.5b” to “Exhibit 12.7b” and to add new item c to indicate the location of the optional rate marking.]

* * * * *

c. Permit holders are encouraged, but are not required, to put the rate marking in the space to the right and above the “Merchandise Return Label” legend. The marking must be at least 3/16 inch high and be printed or rubber-stamped. Only the permit holder may apply this marking.

[Revise heading and amend content of redesignated 12.8 by clarifying to read as follows:]

12.8 Insurance Indicated by Permit Holder

The permit holder may obtain insured mail service with MRS. Indemnity under penalty mail merchandise return is limited to $100. Items requiring insurance greater than $100 may not be mailed under penalty merchandise return service. Only Package Services matter (i.e., matter not required to be mailed at First-Class Mail rates under E110) may be insured. Insured mail may be combined with other special services as listed in S913. To request insured mail service, the permit holder must preprint or rubber-stamp “Insurance Desired by Permit Holder for $_____ (value)” to the left of and above the “Merchandise Return Label” legend and below the “Total Postage and Fees Due” statement on the merchandise return label. The value part of the endorsement, showing the dollar amount of insurance for the article, may be handwritten by the permit holder. If insurance is paid for by the MRS permit holder, then only the MRS permit holder may file a claim (S010).

[Redesignate 12.9 through 12.14 as 12.10 through 12.15, respectively. Add new 12.9 to show that MRS senders may add insurance at their discretion to read as follows:]

12.9 Insured Mail Added by Sender

If the permit holder has not indicated insured mail service on the MRS label, then the sender has the option of adding insurance at the sender's own expense. There is no limit on the indemnity coverage paid for by the sender. If insurance is paid by the sender, then only the sender may file a claim (S010).

[Amend redesignated 12.10, Registered Mail, by changing “Exhibit 12.5b” to “Exhibit 12.7b”; no other changes to text.]

[Amend redesignated 12.11, Special Handling, by changing “Exhibit 12.5a” to “Exhibit 12.7a” and by replacing “Standard Mail” with “Package Services”; no other changes to text.]

[Remove redesignated 12.12, Parcels, and 12.13, Postage and Fees. Redesignate 12.14, Permit Cancellation, and 12.15, Later Receipt, as 12.12 and 12.13, respectively.]

* * * * *

15.0 CONTRACTORS

* * * * *

15.2 Preparation

[Amend 15.2a to add the term “Package Services” to read as follows:]

Preparation standards for a contractor's penalty mailings include the following:

a. First-Class Mail, Standard Mail, and Package Services penalty mailings must be prepared with penalty permit imprints or penalty meters. Single-piece rate mailings may also be prepared with penalty mail stamps.

* * * * *

E070 Mixed Classes

* * * * *

2.0 ATTACHMENTS OF DIFFERENT CLASSES

[Amend the heading and contents of 2.1 to change “Standard Mail (A)” to “Standard Mail” and “Standard Mail” to “Standard Mail, or Package Services” to read as follows:]

2.1 First-Class Mail or Standard Mail

Letters or other pieces of First-Class Mail or Standard Mail may be placed in an envelope and attached to the address side of a Periodicals, Standard Mail, or Package Services piece. Combination envelopes or containers with separate parts for the two classes of mail may be used.

2.2 Rate Qualification

[Amend the introductory sentence of 2.2 by adding “Package Services” to read as follows:]

If a Periodicals, Standard Mail, or Package Services host piece qualifies for:

[Amend 2.2a through 2.2d by replacing “Standard Mail (A)” with “Standard Mail”; no other changes to text.]

* * * * *

[Amend 3.2b by replacing “Standard Mail (A)” with “Standard Mail”; no other changes to text.]

* * * * *

[Amend 3.3a through 3.3d by replacing “Standard Mail (A)” with “Standard Mail”; no other changes to text.]

* * * * *

[Amend title of 4.0 by replacing “Standard Mail” with “Standard Mail and Package Services” to read as follows:]

4.0 ENCLOSURE IN STANDARD MAIL AND PACKAGE SERVICES PARCELS

[Amend 4.1 by replacing “Standard Mail” with “Standard Mail and Package Services”; no other changes to text.]

[Amend 4.2 by replacing “Standard Mail (A)” with “Standard Mail”; by replacing “Standard Mail (B) with “Package Services”; and by replacing “E600” with “E700”; no other changes to text.]

5.0 INCIDENTAL FIRST-CLASS MAIL ATTACHMENT OR ENCLOSURE

[Amend 5.0 by replacing “Standard Mail (A)” with “Standard Mail” and by replacing “Standard Mail (B)” with “Package Services mail”; no other changes to text.]

[Amend the heading of 6.0 by replacing “Special Standard Mail” with “Media Mail” to read as follows:]

6.0 COMBINED MAILING OF MEDIA MAIL AND BOUND PRINTED MATTER

[Amend 6.1 by replacing “Special Standard Mail” with “Media Mail”; no other changes to text.]

[Revise 6.2 to specify that Presorted rate mail must be prepared under Bound Printed Matter standards to read as follows:]

6.2 Presorted Rates

Presorted rates may be claimed, subject to the applicable preparation standards. If presort rates are claimed on both subclasses, the mail must be prepared under the standards for Bound Printed Matter (M722).

* * * * *

E100 First-Class Mail

E110 Basic Standards

1.0 CLASSIFICATION AND DESCRIPTION

* * * * *

[Amend 1.2 by replacing “Standard Mail” with “Standard Mail and Package Services” and by replacing “Special Standard Mail” with “Media Mail”; no other changes to text.]

* * * * *

E120 Priority Mail

* * * * *

2.0 RATES

* * * * *

2.4 Keys and Identification Devices

[Amend 2.4 by adding reference to the 1-pound rate to read as follows:]

Keys and identification devices (identification cards or uncovered identification tags) that weigh more than 13 ounces but not more than 2 pounds are returned at the applicable 1- or 2-pound Priority Mail rate plus the fee as shown in R100 if they bear, contain, or have securely attached the name and complete address of a person, organization, or concern, with instructions to return the piece to that address and a statement guaranteeing payment of postage due on delivery.

* * * * *

E130 Nonautomation Rates

* * * * *

2.0 SINGLE-PIECE RATE

* * * * *

2.2 Keys and Identification Devices

[Amend the first sentence of 2.2 by replacing “$0.30” with a reference to R100 to read as follows:]

Keys and identification devices (identification cards or uncovered identification tags) that weigh 13 ounces or less are mailed at the applicable single-piece letter rate plus the fee as shown in R100 and, if applicable, the nonstandard surcharge. * * *

[Redesignate current E130.2.3 as M110.1.0. Add new 2.3 to read as follows:]

2.3 Preparation

Single-piece rate mail must be prepared under M110.

* * * * *

E140 Automation Rates

* * * * *

2.0 Rate Application

* * * * *

[Revise heading of 2.2 to read as follows:]

2.2 Flats—Package-Based Preparation

[Amend 2.2 to provide for separate 5-digit and 3-digit rates to read as follows:]

First-Class Mail automation rates apply to each piece that is sorted under M820.2.0 or M910.2.0 into the corresponding qualifying groups:

a. Pieces in 5-digit packages of 10 or more pieces qualify for the 5-digit automation rate. (Preparation to qualify for that rate is optional and need not be done for all 5-digit destinations.)

b. Pieces in 3-digit packages of 10 or more pieces qualify for the 3-digit automation rate.

c. Pieces in ADC and mixed ADC packages qualify for the basic automation rate.

[Add new 2.3 to read as follows:]

2.3 Flats—Optional Tray-Based Preparation

First-Class Mail automation rates apply to each piece that is sorted under M820.3.0 into the corresponding qualifying groups:

a. Groups of 90 or more pieces in 5-digit trays (and all pieces in one less-than-full overflow tray) qualify for the 5-digit automation rate. (Preparation to qualify for that rate is optional and need not be done for all 5-digit destinations.

b. Groups of 90 or more pieces in 3-digit trays (and all pieces in one less-than-full overflow tray) qualify for the 3-digit automation rate.

c. Groups of fewer than 90 pieces in origin 3-digit trays and all pieces in ADC and mixed ADC trays qualify for the basic automation rate.

E150 Qualified Business Reply Mail

[Effective November 5, 2000, the Postal Service rewrote and reorganized standards for business reply mail and qualified business reply mail (see Postal Bulletin 22035 (10-19-00), available via www.usps.com). The numbering in this final rule reflects those changes.]

* * * * *

2.0 AUTHORIZATION

[Amend 2.0 by removing the last sentence.]

3.0 POSTAGE, PER PIECE CHARGES, AND FEES

* * * * *

3.3 Fees

[Revise 3.3 to add new item c for the QBRM quarterly fee to read as follows:]

The following fees apply to QBRM First-Class Mail:

* * * * *

c. At the mailer's option, a quarterly fee.

E200 Periodicals

E210 Basic Standards

E211 All Periodicals

* * * * *

6.0 ELIGIBLE FORMATS

[Amend 6.1 by replacing “First-Class Mail or Standard Mail” with “First-Class Mail, Standard Mail, or Package Services”; no other changes to text.]

* * * * *

9.0 BACK NUMBERS AND REPRINTS

[Amend 9.0 by replacing “First-Class Mail or Standard Mail” with “First-Class Mail, Standard Mail, or Package Services”; no other changes to text.]

* * * * *

13.0 FEES

1.1 Fee Required

[Amend 13.1 by revising 13.1d(3) to read as follows:]

The required fee must accompany an application for:

* * * * *

d. Reentry (unless excepted in 13.2 or 13.3) to request a:

* * * * *

(3) Change in eligibility from preferred rates or the preferred rate discount to regular Outside-County rates.

* * * * *

13.2 No Fee

[Amend 13.2 for clarity to read as follows:]

No fee is charged if reentry is only to change eligibility to preferred rates or the preferred rate discount.

* * * * *

[Remove 14.0.]

E212 Qualification Categories

* * * * *

2.0 PUBLICATIONS OF INSTITUTIONS AND SOCIETIES

* * * * *

[Remove 2.4.]

* * * * *

4.0 REQUESTER PUBLICATIONS

[Amend 4.1 by replacing “Regular” with “Outside-County”; no other changes to text.]

* * * * *

6.0 NEWS AGENT REGISTRY

* * * * *

[Amend 6.4 by replacing “Regular” with “Outside-County”; no other changes to text.]

[Amend 6.5 by replacing “Standard Mail” with “Standard Mail or Package Services”; no other changes to text.]

E213 Periodicals Mailing Privileges

* * * * *

2.0 MAILING WHILE APPLICATION PENDING

[Amend 2.1 by replacing “First-Class Mail or Standard Mail” with “First-Class Mail, Standard Mail, or Package Services”; no other changes to text.]

[Amend 2.2 by replacing “Standard Mail” with “Standard Mail or Package Services”; no other changes to text.]

* * * * *

E214 Reentry

* * * * *

3.0 APPLICATION FOR REENTRY

* * * * *

[Amend 3.9a, 3.9c, and 3.10 by replacing “Standard Mail” with “Standard Mail or Package Services”; no other changes to text.]

* * * * *

E215 Copies Not Paid or Requested by Addressee

* * * * *

2.0 NONSUBSCRIBER AND NONREQUESTER COPIES

[Amend 2.1 and 2.2 by replacing “Regular” with “Outside-County”; no other changes to text.]

[Amend heading of 2.3 by adding “and the Preferred Rate Discount” to read as follows:]

2.3 Preferred Rates and the Preferred Rate Discount

[Amend 2.3 by adding references to Preferred rate discount and clarifying qualification categories to read as follows:]

For In-County rates, and Nonprofit, Classroom, and Science-of-Agriculture publications, nonsubscriber copies up to 10% of the total number of copies mailed to subscribers during the calendar year may be mailed at the applicable Preferred rates or Preferred rate discount, provided that the nonsubscriber copies would qualify as Preferred rate or Preferred rate discount publications if mailed to subscribers and if the copies are presorted under applicable standards. Nonsubscriber copies mailed over the 10% limit are not eligible for Preferred rates or the Preferred rate discount. To qualify for Outside-County rates, the nonsubscriber copies over the 10% limit must be part of a presorted commingled mailing (one that includes subscriber copies). Subject to E217.4.0, nonsubscriber copies may be mailed at In-County rates up to a 10% limit of the total number of subscriber copies of the publication mailed at In-County rates during the calendar year. Once the 10% calendar year limit is exceeded for the number of nonsubscriber copies that may be mailed at Preferred rates or the Preferred rate discount, nonsubscriber copies may not then be mailed at In-County rates even if the 10% limit separately applied to those rates (under E217.4.0) is not exceeded.

[Redesignate 2.4 through 2.7 as 2.5 through 2.8, respectively; add new section 2.4 to read as follows:]

2.4 Publications of Institutions and Societies

For publications of institutions and societies that are not authorized to contain general advertising under E212.2.3, all circulated copies are considered subscriber copies and the total number of such copies is the total paid circulation.

[Amend redesignated 2.5 and 2.6 by replacing “Regular” with “Outside-County”; no other changes to text.]

[Amend the heading of redesignated 2.7 by adding “noncommingled” to read as follows:]

2.7 Excess Noncommingled Mailing

[Amend redesignated 2.7 by replacing the second sentence and deleting the third sentence to read as follows:]

A mailing is not eligible for Periodicals rates if it consists entirely of nonsubscriber or nonrequester copies over the 10% limit of the total number of copies mailed to subscribers or requesters during the calendar year. These copies are subject to the appropriate Express Mail, First-Class Mail, Standard Mail, or Package Services rate.

[Amend redesignated 2.8 by replacing “Express Mail, First-Class Mail, or Standard Mail” with “Express Mail, First-Class Mail, Standard Mail, or Package Services”; no other changes to text.]

* * * * *

[Add new DMM section E217.0.]

E217 Basic Rate Eligibility

1.0 OUTSIDE-COUNTY RATES

Outside-County rates apply to all copies of an authorized Periodicals publication mailed by a publisher or news agent that are not eligible for In-County rates, except nonrequester and nonsubscriber copies under E215 for excess noncommingled mailings, unless the publication is authorized under E212.2.0 and is not authorized to contain general advertising. Nonrequester and nonsubscriber copies in excess of the 10% allowance under E215 are subject to Outside-County rates when commingled with requester or subscriber copies as appropriate. Publications authorized for Science-of-Agriculture rates under 3.0 are subject to separate Delivery Unit, SCF, and Outside-County zones 1 & 2 rates. Nonprofit and Classroom publications are subject to the Preferred rate discount under 2.0. Outside-County rates consist of a per piece charge, a zoned charge for the weight of the advertising portion of the publication, and a charge for the weight of the nonadvertising portion. Each piece rate requires specific preparation.

2.0 OUTSIDE-COUNTY PREFERRED RATE DISCOUNT

Periodicals publications qualifying as Nonprofit or Classroom Periodicals under E270 receive a 5% discount off the total Outside-County postage, excluding the postage for advertising pounds. Requester publications are not eligible for the Preferred rate discount. Nonsubscriber copies claiming the Preferred rate discount are subject to the standards in E215.

3.0 OUTSIDE-COUNTY SCIENCE-OF-AGRICULTURE RATES

3.1 Authorization

To be mailed at the Science-of-Agriculture Periodicals rates, a publication must be granted Periodicals entry in other than the requester category and granted a Science-of-Agriculture rate authorization.

3.2 Eligibility

Science-of-Agriculture rates apply to Outside-County copies of authorized Periodicals publications mailed by publishers or news agents when the total copies provided during any 12-month period to subscribers residing in rural areas are at least 70% of the total number of copies distributed by any means for any purpose.

3.3 Other Rates

All Outside-County rates and discounts apply except for separate rates for Delivery Unit, DSCF, and zones 1 & 2. Each piece must meet the standards for rates or discounts claimed. Nonsubscriber copies are subject to E215. Subject to E250, the DDU or DSCF piece rate applies to each piece claimed in the pound rate portion at the corresponding rate.

3.4 Nonadvertising Discount

The nonadvertising discount applies to Outside-County piece rate postage.

3.5 Application Procedures

The Science-of-Agriculture rate is available only after USPS authorization. An application or written request for Science-of-Agriculture rates must be filed at the publication's original entry post office. Application may be made by submitting a written request when applying for Periodicals mailing privileges (on Form 3501), by completing the relevant part of an application for Periodicals mailing privileges (on Form 3502), or by filing for reentry (on Form 3510) after Periodicals mailing privileges are authorized. The applicant must submit evidence to show eligibility under the corresponding standards in E217.

4.0 IN-COUNTY RATES

4.1 Subscriber Copies

In-County rates apply to subscriber copies of any issue of a Periodicals publication (except a requester publication) when they are entered within the county in which the post office of original entry is located for delivery to addresses within that county, if one of the following is met:

a. The total paid circulation of such issue is less than 10,000 copies.

b. The number of paid copies of such issue distributed within the county of publication is more than 50% of the total paid circulation of such issue.

4.2 Exceptional Conditions

The standard in 4.1 also is applied under any of these exceptional conditions:

a. If an entry office postmaster directs the publisher to deposit copies of the publication at a postal facility serving that office, those copies are considered as mailed at the entry office for purposes of In-County rates.

b. A copy addressed to a destination within the county of publication is eligible for In-County rates when the entry post office serving that address is outside the county.

c. Each Periodicals publication (except a requester publication or commingled nonsubscriber copies above the 10% allowance) having original entry at an incorporated city situated entirely within a county or contiguous to one or more counties in the same state, but politically independent of such county or counties, is considered within a part of the county with which it is principally contiguous. Copies mailed into that county are charged postage at the In-County rates. Where more than one county is involved, the publisher selects the principal county and notifies the postmaster.

4.3 Nonsubscriber Copies

During a calendar year, the total number of nonsubscriber copies mailed at In-County rates may not exceed 10% of the number of subscriber copies mailed at In-County rates. The number of nonsubscriber copies mailed at In-County rates must be included in the determination of the overall 10% allowance under E215. Effectively, the allowance for nonsubscriber copies mailable at the In-County rates is the 10% allowed under this standard or the overall 10% limit under E215, whichever occurs first.

4.4 Other Rates

Each piece also must meet the standards for the rates and discounts claimed. Subject to E250, the Delivery Unit piece rate applies to each piece claimed in the pound rate portion at the Delivery Unit rate.

5.0 DISCOUNTS

Postage for Periodicals is reduced by all applicable discounts. The nonadvertising discount applies to the Outside-County piece rate charges and is computed under P013. Presort and automation discounts are available under E230 and E240, respectively. Destination entry discounts are available under E250 for copies entered at specific USPS facilities.

6.0 COPIES MAILED BY PUBLIC

The applicable single-piece First-Class Mail, Priority Mail, or Package Services rate is charged on copies of publications mailed by the general public (i.e., other than publishers or registered news agents) and on copies returned to publishers or news agents.

* * * * *

E250 Destination Entry

* * * * *

2.0 DDU RATE

2.1 Eligibility

[Amend 2.1 by replacing sentence one and two with new sentences one, two and three to read as follows:]

The destination delivery unit (DDU) rate applies to pieces, including exceptional dispatch pieces, entered at the facility where the carrier cases mail for the carrier route serving the delivery address on the mailpiece. Letter-size copies claimed at DDU rates must be part of a carrier route package placed in a carrier route tray or a 5-digit carrier routes tray, prepared under M200, and otherwise eligible for and claimed at a carrier route rate. Flat-size or irregular parcel-size copies claimed at DDU rates must be part of a carrier route package placed in a carrier route sack; a 5-digit carrier routes sack, a 5-digit scheme carrier routes sack, a merged 5-digit sack, or a merged 5-digit scheme sack prepared under M200 or M920, or palletized on a 5-digit carrier routes, 5-digit scheme carrier routes, merged 5-digit, or merged 5-digit scheme pallet prepared under M045, M920, M930, or M940, and otherwise eligible for and claimed at a carrier route rate. Except for the standards for preparing basic carrier route or walk-sequence carrier route rate mail, there is no additional minimum volume required for a DDU rate mailing.

* * * * *

2.4 Deposit Schedule

[Amend 2.4 by adding a new last sentence and by replacing “Standard Mail” with “Standard Mail or Package Services mail” to read as follows:]

The mailer may schedule deposit of DDU rate mailings at least 24 hours in advance by contacting the district office in whose service area the destination facility is located. The mailer must follow the scheduled deposit time provided. The mailer may request standing appointments for renewable 6-month periods by written application to the district office in whose service area the destination facility is located. Mixed loads of Periodicals and Standard Mail or Package Services mail require advance appointments for deposit. For DDU rate mail entered under exceptional dispatch, the application for exceptional dispatch required under D210 serves as a request for standing appointments.

* * * * *

E270 Preferred Periodicals

[Remove 1.0 and 6.0 and redesignate 2.0, 3.0, 4.0, 5.0, 7.0, 8.0, and 9.0 as 1.0 through 7.0, respectively.]

[Amend the heading in redesignated 1.0 by replacing the word “RATES” with the word “ELIGIBILITY” to read as follows:]

1.0 NONPROFIT ELIGIBILITY—BASIC INFORMATION

1.1 Authorization

[Amend redesignated 1.1 by removing the word “rates” and replacing the reference “3.0 or 4.0” with “2.0 or 3.0” to read as follows:]

To be mailed as a Nonprofit Periodical, a publication must be granted Periodicals entry in other than the requester category and a Nonprofit authorization for which eligibility was established under 2.0 or 3.0.

* * * * *

[Amend redesignated 1.3 by removing the word “regular” in the last sentence.]

[Remove 1.4.]

* * * * *

[Amend the heading in redesignated 2.0 by replacing the word “RATES” with the word “ELIGIBILITY” to read as follows:]

2.0 NONPROFIT ELIGIBILITY—QUALIFIED ORGANIZATIONS

2.1 Types of Organizations

[Replace the reference “3.3 through 3.10” with “2.3 through 2.10.”]

2.2 Primary Purpose

[Replace the reference “3.3 through 3.10” with “2.3 through 2.10.”]

* * * * *

[Amend the heading in redesignated 3.0 by replacing the word “RATES” with the word “ELIGIBILITY” to read as follows:]

3.0 NONPROFIT ELIGIBILITY—OTHER QUALIFIED ORGANIZATIONS

3.1 Basic Eligibility

[Replace the reference “4.2” with “3.2.”]

3.2 Eligibility Limitation

[Replace the reference “4.1c or 4.1d” with “3.1c or 3.1d.”]

[Amend the heading in redesignated 4.0 by replacing the word “RATES” with the word “ELIGIBILITY” to read as follows:]

4.0 CLASSROOM ELIGIBILITY

* * * * *

[Amend redesignated 4.4 by removing the word “regular” in the last sentence.]

[Remove 4.5.]

* * * * *

5.0 APPLICATION

[In redesignated 5.0, remove 5.1 and redesignate 5.2 and 5.3 as 5.1 and 5.2.]

5.1 Procedures

[Amend redesignated 5.1 by adding a new first sentence and revising the second sentence (former first sentence) to read as follows:]

The Preferred rate discount is available only after USPS authorization. An application or written request for authorization as a Nonprofit or Classroom publication must be filed at the publication's original entry post office. Application may be made by submitting a written request when applying for Periodicals mailing privileges (on Form 3501), by completing the relevant part of an application for Periodicals mailing privileges (on Form 3502), or by filing for reentry (on Form 3510) after Periodicals mailing privileges are authorized.* * *

* * * * *

6.0 MAILING WHILE APPLICATION PENDING

[Amend redesignated 6.1 by adding reference to preferred rate and replacing “Regular Periodicals” with “Outside-County” and “Standard Mail” with “Standard Mail, or Package Services” to read as follows:]

6.1 Mailing Before Approval

A publisher or news agent may not mail at a Periodicals Preferred rate or deduct the Preferred rate discount until the RCSC manager approves the application for such privilege. Until approval is given, postage must be paid at the Outside-County rates (if the publication is authorized), or at the applicable First-Class Mail, Standard Mail, or Package Services rates (if the publication or news agent is in a pending status for Periodicals mailing privileges).

[Amend redesignated 6.2 by replacing “Standard Mail” with “Standard Mail or Package Services” and replacing “regular” with “Outside-County”; no other changes to text.]

7.0 DECISION ON APPLICATION

* * * * *

[Amend redesignated 7.4 (formerly 9.4) by replacing “Standard Mail” with “Standard Mail or Package Services”; replacing “Regular” with “Outside-County”; and the reference “9.5” with “7.5”; no other changes to text.]

7.5 No Refund

[Amend 7.5c (formerly 9.5c) by removing the word “Regular”; no other changes to text.]

* * * * *

E600 Standard Mail

E610 Basic Standards

[Matter pertaining only to Standard Mail (formerly Standard Mail (A)) in current E611 and E612 has been consolidated and reorganized into new E610. Unless otherwise indicated by the amend/revise instructions below, there are no changes to the content of these sections.]

[Remove the heading “E611, All Standard Mail.”]

1.0 BASIC INFORMATION

[Redesignate E611.1.1 as E610.1.1, amend the heading and contents to show that Standard Mail no longer includes matter previously referred to as Standard Mail (B) or fourth-class mail, and add the weight limit from former E612.1.0 to read as follows:]

1.1 Definition and Weight

Standard Mail consists of mailable matter that is neither mailed or required to be mailed as First-Class Mail nor entered as Periodicals (unless permitted or required by standard) and that weighs less than 16 ounces. Standard Mail includes matter formerly classified as Standard Mail (A) and third-class mail.

[Redesignate E611.1.2 as E610.1.2.]

* * * * *

[Redesignate E612.2.0 as E610.2.0; amend redesignated 2.1 and 2.2 by changing “Standard Mail (A)” to “Standard Mail”; no other changes to text.]

[Redesignate E611.1.3 as E610.3.0, amend redesignated 3.0j by replacing “Standard Mail (A)” with “Standard Mail”; no other changes to text.]

[Redesignate the heading of E612.3.0 as E610.4.0 to read as follows:]

4.0 ENCLOSURES AND ATTACHMENTS

[Redesignate E611.1.4 as E610.4.1; no other changes in text.]

[Redesignate E611.1.5 as E610.4.2, replace “Standard Mail (A)” with “Standard Mail,” and “Standard Mail (B) with “Package Services mail”; no other changes to text.]

[Redesignate E612.3.1 as E610.4.3 and amend by changing “Standard Mail (A)” to “Standard Mail”; no other changes to text.]

[Redesignate E612.3.2 as E610.4.4 and amend by changing “Standard Mail (A)” to “Standard Mail”; no other changes to text.]

[Redesignate E612.3.3 as E610.4.5 and amend to change “Standard Mail (A)” to “Standard Mail”; no other changes to text.]

[Redesignate E612.4.0 as E610.5.0 to read as follows:]

5.0 RATES

[Redesignate E612.4.1 through 4.3 as E610.5.1 through 5.3, amend for clarity, amend to incorporate new maximum limits for minimum per piece rates, and revise references to DMM section numbers, to read as follows:]

5.1 General Information

All Standard Mail rates are presorted rates (including all nonprofit rates). These rates apply to mailings meeting the basic standards in E610 and the corresponding standards for Presorted, Enhanced Carrier Route, or automation, under E620, E630, or E640. Destination entry discounted rates are available under E650 and barcoded discounts are available for machinable parcels in E620. A residual shape surcharge also is charged for pieces that are prepared as a parcel or that are not letter-size or flat-size. Nonprofit rates may be used only by organizations authorized by the USPS under E670. Not all processing categories qualify for every rate. Pieces are subject to either a single minimum per piece rate or a combined piece/pound rate, depending on the weight of the individual pieces in the mailing under 5.2 or 5.3.

5.2 Minimum Per Piece Rates

The minimum per piece rates (i.e., the minimum postage that must be paid for each piece) apply as follows.

a. Basic Requirement. Pieces mailed at Regular, Enhanced Carrier Route, Nonprofit, and Nonprofit Enhanced Carrier Route rates are subject to minimum per piece rates when they weigh no more than 3.3 ounces (.2063 pound).

b. Letters and Nonletters. In applying the minimum per piece rates, mail is categorized as either letters or nonletters, based on whether the mail meets the letter-size standard in C050, without regard to placement of the address on the mailpiece. There are two exceptions to this rule: (1) Mailers that have pieces that meet both the definition of a letter in C050 and the definition of an automation flat in C820 may choose to prepare and enter mail at an automation flat (nonletter) rate; (2) address placement is used to determine the length when applying the size standards and aspect ratio requirements to qualify for automation letter rates under C810. For this purpose, the length is considered to be the dimension parallel to the address.

c. Individual Rates. There are separate minimum per piece rates for each subclass (Regular, Enhanced Carrier Route, Nonprofit, and Nonprofit Enhanced Carrier Route) and within each subclass for the type of mailing and the level of presort within each mailing under E620, E630, and E640. Discounted per piece rates also may be claimed for destination entry mailings (destination bulk mail center (DBMC), destination sectional center facility (DSCF), and destination delivery unit (DDU)) under E650. DDU rates are available only for mail entered at Enhanced Carrier Route or Nonprofit Enhanced Carrier Route rates. See R600 for individual per piece rates.

5.3 Piece/Pound Rates

Pieces that exceed 3.3 ounces (.2063 pound) are subject to a two-part piece/pound rate that includes a fixed charge per piece and a variable pound charge based on weight. There are separate per piece rates for each subclass (Regular, Enhanced Carrier Route, Nonprofit, and Nonprofit Enhanced Carrier Route) and within each subclass for the type of mailing and the level of presort within each mailing under E620, E630, and E640. There are separate per pound rates for each subclass (Regular, Enhanced Carrier Route, Nonprofit, and Nonprofit Enhanced Carrier Route) under E620, E630, and E640. Discounted per pound rates also may be claimed for destination entry mailings (destination bulk mail center (DBMC), destination sectional center facility (DSCF), and destination delivery unit (DDU)) under E650.

[Add new 5.4 and 5.5 to read as follows:]

5.4 Machinable Parcel Barcoded Discount

Machinable parcels (C050) mailed at Regular or Nonprofit rates that are prepared with barcodes under C850 and meet the eligibility requirements in E620 may qualify for a barcoded discount. Pieces eligible for a barcoded discount are also subject to a residual shape surcharge under 5.5. Pieces mailed at Enhanced Carrier Route or Nonprofit Enhanced Carrier route rates are not eligible for a barcoded discount.

5.5 Residual Shape Surcharge

Mail that is prepared as a parcel or is not letter-size or flat-size as defined in C050 is subject to a residual shape surcharge. There is one surcharge for mail entered at Regular or Nonprofit rates and a different surcharge for mail entered at Enhanced Carrier Route or Nonprofit Enhanced Carrier Route rates.

[Redesignate E612.4.4 as 5.6, amend to provide for the residual shape surcharge, and to add as the first sentence the first sentence of previous E612.4.5 to read as follows:]

5.6 Net Postage

Postage is computed at the applicable rates on the entire mailing to be mailed at one time. The net postage rate that must be paid is either the applicable minimum per piece rate or the piece/pound rate, as reduced by any discounts for which the piece is eligible, and/or as increased by any surcharge to which the piece is subject. The net postage rate is commonly designated by the name of the primary rate category or discount (e.g., Enhanced Carrier Route rate, automation letter rate, automation flat rate, Presorted rate).

[Remove E612.4.5.]

[Remove E612.4.6. This section is no longer needed because all Package Services mail may now weigh less than 16 ounces.]

[Add new heading 6.0 to read as follows:]

6.0 FEES

[Redesignate E612.4.7 as E610.6.1 and amend to change “Standard Mail (A)” to “Standard Mail”; no other changes to text.]

[Redesignate E611.1.6 as 6.2; and amend by adding “(R900)” at the end of the sentence; no other changes to text.]

[Remove current E611.1.7 and 1.8.]

[Redesignate E612.4.8 as E610.7.0 and amend to change “Standard Mail (A)” to “Standard Mail”; no other changes to text.]

[Redesignate E612.4.9 as E610.8.0, amend to change “Standard Mail (A)” to “Standard Mail,” amend redesignated 8.0c for clarity, amend redesignated 8.0e to provide for use of detached address labels as previously provided in E611.1.7, amend redesignated 8.0g to incorporate former E611.1.8, redesignate 8.0j as 8.0k, and add new 8.0j to read as follows:]

8.0 PREPARATION

Each Standard Mail mailing is subject to these general standards:

a. All pieces in a mailing must be of the same processing category, except that irregular and machinable parcels may be commingled in 5-digit sacks or on 5-digit pallets.

b. Each mailing must contain at least 200 pieces or 50 pounds of pieces. See E620 for volume requirement eligibility unique to Presorted Standard rate mailings. Other volume standards also can apply, based on the rate claimed.

c. For letter-size and flat-size mail, all pieces in an automation mailing must be eligible for an automation rate. Separate automation and Presorted rate mailings of flats may be co-sacked under M910. Separate automation, Presorted, and Enhanced Carrier Route mailings of flats may be co-containerized under M920, M930 or M940.

d. All pieces in a mailing must be sorted together and marked under the standards for the rate claimed.

e. Each piece must bear the addressee's name and delivery address, including the correct ZIP Code or ZIP+4 code, unless an alternative address format is used subject to A040. Detached address labels may be used subject to A060. Pieces in automation rate mailings, upgradable nonautomation rate pieces, or pieces prepared with detached address labels are subject to additional standards.

f. Postage must be paid under P600 with precanceled stamps, postage meter, or permit imprint.

g. A postage statement, completed and signed by the mailer, using the correct USPS form or an approved facsimile, must be submitted with each mailing. In addition, mailings must be documented under P012 and the standards for the rate claimed.

h. Each piece must meet the standards for any other rate or discount claimed.

i. Any POSTNET barcode on a mailpiece must be correct for the delivery address and must meet the standards in C840 and A950.

j. Any postal routing code barcode on a machinable parcel must be correct for the delivery address and must meet the standards in C850.

k. Mailings must be deposited at a business mail entry unit of the post office where the postage permit or license is held and the annual bulk fee paid, unless deposit elsewhere is permitted by standard.

[Redesignate E612.4.10 as E610.9.0 and revise to allow use of certain special services for matter subject to the residual shape surcharge and to specify the conditions for such use to read as follows:]

9.0 SPECIAL SERVICES

9.1 Eligible Matter

Standard Mail that is subject to the residual shape surcharge (pieces prepared as parcels or that are not letter-size or flat-size as defined in C050) may receive the following additional special services subject to the standards for the special service and upon payment of the appropriate special service fees: bulk insurance (S913), return receipt for merchandise (S917), and electronic option Delivery Confirmation (S918). No other special services may be used with Standard Mail. Standard Mail that is letter-size or flat-size (C050) and is prepared as letter-size or flat-size mail is not eligible for any special services. Machinable parcels using Bulk Parcel Return Service are not eligible for any special services. Pieces mailed with detached address labels under A060 is not eligible for any special services.

9.2 Additional Preparation Requirements

Pieces prepared using special services must bear a return address under A010 and must bear an ancillary service endorsement (F010) that results in return of the mailpiece to the sender if undeliverable as addressed (Address Service Requested, Forwarding Service Requested, or Return Service Requested).

[Revise the heading of E620 to read as follows:]

E620 Presorted Rates

[Revise the heading of 1.0 to read as follows:]

1.0 BASIC STANDARDS

[Revise the heading of 1.1 to read as follows:]

1.1 General

[Amend 1.1 by replacing in the first sentence of 1.1 and in 1.1b “Standard Mail (A)” with “Standard Mail,” and by replacing in 1.1a “E611 and E612” with “E610”; no other changes to text.]

* * * * *

[Amend 1.3 by replacing “Standard Mail (A)” with “Standard Mail”; no other changes in text.]

* * * * *

[Redesignate 1.5 as 2.0 and amend the heading by removing the word “Presorted”; no other changes to text.]

[Redesignate 1.6 as 3.0; no other changes to text.]

[Add 4.0 to read as follows:]

4.0 BARCODED DISCOUNT

The barcoded discount applies to Presorted rate machinable parcels (C050) that are subject to the residual shape surcharge in 3.0, bear a correct, readable barcode under C850 for the ZIP Code shown in the delivery address; and are prepared as machinable parcels under M045 or M610. Machinable parcels entered at the DSCF rates are eligible for the barcoded discount only if prepared in 5-digit sacks or on 5-digit pallets (i.e., are not prepared in ASF, BMC, or mixed BMC sacks or pallets). Machinable parcels claiming the DBMC rates that are entered at an ASF are not eligible for the barcoded discount except that mail entered at the Phoenix, AZ, ASF may claim the barcoded discount because that facility uses barcode scanning equipment. See P600 for postage payment standards.

[Redesignate current E630.1.0 through E630.7.0 as E711 through E715, as directed later in this document.]

[Add new E630 to read as follows:]

E630 Enhanced Carrier Route Rates

1.0 BASIC STANDARDS

[Redesignate E620.2.1 as E630.1.1 and amend 1.1a by changing “E611 and E612” to “E610”; no other changes to text.]

[Redesignate E610.2.2 through 2.7 as E630.1.2 through 1.7, respectively.] [Add new heading 2.0 to read as follows:]

2.0 Rates

[Redesignate E620.2.8 through E620.2.10 as E630.2.1 through E630.2.3,respectively and amend redesignated 2.3 by changing “2.6 and 2.7” to “1.6 and 1.7”; no other changes to text.]

* * * * *

[Amend the heading of E640 by removing “Standard Mail (A)” to read as follows:]

E640 Automation Rates

1.0 REGULAR AND NONPROFIT RATES

1.1 All Pieces

[Amend the introductory sentence by replacing “Standard Mail (A)” with “Standard Mail”; amend 1.1a by replacing “E611 and E612” with “E610,” no other changes to text.]

* * * * *

2.0 ENHANCED CARRIER ROUTE RATES

2.1 All Pieces

[Amend 2.1a by replacing “E611 and E612” with “E610,” no other changes to text.]

* * * * *

E650 Destination Entry

[Remove the heading “E651, Regular, Nonprofit, and Enhanced Carrier Route Standard Mail.”]

1.0 BASIC STANDARDS

[Amend 1.1 by replacing “E611 and E612” with “E610'; no other changes to text.]

* * * * *

[Amend 1.4 by replacing “Standard Mail (A)” with “Standard Mail.”]

[Amend 1.5 by replacing “P750” with “P950.”]

* * * * *

2.0 VERIFICATION

* * * * *

[Amend 2.2 by replacing “P750” with “P950.”]

* * * * *

3.0 DEPOSIT

* * * * *

[Amend 3.3d by changing “Standard Mail (A)” to “Standard Mail” and by changing “Standard Mail (B)” to “Package Services mail.”]

* * * * *

[Amend 3.10 by changing “Standard Mail (A)” to “Standard Mail.”]

* * * * *

7.0 DDU DISCOUNT

[Amend 7.1 by changing “Standard Mail (A)” to “Standard Mail.”]

* * * * *

[Redesignate E652 as E751. Amend E751 as specified later in this document.]

E670 Nonprofit Standard Mail

1.0 BASIC STANDARDS

* * * * *

[Amend 1.2 by replacing “P750” with “P950.”]

[Amend 1.3 by replacing “E611 and E612” with “E610.”]

* * * * *

3.0 QUALIFIED POLITICAL COMMITTEES AND STATE OR LOCAL VOTING REGISTRATION OFFICIALS

* * * * *

[Amend 3.3 by replacing “Standard Mail (A)” with “Standard Mail.”]

* * * * *

5.0 ELIGIBLE AND INELIGIBLE MATTER

* * * * *

[Amend 5.4d(2) by replacing “Standard Mail (A)” with “Standard Mail.”]

* * * * *

[Amend 5.6a by replacing “Standard Mail (A)” with “Standard Mail.”]

* * * * *

[Amend 5.12 by replacing “Standard Mail (A)” with “Standard Mail.”]

* * * * *

9.0 MAILING WHILE APPLICATION PENDING

* * * * *

[Amend 9.2 by replacing “Standard Mail (A)” with “Standard Mail.”]

* * * * *

[Add new E700 as follows:]

E700 Package Services Mail

[Matter pertaining to only Package Services (formerly Standard Mail (B)) in current E611 and E613 has been consolidated, reorganized, and added as new E710. Unless otherwise indicated by the amend/revise instructions below, there are no changes to the content of these sections. They are reproduced here to assist in understanding the new organization.]

E710 Basic Standards

1.0 BASIC INFORMATION

[Redesignate E611.1.1 as E710.1.1 and amend by replacing “Standard Mail” with “Package Services” and including Package Services subclasses to read as follows:]

1.1 Definition

Package Services mail consists of mailable matter that is neither mailed or required to be mailed as First-Class Mail nor entered as Periodicals (unless permitted or required by standard). Package Services mail includes matter formerly classified as Standard Mail (B). There are four subclasses of Package Services mail: Parcel Post, Bound Printed Matter, Media Mail (formerly Special Standard), and Library Mail. Information on specific eligibility requirements to qualify for rates under each of the four subclasses is found in E711, E712, E713, and E714.

[Redesignate E613.1.0 as E710.1.2 and amend by eliminating the minimum weight of 1 pound and replacing “Special Standard Mail” with “Media Mail” to read as follows:]

1.2 Weight

There is no minimum weight for Package Services. A single piece of Parcel Post, Media Mail, and Library Mail can weigh no more than 70 pounds. A single piece of Bound Printed Matter can weigh no more than 15 pounds.

[Redesignate existing E611.1.2 as E710.1.3 and amend by changing the class name from “Standard Mail” to “Package Services” and by deleting references to electronic documents to read as follows:]

1.3 Postal Inspection

Package Services mail is not sealed against postal inspection. Regardless of physical closure, the mailing of articles at Package Services rates constitutes consent by the mailer to postal inspection of the contents.

[Redesignate existing E611.1.3 as E710.1.4 and amend by changing “Standard Mail (A)” to “Standard Mail” in 1.4j; no other changes to text.]

[Redesignate existing E611.1.4 as E710.1.5 and amend by replacing “Standard Mail” with “Package Services”; no other changes to text.]

[Redesignate existing E611.1.5 as E710.1.6 and remove references to “Standard Mail (A)” and “Standard Mail” to read as follows:]

1.6 Incidental First-Class Attachments and Enclosures

Incidental First-Class matter may be enclosed in or attached to any Package Services piece without payment of First-Class postage. An incidental First-Class attachment or enclosure must be matter that, if mailed separately, would require First-Class postage, is closely associated with but secondary to the host piece, and is prepared so as not to interfere with postal processing. An incidental First-Class attachment or enclosure may be a bill for the product or publication, a statement of account for past products or publications, or a personal message or greeting included with a product, publication, or parcel. Postage at the Package Services rate for the host piece is based on the combined weight of the host piece and the incidental First-Class attachment or enclosure.

[Redesignate E613.2.0 as E710.2.0.]

2.0 ZONED RATES

[Redesignate existing E613.2.1 as E710.2.1 and amend by replacing “Standard Mail” with “Package Services”; no other changes to text.]

[Redesignate existing E613.2.2 as E710.2.2, amend by changing “Standard Mail” to “Package Services” in the first sentence, and amend 2.2c by inserting “Parcel Post Intra-BMC” to read as follows:]

2.2 Redirected Mailings

A mailer who presents large mailings of zoned Package Services mail may be authorized or directed to deposit such mailings at another postal facility when processing or logistics make such an alternative desirable for the USPS, subject to these conditions:

a. Zoned postage need not be recomputed if both the original post office of mailing and the alternative facility use the same zone chart for computing zoned postage, based on the 3-digit prefix of their ZIP Codes.

b. Postage must be recomputed on pieces in mailings redirected to a postal facility that uses a different zone chart for computing zoned postage.

c. Postage for pieces claimed at the Parcel Post Intra-BMC local zone rates must be recomputed at the applicable zone rate for the alternative postal facility. Postage also may be recomputed for other pieces that are ineligible for the Parcel Post Intra-BMC local zone rates but could become eligible at the postal facility to which the mailing is redirected.

[Redesignate existing E613.2.3 as E710.2.3 and amend by changing “Standard Mail” to “Package Services”; no other changes.]

[Redesignate E613.3.0 as E710.3.0 and revise to read as follows:]

3.0 ADDRESSING

3.1 Delivery and Return Address

All Package Services mail must bear a delivery address. Except for single-piece rate Parcel Post, the delivery address on each piece must include the correct ZIP Code or ZIP+4 code. Alternative address formats or detached address labels may be used, subject to A040 or A060. All Package Services mail must bear the sender's return address.

[Redesignate E611.1.6 as E710.3.2 and amend title by adding “Fees” to read as follows:]

3.2 Address Correction Fees

The fee for manual or automated address correction service is charged per notice issued (R700).

[Redesignate E611.1.8 as E710.4.0 and amend for clarity to read as follows:]

4.0 DOCUMENTATION

Each mailing must be accompanied by a correct, completed USPS postage statement form, or approved facsimile, signed by the mailer. A postage statement is not required for a Package Services mailing when the correct postage at the single-piece rate is affixed to each piece. Additional supporting documentation may be required by the standards for the rate claimed or postage payment method used.

[Add new E711 to read as follows:]

E711 Parcel Post

[Redesignate E630.1.0 as E711.1.0 and revise to read as follows:]

1.0 DEFINITION

Parcel Post (including Parcel Select) is Package Services mail that is not mailed as Bound Printed Matter, Media Mail, or Library Mail. Any Package Services matter may be mailed at Parcel Post rates, subject to the basic standards in E710.

[Add new E711.2.0 to read as follows:]

2.0 BASIC STANDARDS

[Redesignate E630.1.2 as E711.2.1 and change “Standard Mail (A)” to “Standard Mail” and change reference “E611” to “E710” to read as follows:]

2.1 Enclosures

Parcel Post (including Parcel Select) may contain any printed matter mailable as Standard Mail, in addition to the enclosures and additions listed in E710.

[Redesignate E630.1.3 as E711.2.2 and amend to add the Intra-BMC and Parcel Select-DBMC nonmachinable surcharges to read as follows:]

2.2 Rate Eligibility

There are five Parcel Post (including Parcel Select) rate categories: Intra-BMC, Inter-BMC, destination bulk mail center (DBMC), destination sectional center facility (DSCF), and destination delivery unit (DDU). Destination entry rates are named Parcel Select. Intra-BMC and Inter-BMC Parcel Post rates and DBMC Parcel Select rates are calculated based on the zone to which the parcel is addressed and the weight of the parcel. DSCF and DDU Parcel Select rates are calculated based on the weight of the parcel. Generally, Intra-BMC rates apply to parcels mailed and delivered within the same BMC service area and Inter-BMC rates apply to parcels mailed in one BMC service area and delivered in a different BMC service area. Specific standards for Inter-BMC and Intra-BMC rates and applicable discounts are described below. Generally, to qualify for the Parcel Select DBMC, DSCF, or DDU rates, mailers must enter their parcels at the destination BMC, SCF, or delivery unit postal facility that will process or deliver the parcels. (See E750 for destination entry requirements.) Inter-BMC, Intra-BMC, and Parcel Select-DBMC Parcel Post is subject to a nonmachinable surcharge if the criteria specified in C050.4.1 for machinable parcels are not met. Additional requirements for Parcel Post rates and discounts are as follows:

a. Intra-BMC rates apply to all Parcel Post that originates and destinates in the service area of the same BMC or ASF. Intra-BMC rates also apply to Parcel Post that originates and destinates in the same state for Alaska and Hawaii and in the same territory for Puerto Rico. See Exhibit 2.2. Nonmachinable pieces (C050.4.1 and C700) mailed at Intra-BMC rates are subject to a nonmachinable surcharge in addition to the postage rate.

b. Inter-BMC rates apply to all Parcel Post that originates in the service area of a BMC or ASF or in Alaska, Hawaii, or Puerto Rico and destinates outside that area, state, or territory. Nonmachinable pieces (C050.4.1 and C700) mailed at Inter-BMC rates are subject to a nonmachinable surcharge in addition to the postage rate.

c. Parcel Post for which OBMC Presort, BMC Presort, and barcoded discounts are claimed and Parcel Post that is mailed at a destination entry rate (Parcel Select-DBMC, -DSCF, -DDU (E751)) must be part of a mailing of 50 or more Parcel Post rate pieces. Eligibility for one of those rates or discounts does not require a separate 50 qualifying pieces per rate or per discount. Eligibility for more than one of those rates or discounts in the same Parcel Post mailing is possible, provided there are a total of at least 50 pieces of mail qualifying for any or all Parcel Post rates in the mailing and all other preparation and eligibility requirements for the rates or discounts are met.

d. The BMC Presort per piece discount applies to pieces of inter-BMC Parcel Post sorted to BMC destinations under L601 for machinable pieces and sorted to BMC and ASF destinations for nonmachinable pieces under L605. To qualify, machinable pieces must be placed in pallet boxes on pallets, and nonmachinable pieces must be placed directly on pallets under M041 and M045. The mail must be entered at a postal facility that is not a BMC and must be part of a mailing containing 50 or more Parcel Post rate pieces.

e. The origin bulk mail center (OBMC) Presort per piece discount applies to pieces of Inter-BMC Parcel Post sorted to BMC destinations under L601 for machinable pieces and sorted to BMC and ASF destinations for nonmachinable pieces under L605. To qualify, machinable pieces must be placed in pallet boxes on pallets; and nonmachinable pieces must be placed directly on pallets under M041 and M045. The mail must be entered at a BMC listed in L601 and must be part of a mailing containing 50 or more Parcel Post rate pieces.

f. The barcoded discount applies to Parcel Post (including Parcel Select) machinable parcels (C050.4.1) that bear a correct, readable barcode under C850 for the ZIP Code of the delivery address; are part of a mailing of 50 or more Parcel Post (including Parcel Select) rate pieces; are not mailed at the DSCF or DDU rates; and, if claiming the DBMC rates, are not entered at an ASF. An exception is that properly prepared machinable pieces of DBMC rate mail entered at the Phoenix, AZ, ASF may claim the barcoded discount because that facility uses barcode scanning equipment.

g. The applicable oversized rate applies to pieces that measure over 108 inches but that are not more than 130 inches in combined length and girth.

h. The balloon rate applies to pieces that measure over 84 inches but that are not more than 108 inches in combined length and girth and also weigh less than 15 pounds; they are subject to the rate equal to that of a 15-pound parcel for the zone to which the parcel is addressed.

Exhibit 2.2.—BMC/ASF Service Areas
Service area | ZIP Code areas served
BMC:
New Jersey | 005, 068-079, 085-098, 100-119, 124-127, 340.
Springfield | 010-067, 120-123, 128, 129.
Philadelphia | 080-084, 137-139, 169-199.
Pittsburgh | 150-168, 260-266, 439-447.
Washington | 200-212, 214-239, 244, 254, 267, 268.
Greensboro | 240-243, 245-249, 270-297, 376.
Cincinnati | 250-253, 255-259, 400-418, 421, 422, 425-427, 430-433, 437, 438, 448-462, 469-474.
Atlanta | 298, 300-312, 317-319, 350-352, 354-368, 373, 374, 377-379, 399.
Jacksonville | 299, 313-316, 320-339, 341, 342, 344, 346, 347, 349.
Memphis | 369-372, 375, 380-397, 700, 701, 703-705, 707, 708, 713, 714, 716, 717, 719-729.
St. Louis | 420, 423, 424, 475-479, 614-620, 622-631, 633-639.
Detroit | 434-436, 465-468, 480-497.
Chicago | 463, 464, 530-532, 534, 535, 537-539, 600-611, 613.
Minneapolis/St. Paul | 498, 499, 540-551, 553-564, 566.
Des Moines | 500-516, 520-528, 612, 680, 681, 683-689.
Kansas City | 640, 641, 644-658, 660-662, 664-679, 739.
Denver | 690-693, 800-816, 820, 822-831.
Dallas | 706, 710-712, 718, 733, 747, 750-799, 885.
Seattle | 835, 838, 970-978, 980-986, 988-994.
Los Angeles | 889-891, 893, 900-908, 910-928, 930-935.
San Francisco | 894, 895, 897, 936-966.
ASF:
Buffalo | 130-136, 140-149.
Fargo | 565, 567, 580-588.
Sioux Falls | 570-577.
Billings | 590-599, 821.
Oklahoma City | 730, 731, 734-738, 740, 741, 743-746, 748, 749.
Salt Lake City | 832-834, 836, 837, 840-847, 898, 979.
Phoenix | 850, 852, 853, 855-857, 859, 860, 863, 864.
Albuquerque | 865, 870-875, 877-884.
Other:
Puerto Rico | 006-009.
Hawaii | 967-969.
Alaska | 995-999.

[Redesignate E630.1.5 as E711.2.3 and change the reference in the last sentence to R700; no other changes to text.]

* * * * *

[Redesignate E630.2.0 as E712 and revise in its entirety as follows:]

E712 Bound Printed Matter

1.0 BASIC STANDARDS

1.1 Description

Bound Printed Matter (BPM) is a subclass of Package Services. BPM must:

a. Meet the basic standards for Package Services mail in E710.

b. Weigh no more than 15 pounds.

c. Consist of advertising, promotional, directory, or editorial material (or any combination of such material).

d. Be securely bound by permanent fastenings such as staples, spiral binding, glue, or stitching. Loose-leaf binders and similar fastenings are not considered permanent.

e. Consist of sheets of which at least 90% are imprinted by any process other than handwriting or typewriting with words, letters, characters, figures, or images (or any combination of them).

f. Not have the nature of personal correspondence.

g. Not be stationery, such as pads of blank printed forms.

1.2 Enclosures

In addition to the basic standards in E710, BPM may have the following additions and enclosures:

a. Any printed matter mailable as Standard Mail.

b. A merchandise sample attached to a bound page or to a permissible loose enclosure, if the sample represents only an incidental portion of the BPM piece and if the sample is not provided exclusively or primarily as a premium or an inducement promoting the sale of the BPM piece. The sample may be identified as a “free gift” when it is clear that the sample is offered to the addressee to market the gift product; such marketing may also promote the sale of the BPM.

1.3 Nonidentical-Weight Pieces

Mailings may contain nonidentical-weight pieces only if the correct postage is affixed to each piece or if the RCSC serving the post office of mailing has authorized payment of postage by permit imprint under P910 or P930.

1.4 POSTNET Barcodes on Flats

Addresses on BPM flats may include an accurate ZIP+4 or delivery point barcode that meets the standards in C840. There are no automation discounts for BPM flats. Pieces within a package must be either 100 percent barcoded or nonbarcoded.

2.0 RATES

BPM rates are based on the weight of a single addressed piece or 1 pound, whichever is higher, and the zone (where applicable) to which the piece is addressed. Rate categories are as follows:

a. Single-Piece Rate. The single-piece rate applies to BPM not mailed at the Presorted rate or Carrier Route rate.

b. Presorted Rate. The Presorted rate applies to BPM prepared in a mailing of at least 300 pieces, prepared and presorted as specified in M045 and M722.

c. Carrier Route Rate. The carrier route rate applies to BPM prepared in a mailing of at least 300 pieces presorted to carrier routes, prepared and presorted as specified in M045 and M723.

d. Barcoded Discount. The barcoded discount applies to BPM machinable parcels (C050.4.1) that bear a correct, readable barcode under C850 for the ZIP Code of the delivery address and are part of a single-piece rate mailing of 50 or more BPM pieces or are part of a Presorted rate mailing of at least 300 BPM pieces. Matter mailed at Presorted rates must be prepared under the machinable parcel preparation standards in M045 and M720. The barcoded discount is not available for pieces mailed at Presorted DDU or DSCF rates, or for Presorted DBMC rate mailings entered at an ASF other than Phoenix, AZ, ASF. Carrier Route rate mail is not eligible for the barcoded discount.

3.0 ADDITIONAL STANDARDS FOR PRESORTED RATES

3.1 ZIP Code Accuracy

All 5-digit ZIP Codes included in addresses on pieces claimed at Presorted rates must be verified and corrected within 12 months before the mailing date using a USPS-approved method. The mailer must certify that this standard has been met when the corresponding mail is presented to the USPS. This standard applies to each address individually, not a specific list or mailing. An address meeting this standard may be used in mailings at any other rates to which the standard applies during the 12-month period after its most recent update.

3.2 Preparation

Pieces claiming the Presorted rates must be prepared under the applicable standards in M045 or M722.

4.0 ADDITIONAL STANDARDS FOR CARRIER ROUTE RATES

4.1 Carrier Route Information

Except for mailings prepared with a simplified address format under A040, carrier route codes must be applied to mailings using CASS-certified software and the current USPS Carrier Route Product, or another AIS product containing carrier route information, subject to A930 and A950. The carrier route information must be updated within 90 days before the mailing date.

4.2 Preparation

Pieces claiming the carrier route rates must be prepared under the applicable standards in M045 or M723.

5.0 ADDITIONAL STANDARDS FOR DESTINATION ENTRY RATES

Eligibility standards for Presorted and Carrier Route Destination Delivery Unit (DDU) rates, Destination Sectional Center Facility (DSCF) rates, and Destination Bulk Mail Center (DBMC) rates are in E752.

6.0 ADDITIONAL STANDARDS FOR BEDLOADED MAILINGS

Bedloaded packages are permitted only when prepared for and entered at DDU rates. If prepared, bedloaded packages of BPM are required to be prepared under the sortation standards for flats or irregular parcels, as applicable, and are not eligible for barcoded discounts.

* * * * *

[Add new E713 as follows:]

E713 Media Mail

[Redesignate E630.3.1 as E713.1.0 and change the heading, class, subclass names, section order, and references to read as follows:]

1.0 RATE ELIGIBILITY

Media Mail is Package Services matter that meets the standards in E710 and those below. Media Mail rates are based on the weight of the piece without regard to zone. The rate categories and discounts are as follows:

a. Single-Piece Rate. The single-piece rate applies to Media Mail not mailed at a 5-digit or BMC presort rate.

b. 5-Digit Presort Rate. The 5-digit Presort rate applies to a mailing of at least 500 pieces of Media Mail that meets the other requirements of 4.0 and that is prepared and presorted to 5-digit ZIP Codes as specified in M730 or M041 and M045.

c. BMC Presort Rate. The BMC Presort rate applies to a mailing of at least 500 pieces of Media Mail that meets the other requirements of 4.0 and that is prepared and presorted to bulk mail centers as specified in M730 or M041 and M045.

d. Barcoded Discount. The barcoded discount applies to Media Mail machinable parcels (C050) that are included in a mailing of at least 50 pieces of Media Mail. The pieces must be entered either at single-piece rates or BMC presort rates and bear a correct, readable barcode for the ZIP Code shown in the delivery address as required by C850. The barcoded discount is not available for pieces mailed at Media Mail 5-digit Presort rates.

[Add new E713.2.0 to read as follows:]

2.0 QUALIFICATION

[Redesignate E630.3.2 as E713.2.1 and change the subclass name to Media Mail; no other changes to text.]

[Redesignate E630.3.3 as E713.2.2, change the class name from “Standard Mail (A)” to “Standard Mail” and the subclass name to Media Mail; no other changes to text.]

[Redesignate E630.3.4 as E713.2.3 and change the subclass name and cross references to read as follows:]

2.3 Enclosures in Books

Enclosures in books mailed at Media Mail rates are subject to these additional standards:

a. Either one envelope or one addressed postcard may be bound into the pages of a book. If also serving as an order form, the envelope or card may be in addition to the order form permitted by 2.3b.

b. One order form may be bound into the pages of a book. If also serving as an envelope or postcard, the order form may be in addition to the envelope or card permitted by 2.3a.

c. Announcements of books may appear as book pages. These announcements must be incidental and exclusively devoted to books, without extraneous advertising of book-related or other materials or services. Announcements may fully describe the conditions and methods of ordering books and may contain ordering instructions for use with a separate order form. Up to three of these announcements may contain as part of their format a single order form, which may also serve as a postcard. The order forms permitted with these announcements are in addition to, and not in place of, order forms that may be enclosed under 2.3a or 2.3b.

[Redesignate E630.4.0 as E713.3.0 and change the subclass name to read as follows:]

3.0 PRESORTED MEDIA MAIL

[Redesignate E630.4.1 as E713.3.1 and change the subclass name and change the cross reference to M730 from M630; no other changes to text.]

[Redesignate E630.4.2 as E713.3.2 and change the subclass name; no other changes to text.]

[Redesignate E630.4.3 as E713.3.3 and change the subclass name; no other changes to text.]

[Redesignate E630.4.4 as E713.3.4 and eliminate 1,000 cubic inches as a minimum quantity to read as follows:]

3.4 Definitions

For this standard:

a. Full sack means a sack containing at least eight pieces or a quantity of pieces weighing from 20 to 70 pounds.

b. Substantially full sack means either at least four pieces or a quantity of pieces weighing from 20 to 70 pounds.

[Redesignate E630.4.5 as E713.3.5, change the subclass name, change “bundles” to “packages,” and remove “1,000 cubic inches” to read as follows:]

3.5 5-Digit Rate

To qualify for the Media Mail 5-digit presort rate, a piece must be in a mailing of at least 500 Media Mail pieces prepared and sorted either under M730 to full 5-digit sacks or under M045 to 5-digit pallets. These conditions also apply:

a. Mailings of at least 500 nonmachinable outside parcels may qualify for the Media Mail 5-digit presort rate if prepared to preserve sortation by 5-digit ZIP Code as prescribed by the postmaster of the mailing office. The postmaster may require 24-hour notice before the mailing is presented.

b. Mailings prepared as palletized packages must consist of 5-digit packages, each containing at least eight pieces or weighing 20 pounds, whichever occurs first. No package may exceed 40 pounds. If there are more than 20 pounds of mail to a 5-digit destination, the mailer must prepare the minimum number of packages that weigh from 20 to 40 pounds each.

[Redesignate E630.4.6 as E713.3.6, change the subclass name, change “bundles” to “packages,” and remove “1,000 cubic inches” to read as follows:]

3.6 BMC Rate

To qualify for the Media Mail BMC presort rate, a piece must be in a mailing of at least 500 pieces of Media Mail prepared and sorted either under M730 to full or substantially full BMC sacks or to BMC pallets under M045. These conditions also apply:

a. Mailings of at least 500 nonmachinable outside parcels may qualify for the Media Mail BMC presort rate if prepared to preserve sortation by BMC as prescribed by the postmaster of the mailing office. The postmaster may require 24-hour notice before the mailing is presented.

b. Mailings prepared as palletized packages must consist of BMC packages, each containing at least eight pieces or weighing 20 pounds, whichever comes first. No package may exceed 40 pounds. If there are more than 20 pounds of mail to a BMC destination, the mailer must prepare the minimum number of packages that weigh from 20 to 40 pounds each.

[Add new E714 as follows:]

E714 Library Mail

[Redesignate E630.5.1 as E714.1.0 and amend by changing the class name to read as follows:]

1.0 RATE ELIGIBILITY

Library Mail is Package Services matter meeting the standards in E710 and those below. Library Mail rates are based on the weight of the piece without regard to zone. The rate categories and discounts are as follows:

a. Single-Piece Rate. The single-piece rate applies to Library Mail not mailed at a 5-digit or BMC rate.

b. 5-Digit Presort Rate. The 5-digit Presort rate applies to a mailing of at least 500 pieces of Library Mail that meets the other requirements of 3.0 and is prepared and presorted to 5-digit ZIP Codes as specified in M740 or M041 and M045.

c. BMC Presort Rate. The BMC Presort rate applies to a mailing of at least 500 pieces of Library Mail that meets the other requirements of 3.0 and is prepared and presorted to bulk mail centers as specified in M740 or M041 and M045.

d. Barcoded Discount. The barcoded discount applies to Library Mail machinable parcels (C050) that are included in a mailing of at least 50 pieces of Library Mail. The pieces must be entered either at single-piece rates or BMC Presort rates and bear a correct, readable barcode for the ZIP Code shown in the delivery address as required by C850. The barcoded discount is not available for pieces mailed at Library Mail 5-digit Presort rates.

[Add new E714.2.0 that follows:]

2.0 QUALIFICATION

[Redesignate E630.5.2 as E714.2.1 and amend the heading and references to read as follows:]

2.1 Sender, Recipient, and Contents

Each piece must show in the address or return address the name of a school, college, university, public library, museum, or herbarium or the name of a nonprofit religious, educational, scientific, philanthropic (charitable), agricultural, labor, veterans, or fraternal organization or association. For Library Mail standards, these nonprofit organizations are defined in E670. Only the articles described in 2.2 and 2.3 may be mailed at the Library Mail rate.

[Redesignate E630.5.3 as E714.2.2 and revise the heading to read as follows; no change to text:]

2.2 Qualified Mailings Between Entities

[Redesignate E630.5.4 as E714.2.3 and revise the heading to read as follows; no change to text.]

2.3 Qualified Mailings “To” or “From”

[Redesignate E630.5.5 as E714.2.4 and change the cross reference from E611 to E710; no other changes to text.]

[Redesignate E630.5.6 as E714.2.5 and change the cross reference from E611 to E710; no other changes to text.]

[Redesignate E630.6.0 as E714.3.0 and change the cross reference from M630 to M740; no other changes to text.]

* * * * *

[Redesignate E630.7.0 as new E715.]

E715 Bulk Parcel Post

[Reserved]

* * * * *

[Add new E750 as follows:]

E750 Destination Entry

[Add new heading E751 to read as follows:]

E751 Parcel Select

[Redesignate E652.1.0 as E751.1.0.]

1.0 BASIC STANDARDS

1.1 Definitions

[Amend 1.1 to change cross reference M630 to M710; no other changes to text.]

[Amend 1.2c to add provisions for PVDS mailings to read as follows:]

1.2 General

For Parcel Post mailings claimed at DBMC, DSCF, or DDU rates, pieces must meet the applicable standards in 1.0 through 6.0 and the following criteria:

* * * * *

c. Be part of a single mailing of 50 or more pieces that are eligible for and claimed at any Parcel Post rate or rates. When Parcel Post mailings are submitted under PVDS procedures, mailers may use the total of all line items for all destinations on a PVDS register or PVDS postage statement to meet the respective 50-piece minimum volume requirement for destination entry rate mailings. This means that a mailer may enter fewer than 50 pieces at an individual destination, provided there is a total of at least 50 Parcel Post pieces for all of the entry points for that single mailing job listed on the PVDS register or PVDS postage statement.

1.3 DBMC Rates

[Amend 1.3 to replace M630 with M710; no other changes to text.]

1.4 DSCF and DDU Rates

[Amend 1.4a and b to replace M630 with M710; no other changes to text.]

1.5 Postage Payment

[Amend 1.5 to change class name from “Standard Mail (B)” to “Package Services” and change P750 to P950 as cross reference for plant-verified drop shipments; no other changes to text.]

* * * * *

[Redesignate E652.2.0 as E751.2.0.]

2.0 PREPARATION

* * * * *

2.2 Containers

[Amend 2.2a and b to replace the two references to M630 with M710 and M722, respectively; amend 2.2c to replace M630 with M710; no other changes to text.]

[Redesignate E652.3.0 as E751.3.0; no change to text.]

[Redesignate E652.4.0 through 4.13 as E751.4.0 through 4.13 and amend to read as follows:]

4.0 DEPOSIT

* * * * *

4.2 Mail Separation and Presentation

[Amend 4.2 to change the reference from P750 to P950; in 4.2a and b change references from M630 to M710; and in 4.2b change the references from P710, P720, and P730 to P910, P920, and P930, respectively; no other changes to text.]

* * * * *

4.4 Appointments

[Amend 4.4a to clarify that an exception exists for shipments containing 100% Periodicals and shipments of perishables, and amend 4.4d by changing “Standard Mail (B)” to “Package Services” to read as follows:]

Appointments must be made for destination entry rate mail as follows:

a. Except for local mailers, for shipments containing 100% Periodicals mail and for mailings of perishable commodities (C022) under 4.5, appointments for deposit of destination entry rate mail at BMCs, ASFs, and SCFs must be scheduled through the appropriate appointment control center at least one day in advance. * * *

* * * * *

d. When Periodicals are transported together with Standard Mail or Package Services mail as a mixed load (E250), an appointment must be obtained for deposit at a destination entry facility.

4.5 Exceptions to Scheduling Standard

[Redesignate the text of current 4.5 as 4.5a and add new 4.5b and c to clarify that scheduling exceptions are also made for shipments containing 100% Periodicals and shipments of perishables to read as follows:]

a. The scheduling standard in 4.4 does not apply when a mailer deposits mailings for verification and acceptance at the local post office serving the facility where the mail was prepared, if the mailings are not verified under a plant load authorization or plant-verified drop shipment postage payment system authorization. Under this exception, the mailer may claim the DBMC rates for mailings or portions of such mailings deposited at the local post office if the local post office is the DBMC/ASF or designated SCF that meets the application standards.

b. Exceptions to the scheduling standard are made for shipments of products recognized by the Postal Service as perishables under C020. While an appointment is not required for shipments of perishables, the destination facility must be notified at least 24 hours in advance of deposit to facilitate timely handling of the load.

c. No appointment is required for shipments containing 100% Periodicals mail, nor is notification to the destination facility of their arrival required. An advance notice of 24 hours is recommended to facilitate the development of facility unloading schedules.

* * * * *

[Redesignate E652.5.0 as E751.5.0; no changes to text.]

[Redesignate E652.6.0 and Exhibit E652.6.0 as E751.6.0 and Exhibit E751.6.0; no changes to text.]

[Redesignate E652.7.0 and Exhibit E652.7.0 as E751.7.0 and Exhibit E751.7.0 and change the class name to Package Services; no other changes to text.]

[Redesignate E652.8.0 and Exhibit E652.8.0 as E751.8.0 and Exhibit E751.8.0; no other changes to text.]

[Add new E752 to read as follows:]

E752 Bound Printed Matter

1.0 BASIC STANDARDS

1.1 General

Destination entry rates apply to Presorted and Carrier Route Bound Printed Matter (BPM) that is deposited at a destination bulk mail center (DBMC), destination sectional center facility (DSCF), or destination delivery unit (DDU) as specified below. Eligibility for a destination entry rate is determined by the sort level, processing category of the mail, and the type of container the mail is in (i.e., sacked or palletized). Each piece can claim only one destination entry rate; an individual pallet may contain pieces claimed at different destination entry rates. There are no destination entry rates for single-piece BPM.

1.2 Volume

Each destination entry rate mailing must contain at least 300 pieces of Presorted BPM or 300 pieces of Carrier Route BPM. Each group of destination entry rate pieces prepared for deposit at different destination post offices must be presented as separate mailings meeting separate minimum volume requirements. Separate Presorted and Carrier Route BPM mailings may be co-palletized under M041 and M045. Pieces deposited at the same postal facility, but claimed at different destination entry rates, may be included in a single mailing and reported on the same postage statement (subject to one minimum volume requirement), if the destination entry post office is the proper facility for claiming each of the destination entry discounts. Alternatively, when Presorted BPM or Carrier Route BPM mailings are submitted under PVDS procedures, mailers may use the total of all line items for all destinations on a PVDS register or PVDS postage statement to meet the 300-piece minimum volume requirements for Presorted and Carrier Route mailings. This means that a mailer may enter fewer than 300 pieces per Presorted or Carrier Route mailing at an individual destination, provided there is a total of at least 300 Presorted rate pieces and/or 300 Carrier Route rate pieces for all of the entry points for that single mailing job listed on the PVDS register or PVDS postage statement.

1.3 Postage

Postage payment for destination entry mailings is subject to the same standards that apply generally to BPM. Postage and fees are paid to the post office that verifies the mailings.

1.4 Mailing Fee

A destination entry mailing fee (R700) must be paid once each 12-month period at each postal facility where the mailing(s) are verified. The fee may be paid in advance only for the next 12-month period and only during the last 60 days of the current service period. The fee charged is that in effect on the date of payment.

1.5 Documentation

Each mailing must be accompanied by the appropriate Form 3605 and, if applicable, Form 8125. No additional documentation is required for destination entry rates.

1.6 Plant Loads

Plant load mailings, including expedited plant load shipments, are not eligible for destination entry discounts.

2.0 DESTINATION BULK MAIL CENTER (DBMC) RATES

2.1 General Eligibility

Pieces in a mailing meeting the standards in 1.0, 2.0, and 5.0 through 7.0 are eligible for the DBMC rate when they meet all of the following conditions:

a. Are eligible for and prepared to qualify for Presorted or Carrier Route rates, subject to the corresponding standards for those rates.

b. Are deposited at a BMC or ASF.

c. Are addressed for delivery to one of the 3-digit ZIP Codes served by the BMC or ASF where deposited that are listed in Exhibit E751.1.3.

d. Are placed in a sack or pallet that is labeled to the BMC or ASF where deposited, or labeled to a postal facility within that BMC's or ASF's service area (see Exhibit E751.1.3).

2.2 Presorted Flats

Presorted flats in sacks or on pallets at all sort levels may claim DBMC rates. Separate mixed ADC sacks must be prepared for flats eligible for and claimed at the DBMC rate and for flats not claimed at the DBMC rate. Use the “label to” ZIP Code of the ADC to assign ADC packages to the respective mixed ADC sack. Use the address on the mailpieces to assign pieces to the respective mixed ADC package. All pieces in an ADC sack or in a palletized ADC package are eligible for the DBMC discount if the ADC facility ZIP Code (as shown in Line 1 of the corresponding sack label or the ADC facility that is the destination of the palletized ADC package as would be shown on an ADC sack label for that facility using DMM L004, Column B) is within the service area of the BMC or ASF at which the sack is deposited. Mail must be entered at the appropriate facility under 2.1.

2.3 Presorted Machinable Parcels

Presorted machinable parcels in sacks or on pallets at all sort levels may claim DBMC rates. Machinable parcels palletized under M045 or sacked under M722 may be sorted to destination BMCs under L601 or to destination BMCs and ASFs under L601 and L602. Sortation of machinable parcels to ASFs is optional but is required for the ASF mail to be eligible for DBMC rates. Mailers may opt to sort some or all machinable parcels for ASF service area ZIP Codes to ASFs only when the mail will be deposited at the respective ASFs where the DBMC rate are claimed, under applicable volume standards, using L602. Mailers also may opt to sort machinable parcels only to destination BMCs under L601. When machinable parcels are sorted under L601, only mail for 3-digit ZIP Codes served by a BMC as listed in Exhibit E751.1.3 are eligible for DBMC rates (i.e., mail for 3-digit ZIP Codes served by an ASF in Exhibit E751.1.3 are not eligible for DBMC rates, nor are 3-digit ZIP Codes that do not appear on Exhibit E751.1.3). Machinable parcels prepared in mixed BMC sacks or on mixed BMC pallets that are sorted to the origin BMC under M045 or M722 are eligible for the DBMC rates if both of the following conditions are met: 1) the mixed BMC sack or pallet is entered at the origin BMC facility to which it is labeled, and 2) the pieces are for 3-digit ZIP Codes listed as eligible destination ZIP Codes for that BMC in Exhibit E751.1.3.

2.4 Presorted Irregular Parcels

Presorted irregular parcels in sacks or on pallets at all sort levels may claim DBMC rates. All pieces in an ADC sack or in a palletized ADC package are eligible for the DBMC discount if the ADC facility ZIP Code (as shown in Line 1 of the corresponding sack label or the ADC facility that is the destination of the palletized ADC package as would be shown on an ADC sack label for that facility using DMM L004, Column B) is within the service area of the BMC at which the sack is deposited under E751.5.6. Separate mixed ADC sacks must be prepared for pieces eligible for and claimed at the DBMC rate and for parcels not claimed at the DBMC rate. Use the “label to” ZIP Code for the ADC to assign ADC packages to the respective mixed ADC sack. Use the address on the parcels to assign parcels to the respective mixed ADC package or sack, as appropriate. Mail must be entered at the appropriate facility under 2.1.

2.5 Carrier Route Flats

Carrier Route flats in sacks or on pallets at all sort levels may claim DBMC rates. Mail must be entered at the appropriate facility under 2.1.

2.6 Carrier Route Machinable Parcels

Carrier Route machinable parcels in individual carrier route sacks may claim DBMC rates. Mail must be entered at the appropriate facility under 2.1.

2.7 Carrier Route Irregular Parcels

Carrier Route irregular parcels in sacks at both sort levels or on pallets at all sort levels may claim DBMC rates. Mail must be entered at the appropriate facility under 2.1.

3.0 DESTINATION SECTIONAL CENTER FACILITY (DSCF) RATES

3.1 General Eligibility

Pieces in a mailing meeting the standards in 1.0, 3.0, and 5.0 through 7.0 are eligible for the DSCF rate when they meet all of the following conditions:

a. Are eligible for and prepared to qualify for Presorted or Carrier Route rates, subject to the corresponding standards for those rates.

b. Are deposited at an SCF listed in L005, except that machinable parcels prepared on pallets for the 5-digit ZIP Codes listed in Exhibit E751.6.0 must be entered at the corresponding BMC facility shown in that Exhibit (not at the SCF) unless an exception is requested and granted. An exception to Exhibit E751.6.0 must be requested at least 15 days in advance of the mailing in writing from the Area Manager, Operations Support, who has jurisdiction over the BMC and SCF. Exceptions, if granted, will be for a limited time.

c. Are addressed for delivery to one of the 3-digit ZIP Codes served by the SCF where deposited under L005.

d. Are placed in a sack or pallet that is labeled to the SCF where deposited, or labeled to a postal facility within that SCF's service area (see L005).

3.2 Presorted Flats

Presorted flats in sacks for the 5-digit, 3-digit, and optional SCF sort levels or on pallets at the optional 5-digit scheme, 5-digit, optional 3-digit, SCF, and ASF sort levels may claim DSCF rates. Mail must be entered at the appropriate facility under 3.1.

3.3 Presorted Machinable Parcels

Presorted machinable parcels in sacks or on pallets at the 5-digit sort level may claim DSCF rates. For palletized mail, see 3.1b. Mail must be entered at the appropriate facility under 3.1.

3.4 Presorted Irregular Parcels

Presorted irregular parcels in sacks at the 5-digit, 3-digit, and optional SCF sort levels, or on pallets at the 5-digit, optional 3-digit, SCF, and ASF sort levels may claim DSCF rates. Mail must be entered at the appropriate facility under 3.1.

3.5 Carrier Route Flats

Carrier route flats in sacks at all sort levels or on pallets at optional 5-digit scheme carrier routes, 5-digit carrier routes, optional 3-digit, SCF, and ASF sort levels may claim DSCF rates. Mail must be entered at the appropriate facility under 3.1.

3.6 Carrier Route Machinable Parcels

Carrier Route machinable parcels in individual carrier route sacks may claim DSCF rates. Mail must be entered at the appropriate facility under 3.1.

3.7 Carrier Route Irregular Parcels

Carrier Route irregular parcels in sacks at both sort levels or on pallets at the 5-digit, optional 3-digit, SCF, and ASF sort levels may claim DSCF rates. Mail must be entered at the appropriate facility under 3.1.

4.0 DESTINATION DELIVERY UNIT (DDU) RATES

4.1 General Eligibility

Pieces in a mailing meeting the standards in 1.0 and 4.0 through 7.0 are eligible for the DDU rate when they meet all of the following conditions:

a. Are eligible for and prepared to qualify for Presorted or Carrier Route rates, subject to the corresponding standards for those rates.

b. Are addressed for delivery within the ZIP Code(s) served by the destination delivery unit.

c. Are deposited:

(1) For Carrier Route flats, at the DDU where the carrier cases the mail, as shown in the Drop Shipment Product.

(2) For Presorted flats, the Drop Shipment Product must be used to determine the correct destination entry facility for the 5-digit sorted flats entered at Presorted rates. If the Drop Shipment Product lists multiple facilities for a single 5-digit ZIP Code, then the mailer must inquire about the correct drop site when contacting the DDU to schedule an appointment.

(3) For all irregular parcels and machinable parcels, the Drop Shipment Product must be used to determine the 5-digit destination. When the Drop Shipment Product shows that mail for a single 5-digit ZIP Code area is delivered out of more than one postal facility, use the facility from which the majority of city carrier routes are delivered as the facility at which the DDU parcels must be entered and to determine whether that facility can handle pallets, unless the 5-digit ZIP Code is listed in Exhibit E751.7.0 or Exhibit E751.8.0. For ZIP Codes in Exhibit E751.7.0 and Exhibit E751.8.0, use the name of the facility associated with the 5-digit ZIP Code on the respective exhibit as the facility at which DDU mail must be entered for that 5-digit ZIP Code. This facility name should be used along with the Drop Shipment Product to determine if that facility can handle pallets. If a DDU facility cannot handle pallets and a mailer transports mail to the DDU facility on pallets, the driver must unload the pallets into a container specified by the delivery unit.

4.2 Presorted Flats

Presorted flats that weigh more than 1 pound in 5-digit sacks, on optional 5-digit scheme or required 5-digit pallets, or prepared as bedloaded 5-digit packages may claim DDU rates. Mail must be entered at the appropriate facility under 4.1. Presorted flats weighing 1 pound or less are not eligible for DDU rates.

4.3 Presorted Machinable Parcels

Presorted machinable parcels in 5-digit sacks or on 5-digit pallets may claim DDU rates. Mail must be entered at the appropriate facility under 4.1.

4.4 Presorted Irregular Parcels

Presorted irregular parcels in 5-digit sacks, on 5-digit pallets, or prepared as bedloaded 5-digit packages may claim DDU rates. Mail must be entered at the appropriate facility under 4.1.

4.5 Carrier Route Flats

Carrier Route flats in sacks, on optional 5-digit carrier routes scheme and 5-digit carrier routes pallets, or prepared as bedloaded carrier route packages may claim DDU rates. Mail must be entered at the appropriate facility under 4.1.

4.6 Carrier Route Machinable Parcels

Carrier Route machinable parcels sorted to carrier route sacks may claim DDU rates. Mail must be entered at the appropriate facility under 4.1.

4.7 Carrier Route Irregular Parcels

Carrier Route irregular parcels in sacks at both sort levels, on 5-digit pallets, or prepared as bedloaded packages may claim DDU rates. Mail must be entered at the appropriate facility under 4.1.

5.0 VERIFICATION

5.1 Place

As directed by the postmaster, the mailer must present destination entry mailings to USPS employees for verification either:

a. At the origin mailer's plant or the origin post office serving the mailer's plant under an authorized plant-verified drop shipment system.

b. At the destination post office or business mail entry unit.

5.2 Mail Separation and Presentation

Destination entry rate mail must be verified under a PVDS system (P950) or be presented for verification and acceptance at a BMEU located at a destination BMC, destination SCF, or other designated destination postal facility. Only plant-verified drop shipments may be deposited at a destination delivery unit not co-located with a post office or other postal facility having a business mail entry unit. When presented to the USPS, destination entry mailings must meet the following requirements:

a. Each mailing must be separated from other mailings for verification. For PVDS, destination entry rate mailings for deposit at one destination postal facility must be separated from mailings for deposit at other facilities to allow for reconciliation with each accompanying Form 8125, 8125-C, or 8125-CD.

b. Mail must be separated from freight transported on the same vehicle.

c. If Periodicals mail is on the same vehicle as BPM, then the Periodicals mail should be loaded toward the tail of the vehicle so that, for each destination entry, Periodicals mail can be offloaded first.

d. Form 8125, 8125-C, or 8125-CD must accompany all PVDS mailings.

5.3 Form 8125

When mailings are verified and paid for at a postal facility different from the one at which they are accepted as mail and deposited into the mailstream, the mailer must ensure that they are accompanied by a Form 8125 completed by the mailer and the verifying post office.

5.4 At BMC

For a mailing to be verified at a BMC, the post office where the mailer's account or license is held must be within the service area of that BMC. The post office must authorize the BMC to act as its agent by sending Form 4410 to the BMC.

5.5 PVDS Seal

The mailer may ask that a PVDS band seal secure the vehicle containing verified mailings before dispatch to the destination facility.

5.6 Mailer Transport

The mailer must transport the PVDS mailing from the place where it was verified to the destination postal facility.

5.7 Volume Standards

Except as permitted for a local mailer under 7.0, destination entry mailings are subject to these volume standards:

a. Regardless of total volume, the pieces for which a destination rate is claimed must represent more than 50% of the mail (by weight or pieces, whichever is greater) presented by the same mailer within any 24-hour period. For this standard, mailer is the party presenting the material to the USPS (or for whom a transportation company has presented the material to the USPS).

b. The same mailer may not in a 24-hour period present for verification and acceptance more than four destination rate mailings at the same destination postal facility (or at another acting as its agent). The mailer may ask for a waiver of this limit when scheduling the deposit of the mailings. There is no maximum for plant-verified drop shipments.

6.0 DEPOSIT

6.1 When, Where

Each mailing claimed at a destination rate must be deposited at the time and location specified by the USPS. Mailings must be presented in vehicles that are compatible with dock, yard, and DDU operations, as applicable.

6.2 Freight

Drop shipments are freight until deposited and accepted as mail at the destination facility.

6.3 Appointments

Appointments must be made for destination entry rate mail as follows:

a. Except for a local mailer under 7.0 and mailings of perishable commodities, appointments for deposit of destination entry rate mail at BMCs, ASFs, and SCFs must be scheduled through the appropriate appointment control center at least one business day in advance. Same-day appointments may be granted by a control center only through a telephone request. All appointments for BMC loads must be scheduled by the appropriate BMC control center. Appointments for SCFs and ASFs must be scheduled through the appropriate district control center. Appointments may be made up to 30 calendar days before a desired appointment date. The mailer must adhere to the scheduled mail deposit time and location. The mailer must cancel any appointment by notifying the appropriate control center at least 24 hours in advance of a scheduled appointment.

b. Electronic appointments may be made through the Dropship Appointment System (DSAS) by a mailer or agent using a USPS-issued computer logon ID. Electronic appointments or cancellations must be made at least 12 hours before the desired time and date. All information required by the USPS appointment system regarding a mailing must be provided.

c. For deposit of DDU mailings, an appointment must be made by contacting the DDU at least 24 hours in advance. If the appointment must be canceled, the mailer must notify the DDU at least one business day in advance of a scheduled appointment. Recurring appointments are allowed if shipment frequency is once a week or more often.

d. When Periodicals are transported together with BPM as a mixed load (E250), an appointment must be obtained for deposit at a destination entry facility.

6.4 Advance Scheduling

Except under 7.0, a mailer must schedule deposit of destination entry rate mailings at least 24 hours in advance by contacting the proper district or BMC control center or destination delivery unit. Appointments at delivery units must be made by calling the delivery unit at least 24 hours in advance. Appointments for ASFs, SCFs, or for any multistop loads must be made through the USPS district control center or DSAS in 6.3. Appointments for BMC loads must be scheduled by the proper BMC control center. When making an appointment, or as soon as available, the mailer must provide the control center or DDU with the following information:

a. Mailer's name and address and, when applicable, the name and telephone number of the mailer's agent or local contact.

b. Description of what is being mailed, product name, number of mailings, volume of mail, how prepared and whether containerized (e.g., pallets). For DDU entries, the mailer also must provide the 5-digit ZIP Code(s) of the mail being deposited.

c. Where the mailing was verified.

d. Postage payment method.

e. Requested date and destination facility for mailing.

f. Vehicle identification number, size, and type.

6.5 Adherence to Schedule

The mailer must follow the scheduled deposit time or cancel the appointment by notifying the designated control center. Destination facilities may refuse acceptance or deposit of unscheduled mailings or shipments that arrive more than 2 hours after the scheduled appointment at ASFs, BMCs, or SCFs or more than 20 minutes at delivery units.

6.6 Redirection by USPS

A mailer may be directed to transport destination entry rate mailings to a facility other than the designated DDU, SCF, or BMC due to facility restrictions, building expansions, peak season mail volumes, or emergency constraints.

6.7 Redirection at Mailer's Request

For service reasons, a mailer may ask to transport destination SCF rate mail to a facility other than the designated SCF. This exception may be approved only by the district control center serving the destination facility. To qualify for the SCF rate in this situation, mail deposited at a facility other than the SCF must destinate for processing within that facility and must not require backhauling to the SCF.

6.8 Recurring Appointments

Recurring appointments refer to a drop shipment that is delivered to a destination office with a frequency of at least once a week on the same time and day(s). Mailings must be of a comparable product in terms of mail class, size, volume, and containerization (pallets, pallet boxes, etc.). A request to establish recurring appointments must be written on company letterhead to the postal facility manager/postmaster. The drop shipment appointment control office/postmaster will respond to all requests within 10 days. Recurring appointments may be made for a period not to exceed 6 months. Thereafter, a new application must be submitted to ensure that up-to-date mailer information is on file. Written request for an additional 6 months may be made within 60 days prior to the expiration of a current arrangement. Failure to adhere to scheduled appointments or other abuse of the procedures will result in revocation of recurring appointment privileges. Requests for recurring appointments must include the following:

a. Name, address, and telephone number of the mailer.

b. Transportation agent's name (contact person) and telephone number(s).

c. Mail volume and preparation (trays/sacks/parcels).

d. Containerization.

e. Size and type of trailer(s) transporting mail.

f. Frequency/schedule.

6.9 Vehicle Unloading

Unloading of destination entry mailings is subject to these conditions:

a. Properly prepared containerized loads (e.g., pallets) are unloaded by the USPS at BMCs, ASFs, and SCFs. The USPS does not unload or permit the mailer (or mailer's agent) to unload palletized loads that are unstable or severely leaning or that have otherwise not maintained their integrity in transit.

b. At BMCs, and ASFs, the driver must unload bedloaded shipments within 8 hours of arrival. Combination containerized and bedloaded mailings are classified as bedloaded shipments for unload times. The USPS may assist in unloading.

c. At delivery units, the driver must unload all mail within 1 hour of arrival. If pallets (including pallet boxes on pallets) are stacked, the driver is required to unload, unstack, and unstrap them. If a mailer transports palletized mail (including sacks on pallets) to a DDU facility that cannot handle pallets, then the driver must unload the pallets into a container specified by the delivery unit.

d. When driver unloading is required, the driver or assistant must stay with and continue to unload the vehicle once at the dock.

e. The driver must remove the vehicle from USPS property after unloading. The driver and assistant are not permitted in USPS facilities except for the dock and designated driver rest area.

6.10 Demurrage

The USPS is not responsible for demurrage or detention charges incurred by a mailer who presents destination entry rate mailings.

6.11 Appeals

Mailers who believe they are denied equitable treatment may appeal to the manager, Customer Service (district), responsible for the destination postal facility.

7.0 EXCEPTION FOR LOCAL MAILER

The restrictions in 5.7 and 6.3 do not apply when a mailer deposits mailings for verification and acceptance at the local post office serving the facility where the mail was prepared, if the mailings are not verified under a plant load authorization or plant-verified drop shipment postage payment authorization. Under this exception, the mailer may claim the destination entry rates for mailings or portions of mailings deposited at the local post office that meet the standards in 2.0, 3.0, or 4.0.

[Add new E753 for combining Package Services parcels to read as follows:]

E753 Combining Package Services Parcels for DSCF and DDU Entry 1.0

1.0 COMBINING PARCELS

Package Services parcels—Parcel Post, Parcel Select, Bound Printed Matter, Media Mail, and Library Mail—may be combined, at the mailer's option and when authorized by the USPS, in the same 5-digit sack(s) or pallet(s) for entry either at a destination sectional center facility (DSCF) or a destination delivery unit (DDU). All applicable fees for presort and drop shipment must be paid and applicable minimum volume requirements for Presort rates and Parcel Select rates must be met. Combined Package Services mailings must meet the standards in E750, except as provided by this section. Parcels may not be combined for entry at a destination bulk mail center (DBMC). Carrier Route Bound Printed Matter may not be combined with other parcels under these standards. Presorted Media Mail and Presorted Library Mail claimed at BMC rates may not be combined with other parcels under these standards. Parcels combined under these standards are not eligible for the barcoded discount.

1.1 Basic Standards

Package Services parcels that qualify as machinable, nonmachinable, and irregular under C050 and meet the following conditions may be combined in the same 5-digit sack(s) or pallet(s) under these conditions:

a. Minimum volume requirements for Parcel Select, Presorted Bound Printed Matter, Presorted Library Mail, and Presorted Media Mail must be met separately before combining.

b. Postage must be paid via permit imprint under an approved manifest mailing system as provided in P910.

c. All parcels must be prepared in sacks under 2.0 or on pallets under 3.0. For mail entered at the DSCF rates, pallet preparation is not permitted for 5-digit ZIP Codes that are unable to handle pallets. Refer to the Drop Ship Product maintained by the National Customer Support Center (NCSC) (see G043) to determine which 5-digit delivery facilities can handle pallets. If a DDU facility cannot handle pallets, and a mailer transports mail to the DDU facility on pallets, the driver will have to unload the pallets into a container specified by the delivery unit.

d. Pieces may be claimed at single-piece rates, Presorted rates, and destination entry rates under 2.1 or 3.1.

e. Separate postage statements must be prepared for each subclass and destination entry rate as appropriate.

f. The deposit of combined Package Services mail at a DSCF or DDU must be in accordance with applicable drop shipment standards.

1.2 Authorization

Mailers apply for RCSC authorization to combine parcels as part of a manifest mailing agreement (P910). Current manifest mailers can apply for additional authorization to combine parcels. This authorization may not exceed two years.

2.0 COMBINED PARCELS PREPARED IN SACKS

2.1 Rate Eligibility

In addition to the applicable standards in E750 for destination entry Package Services, the following standards apply for combined Package Services mail prepared in sacks:

a. Parcel Select DSCF rates apply to parcels that are contained in 5-digit sacks, each containing at least 10 pieces of any combination of Package Services mail, or contained in overflow sacks under 2.2, provided all other requirements for the DSCF rate in E751 are met. Parcel Select DDU rates apply to parcels that are contained in 5-digit sacks, each containing at least 10 pieces of any combination of Package Services mail, or contained in overflow sacks under 2.2, provided all other requirements for the DDU rate in E751 are met.

b. Presorted Bound Printed Matter DSCF rates apply to parcels that are contained in 5-digit sacks, each containing at least 10 pieces of any combination of Package Services mail, or contained in overflow sacks under 2.2, provided all other requirements for the DSCF rate in E752 are met. Presorted Bound Printed Matter DDU rates apply to parcels that are contained in 5-digit sacks, each containing at least 10 pieces of any combination of Package Services mail, or contained in overflow sacks under 2.2, provided all other requirements for the DDU rate in E752 are met.

c. Presorted Library Mail 5-digit rates apply to parcels that are contained in 5-digit sacks, each containing at least 10 pieces of any combination of Package Services mail, or contained in overflow sacks under 2.2.

d. Presorted Media Mail 5-digit rates apply to parcels that are contained in 5-digit sacks, each containing at least 10 pieces of any combination of Package Services mail, or contained in overflow sacks under 2.2.

e. Single-piece rate Parcel Post, Bound Printed Matter, Library Mail, and Media Mail parcels that are contained in 5-digit sacks, each containing at least 10 pieces of any combination of Package Service mail, or contained in overflow sacks under 2.2, qualify for their applicable single-piece rates.

2.2 Sack Preparation

Only 5-digit sacks may be prepared. Each sack of combined Package Services mail must contain at least 10 pieces. One overflow sack containing fewer than 10 pieces is permitted per 5-digit destination.

2.3 Sack Labeling

Sack labels must be prepared as follows:

a. For Line 1, use 5-digit ZIP Code on mail.

b. For Line 2, use “PSVC PARCELS 5D.”

3.0 COMBINED PARCELS PREPARED ON PALLETS

3.1 Rate Eligibility

In addition to the applicable standards in E750 for destination entry Package Services, the following standards apply for combined Package Services mail prepared on pallets:

a. Parcel Select DSCF rates apply to pieces that are prepared on 5-digit pallets, each containing at least 50 pieces and 250 pounds or 36 inches of Package Services mail, or contained in overflow sacks under 3.3, and deposited at a DSCF under E751. Parcel Select DDU rates apply to pieces that are prepared on 5-digit pallets, each containing at least 50 pieces and 250 pounds or 36 inches of Package Services mail, or contained in overflow sacks under 3.3, and deposited at a DDU under E751.

b. Presorted Bound Printed Matter DSCF rates apply to pieces that are prepared on 5-digit pallets, each containing at least 50 pieces and 250 pounds or at least 36 inches of Package Services mail, or contained in overflow sacks under 3.3, and deposited at a DSCF under E752. Presorted Bound Printed Matter DDU rates apply to pieces that are prepared on 5-digit pallets, each containing at least 50 pieces and 250 pounds or at least 36 inches of Package Services mail, or contained in overflow sacks under 3.3, and deposited at a DDU under E752.

c. Presorted Library Mail 5-digit rates apply to pieces that are prepared on 5-digit pallets, each containing at least 50 pieces and 250 pounds or 36 inches of Package Services mail, or contained in overflow sacks under 3.3.

e. Presorted Media Mail 5-digit rates apply to pieces that are prepared on 5-digit pallets, each containing at least 50 pieces and 250 pounds or 36 inches of Package Services mail, or contained in overflow sacks under 3.3.

f. Single-piece rate Parcel Post, Bound Printed Matter, Library Mail, and Media Mail parcels that are prepared on 5-digit pallets, each containing at least 50 pieces and 250 pounds or 36 inches of Package Services mail, or contained in overflow sacks under 3.3, qualify for their applicable single-piece rates.

3.2 Pallet Preparation

Only 5-digit pallets may be prepared. Each 5-digit pallet of combined Package Services mail must contain at least: (1) 50 parcels and 250 pounds of mail, or (2) 36 inches mail (excluding the height of the pallet). Pallets prepared using either minimum requirement may be combined in the same mailing.

3.3 Overflow Sacks

If, after filling a pallet(s) to a 5-digit destination, pieces remain that do not meet the minimum pallet requirements, they may be prepared in 5-digit overflow sacks and labeled under 2.2.

3.4 Pallet Labeling

Pallet labels must be prepared as follows:

a. For Line 1, use city, state, and 5-digit ZIP Code on mail.

b. For Line 2, use “PSVC PARCELS 5D.”

4.0 DOCUMENTATION

Separate postage statements are required for each of the separate mailings contained within the combined mailing. All postage statements must be provided at the time of mailing and must be accompanied by a RCSC approved manifest prepared in accordance with P910 and this section.

F FORWARDING AND RELATED SERVICES

F000 Basic Services

F010 Basic Information

* * * * *

3.0 DIRECTORY SERVICE

[Amend 3.0d by replacing “Standard Mail (B)” with “Package Services”; no other changes to text.]

4.0 BASIC TREATMENT

* * * * *

4.5 Special Services

[Amend 4.5 by revising 4.5b to add instructions for treatment of insured Standard Mail; revise 4.5c by deleting the last sentence, and add new item e to read as follows:]

Mail with special services is treated according to the charts for each class of mail in 5.0, except that:

* * * * *

b. All insured First-Class Mail is forwarded and returned at no additional cost. All insured Standard Mail and Package Services mail is forwarded or returned.

c. Parcels with special handling that are undeliverable as originally addressed and forwarded to the addressee continue to receive special handling service without an additional special handling fee.

* * * * *

e. All registered mail items are treated as registered while they are being forwarded or returned.

* * * * *

[Add new 4.6 to read as follows:]

4.6 Metered Pieces

Mail paid by postage meter that does not have a delivery address and a return address is returned to the post office of mailing. The reason for nondelivery is attached but the address correction fee is not charged. The piece is returned to the meter licensee upon payment of the applicable return postage.

5.0 CLASS TREATMENT FOR ANCILLARY SERVICES

[Amend 5.1 by changing “E620” to “E620 and E630.”]

* * * * *

[Amend heading of 5.3 by removing “(A)” to read as follows:]

5.3 Standard Mail

[Amend 5.3 by removing “(A)” from “Standard Mail (A)”; amend 5.3a by replacing “Standard Mail (B)” with “Package Services” and “Special Standard Mail” with “Media Mail.”

Redesignate current items g and h, as h and i, respectively; amend redesignated i by removing “(A)” from “Standard Mail (A)” add new g to read as follows:]

Undeliverable Standard Mail is treated as described in the chart below and under these conditions:

* * * * *

g. Standard Mail with insurance, return receipt for merchandise, or Delivery Confirmation must be endorsed “Address Service Requested,” “Forwarding Service Requested,” or “Return Service Requested.”

* * * * *

[Amend the chart in 5.3 by adding the following under “Change Service Requested” to read as follows:]

Mailer endorsement | USPS action on UAA pieces
Change service requested¹ | * * * * *
| This endorsement is not available for mail with special services (e.g., insured or delivery confirmation).

[Revise heading of 5.4 to read as follows:]

5.4 Package Services

[Amend 5.4 by replacing “Standard Mail (B)” with “Package Services.” Remove item 5.4c. Add new item 5.4c to read as follows:]

Undeliverable Package Services is treated as described in the chart below and under these conditions:

* * * * *

c. Bound Printed Matter with no ancillary service endorsement and no special service is disposed of by USPS. It is not forwarded or returned to sender. Bound Printed Matter with no ancillary service endorsement with a special service is treated as if it is endorsed “Forwarding Service Requested.”

* * * * *

[Amend chart in 5.4 by adding an exception for Bound Printed Matter under “No endorsement” to read as follows:]

Mailer endorsement | USPS action on UAA pieces
No endorsement | Same as USPS action for “Forwarding Service Requested.” Exception: Bound Printed Matter with no special service added is disposed of by USPS.

* * * * *

6.0 ENCLOSURES AND ATTACHMENTS

* * * * *

[Amend heading and text of 6.2 by removing the “(A)” in Standard Mail; no other changes to text.]

[Revise title of 6.3 to read as follows:]

6.3 Package Services

[Amend 6.3 by replacing references to “Standard Mail (B)” with “Package Services”; no other changes to text.]

7.0 MIXED CLASSES

[Amend introductory paragraph of 7.1, 7.1a, and 7.2 by replacing “Standard Mail” with “Standard Mail or Package Services”; no other changes to text.]

* * * * *

7.4 Parcel

[Amend 7.4 to specify that combination parcels are returned at the Parcel Post Inter-BMC rate and by replacing “Special Standard Mail” with “Media Mail” to read as follows:]

A combination parcel containing Media Mail and Bound Printed Matter is charged postage at the Parcel Post Inter-BMC rate when forwarded or returned.

8.0 DEAD MAIL

[Amend 8.1b by replacing “Standard Mail (A)” with “Standard Mail.” Amend 8.1e by replacing “Standard Mail (A)” with “Standard Mail” and “Standard Mail” with “Standard Mail and Package Services”; no other changes to text.]

* * * * *

F020 Forwarding

* * * * *

2.0 FORWARDABLE MAIL

* * * * *

[Amend 2.3, 2.4, and 2.6 by replacing “Standard Mail (B)” with “Package Services”; no other changes to text.]

* * * * *

3.0 POSTAGE FOR FORWARDING

* * * * *

[Amend the title and contents of 3.5 by replacing “Standard Mail (A)” with “Standard Mail'; no other changes to text.]

[Revise title of 3.6 to read as follows:]

3.6 Package Services

[Amend 3.6 by replacing “Standard Mail (B)” with “Package Services”; no other changes to text.]

[Amend 3.7 by adding Delivery Confirmation and Signature Confirmation to read as follows:]

3.7 Special Services

Certified, collect on delivery (COD), Delivery Confirmation, insured, registered, Signature Confirmation, and special handling mail is forwarded without additional special service fees, subject to the applicable postage charge (to a domestic address only).

F030 Address Correction, Address Change, FASTforward, and Return Services

1.0 ADDRESS CORRECTION SERVICE

* * * * *

[Amend 1.4 by replacing “Standard Mail” with “Standard Mail and Package Services”; no other changes to text.]

* * * * *

2.0 ADDRESS CHANGE SERVICE (ACS)

[Amend 2.1 by replacing “Standard Mail” with “Standard Mail and Package Services”; no other changes to text.]

* * * * *

2.5 Shipper Paid Forwarding

[Amend 2.5 by adding a reference to the accounting fee for a postage due account to read as follows:]

Shipper Paid Forwarding is an ACS fulfillment vehicle. It allows mailers of Standard Mail machinable parcels and most Package Services mail to pay forwarding charges via approved ACS participant code(s). For information about Shipper Paid Forwarding, contact the National Customer Support Center (see G043). Mailers have the option of paying forwarding charges through a postage due advance deposit account. Mailers who choose to do so must pay an annual accounting fee.

* * * * *

4.0 SENDER INSTRUCTION

* * * * *

4.2 Special Services

A change-of-address order covers certified, collect on delivery (COD), insured, registered, and return receipt for merchandise mail unless the sender gives other instructions or the addressee moves outside the United States. This mail is treated as follows:

[Amend 4.2d to read as follows:]

* * * * *

d. Insured Standard Mail is forwarded and returned.

* * * * *

[Amend 4.2e by replacing “Standard Mail (B)” with “Package Services”; no other changes to text.]

* * * * *

G GENERAL INFORMATION

G000 The USPS and Mailing Standards

* * * * *

G090 Experimental Classifications and Rates

G091 NetPost Mailing Online

[In G091, change all references from “Standard Mail (A)” to “Standard Mail.”]

* * * * *

3.0 FUNCTIONALLY EQUIVALENT SYSTEMS

[Amend the third sentence of 3.0 to provide for an increase in the fee for certification of a system as functionally equivalent to Mailing Online from $100 to $125, to read as follows:]

* * * Certification of functional equivalence requires payment of a $125 fee and demonstration that the service in comparable to NetPost Mailing Online service and capable of all of the following as specified by the USPS: * * *

* * * * *

G094 Ride-Along Rate for Periodicals

1.0 BASIC ELIGIBILITY

[Amend 1.1, 1.2, and 1.3 by changing “Standard Mail (A)” to “Standard Mail,” no other changes to text.]

* * * * *

L LABELING LISTS

L000 General Use

[Amend the heading and introductory paragraph of L001 to provide for class of mail name changes and to allow use of L001 with Bound Printed Matter flats to read as follows:]

L001 5-Digit Scheme—Periodicals Flats and Irregular Parcels, Standard Mail Flats, and Bound Printed Matter Flats

When 5-digit scheme sort is used for Periodicals flats and irregular parcels, Standard Mail flats, and Bound Printed Matter flats, mail for the 5-digit ZIP Codes shown in Column A must be combined on pallets (packages on pallets only on merged 5-digit scheme, 5-digit scheme carrier routes, or 5-digit scheme pallets, as applicable) or in sacks (merged 5-digit scheme or 5-digit scheme carrier routes sacks, as applicable) labeled to the corresponding destination shown in Column B.

* * * * *

L002 3-Digit ZIP Code Prefix Matrix

This matrix provides information about 3-digit ZIP Code prefixes as follows:

[Amend the last sentence of L002d to read as follows:]

d. * * * Destination SCF Standard Mail rates, destination SCF Package Services rates, or SCF zone and per piece Periodicals rates are available only to those ZIP Code areas for which an SCF is shown.

* * * * *

L004 3-Digit Code Prefix Groups—ADC Sortation

[Revise the next-to-last sentence of the L004 introduction to read as follows:]

* * * To order labels from the USPS Label Printing Center, use Form 1578-B and indicate set number 008 (First-Class Mail), set number 009 (Periodicals), or set number 010 (Standard Mail and Bound Printed Matter). * * *

[In L004, replace “[STD only]” with “[STD and BPM only],” replace “[PER and STD only]” with “[PER, STD, and BPM only],” and replace “[FCM and STD only]” with “[FCM, STD, and BPM only].”]

* * * * *

[Amend the heading of L600 to include Package Services to read as follows:]

L600 Standard Mail and Package Services

L601 BMCs

[Revise introductory paragraph to read as follows:]

Use this list for:

(1) Standard Mail machinable parcels except ASF mail prepared and claimed at DBMC rates.

(2) Standard Mail packages, letter trays, or sacks on pallets.

(3) Bound Printed Matter machinable parcels.

(4) Bound Printed Matter packages or sacks on pallets.

(5) Parcel Post except for ASF mail prepared and claimed at DBMC rates and non-machinable BMC Presort or OBMC Presort rate mail.

(6) Presorted Media Mail and Presorted Library Mail to BMC destinations. For labeling mixed BMC sacks and pallets, mailers must add “MXD” before the Column B information of the BMC serving the 3-digit ZIP Code prefix of the post office at which the mail is entered.

* * * * *

[Revise the heading of L602 to read as follows:]

L602 ASFs

[Revise the introductory paragraph to read as follows:]

Use this list for:

(1) Standard Mail machinable parcels if ASF mail is entered at the ASF and claimed at DBMC rates.

(2) Standard Mail packages, letter trays, or sacks on pallets.

(3) Bound Printed Matter machinable parcels if ASF mail is entered at the ASF and claimed at DBMC rates.

(4) Bound Printed Matter packages or sacks on pallets.

(5) Parcel Post machinable parcels if ASF mail is entered at the ASF and claimed at DBMC rates.

* * * * *

[Amend the title of L603 by adding “Standard Mail” to read as follows:]

L603 ADCs—Irregular Standard Mail Parcels

* * * * *

[Amend to title of L604 to indicate that the list is used only for Standard Mail irregular parcels to read as follows:]

L604 Originating ADCs—Standard Mail Irregular Parcels

* * * * *

L800 Automation Rate Mailings

* * * * *

[Amend the heading of L802 by changing “Standard Mail (A)” to “Standard Mail” to read as follows:]

L802 BMC/ASF Entry—Periodicals and Standard Mail

* * * * *

[Amend the heading of L803 by changing “Standard Mail (A)” to “Standard Mail” to read as follows:]

L803 Non-BMC/ASF Entry—Periodicals and Standard Mail

* * * * *

M MAIL PREPARATION AND SORTATION

M000 General Preparation Standards

M010 Mailpieces

M011 Basic Standards

1.0 TERMS AND CONDITIONS

1.1 Presort Process

[Amend the third sentence of 1.1 by replacing “Standard Mail (A)” with “Standard Mail”; no other changes to text.]

* * * * *

1.3 Preparation Instructions

For purposes of preparing mail:

* * * * *

[M013.13 was amended in the amended final rule published in 65 FR 50054 (August 16, 2000). The section numbers in this final rule reflect those changes.]

[Redesignate 1.3f through 1.3z as 1.3h through 1.3ab, respectively, and add new 1.3f and 1.3g to read as follows:]

For purposes of preparing mail:

* * * * *

f. A less-than-full flat tray is one that contains First-Class Mail for the same destination regardless of quantity or whether a full tray was previously prepared for that destination. Less-than-full flat trays may be prepared only if permitted by the standards for the rate claimed.

g. An overflow flat tray is a less-than-full First-Class Mail tray that contains all pieces remaining after preparation of one or more full trays for the same destination. Overflow flat trays may be prepared only if permitted by the standards for the rate claimed.

* * * * *

[Amend redesignated 1.3j to provide for 5-digit/scheme carrier routes sortation for Carrier Route Bound Printed Matter, and to change “Standard Mail (A)” to “Standard Mail” to read as follows:]

j. A 5-digit/scheme carrier routes sort for carrier route rate Periodicals flats and irregular parcels, Enhanced Carrier Route rate Standard Mail flats, and Carrier Route Bound Printed Matter flats, prepared in sacks or as packages on pallets yields a 5-digit scheme carrier routes sack or pallet for those 5-digit ZIP Codes listed in L001 and 5-digit carrier routes sacks or pallets for other areas. The 5-digit ZIP Codes in each scheme are treated as a single presort destination subject to a single minimum sack or pallet volume, with no further separation by 5-digit ZIP Code required. Sacks or pallets prepared for a 5-digit scheme carrier routes destination that contain carrier route packages for only one of the schemed 5-digit areas are still considered 5-digit scheme carrier routes sorted and are labeled accordingly. The 5-digit/scheme sort is required for carrier route packages of flat-size and irregular parcel Periodicals, is optional for flat-size Enhanced Carrier Route rate Standard Mail, and is optional for Carrier Route Bound Printed Matter flats prepared in sacks or as packages on pallets. If preparation of 5-digit scheme carrier routes sacks or pallets is performed, they must be prepared for all 5-digit scheme destinations. A 5-digit/scheme carrier routes sort may be performed only for carrier route packages prepared in sacks or as packages on pallets.

[Amend redesignated 1.3k to provide for 5-digit/scheme sortation for Bound Printed Matter flats, and to change “Standard Mail (A)” to “Standard Mail” to read as follows:]

k. A 5-digit/scheme sort for Periodicals flats and irregular parcels, Standard Mail flats, and Bound Printed Matter flats prepared as packages on pallets yields 5-digit scheme pallets containing automation rate (not applicable to Bound Printed Matter) and Presorted rate 5-digit packages for those 5-digit ZIP Codes listed in L001 and yields 5-digit pallets containing automation rate (not applicable to Bound Printed Matter) and Presorted rate 5-digit packages for other areas. The 5-digit ZIP Codes in each scheme are treated as a single presort destination subject to a single minimum pallet volume, with no further separation by 5-digit ZIP Code required. Pallets prepared for a 5-digit scheme destination that contain 5-digit packages for only one of the schemed 5-digit areas are still considered 5-digit scheme sorted and are labeled accordingly. The 5-digit/scheme sort is required for flat-size and irregular parcel-size Periodicals, and is optional for flat-size Standard Mail and flat-size Bound Printed Matter that is prepared as packages on pallets and may not be used for other mail prepared on pallets, except for 5-digit packages of Standard Mail irregular parcels that are part of a mailing job that is prepared in part as palletized flats at automation rates. If preparation of 5-digit scheme pallets is performed, it must be done for all 5-digit scheme destinations.

* * * * *

[Amend the last sentence of 1.3p for clarity to read as follows:]

p. * * * The 3-digit/scheme sort is required for automation rate letter-size First-Class Mail, Periodicals, and Standard Mail and is not permitted to be used for mail entered at another rate.

* * * * *

[Amend redesignated 1.3z by replacing “Standard Mail (A)” with “Standard Mail”; no other changes to text.]

[Amend the first and last sentences of 1.3aa by replacing “Parcel Post DSCF” with “Parcel Select (Parcel Post) DSCF,” and by changing “M630” to “M710”; no other changes to text.]

[Amend the first and second sentences of 1.3ab by replacing “Parcel Post DSCF” with “Parcel Select (Parcel Post) DSCF”; no other changes to text.]

1.4 Mailing

* * * * *

[Amend 1.4e by replacing “Standard Mail (A)” with “Standard Mail”; no other changes to text.]

[Amend 1.4f by replacing “Standard Mail (B)” with “Package Services” and “Special Standard” with “Media Mail”; no other changes in text.]

* * * * *

M012 Markings and Endorsements

1.0 MARKINGS—BASIC STANDARDS

1.1 Class and Rate

[Amend 1.1b by replacing “Standard Mail (A)” with “Standard Mail”; no other changes to text.]

[Amend 1.1c by replacing “Standard Mail (B)” with “Package Services”; no other changes to text.]

* * * * *

[Revise the heading of 2.0 by replacing “Standard Mail (A)” with “Standard Mail”; no other change.]

2.0 MARKINGS—FIRST-CLASS MAIL AND STANDARD MAIL

2.1 Placement

* * * * *

[Amend 2.1b and 2.1c by replacing “Standard Mail (A)” with “Standard Mail”; no other changes to text.]

* * * * *

2.2 Exceptions to Markings

[Amend 2.2a and 2.2b by replacing “Standard Mail (A)” with “Standard Mail”; no other changes to text.]

* * * * *

[Amend the heading of 3.0 by replacing “Standard Mail (B)” with “Package Services” to read as follows:]

3.0 MARKINGS—PACKAGE SERVICES

3.1 Basic Markings

[Amend 3.1 by changing the subclass name from “Special Standard Mail” to “Media Mail” and eliminating the “Library Rate” marking to read as follows:]

The basic required Package Services subclass marking—“Parcel Post” or “PP,” “Bound Printed Matter” or “BPM,” “Media Mail,” or “Library Mail”—must be printed on each piece claimed at the respective rate. (The marking “Library Rate” may continue to be used on Library Mail until January 1, 2002. The marking “Special Standard Mail” (or “SPEC STD”) may continue to be used on Media Mail until January 1, 2002.) For Parcel Post destination entry rate mail, the marking “Parcel Select” may be used as the basic required marking instead of “Parcel Post.” The basic required marking must be placed in the postage area (i.e., printed or produced as part of, or directly below or to the left of, the permit imprint indicia or meter stamp or impression).

[Amend the heading of 3.2 for clarity to read as follows:]

3.2 Additional Parcel Select (Parcel Post) Markings

[Amend the first sentence of 3.2 to read as follows:]

Each piece in a Parcel Select (destination entry Parcel Post) mailing must bear a marking to indicate that it was mailed at a destination entry rate. * * *

[Amend the heading of 3.3 by changing “Other” to “Additional” and revise to read as follows:]

3.3 Additional Bound Printed Matter Markings

Each piece of Bound Printed Matter mailed at a Presorted rate must bear the marking “Presorted” (or “PRSRT”) in addition to the basic marking in 3.1. Until January 1, 2002, mailers may use the marking “Presorted Standard” (or “PRSRT STD”). Each piece of Bound Printed Matter mailed at a Carrier Route rate must bear the marking “Carrier Route Presort” (or “CAR-RT SORT”) in addition to the basic marking in 3.1. These additional markings may be placed in the postage area as specified in 3.1. Alternatively, these markings may be placed in the address area on the line directly above or two lines above the address if the marking appears alone, or if no other information appears on the line with the marking except postal optional endorsement line information under M013 or postal carrier route package information under M014.

[Amend the heading of 3.4 to reflect the new subclass name to read as follows:]

3.4 Additional Media Mail Markings

[Amend 3.4 to reflect the new subclass name to read as follows:]

Each piece of Media Mail mailed at a presorted rate must bear the required marking “Presorted” or “PRSRT” in addition to the basic marking specified in 3.1. This additional marking may be placed in the postage area as specified in 3.1. Alternatively, these markings may be placed in the address area on the line directly above or two lines above the address if the marking appears alone, or if no other information appears on the line with the marking except postal optional endorsement line information under M013.

[Amend the heading of 3.5 by changing “Other” to “Additional” and revise to read as follows:]

3.5 Additional Library Mail Markings

Each piece of Library Mail mailed at a presorted rate must bear the required marking “Presorted” or “PRSRT” in addition to the basic marking specified in 3.1. This additional marking may be placed in the postage area as specified in 3.1. Alternatively, these markings may be placed in the address area on the line directly above or two lines above the address if the marking appears alone, or if no other information appears on the line with the marking except postal optional endorsement line information under M013.

* * * * *

4.0 ENDORSEMENTS—DELIVERY AND ANCILLARY SERVICES

* * * * *

4.5 OCR Read Area

[Amend 4.5 by replacing “Standard Mail (A)” with “Standard Mail”; no other changes to text.]

M013 Optional Endorsement Lines

1.0 USE

1.1 Basic Standards

[Amend the chart in 1.1 by adding the sortation level and OEL example lines for Carrier Route Bound Printed Matter to read as follows:]

Sortation level | OEL example
* * * * * * *
Carrier Route—Bound Printed Matter | * * * * * * * * * * * CAR-RT SORT**C-001
* * * * * * *

* * * * *

2.0 FORMAT

* * * * *

2.5 ZIP Code

[Amend 2.5 by removing the second sentence.]

[Amend the table in 2.5 by revising the entries for ADC and mixed ADC sortation levels to read as follows:]

Sortation level | Mail class | Labeling list
* * * * * * *
ADC | First-Class Mail (except automation letters), Periodicals (except automation letters), Standard Mail (except Presorted rate irregular and machinable parcels), Presorted Bound Printed Matter (except machinable parcels) | L004
ADC | Standard Mail irregular parcels | L603
Mixed ADC | First-Class Mail (except automation letters) | L002, Colum C
Mixed ADC | Periodicals (except automation letters), Standard Mail (except Presorted rate irregular and machine parcels), Presorted Bound Printed Matter (except machinable parcels) | L004
Mixed ADC | Standard Mail irregular parcels | L604
* * * * * * *

* * * * *

M014 Carrier Route Information Lines

* * * * *

2.0 FORMAT AND CONTENT

* * * * *

2.3 Route Code

* * * * *

[Amend 2.3b by replacing “Standard Mail (A)” with “Standard Mail”; no other changes to text.]

* * * * *

M020 Packages

1.0 BASIC STANDARDS

* * * * *

1.4 Palletization

[Amend 1.4 by removing all references to bundles to read as follows:]

Packages on pallets must be able to withstand normal transit and handling without breakage or incurring injury to USPS employees. Heavy-gauge shrinkwrap over plastic banding, shrinkwrap alone, or banding material alone is acceptable if the package can stay together during normal processing. Except for packages of individually polywrapped pieces, packages on BMC pallets must be shrinkwrapped and machinable on BMC parcel sorters. Packages of individually polywrapped pieces may be secured with banding material only. Machinability is determined by the USPS. If used, banding material must be applied at least once around the length and once around the girth; wire and metal strapping are prohibited.

[Redesignate 1.5 and 1.6 as 1.6 and 1.7 and add new 1.5 to read as follows:]

1.5 Package Size—Bound Printed Matter

Each “logical” package (the total group of pieces for a package destination) of Bound Printed Matter must meet the applicable minimum package size prescribed in M045 or M722. The pieces in the “logical” package must then be secured in a physical package or packages. Wherever possible, each physical package for a logical package destination should contain at least the minimum package size. The size of each physical package for a specific logical package destination may, however, contain the exact package minimum, more pieces than the package minimum, or fewer pieces than the package minimum depending on the size of the pieces in the mailing or the total quantity of the pieces to that destination. However, except for mixed ADC packages and for carrier route packages prepared in sacks, each physical package of Bound Printed Matter must contain at least two pieces. For Carrier Route rate mail prepared in sacks, the “last physical package” to an individual carrier route destination may consist of a single addressed piece, provided that all other packages to that carrier route destination contain at least two addressed pieces, and that the total group of pieces to that carrier route (the “logical” package) meets the Carrier Route rate eligibility minimum in E712. Packages prepared on pallets must meet the additional packaging requirements under M045 and each physical package, including carrier route rate mail, must always contain at least two pieces.

[Amend the heading and the introductory phrase of redesignated 1.6 to read as follows:]

1.6 Package Size—Other Mail Classes

Except for Bound Printed Matter, an individual physical package may be prepared with fewer than the minimum number of pieces required by the standards for the rate claimed, without loss of rate eligibility under either of these conditions:

* * * * *

[Amend heading of 2.0 by replacing “Standard Mail (A)” with “Standard Mail” to read as follows:]

2.0 ADDITIONAL STANDARDS—FIRST-CLASS MAIL, PERIODICALS, STANDARD MAIL, AND FLAT-SIZE BOUND PRINTED MATTER FLATS

2.1 Cards and Letter-Size Pieces

[Amend 2.1c and 2.1d by changing “Standard Mail (A)” to “Standard Mail.”]

* * * * *

[Amend 2.2 by revising the second sentence to read as follows:]

2.2 Flat-Size Pieces

* * * Flat-size pieces must be prepared in packages except under 1.7 and, for First-Class Mail, under M820.3.0.

* * * * *

[Amend the heading of 3.0 by adding “All,” and amend the opening text to read as follows:]

3.0 FACING SLIPS—ALL CARRIER ROUTE MAIL

All facing slips used on carrier route packages must show this information:

* * * * *

M030 Containers

M031 Labels

* * * * *

2.0 ADDITIONAL STANDARDS—SACK LABELS

2.1 Specifications

[Amend 2.1a to reflect changes in mail class names to read as follows:]

A sack label must meet these specifications:

a. Color: white or manila for Priority Mail, First-Class Mail, Standard Mail, and Package Services mail; pink for Periodicals.

* * * * *

3.0 ADDITIONAL STANDARDS—TRAY LABELS PLACEMENT

* * * * *

3.2 SPECIFICATIONS

[Amend 3.2a to change “Standard Mail (A)” to “Standard Mail” to read as follows:]

A tray label must meet these specifications:

a. Color: White or manila for First-Class Mail and Standard Mail; pink for Periodicals.

* * * * *

4.0 PALLET LABELS

* * * * *

4.2 Specifications

[Amend 4.2 to reflect changes in mail class names to read as follows:]

Pallet labels must be pink for Periodicals mail or white for Standard Mail and Package Services mail. Pallet labels must measure at least 8 inches by 11 inches.

* * * * *

[Amend the last sentence of 4.7 (as it appeared in the final rule published in 65 FR 50054 (August 16, 2000)) to add the word “irregular parcel” in front of “Bound Printed Matter,” and to change “processing category” to “5D pallet level” to read as follows:]

4.7 5-Digit, 5-Digit Carrier Routes, and 5-Digit Scheme Carrier Routes Pallets

All 5-digit carrier routes or 5-digit scheme carrier routes pallets must show the words “CARRIER ROUTES” (or “CR-RTS”) after the processing category description on the content line under M045, M920, M930, and M940. 5-digit pallets of Bound Printed Matter irregular parcels that contain only carrier route rate mail also must show the words “CARRIER ROUTES” (or “CR-RTS”) after the “5D” pallet level description on the contents line under M045.

[Amend the heading of 4.8 to read as follows:]

4.8 Automation/Nonautomation Status

[Amend 4.8 (as it appeared in Postal Bulletin 22036, 11-2-00) by changing “Standard Mail (A)” to “Standard Mail” to read as follows:]

All Periodicals and Standard Mail 5-digit, 5-digit scheme, 3-digit, SCF, ADC, ASF, and BMC pallets must show “BARCODED” or “BC” on the contents line if the pallet contains automation rate mail as provided in M045, M920, M930, and M940. Except for machinable parcels, all Periodicals and Standard Mail 5-digit and 5-digit scheme pallets must show “NONBARCODED” or “NBC” on the contents line if the pallet contains Presorted rate mail under M045, M920, M930, and M940. Except for machinable parcels, all Periodicals and Standard Mail 3-digit, SCF, ADC, ASF, BMC, Mixed ADC, and Mixed BMC pallets must show “NONBARCODED” or “NBC” on the contents line if the pallet contains Presorted rate and/or carrier route mail under M045, M920, M930, and M940. If a pallet contains copalletized automation rate and Presorted rate mail, or, for 3-digit, SCF, ADC, ASF, BMC, Mixed ADC, or Mixed BMC pallets, contains copalletized automation rate, Presorted rate, and carrier route mail, the separate “BARCODED” and “NONBARCODED” designations may be abbreviated “BC/NBC.” (Note: if one of these pallets contains carrier route rate mail, but not Presorted rate mail, “NONBARCODED” or “NBC” is not required until July 15, 2001.)

[The following section was revised as M031.4.10 in the final rule published in 65 FR 50054 (August 16, 2000). Subsequent revisions to the DMM have redesignated this section as 4.9.]

4.9 Extraneous Information

Extraneous information is permitted no pallet labels if:

* * * * *

[Amend 4.9c to reflect changes in mail class names to read as follows:]

c. It does not appear on or between the lines reserved for USPS required information (blank lines are permitted). Exception: For combined mailings of Standard Mail and Package Services machinable parcels, mailer codes and extraneous information may appear between the content line and the post office of mailing line.

* * * * *

[The following section was added as M031.4.13 in the final rule published in 65 FR 50054 (August 16, 2000). Subsequent revisions to the DMM have redesignated this section as 4.12. Amend the title of 4.12 to delete the phrase “or Bundle” to read as follows:]

4.12 Pallet Package Information

* * * * *

5.0 SECOND LINE CODES

[Amend the chart in 5.0 to change “Standard Mail (A)” to “Standard Mail,” add “First-Class Mail” and code “FCM,” and add “Package Services” and code “PSVC” to read as follows:]

The codes shown below must be used as appropriate on Line 2 of sack, tray, and pallet labels.

Content type | Code
Barcoded | BC
Barcoded and Nonbarcoded | BC/NBC
Carrier Route | C (type of route)
Carrier Routes | CR-RTS (5-digit sack and pallet designation)
Digit | D
First-Class Mail | FCM
Flats | FLTS
General Delivery Unit | G
Highway Contract Route | H
Irregular Parcels | IRREG (Periodicals, Standard Mail, and Package Services only)
Letters | LTRS
Machinable Parcels | MACH (Standard Mail and Package Services only)
Mixed | MXD
Mixed Machinable and Irregular Parcels | MACH & IRREG (Standard Mail only)
Nonbarcoded | NON BC (sacks)
| NBC (pallets, and co-trayed or co-sacked mail under M910)
Package Services | PSVC
Parcels | PARCELS (First-Class Mail and Package Services only)
Periodicals | PER (see 1.7) NEWS (see 1.7)
Post Office Box Section | B
Rural Route | R
Scheme | SCH (Periodicals, Standard Mail, and (flats only) Bound Printed Matter 5-digit scheme carrier routes sacks and 5-digit scheme pallets only)
Standard Mail | STD
Working | WKG

M032 Barcoded Labels

1.0 BASIC STANDARDS—TRAY AND SACK LABELS

1.1 Use

[Amend 1.1 by replacing “Standard Mail (A)” with “Standard Mail”; no other changes to text.]

* * * * *

[Amend Exhibit 1.3a, 3-Digit Content Identifier Numbers, by replacing headings “STANDARD MAIL (A)” with “STANDARD MAIL,” “STANDARD MAIL (B)” with “PACKAGE SERVICES MAIL,” “Special Standard Mail” with “Media Mail,” and making other changes in content line information to read as follows:]

Class and mailing | CIN | Human-readable content line
* * * * * * *
STANDARD MAIL
* * * * * * *
Enhanced Carrier Route Irregular Parcels—Nonautomation:
car. rt. sacks—saturation | 599 | STD IRREG WSS¹
car. rt. sacks—high density | 600 | STD IRREG WSH¹
car. rt. sacks—basic | 601 | STD IRREG LOT¹
5-digit carrier routes sacks | 598 | STD IRREG CR-RTS
STD Irregular Parcels—Presorted:
5-digit sacks | 590 | STD IRREG 5D
3-digit sacks | 591 | STD IRREG 3D
ADC sacks | 592 | STD IRREG ADC
mixed ADC sacks | 594 | STD IRREG WKG
STD Machinable Parcels—Presorted:
5-digit sacks | 670 | STD MACH 5D
ASF sacks | 672 | STD MACH ASF
BMC sacks | 673 | STD MACH BMC
mixed BMC sacks | 674 | STD MACH WKG
STD Machinable and Irregular Parcels—Presorted:
5-digit sacks | 603 | STD MACH & IRREG 5D
PACKAGE SERVICES MAIL
Carrier Route Bound Printed Matter—Flats:
carrier route sacks | 657 | PSVC FLTS CR¹
5-digit scheme carrier routes sacks | 659 | PSVC FLTS CR-RTS SCH
5-digit carrier routes sacks | 658 | PSVC FLTS CR-RTS
Presorted Bound Printed Matter—Flats:
5-digit sacks | 649 | PSVC FLTS 5D NON BC
3-digit sacks | 650 | PSVC FLTS 3D NON BC
SCF sacks | 654 | PSVC FLTS SCF NON BC
ADC sacks | 651 | PSVC FLTS ADC NON BC
mixed ADC sacks | 653 | PSVC FLTS NON BC WKG
Carrier Route Bound Printed Matter—Irregular Parcels:
carrier route sacks | 697 | PSVC IRREG CR¹
5-digit carrier routes sacks | 698 | PSVC IRREG CR-RTS
Presorted Bound Printed Matter—Irregular Parcels:
5-digit sacks | 690 | PSVC IRREG 5D
3-digit sacks | 691 | PSVC IRREG 3D
SCF sacks | 696 | PSVC IRREG SCF
ADC sacks | 692 | PSVC IRREG ADC
mixed ADC sacks | 694 | PSVC IRREG WKG
Carrier Route Bound Printed Matter—Machinable Parcels:
carrier route sacks | 687 | PSVC MACH CR¹
Presorted Bound Printed Matter—Machinable Parcels:
5-digit sacks | 680 | PSVC MACH 5D
ASF sacks | 682 | PSVC MACH ASF
BMC sacks | 683 | PSVC MACH BMC
mixed BMC sacks | 684 | PSVC MACH WKG
Presorted Media Mail and Presorted Library Mail Flats—5-Digit and BMC:
5-digit sacks | 649 | PSVC FLTS 5D NON BC
BMC sacks | 652 | PSVC FLTS BMC NON BC
Presorted Media Mail and Presorted Library Mail Irregular Parcels—5-Digit and BMC:
5-digit sacks | 690 | PSVC IRREG 5D
BMC sacks | 693 | PSVC IRREG BMC
Presorted Media Mail and Presorted Library Mail Machinable Parcels—5-Digit and BMC:
5-digit sacks | 680 | PSVC MACH 5D
BMC sacks | 683 | PSVC MACH BMC
Parcel Post Machinable Parcels:
5-digit sacks | 680 | PSVC MACH 5D
ASF sacks | 682 | PSVC MACH ASF
BMC sacks | 683 | PSVC MACH BMC
mixed BMC sacks | 684 | PSVC MACH WKG
Parcel Post DSCF and DDU Rates:
5-digit sacks | 688 | PSVC PARCELS 5D
Combined PSVC Parcels:
5-digit sacks | 688 | PSVC PARCELS 5D
Combined STD & PSVC Machinable Parcels:
5-digit sacks | 660 | STD/PSVC MACH 5D
ASF sacks | 662 | STD/PSVC MACH ASF
BMC sacks | 663 | STD/PSVC MACH BMC
mixed BMC sacks | 664 | STD/PSVC MACH WKG

* * * * *

2.0 ADDITIONAL STANDARDS—BARCODED TRAY LABELS

2.1 Paper Stock, Size, and Color

[Amend 2.1a to replace the class name “Standard Mail (A)” with “Standard Mail”; no other changes to text.]

* * * * *

3.0 ADDITIONAL STANDARDS—BARCODED SACK LABELS

[Amend 3.1a by replacing “Standard Mail” with “Standard Mail and Package Services”; no other changes to text.]

* * * * *

M033 Sacks and Trays

1.0 BASIC STANDARDS

* * * * *

1.2 Equipment

[Amend 1.2a and 1.2f by replacing “Standard Mail (A)” with “Standard Mail” and amend 1.2a by adding a second sentence to read as follows:]

a. First-Class Mail flat-size pieces must be prepared in USPS flat trays with lids. The lids to these flat trays must be placed green side up.

[Amend the heading of 2.0 by replacing “Standard Mail (A)” with “Standard Mail” to read as follows:]

2.0 FIRST-CLASS MAIL, PERIODICALS, AND STANDARD MAIL

* * * * *

2.2 Flat Tray Preparation (First-Class Mail Only)

[Amend 2.2 by adding new f through h to read as follows:]

All flat tray preparation is subject to these standards:

* * * * *

f. For automation rate mailings prepared under the optional tray-based preparation rules in M820, one less-than-full overflow tray may be prepared for a presort destination when the total number of pieces for that destination meets the minimum for preparation of the tray level under M820, and when one or more full trays for that destination are also prepared.

g. For automation rate mailings prepared under the optional tray-based preparation rules in M820, if the total number of pieces for a presort destination meets or exceeds the minimum number of pieces required to prepare a tray for that destination, but the total volume does not physically fill a single tray, then the mail for that presort destination may be prepared in a less-than-full tray.

h. Pieces prepared as automation flats under the tray-based preparation option in M820 do not have to be grouped by 3-digit ZIP Code prefix in ADC trays or by ADC in mixed ADC trays if the mailing is prepared using an MLOCR/barcode sorter and standardized documentation is submitted.

* * * * *

M040 Pallets

M041 General Standards

* * * * *

[M041.5.0 and 6.0 were amended in the amended final rule published in 65 FR 48385 (August 8, 2000) and in the final rule published in 65 FR 50054 (August 16, 2000). The language in this final rule reflects those amendments.]

5.0 PREPARATION

5.1 Presort

[Amend 5.1 to change the class name from “Standard Mail (A)” to “Standard Mail” and to delete the phrase “and bundles” to read as follows:]

Pallet preparation and pallet sortation are subject to the specific standards in M045, M920, M930, and M940. Pallet sortation is generally intended to presort the palletized portion of a mailing to at least the finest extent required for the corresponding class of mail and method of preparation. Pallet sortation is sequential from the lowest (finest) level to the highest and must be completed at each required level before the next optional or required level is prepared. Standard preparation terms for pallets are defined in M011, standard presort levels are defined in M045, and advanced presort levels are defined in M920, M930, and M940. For sacks, trays, or machinable parcels on pallets, the mailer must prepare all required pallet levels before any mixed ADC or mixed BMC pallets are prepared for a mailing or job. Packages prepared under M045 or M920, M930, or M940 must not be placed on mixed ADC or mixed BMC pallets. Packages that cannot be placed on pallets must be prepared in sacks under the standards for the rate claimed. The standards for package reallocation to protect the SCF or BMC pallet (M045.5.0 and 6.0) are optional methods of pallet preparation designed to retain as much mail as possible at the SCF or BMC level. These standards may result in some packages of Periodical flats and irregular parcels and Standard Mail (A) flats that are part of a mailing job prepared in part as palletized flats at automation rates not being placed on the finest level of pallet possible. Mailers must use PAVE-certified presort software to prepare mailings using package reallocation (package reallocation is optional, but if performed, it must be done for the complete mailing job).

5.2 Required Preparation

[Amend 5.2 to change the class name from “Standard Mail (A)” to “Standard Mail” to read as follows:]

These standards apply to:

a. Periodicals, Standard Mail, and Package Services (except for Parcel Post BMC Presort and OBMC Presort, and except for Parcel Select DSCF and DDU rate mail). A pallet must be prepared to a required sortation level when there are 500 pounds of Periodicals, Standard Mail, or Package Services mail in packages or sacks, or 500 pounds of parcels, or six layers of Periodicals or Standard Mail letter trays. For packages of Periodicals flats and irregular parcels on pallets that are prepared under the standards for package reallocation to protect the SCF pallet (M045.5.0), not all mail for a required 5-digit scheme carrier routes, 5-digit scheme, 5-digit carrier routes, or 5-digit pallet or for an optional merged 5-digit scheme, optional merged 5-digit, or optional 3-digit pallet is required to be on that corresponding pallet level. For packages of Standard Mail flats on pallets that are prepared under the standards for package reallocation to protect the SCF pallet (M045.5.0), not all mail for a required 5-digit carrier routes or 5-digit pallet or for an optional 5-digit scheme carrier routes, merged 5-digit scheme, 5-digit scheme, merged 5-digit pallet, or 3-digit pallet is required to be on that corresponding pallet level. For packages of Standard Mail flats on pallets prepared under the standards for package reallocation to protect the BMC pallet (M045.6.0), not all mail for a required ASF pallet is required to be on an ASF pallet. Mixed ADC or mixed BMC pallets of sacks, trays, or machinable parcels, as appropriate, must be labeled to the BMC or ADC (as appropriate) serving the post office where mailings are entered into the mailstream. The processing and distribution manager of that facility may issue a written authorization to the mailer to label mixed BMC or mixed ADC pallets to the post office or processing and distribution center serving the post office where mailings are entered. These pallets contain all mail remaining after required and optional pallets are prepared to finer sortation levels under M045, as appropriate.

b. Parcel Post mailed at BMC Presort, OBMC Presort, DSCF, and DDU rates. Pallets must meet the requirements specifically prescribed for these rates in M045.

5.3 Minimum Load

[Amend 5.3a by replacing “Standard Mail (A)” with “Standard Mail” and by changing “M630” to “M710”; no other changes to text.]

* * * * *

5.6 Mail on Pallets

[Amend 5.6 (as it appeared in the final rule published in 65 FR 50054 (August 16, 2000)) to provide for separation of flat-size Bound Printed Matter Carrier Route mail from Presorted mail on 5-digit level pallets, to change “Standard Mail (A)” to “Standard Mail,” to remove references to “bundles,” and to clarify and reorganize to read as follows:]

These standards apply to mail on pallets:

a. Pieces in trays, packages, and sacks must be prepared under the standards for the class of mail and rate claimed.

b. When two or more Periodicals mailings, two or more Standard Mail mailings, or two or more Bound Printed Matter mailings are placed together on pallets, the mailer must keep records for each mailing as required by the standards for the class of mail.

c. For letter-size Standard Mail and Periodicals prepared in trays on pallets, carrier route rate mail (including automation carrier route) must be prepared on separate 5-digit pallets (5-digit carrier routes pallets) from non-carrier route automation rate or Presorted rate mail (5-digit pallets).

d. Heavier, fuller trays must be placed at the bottom of the load.

e. For Bound Printed Matter irregular parcels, Presorted and Carrier Route rate mail may be combined on all levels of pallet. For Bound Printed Matter flats, Presorted and Carrier Route rate mail may be combined on all levels of pallet except as provided in f and g.

f. For sacks of nonletter-size Periodicals mail on pallets (except for mail prepared with detached address labels), for sacks of nonletter-size Standard Mail on pallets (except for mail prepared with detached address labels and machinable parcels), and for sacks of flat-size Bound Printed Matter, carrier route rate mail must be prepared on separate 5-digit pallets (5-digit carrier routes pallets) from automation rate or Presorted rate mail (5-digit pallets).

g. For packages on pallets of nonletter-size Periodicals, nonletter-size Standard Mail, and flat-size Bound Printed matter, carrier route rate mail must be prepared on separate 5-digit pallets (5-digit carrier routes or 5-digit scheme carrier routes pallets) from automation rate or Presorted rate mail (5-digit pallets or 5-digit scheme pallets). Exception: When nonletter-size Periodicals and flat-size Standard Mail is prepared under h, carrier route rate mail, automation rate mail, and Presorted rate mail may be copalletized on the same merged 5-digit pallet or on the same merged 5-digit scheme pallet for applicable 5-digit ZIP Codes.

h. Mailers of nonletter-size Periodicals and flat-size Standard Mail that prepare packages on pallets may copalletize carrier route rate mail, automation rate mail, and Presorted rate mail on the same merged 5-digit pallet or on the same merged 5-digit scheme pallet under the conditions in M920, M930, or M940.

* * * * *

6.0 COPALLETIZED, COMBINED, OR MIXED-RATE LEVEL MAILINGS OF FLAT-SIZE PIECES

* * * * *

[Amend the heading and contents of 6.4 to change the class name from “Standard Mail (A)” to “Standard Mail.”]

* * * * *

M045 Palletized Mailings

1.0 BASIC USES

[Amend 1.0f by replacing “Standard Mail (A) and (B)” with “Standard Mail and Package Services” and 1.0i by replacing “Standard Mail” with “Package Services” and by replacing “M630” with “M700”; no other changes to text.]

[Amend the heading of 2.0 to add “ON PALLETS” to read as follows:]

2.0 PACKAGES ON PALLETS

[Revise 2.1 to read as follows:]

2.1 Applicability

Only packages of flats and packages of irregular parcels of Periodicals, Standard Mail, and Bound Printed Matter may be prepared in packages placed directly on pallets under the provisions of 2.2 through 2.5 and 3.0. Mail that cannot be placed on pallets under 2.0 and 3.0 must be prepared in sacks under the applicable provisions of M200, M600, and M700. Sacks containing packages for mixed ADC destinations, or containing packages remaining after all pallets are prepared, may be presented with the palletized portion of the mailing job (and, subject to 8.5, reported on the same postage statement) if the sacks are set apart from the palletized portion of the mailing job.

[Redesignate current 2.2 through 2.4 as 2.3 through 2.5, respectively. Delete current 2.5 and 2.6. Insert new 2.2 to read as follows:]

2.2 Basic Packaging Standards

Package preparation for Periodicals, Standard Mail, and Bound Printed Matter must meet the general standards in M010 and M020 and the applicable packaging provisions of M200, M610, M620, M720, and M820, except as noted in 2.3 through 2.5. Packages must be sorted to pallets under 3.0. The palletized portion of a mailing may not include packages sorted to mixed ADCs or foreign destinations.

[Amend the heading of redesignated 2.3 by deleting “Size”; to read as follows:]

2.3 Periodicals

* * * * *

[Amend the heading of redesignated 2.4 by deleting “Size” and replacing “Standard Mail (A)” with “Standard Mail” to read as follows:]

2.4 Standard Mail

* * * * *

[Revise the heading and contents of redesignated 2.5 to read as follows:]

2.5 Bound Printed Matter

Bound Printed Matter on pallets must be packaged as follows:

a. Presorted Bound Printed Matter:

(1) Only individual pieces of flats or irregular parcels that weigh less than 10 pounds may be prepared as packages on pallets. Pieces that individually weigh 10 or more pounds must be prepared and palletized as machinable parcels under 3.5 or prepared in sacks under M722.

(2) Packages must be prepared to the package destinations in M722. The minimum package size is 10 addressed pieces or 10 pounds, whichever occurs first, except that the last package to a presort destination may contain fewer than 10 pieces or weigh less than 10 pounds. See 2.5c for a definition of the “whichever comes first” packaging requirement. When there are at least 10 pieces but fewer than 10 pounds for a presort destination, the pieces must be prepared in a single physical package. The maximum physical package size is 20 pounds, except that 5-digit packages that will be placed on a 5-digit scheme (flats only) or 5-digit pallet may weigh up to 40 pounds. The total number of physical packages for a single presort destination must not exceed the number of 10-pound increments to that destination. Each physical package must contain at least 2 addressed pieces. Each physical package must be labeled using optional endorsement lines or pressure sensitive labels under M722.

b. Carrier Route Bound Printed Matter:

(1) Only individual pieces of flats or irregular parcels that weigh less than 10 pounds may be prepared as packages on pallets. Pieces that individually weigh 10 or more pounds must either be prepared and palletized as machinable parcels under 3.5 and pay the Presorted rates, or be prepared in sacks to qualify for the Carrier Route rates under M723.

(2) The minimum package size is 10 addressed pieces or 10 pounds to a carrier route, whichever occurs first, except that the last package to a carrier route destination may contain fewer than 10 pieces or weigh less than 10 pounds. See 2.5c for a definition of the “whichever comes first” packaging requirement. When there are at least 10 pieces but fewer than 10 pounds for a presort destination, the pieces must be prepared in a single physical package. The maximum physical package size is 20 pounds, except that carrier route packages of flats that will be placed on a 5-digit scheme carrier routes or 5-digit carrier routes pallet and carrier route packages of irregular parcels that will be placed on a 5-digit pallet may weigh up to 40 pounds. The total number of physical packages for a single carrier route destination must not exceed the number of 10-pound increments to that destination. Each physical package must contain at least 2 addressed pieces. Each physical package must be labeled to the carrier route with facing slips under M723, optional endorsement lines under M013, or carrier route information lines under M014.

c. Minimum Package Size. Package mail under the minimum package size of “10 pieces or 10 pounds, whichever comes first” according to these standards:

(1) For identical-weight pieces, a single-piece weight of one pound results in 10 pieces weighing 10 pounds. Identical-weight pieces weighing one pound or less must be prepared using the 10-piece minimum; those that weigh more must be prepared using the 10 pound minimum.

(2) For nonidentical-weight pieces, mailers must either use the minimum that applies to the average piece weight for the entire mailing (divide the net weight of the mailing by the number of pieces; the resulting average single-piece weight determines whether the 10-piece or 10-pound minimum applies). Alternatively, package by the actual piece count or mail weight for each package destination, provided documentation can be provided with the mailing that shows (specifically for each package) the number of pieces and their total weight.

(3) Mailers must note on the accompanying postage statement whether they applied the 10-piece or 10-pound threshold, or both.

[Remove 3.0; redesignate 4.0 through 15.0 as 3.0 through 14.0, respectively.]

3.0 PALLET PRESORT AND LABELING

[The following section, Pallet Presort and Labeling, was originally revised as M045.4.0 in the final rule published in 65 FR 50054 (August 16, 2000). The revisions below are revisions to the language in that final rule.]

* * * * *

[Delete redesignated 3.3 pertaining to Bound Printed Matter (revised in the final rule published in 65 FR 50054 (August 16, 2000)). Redesignate 3.4 and 3.5 as 3.5 through 3.6. Add new 3.3 and 3.4 to read as follows:]

3.3 Bound Printed Matter Flats—Packages and Sacks on Pallets

Mailers must prepare pallets in the sequence listed below. Mailers who do not perform scheme sortation under 3.3a and 3.3b using L001 must begin preparing pallets under 3.3c. Pallets must be labeled according to the Line 1 and Line 2 information listed below and under M031.

a. 5-Digit Scheme Carrier Routes. Optional. Permitted only for flat-size packages on pallets. May contain only Carrier Route rate packages for the same 5-digit scheme under L001. If scheme sort is performed, it must be done for all 5-digit scheme destinations. For all 5-digit destinations that are not part of a scheme, prepare 5-digit carrier routes pallets under 3.3c.

(1) Line 1: use L001, Column B.

(2) Line 2: “PSVC FLTS,” followed by “CARRIER ROUTES” or “CR-RTS” and “SCHEME” or “SCH.”

b. 5-Digit Scheme. Optional. Permitted only for flat-size packages on pallets. May contain only Presorted rate packages for the same 5-digit scheme under L001. If scheme sort is performed, it must be done for all 5-digit scheme destinations. For all 5-digit destinations that are not part of a scheme, prepare 5-digit pallets under 3.3d.

(1) Line 1: use L001, Column B.

(2) Line 2: “PSVC FLTS 5D” followed by “SCHEME” or “SCH.”

c. 5-Digit Carrier Routes. Required for sacks and packages (except for packages prepared to 5-digit carrier route scheme pallets under 3.3a). May contain only Carrier Route rate mail for the same 5-digit ZIP Code.

(1) Line 1: use city, state abbreviation, and 5-digit ZIP Code destination (see M031 for military mail).

(2) Line 2: “PSVC FLTS” followed by “CARRIER ROUTES” or “CR-RTS.”

d. 5-Digit. Required for sacks and packages (except for packages prepared to 5-digit scheme pallets under 3.3b). May contain only Presorted rate mail for the same 5-digit ZIP Code.

(1) Line 1: use city, state abbreviation, and 5-digit ZIP Code destination (see M031 for military mail).

(2) Line 2: “PSVC FLTS 5D.”

e. 3-digit: Optional. May contain Carrier Route and/or Presorted rate mail.

(1) Line 1: use L002, Column A.

(2) Line 2: “PSVC FLTS 3D.”

f. SCF. Required. May contain Carrier Route and/or Presorted rate mail.

(1) Line 1: use L002, Column C.

(2) Line 2: “PSVC FLTS SCF.”

g. ASF. Required. May contain Carrier Route and/or Presorted rate mail. Sort ADC packages or sacks to ASF pallets based on the “label to” ZIP Code for the ADC destination of the package or sack in L004. See E752 for additional requirements for DBMC rate eligibility.

(1) Line 1: use L602.

(2) Line 2: “PSVC FLTS ASF.”

h. BMC. Required. May contain Carrier Route and/or Presorted rate mail. Sort ADC packages or sacks to BMC pallets based on the label to ZIP Code for the ADC destination of the package or sack in L004. See E752 for additional requirements for DBMC rate eligibility.

(1) Line 1: use L601.

(2) Line 2: “PSVC FLTS BMC.”

i. Mixed BMC (for sacks on pallets only). Optional. May contain Carrier Route and/or Presorted rate mail.

(1) Line 1: “MXD,” followed by the information in L601, Column B, for the BMC serving the 3-digit ZIP Code prefix of the entry post office (label to plant serving entry post office if authorized by the processing and distribution manager).

(2) Line 2: “PSVC FLTS” followed by “WKG.”

3.4 Bound Printed Matter Irregular Parcels—Packages and Sacks on Pallets

Mailers must prepare pallets in the sequence listed below. Pallets must be labeled according to the Line 1 and Line 2 information listed below and under M031.

a. 5-digit. Required. May contain Carrier Route and/or Presorted rate mail.

(1) Line 1: use city, state abbreviation, and 5-digit ZIP Code destination (see M031 for military mail).

(2) Line 2: “PSVC IRREG 5D” and, if the pallet contains only carrier route mail, followed by “CARRIER ROUTES” or “CR-RTS”.

b. 3-digit. Optional. May contain Carrier Route and/or Presorted rate mail.

(1) Line 1: use L002, Column A.

(2) Line 2: “PSVC IRREG 3D.”

c. SCF. Required. May contain Carrier Route and/or Presorted rate mail.

(1) Line 1: use L002, Column C.

(2) Line 2: “PSVC IRREG SCF.”

d. ASF. Required. May contain Carrier Route rate and/or Presorted rate mail. Sort ADC packages or sacks to ASF pallets based on the “label to” ZIP Code for the ADC destination of the package or sack in L004.

(1) Line 1: use L602.

(2) Line 2: “PSVC IRREG ASF.”

e. BMC. Required. May contain Carrier Route and/or Presorted rate mail. Sort ADC packages or sacks to BMC pallets based on the “label to” ZIP Code for the ADC destination of the package or sack in L004.

(1) Line 1: use L601.

(2) Line 2: “PSVC IRREG BMC.”

f. Mixed BMC (for sacks on pallets only). Optional. May contain Carrier Route and/or Presorted rate mail.

(1) Line 1: “MXD,” followed by the information in L601, Column B, for the BMC serving the 3-digit ZIP Code prefix of the entry post office (label to plant serving entry post office if authorized by the processing and distribution manager).

(2) Line 2: “PSVC IRREG” followed by “WKG.”

3.5 Machinable Parcels—Standard Mail, Bound Printed Matter, and Parcel Post (Except BMC Presort, OBMC Presort, and Parcel Select DDU and DSCF)

Mailers must prepare pallets in the sequence listed below. Mailers may prepare Parcel Post other than BMC Presort, OBMC Presort, and Parcel Select DDU and DSCF on pallets under this section as an option. If Parcel Post is optionally sorted under this section, it must meet all the requirements of this section. Pallets must be labeled according to the Line 1 and Line 2 information listed below and under M031.

a. 5-digit. Required, except optional for Standard Mail if 3/5 rates are not claimed.

(1) Line 1: use city, state abbreviation, and 5-digit ZIP Code destination (see M031 for military mail).

(2) Line 2: “STD MACH 5D” or “PSVC MACH 5D,” as applicable.

b. If DBMC rates are not claimed: BMC. Required.

(1) Line 1: use L601.

(2) Line 2: “STD MACH BMC” or “PSVC MACH BMC,” as applicable.

c. If DBMC rates are claimed: ASF/BMC. Option 1: Mailers may opt to sort mail to ASFs using L602 only when the mail on the ASF pallet will be deposited at the ASF to claim the DBMC rate. After ASF pallets are prepared (mail need not be sorted to all ASFs), remaining mail must be sorted to BMCs using L601. Mail on BMC pallets deposited at the applicable BMC facility will be eligible for DBMC rates only if its 3-digit ZIP Code prefix is listed in Exhibit E650.5.1 (Standard Mail) or Exhibit E751.1.3 (Parcel Post and Bound Printed Matter) for that entry BMC. Option 2: Mailers may sort mail only to BMCs using L601. Under option 2, only mail for 3-digit ZIP Codes served by a BMC listed in Exhibit E650.5.1 or Exhibit E751.1.3 are eligible for DBMC rates (i.e., mail for 3-digit ZIP Codes served by an ASF in Exhibit E650.5.1 or Exhibit E751.1.3 are not eligible for DBMC rates, nor are 3-digit ZIP Codes that do not appear on Exhibit E650.5.1 or Exhibit E751.1.3).

(1) Line 1: Option 1: use L602 for ASF pallets; use L601 for BMC pallets.

Option 2: use L601.

(2) Line 2: “STD MACH” or “PSVC MACH,” as applicable; followed by “ASF” or “BMC,” as applicable.

d. Mixed BMC. Optional.

(1) Line 1: “MXD,” followed by the information in L601, Column B, for the BMC serving the 3-digit ZIP Code prefix of the entry post office (label to plant serving entry post office if authorized by the processing and distribution manager).

(2) Line 2: “STD MACH” or “PSVC MACH,” as applicable, followed by “WKG.”

[Amend the title of 3.6 to read as follows:]

3.6 Presorted Media Mail and Library Mail

[Amend 3.6a(2) by changing “STD” and “STD B” to “PSVC.”]

[Amend 3.6b by changing “Destination BMC” to “BMC” and by changing “STD” and “STD B” to “PSVC.]

[Amend the heading of redesignated 4.0 by adding “To Protect SCF Pallet” and by replacing “Standard Mail (A)” with “Standard Mail” to read as follows:]

4.0 PACKAGE REALLOCATION TO PROTECT SCF PALLET FOR PERIODICALS FLATS AND IRREGULAR PARCELS AND STANDARD MAIL FLATS ON PALLETS

* * * * *

[The following section (M045.5.0) was originally added as M045.6.0 in the amended final rule published in 65 FR 48385 (August 8, 2000). The revisions below are revisions to the language in that final rule.]

[Amend the heading of redesignated 5.0 by replacing “Standard Mail (A)” with “Standard Mail” to read as follows:]

5.0 PACKAGE REALLOCATION TO PROTECT BMC PALLET FOR STANDARD MAIL FLATS ON PALLETS

* * * * *

6.0 PALLETS OF PACKAGES, SACKS, AND TRAYS

* * * * *

[Amend the heading of 6.2 to read as follows:]

6.2 Standard Mail

[Amend 6.2 by replacing the class name “Standard Mail (A)” with “Standard Mail”; no other changes to text.]

* * * * *

6.4 Commingled Zones

[Amend 6.4 by replacing “Standard Mail (B)” with “Package Services mail,” and by changing “M630” to “M710 or M720” to read as follows:]

Pieces of Package Services mail for different zones may be commingled only under M710 or M720.

* * * * *

[Amend the heading of 8.0 by replacing “Standard Mail (A)” with “Standard Mail” to read as follows:]

8.0 PALLETS OF COPALLETIZED PERIODICALS OR STANDARD MAIL FLAT-SIZE PIECES

* * * * *

[Amend the heading of 8.3 by replacing “Standard Mail (A)” with “Standard Mail” to read as follows:]

8.3 Standard Mail

[Amend the first sentence of 8.3 to read as follows:]

Additional standards apply to Standard Mail: * * *

* * * * *

8.5 Postage Statement

[Amend 8.5b by replacing “Standard Mail (A)” with “Standard Mail”; no other changes to text.]

* * * * *

9.0 PALLETS OF MACHINABLE PARCELS

[Amend the heading of 9.1 to remove the “(A)” to read as follows:]

9.1 Standard Mail

* * * * *

[Revise the heading of 9.2 to read as follows:]

9.2 Package Services

[Amend 9.2 by changing “M630” to “M710 and M720.”]

* * * * *

10.0 PARCEL POST—BULK MAIL CENTER (BMC) PRESORT DISCOUNT

10.1 Machinable Parcels

[Amend 10.1c by replacing the label class designation “STD B” with “PSVC” to read as follows:]

To qualify for the BMC Presort discount:

* * * * *

c. Pallet box Line 2 labeling: “PSVC MACH BMC.”

10.2 Nonmachinable Parcels

[Amend 10.2c by replacing the label class designation “STD B” with “PSVC” to read as follows:]

* * * * *

c. Pallet Line 2 labeling: “PSVC NON MACH BMC” or “PSVC NON MACH ASF,” as applicable.

11.0 PARCEL POST—ORIGIN BULK MAIL CENTER (OBMC) PRESORT DISCOUNT

11.1 Machinable Parcels

[Amend 11.1c by replacing the label class designation “STD B” with “PSVC” to read as follows:]

To qualify for the OBMC Presort discount:

* * * * *

c. Pallet box Line 2 labeling: “PSVC MACH BMC.”

11.2 Nonmachinable Parcels

[Amend 11.2c by replacing the label class designation “STD B” with “PSVC” to read as follows:]

To qualify for the OBMC Presort discount:

* * * * *

c. Pallet Line 2 labeling: “PSVC NON MACH BMC” or “PSVC NON MACH ASF,” as appropriate.

12.0 PARCEL POST DSCF RATES—PARCELS ON PALLETS

12.1 Basic Preparation, Parcels on Pallets

[Amend the first sentence of 12.1 by changing “M630” to “M710.”]

* * * * *

[Amend 12.1d(2) by replacing the label class designation “STD B” with “PSVC” and adding “PARCELS” to read as follows:]

* * * * *

(2) For Line 2, use: “PSVC PARCELS 5D.”

* * * * *

[Amend 12.1e by replacing “M630” with “M710.”]

12.2 Alternate Preparation, Parcels on Pallets

[Amend 12.2a by replacing “M630” with “M710.”]

* * * * *

[Amend 12.2c by replacing “M630” with “M710.”]

[Amend 12.2d(2) by replacing the label class designation “STD B” with “PSVC” and adding “PARCELS” to read as follows:]

* * * * *

(2) For Line 2, use: “PSVC PARCELS 5D.”

* * * * *

12.3 5-Digit ZIP Codes For Which Pallets May Not Be Prepared

[Amend 12.3 by changing “Exhibits E652.7.0 and E652.8.0” to “Exhibits E751.7.0 and E751.8.0” and by changing “M630” to “M710.”]

12.4 5-Digit ZIP Codes Requiring BMC Entry

[Amend 12.4 by changing “E652.6.0” to “E751.6.0.”]

13.0 PARCEL POST DSCF RATES—SACKS ON PALLETS

[Amend 13.0 by changing “M630” to “M710.”]

[Amend 13.0b by replacing the label class designation “STD B” with “PSVC” to read as follows:]

* * * * *

b. Line 2: “PSVC PP 5D SACKS”.

14.0 PARCEL POST DDU RATES

[Amend 14.0 by replacing “STD B” with “PSVC” and adding “PARCELS” in the fourth sentence to read as follows:]

* * * If pieces are sacked or palletized, they must be prepared to 5-digits and labeled as follows: Line 1 labeling, use city, state, and 5-digit ZIP Code destination; Line 2, use “PSVC PARCELS 5D.” * * *

* * * * *

M050 Delivery Sequence

* * * * *

4.0 DOCUMENTATION

4.1 General

[Amend 4.1 by changing the class name “Standard Mail (A)” to “Standard Mail” in the fifth sentence; no other changes to text.]

4.2 High Density

[Amend 4.2a by replacing “Standard Mail (A)” with “Standard Mail”; no other changes to text.]

* * * * *

M070 Mixed Classes

M071 Basic Information

1.0 MARKINGS

[Amend 1.1 and 1. 2 by replacing “Standard Mail (A)” with “Standard Mail”; no other changes to text.]

* * * * *

[Amend 1.3 by replacing “Standard Mail (A) Enclosed” with “Standard Mail Enclosed” and “Standard Mail parcel” with “Standard Mail and Package Services parcel”; no other changes to text.]

M072 Express Mail and Priority Mail Drop Shipment

* * * * *

2.0 ADDITIONAL STANDARDS FOR ENCLOSED MAIL

* * * * *

[Revise the heading and contents of 2.3 by changing “Standard Mail (A)” to “Standard Mail.”]

[Revise the heading of 2.4 to “Package Services” to read as follows:]

2.4 Package Services

[Amend 2.4 by changing “P710, P720, or P730” to “P910, P920, or P930” and by changing “E652” to “E751.”]

* * * * *

[Amend the heading of M073 to reflect the new class of mail names to read as follows:]

M073 Combined Mailings of Standard Mail and Package Services Parcels

1.0 COMBINED MACHINABLE PARCELS—RATES OTHER THAN PARCEL POST OBMC PRESORT, BMC PRESORT, DSCF, AND DDU

[Amend 1.1 by replacing “Standard Mail (A)” with “Standard Mail” and by replacing “Standard Mail (B)” with “Package Services”; no other changes to text.]

[Amend 1.2 by replacing “Standard Mail (A)” with “Standard Mail,” by replacing “Standard Mail (B)” with “Package Services mail,” and by replacing “Standard Mail” with “Standard Mail and Package Services”; no other changes to text.]

[Amend 1.4 and 1.5c by replacing “Standard Mail (A)” with “Standard Mail” and by replacing “Standard Mail (B)” with “Package Services”; no other changes to text.]

[Amend 1.6a by replacing “Standard Mail (A)” with “Standard Mail,” by changing “10 pieces/20 pounds/1,000 cubic inches” to “10 pieces or 20 pounds,” and by changing “Exhibits E651.5.1 and E652.1.3” to “Exhibits E650.5.1 and E751.1.3.”]

Amend 1.6b by replacing “STD A/B” with “STD/PSVC”; no other changes to text.]

2.0 COMBINED PARCELS—PARCEL POST OBMC PRESORT, BMC PRESORT, AND DSCF RATES

2.1 Qualification

[Amend 2.1a, b, and c by replacing “Standard Mail (A)” with “Standard Mail” and by replacing “Standard Mail (B)” with “Package Services”; no other changes to text.]

2.2 Authorization

[Amend 2.2 by replacing “Standard Mail (A)” with “Standard Mail” and by replacing “Standard Mail (B)” with “Package Services”; no other changes to text.]

2.3 Postage Payment

[Amend 2.3 by replacing “P710” with “P910.”]

2.4 Preparation and Rates

[Amend 2.4 by replacing “Standard Mail (A)” with “Standard Mail” and by replacing “Standard Mail (B)” with “Package Services”; no other changes to text.]

2.5 Documentation

[Amend 2.5 by replacing “Standard Mail (A)” with “Standard Mail” and by replacing “Standard Mail (B)” with “Package Services”; no other changes to text.]

* * * * *

M074 Plant Load Mailings

* * * * *

3.0 INTERSERVICE AREA PLANT-LOADED SHIPMENTS

* * * * *

[Revise heading of 3.4 to reflect the new mail class names to read as follows:]

3.4 Standard Mail and Package Services

[Amend 3.4 by replacing “Standard Mail” with “Standard Mail and Package Services”; no other changes to text.]

* * * * *

[Amend 3.7c by replacing “Standard Mail” with “Standard Mail and Package Services”; no other changes to text.]

* * * * *

M100 First-Class Mail (Nonautomation)

[Add new headings M110 and 1.0 to read as follows:]

M110 Single-Piece First-Class Mail

1.0 PREPARATION

[Redesignate E130.2.3 as M110.1.0; no changes to text.]

* * * * *

M600 Standard Mail

[Amend the heading of M610 by removing “(A)” to read as follows:]

M610 Presorted Standard Mail

1.0 BASIC STANDARDS

* * * * *

[Amend the heading and contents of 1.3 by replacing “Standard Mail (A)” with “Standard Mail”; no other changes to text.]

* * * * *

4.0 FLAT-SIZE PIECES AND IRREGULAR PARCELS

* * * * *

[Amend 4.6 by replacing “Standard Mail (A)” with “Standard Mail”; no other changes to text.]

* * * * *

[Amend 4.8 by replacing “STD A IRREG” with “STD IRREG” and by replacing “STD A MACH” with “STD MACH,” no other changes to text.]

5.0 MACHINABLE PARCELS

* * * * *

[Amend 5.3 by replacing “STD A MACH” with “STD MACH,” no other changes to text.]

[Delete 6.0 pertaining to preparation of bedloaded bundles of flats.]

M620 Enhanced Carrier Route Standard Mail

1.0 BASIC STANDARDS

1.1 All Mailings

[Amend 1.1a by replacing “E620” with “E630.”]

* * * * *

[Revise the heading of 1.4 to read as follows:]

1.4 Exception

[Amend 1.4 by replacing “Standard Mail (A)” with “Standard Mail.”]

* * * * *

4.0 SACK PREPARATION—FLAT-SIZE PIECES AND IRREGULAR PARCELS

* * * * *

[Amend 4.3 by replacing “STD A IRREG” with “STD IRREG,” no other changes to text.]

5.0 RESIDUAL PIECES

[Amend 5.0 by replacing “Standard Mail (A)” with “Standard Mail”; no other changes to text.]

[Delete 6.0 pertaining to preparation of bedloaded bundles of flats.]

[Add new section M700 to read as follows:]

M700 Package Services

[Redesignate M630.1.0 as M710 to read as follows:]

M710 Parcel Post

[Add new heading 1.0 to read as follows:]

1.0 BASIC REQUIREMENTS

[Add 1.1 to read as follows:]

1.1 General

All mailings at Parcel Post rates are subject to these general standards:

a. Each mailing must meet the applicable standards in E710, E711, E751, and M010 and M030.

b. All pieces that are palletized must be prepared under M045.

c. There are no presort, sacking, or labeling standards for single-piece rate Parcel Post.

[Redesignate M630.1.1 as M710.1.2, no changes to text.]

[Redesignate M630.1.2 as M710.1.3, amend to show DSCF and DDU rate mail need not be separated by zone, and amend for numbering revisions to read as follows:]

1.3 Separation

Except for mail entered at DSCF or DDU rates (which are not zoned rates), Parcel Post pieces must be separated by zones when presented for acceptance unless either the correct postage is affixed to each piece or the mailing is prepared under 1.4, or the mailing is presented under a special postage payment system under P910, P920, or P930. If DSCF sacks prepared under 2.2 are included in the same mailing as DSCF pallets prepared under M045.12.1e, then at the time of acceptance the mailer must separate the sacks that are overflow from palletized mail from those sacks that were prepared under the provisions of 2.2.

[Redesignate M630.8.0 as M710.1.4; amend to delete references to Bound Printed Matter to read as follows:]

1.4 Commingled Zones

Zoned Parcel Post pieces need not be separated by zones when presented for verification, other than as individual pieces or with full correct postage affixed to each piece, subject to this section. Nonidentical-weight pieces not bearing the full correct postage may not be commingled unless authorized by the RCSC manager serving the office of mailing. The mail must be prepared and documented under either of the following:

a. P910 or P930; or

b. All of these conditions:

(1) A unique number is assigned to each sack/pallet in the mailing and printed on a separate line at the top of the sack/pallet label (above the Line 1 information).

(2) A detailed list accompanies each mailing or mailing segment, sequenced numerically by the numbers assigned to sacks/pallets in the mailing, that shows the post office where the mail is to be entered (entry post office), a unique identifier for the mailing or mailing segment that also appears on the corresponding postage statement(s), the name and address of the mailer, the permit number (if applicable), the date of mailing, individual line entries for each sack/pallet, and the total number of pieces to each zone and in the entire mailing or mailing segment. Line entries for sacks/pallets containing mail for only one zone must show the sack/pallet number, the sortation level, the zone for which the mail is destined, and the total number of pieces for the sack/pallet. Entries for sacks/pallets containing mail for more than one zone must also show (by zone) the number of pieces to each 3-digit ZIP Code area and the total number of pieces for that zone for the sack/pallet. Mailings are not accepted if there are discrepancies between the information in the detailed listing or on the postage statement and the results of USPS random verification of piece counts and postage.

* * * * *

[Redesignate M630.1.3 as M710.1.5, and amend by changing references from “P710, P720, or P730” to “P910, P920, or P930,” and clarifying to read as follows:]

1.5 Documentation

Parcel Post mailings must be documented as follows:

a. Postage Statement. A complete, signed postage statement, using the correct USPS form or an approved facsimile, must accompany each bulk mailing (a mailing that includes pieces qualifying for rates that require a 50-piece minimum volume requirement).

b. Other Documentation. When presented for acceptance, documentation of postage by entry office and presort level (e.g., by BMC for DBMC, OBMC Presort, and BMC Presort mail and by 5-digit ZIP Code for DSCF and DDU rates) is required under P910, P920, or P930. Except for DSCF rate mail palletized under the alternate preparation option that requires separate documentation, other documentation is not required when the correct rate is affixed to each piece, or when each piece is of identical weight and the pieces are separated by zone and within each zone are grouped by pieces subject to the same combination of rates. DSCF rate mail palletized under the alternate preparation option in M045 must submit the detailed documentation required in M045.12.2.

[Add 2.0 to read as follows:]

2.0 DSCF RATE

2.1 General

[Redesignate contents of M630.1.4 as M710.2.1; amend by changing the reference “1.5” to “2.2,” by changing the reference “Exhibit E652.6.0” to “Exhibit E751.6.0,” and by changing the reference to “Exhibit E652.7.0 and Exhibit E652.8.0” to “Exhibit E751.7.0 and Exhibit E751.8.0”; no other changes to text.]

2.2 DSCF Sack Preparation

[Redesignate M630.1.5 as M710.2.2; amend redesignated 2.2d by replacing “STD B 5D” with “PSVC PARCELS 5D”; no other changes to text.]

3.0 DDU RATE

[Redesignate M630.1.6 as M710.3.0; amend redesignated 3.0b by changing “E652” to “E751”; amend redesignated 3.0d by changing “Exhibit E652.7.0 and Exhibit E652.8.0” to “Exhibit E751.7.0 and Exhibit E751.8.0”; amend redesignated 3.0e(2) by changing “STD B 5D” with “PSVC PARCELS 5D,” no other changes to text.]

[Add 4.0 to read as follows:]

4.0 OPTIONAL MACHINABLE PARCEL PREPARATION

4.1 Basic Standards

Mailers may opt to prepare Parcel Post machinable parcels in sacks under 4.2 or on pallets under M045. Pieces must be separated by zones when presented to the USPS unless either the correct postage is affixed to each piece or the mailing is prepared under 1.4. Pieces for more than one zone may not be placed in the same sack, and sacks must be separated by zone when presented to the USPS.

4.2 Sack Preparation

Sack size, preparation sequence, and Line 1 labeling:

a. 5-digit: required (minimum of 10 pieces/20 pounds, smaller volume not permitted); for Line 1, use 5-digit ZIP Code destination of pieces (see M031 for military mail).

b. Destination ASF: optional; allowed only for mail deposited at an ASF to claim the DBMC rate (minimum of 10 pieces/20 pounds, smaller volume not permitted); for Line 1, use L602. Exhibit E751.1.3d determines DBMC rate eligibility.

c. Destination BMC: required (minimum of 10 pieces/20 pounds, smaller volume not permitted); for Line 1, use L601. Exhibit E751.1.3d determines DBMC rate eligibility.

d. Mixed BMC: required (no minimum); for Line 1, use “MXD” followed by the Column B information in L601 for the BMC serving the 3-digit ZIP Code prefix of the entry post office.

4.3 Sack Line 2

Line 2:

a. 5-digit: “PSVC MACH 5D.”

b. ASF: “PSVC MACH ASF.”

c. Destination BMC: “PSVC MACH BMC.”

d. Mixed BMC: “PSVC MACH WKG.”

* * * * *

[Add new M720 to read as follows:]

M720 Bound Printed Matter

M721 Single Piece Rates

1.0 BASIC STANDARDS

1.1 General

There are no presort, sacking, or labeling standards for single-piece rate Bound Printed Matter (BPM).

1.2 Markings

Each piece mailed at single-piece BPM rates must be marked “Bound Printed Matter” (or “BPM”) subject to M012.

M722 Presorted Bound Printed Matter

1.0 BASIC STANDARDS

1.1 General

All mailings of Presorted Bound Printed Matter (BPM) are subject to the standards in 2.0 through 4.0 and to these general standards:

a. Each mailing must meet the applicable standards in E710, E712, E752, and in M010, M020, and M030.

b. All pieces in a mailing must be within the same processing category as described in C050. A BPM irregular parcel is a piece that is not a machinable parcel as defined in C050.4.1 or a flat as defined in C050.3.1. Irregular parcels also are pieces that meet the size and weight standards for a machinable parcel but are not individually boxed or packaged to withstand processing on BMC parcel sorters under C010.

c. All pieces must be sorted to the finest extent possible under 2.0 through 4.0 or palletized under M045.

d. Subject to M012, pieces must be marked “Bound Printed Matter” (or “BPM”) and “Presorted” (or “PRSRT”).

1.2 Documentation

A complete, signed postage statement, using the correct USPS form or an approved facsimile, must accompany each mailing. Documentation of postage is not required if the correct rate is affixed to each piece or if each piece is of identical weight and the pieces are separated by rate (zone) when presented for acceptance.

1.3 Separation

Pieces for each zone must be sacked separately. When presented for verification, sacks must be separated by zone. Exception: Pieces for different zones may be sacked together and the sacks do not have to be separated by zone for verification if any of the following apply:

a. Full (exact) postage is affixed to each piece in the mailing.

b. The mailing is prepared under P910, P930, or 1.4.

1.4 Commingling Zones

Zone rated BPM need not be separated by zones when presented other than as individual pieces or with full correct postage affixed to each piece, subject to this section. Nonidentical-weight pieces not bearing the full correct postage may not be commingled unless authorized by the RCSC manager serving the office of mailing. The mail must be prepared and documented:

a. Under P910 or P930; or

b. Under all these conditions:

(1) A unique number is assigned to each pallet in the mailing and printed on a separate line at the top of the pallet label (above the Line 1 information).

(2) A detailed list accompanies each mailing or mailing segment, sequenced numerically by the numbers assigned to the pallets in the mailing, that shows the post office where the mail is to be entered (entry post office), a unique identifier for the mailing or mailing segment that also appears on the corresponding postage statement, the name and address of the mailer, the permit number, the date of mailing, individual line entries for each pallet, and the total number of pieces to each zone in the entire mailing or mailing segment. Line entries for pallets containing mail for only one zone must show the pallet number, the sortation level, the zone for which the mail is destined, and the total number of pieces for the pallet. Entries for pallets containing mail for more than one zone must also show (by zone) the number of pieces to each 3-digit ZIP Code area and the total number of pieces for that zone for the pallet. Mailings are not accepted if there are discrepancies between the information in the detailed listing or on the postage statement and the results of USPS random verification of piece counts and postage.

2.0 REQUIRED PREPARATION—FLATS

2.1 Required Packaging

A package must be prepared when the quantity of addressed pieces for a required presort level reaches a minimum of 10 pieces or 10 pounds, whichever occurs first. Smaller volumes are not permitted except for mixed ADC packages. The maximum weight of each physical package is 20 pounds, except that 5-digit packages placed in 5-digit sacks may weigh a maximum of 40 pounds each. Each physical package must contain at least 2 addressed pieces (except mixed ADC packages). Packaging also is subject to these conditions:

a. Identical-weight pieces that weigh 1 pound or less must be prepared using the 10-piece minimum; those that weigh more than 1 pound must be prepared using the 10-pound minimum.

b. For nonidentical-weight pieces, mailers must use either the minimum that applies to the average piece weight for the entire mailing (divide the net weight of the mailing by the number of pieces; the resulting average single-piece weight determines whether the 10-piece or 10-pound minimum applies), or package by the actual piece count or mail weight for each package, if documentation can be provided with the mailing that shows the number of pieces and their total weight.

c. Mailers must note on the accompanying postage statement whether they applied the piece count, weight, or both.

2.2 Package Preparation

Packages must be prepared and labeled in the following required sequence:

a. 5-digit: required; red Label D or optional endorsement line (OEL).

b. 3-digit: required; green Label 3 or OEL.

c. ADC: required; pink Label A or OEL.

d. Mixed ADC: required (no minimum); tan Label MXD or OEL.

2.3 Required Sacking

A sack must be prepared when the quantity of mail for a required presort destination reaches either 20 addressed pieces or 20 pounds, whichever occurs first. Smaller are volumes not permitted (except mixed ADC sacks). Optional SCF sacks may only be prepared when there are at least 20 addressed pieces or 20 pounds, whichever occurs first. Smaller volumes are not permitted. Sacking also is subject to these conditions:

a. Identical-weight pieces that weigh 1 pound or less must be prepared using the 20-piece minimum; those that weigh more than 1 pound must be prepared using the 20-pound minimum.

b. For nonidentical-weight pieces, mailers must use either the minimum that applies to the average piece weight for the entire mailing (divide the net weight of the mailing by the number of pieces; the resulting average single-piece weight determines whether the 20-piece or 20-pound minimum applies), or sack by the actual piece count or mail weight for each sack, if documentation can be provided with the mailing that shows (specifically for each sack) the number of pieces and their total weight.

c. Mailers must note on the accompanying postage statement whether they applied the piece count or weight.

2.4 Sack Preparation

Required sequence and Line 1 sack labeling:

a. 5-digit: required; for Line 1, use 5-digit ZIP Code destination of packages (for military mail, the ZIP Code is preceded by the prefixes under M031).

b. 3-digit: required; for Line 1, use L002, Column A.

c. SCF: optional; for Line 1, use L005, Column B.

d. ADC: required; for Line 1, use L004, Column B.

e. Mixed ADC: required (no minimum); for Line 1, use “MXD” followed by the city/state/ZIP Code of the ADC serving the 3-digit ZIP Code of the entry post office, as shown in L004, Column B.

2.5 Sack Label Line 2

Line 2 information:

a. 5-digit: “PSVC FLATS 5D NON BC.”

b. 3-digit: “PSVC FLATS 3D NON BC.”

c. SCF: “PSVC FLATS SCF NON BC.”

d. ADC: “PSVC FLATS ADC NON BC.”

e. Mixed ADC: “PSVC FLATS NON BC WKG.”

3.0 REQUIRED PREPARATION—IRREGULAR PARCELS WEIGHING LESS THAN 10 POUNDS

3.1 Required Packaging

Packaging is not required for pieces placed in 5-digit sacks when such pieces are enclosed in an envelope, full-length sleeve, full-length wrapper, or polybag, and the minimum package size is met. Otherwise, a package must be prepared when the quantity of addressed pieces for a required presort level reaches a minimum of 10 pieces or 10 pounds, whichever occurs first. Smaller volumes are not permitted (except mixed ADC packages). The maximum weight of each physical package is 20 pounds, except that 5-digit packages placed in 5-digit sacks or prepared for and entered at DDU rates may weigh a maximum of 40 pounds each. Each physical package must contain at least 2 addressed pieces (except mixed ADC packages). Packaging also is subject to these conditions:

a. Identical-weight pieces that weigh 1 pound or less must be prepared using the 10-piece minimum; those that weigh more than 1 pound must be prepared using the 10-pound minimum.

b. For nonidentical-weight pieces, mailers must either use the minimum that applies to the average piece weight for the entire mailing (divide the net weight of the mailing by the number of pieces; the resulting average single-piece weight determines whether the 10-piece or 10-pound minimum applies), or package by the actual piece count or mail weight for each sack, if documentation can be provided with the mailing that shows the number of pieces and their total weight.

c. Mailers must note on the accompanying postage statement whether they applied the piece count, weight, or both.

3.2 Package Preparation

Packages must be prepared and labeled in the following required sequence:

a. 5-digit: required; red Label D or optional endorsement line (OEL).

b. 3-digit: required; green Label 3 or OEL.

c. ADC: required; pink Label A or OEL.

d. Mixed ADC: required; (no minimum): tan Label MXD or OEL.

3.3 Required Sacking

A sack must be prepared when the quantity of mail for a required presort destination reaches either 10 addressed pieces or 20 pounds, whichever occurs first. Smaller volumes are not permitted (except mixed ADC sacks). Optional SCF sacks may only be prepared when there are at least 10 addressed pieces or 20 pounds, whichever occurs first. Smaller volumes are not permitted. Sacking also is subject to these conditions:

a. Identical-weight pieces weighing two pounds or less must be prepared using the 10-piece minimum, those that weigh more must be prepared using the 20-pound minimum.

b. For nonidentical-weight pieces, mailers must use either the minimum that applies to the average piece weight for the entire mailing (divide the net weight of the mailing by the number of pieces; the resulting average single-piece weight determines whether the 10-piece or 20-pound minimum applies). Alternatively, sack by the actual piece count or mail weight for each package destination, provided that documentation can be provided with the mailing that shows (specifically for each sack) the number of pieces and their total weight.

c. Mailers must note on the accompanying postage statement whether they applied the piece count or weight.

3.4 Sack Preparation

Required sequence and Line 1 labeling:

a. 5-digit: required; for Line 1, use 5-digit ZIP Code destination of packages (for military mail, the ZIP Code is preceded by the prefixes under M031).

b. 3-digit: required; for Line 1, use L002, Column A.

c. SCF: optional; for Line 1, use L005, Column B.

d. ADC: required; for Line 1, use L004, Column B.

e. Mixed ADC: required (no minimum); for Line 1, use “MXD” followed by the city/state/ZIP Code of the ADC serving the 3-digit ZIP Code of the entry post office, as shown in L004, Column B.

3.5 Sack Label Line 2

Line 2 information:

a. 5-digit: “PSVC IRREG 5D.”

b. 3-digit: “PSVC IRREG 3D.”

c. SCF: “PSVC IRREG SCF.”

d. ADC: “PSVC IRREG ADC.”

e. Mixed ADC: “PSVC IRREG WKG.”

3.6 Exception to Sacking

Sacking is not required for 5-digit packages when prepared for and entered at DDU rates; such packages may be bedloaded and may weigh up to 40 pounds.

4.0 REQUIRED PREPARATION—IRREGULAR PARCELS WEIGHING 10 POUNDS OR MORE

4.1 Piece Preparation

Each piece must be enclosed in an envelope, full-length sleeve, full-length wrapper, or polybag. Packaging is not permitted for pieces weighing 10 pounds or more except under 4.5.

4.2 Required Sacking

A sack must be prepared when the quantity of mail for a required presort destination reaches 20 pounds. Smaller volumes are not permitted (except mixed ADC sacks). Optional SCF sacks may be prepared only when there are at least 20 pounds. Smaller volumes are not permitted.

4.3 Sack Preparation

Required sequence and Line 1 labeling:

a. 5-digit: required; for Line 1, use 5-digit ZIP Code destination of packages (for military mail, the ZIP Code is preceded by the prefixes under M031).

b. 3-digit: required; for Line 1, use L002, Column A.

c. SCF: optional; for Line 1, use L005, Column B.

d. ADC: required; for Line 1, use L004, Column B.

e. Mixed ADC: required (no minimum); for Line 1, use “MXD” followed by the city/state/ZIP Code of the ADC serving the 3-digit ZIP Code of the entry post office, as shown in L004, Column B.

4.4 Sack Label Line 2

Line 2 information:

a. 5-digit: “PSVC IRREG 5D.”

b. 3-digit: “PSVC IRREG 3D.”

c. SCF: “PSVC IRREG SCF.”

d. ADC: “PSVC IRREG ADC.”

e. Mixed ADC: “PSVC IRREG WKG.”

4.5 Exception to Sacking

Pieces may be prepared only in 5-digit packages when entered at DDU rates; such packages may be bedloaded and may weigh up to 40 pounds.

5.0 REQUIRED PREPARATION—MACHINABLE PARCELS

5.1 Required Sacking DBMC Rates Not Claimed

A sack must be prepared when the quantity of parcels for a required presort destination reaches either 10 addressed pieces or 20 pounds, whichever occurs first. Smaller volumes are not permitted (except origin (mixed) BMC sacks). Sacking also is subject to these conditions:

a. Identical-weight pieces that weigh two 2 pounds or less must be prepared using the 10-piece minimum; those that weigh more must be prepared using the 20-pound minimum.

b. For nonidentical-weight pieces, mailers must use either the minimum that applies to the average piece weight for the entire mailing (divide the net weight of the mailing by the number of pieces; the resulting average single-piece weight determines whether the 10-piece or 20-pound minimum applies) or sack by the actual piece count or mail weight for each package destination, provided that documentation can be provided with the mailing that shows (specifically for each sack) the number of pieces and their total weight.

c. Mailers must note on the accompanying postage statement whether they applied the piece count or weight.

5.2 Sack Preparation DBMC Rates Not Claimed

Required sequence and Line 1 labeling:

a. 5-digit: required; for Line 1, use 5-digit ZIP Code destination of parcels (for military mail, the ZIP Code is preceded by the prefixes under M031).

b. BMC: required; for Line 1, use L601, Column B.

c. Origin (mixed) BMC: required (no minimum); for Line 1, “MXD” followed by the information in L601, Column B, for the BMC serving the 3-digit ZIP Code of the entry post office.

5.3 Sack Label Line 2 DBMC Rates Not Claimed

Line 2 information:

a. 5-digit: “PSVC MACH 5D.”

b. BMC: “PSVC MACH BMC.”

c. Mixed BMC: “PSVC MACH WKG.”

5.4 Required Sacking for DBMC Rates

A sack must be prepared when the quantity of parcels for a required presort destination reaches either 10 addressed pieces or 20 pounds, whichever occurs first. Smaller volumes are not permitted (except origin (mixed) BMC sacks). Optional ASF sacks, if prepared, also must meet the minimum sack volume requirement. See E752 for DBMC rate eligibility. Sacking also is subject to these conditions:

a. Identical-weight pieces that weigh two pounds or less must be prepared using the 10-piece minimum; those that weigh more must be prepared using the 20-pound minimum.

b. For nonidentical-weight pieces, mailers must either use the minimum that applies to the average piece weight for the entire mailing (divide the net weight of the mailing by the number of pieces; the resulting average single-piece weight determines whether the 10-piece or 20-pound minimum applies) or sack by the actual piece count or mail weight for each sack destination, provided that documentation can be provided with the mailing that shows (specifically for each sack) the number of pieces and their total weight.

c. Mailers must note on the accompanying postage statement whether they applied the piece count or weight.

5.5 Sack Preparation for DBMC Rates

Required sequence and line 1 labeling:

a. 5-digit: required; for Line 1, use 5-digit ZIP Code destination of parcels (for military mail, the ZIP Code is preceded by the prefixes under M031).

b. ASF: optional, allowed only for mail deposited at an ASF to claim DBMC rate; for Line 1, use L602. DBMC rate eligibility is determined by E752 and Exhibit E751.5.0.

c. BMC: required; for Line 1, use L601, Column B. DBMC rate eligibility is determined by E752 and Exhibit E751.5.0.

d. Origin (mixed) BMC: required (no minimum); for Line 1, “MXD” followed by the information in L601, Column B, for the BMC serving the 3-digit ZIP Code of the entry post office.

5.6 Sack Label Line 2 for DBMC Rates

Line 2 information:

a. 5-digit: “PSVC MACH 5D.”

b. ASF: “PSVC MACH ASF.”

c. BMC: “PSVC MACH BMC.”

d. Mixed BMC: “PSVC MACH WKG.”

M723 Carrier Route Bound Printed Matter

1.0 BASIC STANDARDS

1.1 General

All mailings of Carrier Route Bound Printed Matter (BPM) are subject to the standards in 2.0 through 4.0 and to these general standards:

a. Each mailing must meet the applicable standards in E710, E712, E752, and in M010, M020, and M030.

b. All pieces in a mailing must be within the same processing category as described in C050. A BPM irregular parcel is a piece that is not a machinable parcel as defined in C050.4.1 or a flat as defined in C050.3.1. Irregular parcels also are pieces that meet the size and weight standards for a machinable parcel but are not individually boxed or packaged to withstand processing on BMC parcel sorters under C010.

c. All pieces must be sorted to the finest extent possible under 2.0 through 4.0 or palletized under M045.

d. Subject to M012, pieces must be marked “Bound Printed Matter” (or “BPM”) and “Carrier Route Presort” (or “CAR-RT SORT”).

1.2 Documentation

A complete, signed postage statement, using the correct USPS form or an approved facsimile, must accompany each mailing. Documentation of postage is not required if the correct rate is affixed to each piece or if each piece is of identical weight and the pieces are separated by rate (zone) when presented for acceptance.

1.3 Separation

Pieces for each zone must be sacked separately. When presented for verification, sacks must be separated by zone. Exception: Pieces for different zones may be sacked together and the sacks do not have to be separated for verification if any of the following apply:

a. Full postage is affixed to each piece in the mailing.

b. The mailing is prepared under P910, P930 or 1.4.

1.4 Commingling Zones

Zone rated BPM need not be separated by zones when presented other than as individual pieces or with full correct postage affixed to each piece, subject to this section. Nonidentical-weight pieces not bearing the full correct postage may not be commingled unless authorized by the RCSC manager serving the office of mailing. The mail must be prepared and documented:

a. Under P910 or P930; or

b. Under all these conditions:

(1) A unique number is assigned to each pallet in the mailing and printed on a separate line at the top of the pallet label (above the Line 1 information).

(2) A detailed list accompanies each mailing or mailing segment, sequenced numerically by the numbers assigned to the pallets in the mailing, that shows the post office where the mail is to be entered (entry post office), a unique identifier for the mailing or mailing segment that also appears on the corresponding postage statement, the name and address of the mailer, the permit number (if applicable), the date of mailing, individual line entries for each pallet, and the total number of pieces to each zone and in the entire mailing or mailing segment. Line entries for pallets containing mail for only one zone must show the pallet number, the sortation level, the zone for which the mail is destined, and the total number of pieces for the pallet. Entries for pallets containing mail for more than one zone must also show (by zone) the number of pieces to each 3-digit ZIP Code area and the total number of pieces for that zone for the pallet. Mailings are not accepted if there are discrepancies between the information in the detailed listing or on the postage statement and the results of USPS random verification of piece counts and postage.

1.5 Residual Pieces

Residual pieces not sorted under 2.0, 3.0, or 4.0 may be prepared as a Presorted Bound Printed Matter mailing under M722 provided that they are part of the same mailing job and reported on the same postage statement. Residual pieces paid at the Presorted rate do not need to meet a separate 300 piece minimum. These pieces must be separated from the Carrier Route portion when presented to the USPS for verification. Presorted flats weighing 1 pound or less are not eligible for DDU rates.

2.0 REQUIRED PREPARATION—FLATS

2.1 Required Packaging

A carrier route package (or packages) must be prepared when there are 10 or more addressed pieces or 10 or more pounds, whichever occurs first, for an individual carrier route. Smaller volumes are not permitted. The maximum weight of each physical package is 40 pounds. Each package must contain at least 2 addressed pieces except for the last package for each carrier route destination under M020. Packages must be labeled with a facing slip unless the package is labeled using a carrier route information line (M014) or an optional endorsement line (M013). Packaging also is subject to these conditions:

a. Identical-weight pieces that weigh 1 pound or less must be prepared using the 10-piece minimum; those that weigh more than 1 pound must be prepared using the 10-pound minimum.

b. For nonidentical-weight pieces, mailers must use either the minimum that applies to the average piece weight for the entire mailing (divide the net weight of the mailing by the number of pieces; the resulting average single-piece weight determines whether the 10-piece or 10-pound minimum applies), or package by the actual piece count or mail weight for each package, if documentation can be provided with the mailing that shows the number of pieces and their total weight.

c. Mailers must note on the accompanying postage statement whether they applied the piece count, weight, or both.

2.2 Required Sacking

A direct carrier route sack must be prepared when the quantity of mail for an individual carrier route reaches a minimum of 20 addressed pieces or 20 pounds, whichever occurs first. Smaller volumes are not permitted. Remaining packages must be placed in a 5-digit scheme carrier routes sack and/or a 5-digit carrier routes sack, which have no minimum sack size. Carrier route sacking also is subject to these conditions:

a. Identical-weight pieces that weigh 1 pound or less must be prepared using the 20-piece minimum; those that weigh more than 1 pound must be prepared using the 20-pound minimum.

b. For nonidentical-weight pieces, mailers must use either the minimum that applies to the average piece weight for the entire mailing (divide the net weight of the mailing by the number of pieces; the resulting average single-piece weight determines whether the 20-piece or 20-pound minimum applies), or sack by the actual piece count or mail weight for each sack, if documentation can be provided with the mailing that shows (specifically for each sack) the number of pieces and their total weight.

c. Mailers must note on the accompanying postage statement whether they applied the piece count or weight.

2.3 Sack Preparation

Preparation sequence and Line 1 sack labeling:

a. Carrier route: required; for Line 1, use 5-digit ZIP Code destination of packages (for military mail, the ZIP Code is preceded by the prefixes under M031).

b. 5-digit scheme carrier routes: optional (no minimum); for Line 1, use L001, Column B.

c. 5-digit carrier routes: required (no minimum); for Line 1, use 5-digit ZIP Code destination of packages (see M031 for military mail).

2.4 Sack Label Line 2

Line 2 information:

a. Carrier route: “PSVC FLATS CR,” followed by the route type and number.

b. 5-digit scheme carrier routes: “PSVC FLATS CR-RTS SCH.”

c. 5-digit carrier routes: “PSVC FLATS CR-RTS.”

2.5 Exception to Sacking

Sacking is not required for packages that are prepared for and entered at DDU rates; such packages may be bedloaded and may weigh up to 40 pounds each.

3.0 REQUIRED PREPARATION—IRREGULAR PARCELS WEIGHING LESS THAN 10 POUNDS

3.1 Package Preparation

Packaging is not required in direct carrier route sacks. Otherwise, a carrier route package (or packages) must be prepared when the quantity of addressed pieces for a carrier route reaches a minimum of 10 pieces or 20 pounds, whichever occurs first. Smaller volumes are not permitted. The maximum weight of each physical package is 40 pounds. Each package must contain at least 2 addressed pieces except for the last package for each carrier route destination under M020. Packages must be labeled with a facing slip unless the package is labeled using a carrier route information line (M014) or an optional endorsement line (M013). Packaging also is subject to these conditions:

a. Identical-weight pieces that weigh two pounds or less must be prepared using the 10-piece minimum; those that weigh more must be prepared using the 20-pound minimum.

b. For nonidentical-weight pieces, mailers must either use the minimum that applies to the average piece weight for the entire mailing (divide the net weight of the mailing by the number of pieces; the resulting average single-piece weight determines whether the 10-piece or 20-pound minimum applies), or package by the actual piece count or mail weight for each package destination, provided that documentation can be provided with the mailing that shows (specifically for each package) the number of pieces and their total weight.

c. Mailers must note on the accompanying postage statement whether they applied the piece count, weight, or both.

3.2 Required Sacking

A direct carrier route sack must be prepared when the quantity of mail for an individual carrier route reaches a minimum of 10 addressed pieces or 20 pounds, whichever occurs first. Smaller volumes are not permitted. Remaining packages must be placed in 5-digit carrier routes sacks, which have no minimum sack size. Carrier route sacks also are subject to these conditions:

a. Identical-weight pieces that weigh two pounds or less must be prepared using the 10-piece minimum; those that weigh more must be prepared using the 20-pound minimum.

b. For nonidentical-weight pieces, mailers must either use the minimum that applies to the average piece weight for the entire mailing (divide the net weight of the mailing by the number of pieces; the resulting average single-piece weight determines whether the 10-piece or 20-pound minimum applies), or sack by the actual piece count or mail weight for each sack destination, provided that documentation can be provided with the mailing that shows (specifically for each sack) the number of pieces and their total weight.

c. Mailers must note on the accompanying postage statement whether they applied the piece count or weight.

3.3 Sack Preparation

Sack preparation sequence and Line 1 labeling:

a. Carrier route: required; for Line 1, use 5-digit ZIP Code destination of packages (for military mail, the ZIP Code is preceded by the prefixes under M031).

b. 5-digit carrier routes: required (no minimum); for Line 1, use 5-digit ZIP Code destination of packages (for military mail, the ZIP Code is preceded by the prefixes under M031).

3.4 Sack Label Line 2

Line 2 information:

a. Carrier route: “PSVC IRREG CR,” followed by the route type and number.

b. 5-digit carrier routes: “PSVC IRREG CR-RTS.”

3.5 Exception to Sacking

Sacking is not required for packages when prepared for and entered at DDU rates; such packages may be bedloaded and may weigh up to 40 pounds.

4.0 REQUIRED PREPARATION—IRREGULAR PARCELS WEIGHING 10 POUNDS OR MORE

4.1 Carrier Route Sack Preparation

Irregular parcels must be prepared only in direct carrier route sacks. Each carrier route sack must contain a minimum of 20 pounds. Smaller volumes not permitted. Required preparation:

a. Line 1: use 5-digit ZIP Code destination of the pieces.

b. Line 2: “PSVC IRREG CR,” followed by the route type and number.

5.0 REQUIRED PREPARATION—MACHINABLE PARCELS

5.1 Required Carrier Route Sacking

Machinable parcels may be prepared only in direct carrier route sacks. Each carrier route sack must contain a minimum of 10 addressed pieces or 20 pounds, whichever occurs first. Smaller volumes are not permitted. Carrier route sacks also are subject to these conditions:

a. Identical-weight pieces that weigh two pounds or less must be prepared using the 10-piece minimum; those that weigh more must be prepared using the 20-pound minimum.

b. For nonidentical-weight pieces, mailers must use either the minimum that applies to the average piece weight for the entire mailing (divide the net weight of the mailing by the number of pieces; the resulting average single-piece weight determines whether the 10-piece or 20-pound minimum applies), or sack by the actual piece count or mail weight for each sack destination, provided that documentation can be provided with the mailing that shows (specifically for each sack) the number of pieces and their total weight.

c. Mailers must note on the accompanying postage statement whether they applied the piece count or weight.

5.2 Sack Label

Required preparation:

a. Line 1: Use 5-digit ZIP Code destination of the pieces.

b. Line 2: “PSVC MACH CR,” followed by the route type and number.

* * * * *

[Add new heading M730 to read as follows:]

M730 Media Mail

[Add heading 1.0 to read as follows:]

1.0 BASIC STANDARDS

[Redesignate M630.4.1 through M630.4.3 as M730.1.1 through M730.1.3, respectively.]

[Amend the heading of redesignated 1.1 to read as follows:]

1.1 General

[Revise redesignated 1.1 to read as follows:]

There are no presort, sacking, or labeling standards for single-piece Media Mail. Presorted Media Mail must be prepared under 2.0 unless prepared on pallets under M045, or as outside parcels under E713. Mailings of nonmachinable (outside) parcels eligible for presort rates must be prepared to preserve the required presort as instructed by the mailing office postmaster.

1.2 Marking

[Amend redesignated 1.2 by changing “Special Standard Mail” with “Media Mail” and “SPEC STD” with “Media Mail”; no other changes to text.]

* * * * *

[Add new heading 2.0 to read as follows:]

2.0 PREPARATION

[Redesignate M630.4.4 through M630.4.6 as M730.2.1 through M730.2.3, respectively.]

[Amend the heading of redesignated 2.1 to read as follows:]

2.1 Sacks or Packages on Pallet Preparation (5-Digit Rate)

[Amend 2.1 to read as follows:]

Five-digit sack or package size (for packages on pallets) and labeling: 5-digit (only); required (minimum of eight pieces/20 pounds, smaller volume not permitted); 40-pound maximum for packages on pallets; no label required on packages; on sacks, use 5-digit ZIP Code destination of pieces for Line 1, preceded for military mail by the prefixes under M031.

2.2 Sack Preparation (BMC Rate)

[Amend redesignated M730.2.2 by removing “/1,000 cubic inches.”]

2.3 Sack Line 2

[Amend redesignated M730.2.3a and 2.3b by replacing “STD” and “STD B” with “PSVC”; no other changes to text.]

* * * * *

[Add new heading M740 to read as follows:]

M740 Library Mail

[Add heading 1.0 to read as follows:]

1.0 BASIC STANDARDS

[Redesignate M630.5.1 through M630.5.3 as M7401.1 through M740.1.3, respectively.]

1.1 General

[Amend redesignated M740.1.1 by replacing “E630.5.0” with “E714”; no other changes to text.]

1.2 Marking

[Amend redesignated 1.2 to eliminate “Library Rate” as an optional marking in the first sentence and delete the last sentence to read as follows:]

Each piece claimed at Library Mail rates must be marked “Library Mail” under M012. Each piece claimed at presorted Library Mail rates also must be marked “Presorted” or “PRSRT” under M012.

* * * * *

[Add new heading 2.0 to read as follows:]

2.0 PREPARATION

[Redesignate M630.5.4 through M630.5.6 as M740.2.1 through M740.2.3, respectively.]

2.1 Sack Preparation (5-Digit Rate)

[Amend redesignated 2.1 by removing “/1,000 cubic inches”.]

2.2 Sack Preparation (BMC Rate)

[Amend redesignated 2.2 by removing “/1,000 cubic inches”.]

2.3 Sack Line 2

[Amend redesignated M740.2.3a and M740.2.3b by replacing “STD” and “STD B” with “PSVC”; no other changes to text.]

* * * * *

M800 All Automation Mail

* * * * *

M820 Flat-Size Mail

1.0 BASIC STANDARDS

* * * * *

1.2 Mailings

[Amend 1.2 by revising the second and third sentences to read as follows:]

* * * First-Class Mail and Periodical mailings may include pieces prepared at automation 5-digit, 3-digit, and basic rates, as applicable. Standard Mail mailings may include pieces prepared at automation 3/5 and basic rates. * * *

* * * * *

1.5 Package Preparation

[Amend the first sentence of 1.5 by adding the exception to read as follows; and amend the fourth sentence by replacing “3.1 or 4.1” with “4.1 or 5.1.”]

Except for First-Class Mail prepared under 3.0, all pieces must be prepared in packages. * * *

* * * * *

[Add new 1.11 to read as follows:]

1.11 Tray-Based Preparation

For First-Class Mail prepared under the tray-based option in 3.0, mailers may not combine FSM 881 and FSM 1000 pieces in the same mailing.

* * * * *

[Revise 2.0 heading to read as follows:]

2.0 FIRST-CLASS MAIL—REQUIRED PACKAGE-BASED PREPARATION

2.1 Package Preparation

[Amend 2.1a to make preparation of 5-digit packages optional to read as follows:]

Package size, preparation sequence, and labeling:

a. 5-digit: optional, but required for 5-digit rate eligibility (10-piece minimum, fewer not permitted); red Label D or optional endorsement line (OEL).

* * * * *

2.2 Tray Preparation

[Amend 2.2a to make preparation of 5-digit trays optional and to change “M031” to “M032” to read as follows:]

Tray size, preparation sequence, and Line 1 labeling:

a. 5-digit: optional, but required for 5-digit rate eligibility, full trays, no overflow; for Line 1, use 5-digit ZIP Code destination of packages, preceded for military mail by the prefixes under M032.

* * * * *

[Redesignate current 3.0 and 4.0 as 4.0 and 5.0, respectively, and add new 3.0 to read as follows:]

3.0 FIRST-CLASS MAIL—OPTIONAL TRAY-BASED PREPARATION

Tray size, preparation sequence, and Line 1 labeling:

a. 5-digit: optional, but 5-digit trays required for rate eligibility (90-piece minimum, fewer not permitted); one less-than-full or overflow tray allowed; for Line 1, use 5-digit ZIP Code destination of pieces (for military mail see M031). (Preparation to qualify for 5-digit rate is optional and need not be done for all 5-digit destinations.)

b. 3-digit: required (90-piece minimum, fewer not permitted); one less-than-full or overflow tray allowed; for Line 1, use L002, Column A for 3-digit destinations.

c. Origin 3-digit: required for each 3-digit ZIP Code served by the SCF of the origin (verification) office; no minimum; for Line 1, use L002, Column A for 3-digit destinations.

d. ADC: required (90-piece minimum, fewer not permitted); one less-than-full or overflow tray allowed; group pieces by 3-digit ZIP Code prefix; for Line 1, use L004 (ZIP Code prefixes in Column A must be combined and labeled to the corresponding ADC destination shown in Column B). As an exception, pieces do not have to be grouped by 3-digit ZIP Code prefix in ADC trays if the mailing is prepared using a MLOCR/barcode sorter and standardized documentation is submitted.

e. Mixed ADC: required (no minimum for rate eligibility); group pieces by ADC; for Line 1, use “MXD” followed by the city/state/ZIP of the facility serving the 3-digit ZIP Code of the entry post office, as shown in L002, Column C. As an exception, pieces do not have to be grouped by ADCs in mixed ADC trays if the mailing is prepared using a MLOCR/barcode sorter and standardized documentation is submitted.

* * * * *

M900 Advanced Preparation Options

M910 Co-Traying and Co-Sacking Packages of Automation and Presorted Mailings

1.0 FIRST-CLASS MAIL

* * * * *

1.2 Package Preparation

[Amend 1.2 by changing “M820” to “M820.2.1” to read as follows:]

The automation rate mailing must be packaged and labeled under M820.2.1. The Presorted rate mailing must be packaged and labeled under M130.

* * * * *

P POSTAGE AND PAYMENT METHODS

P000 Basic Information

P010 General Standards

P011 Payment

1.0 PREPAYMENT AND POSTAGE DUE

1.1 Prepayment Conditions

[Amend 1.1 by redesignating 1.1b through 1.1e as 1.1c through 1.1f, respectively. Add new item 1.1b to read as follows:]

The mailer is responsible for proper payment of postage. Postage on all mail must be fully prepaid at the time of mailing, except as specifically provided by standard for:

* * * * *

b. Merchandise return service (S923).

* * * * *

3.0 COLLECTION OF POSTAGE DUE

* * * * *

[Add new 3.3 and 3.4 to clarify standards for advance deposit accounts and annual accounting fees to read as follows:]

3.3 Advance Deposit Account

Mailers may choose to establish an advance deposit account(s) from which postage, per piece charges, and other fees are deducted. For certain special services, an advance deposit account is required. Mailers may use a single advance deposit account to pay postage due charges for more than one special service (e.g., business reply mail, merchandise return service, and bulk parcel return service).

3.4 Annual Accounting Fee

Except for accounts used solely to pay postage due for shortpaid mail, address correction notices, and undeliverable-as-addressed pieces returned to sender (e.g., return service requested), mailers must pay a separate annual accounting fee for each special service paid through an advance deposit account. This fee covers the administrative cost of maintaining the account and provides the mailer with the accounting of all charges deducted from that account. The accounting fee is charged once each 12-month period on the anniversary date of the initial accounting fee payment. The fee may be paid in advance only for the next year and only during the last 60 days of the current service period. The fee charged is that which is in effect on the date of payment.

* * * * *

P012 Documentation

* * * * *

[Amend the heading of 2.0 by replacing “Standard Mail (A)” with “Standard Mail” to read as follows:]

2.0 STANDARDIZED DOCUMENTATION—FIRST CLASS MAIL, PERIODICALS AND STANDARD MAIL

2.1 Basic Standard

[Amend 2.1 by replacing “Standard Mail (A)” with “Standard Mail,” no other changes to text.]

2.2 Format and Content

[Amend 2.2 by replacing “Standard Mail (A)” with “Standard Mail”; add new 2.2c(3)(c); and amend 2.2c(6) by adding second sentence to read as follows:]

* * * * *

c. For mail in trays or sacks, the body of the listing reporting these required elements:

* * * * *

(3) * * *; or (c) group destination for automation flats prepared under the tray-based option for each 3-digit in ADC trays and for each ADC in mixed ADC trays.

* * * * *

(6) * * * The tray identification number is optional for tray-based automation flats.

* * * * *

2.3 Rate Level Column Headings

* * * * *

[Amend 2.3 by replacing all references to “Standard Mail (A)” with “Standard Mail” and by revising 2.3a to provide for separate 5-digit and 3-digit rates for automation First-Class Mail flats to read as follows:]

The actual name of the rate level (or corresponding abbreviation) is used for column headings required by 2.2 and shown below:

a. Automation First-Class Mail, Periodicals, and Standard Mail:

Rate | Abbreviation
* * * * * * *
5-Digit [First-Class Mail letters/cards and flats, Periodicals letters and flats, and Standard Mail letters] | 5B
3-Digit [First-Class Mail letters/cards and flats, Periodicals letters and flats, and Standard Mail letters] | 3B
* * * * * * *
3/5 [Standard Mail flats] | 3/5B
* * * * * * *

* * * * *

P013 Rate Application and Computation

1.0 BASIC STANDARDS

* * * * *

[Amend 1.3 by replacing “Special Standard Mail” with “Media Mail”; no other changes to text.]

1.4 Affixing Postage—Single-Piece Rate Mailings

[Amend 1.4 by replacing “Standard Mail (B)” with “Package Services” and amend the first sentence to read as follows:]

In a postage-affixed Express Mail, Priority Mail, single-piece First-Class Mail, or Package Services mailing, the mailer must affix to each piece a value in adhesive stamps or meter stamps equal to at least the postage required. A mailer also may use precanceled stamps on single-piece First-Class Mail. Less than the correct amount of postage may be affixed only when permitted by standard or specific USPS authorization.

1.5 Affixing Postage—Other Than Single-Piece Rate Mailings

[Amend 1.5 by replacing “Standard Mail” with “Standard Mail and Package Services” and amending the introductory paragraph to read as follows:]

In a First-Class Mail postage affixed mailing other than single-piece or a Standard Mail presorted mailing, the mailer must affix to each piece a value in precanceled stamps or meter impressions that equals at least the full amount of postage at the applicable rate. In a Package Services postage affixed mailing other than single-piece mailing, the mailer must affix to each piece a value in meter impressions that equals at least the full amount of postage at the applicable rate; or:

a. For First-Class Mail, the applicable postage at the lowest rate claimed in the mailing (or a lesser amount if authorized under P760) if all additional postage is paid at the time of mailing.

b. For Standard Mail, the minimum per piece charge, with the pound rate charge paid through an advance deposit account under the applicable standards; or the applicable postage at the lowest rate claimed in the mailing (or a lesser amount if authorized under P760) if all additional postage is paid at the time of mailing.

* * * * *

2.0 RATE APPLICATION—EXPRESS MAIL, FIRST-CLASS MAIL, AND PRIORITY MAIL

* * * * *

2.4 Priority Mail

[Amend 2.4 by revising the third sentence to read as follows:]

* * * The minimum postage amount per addressed piece is that for a piece weighing 1 pound. * * *

* * * * *

2.6 Keys and Identification Devices

[Amend 2.6 by revising the second sentence to read as follows:]

* * * Keys and identification devices weighing more than 13 ounces but not more than 1 pound are mailed at the 1-pound Priority Mail rate plus the fee in R100.9.0; keys and identification devices weighing over 1 pound but not more than 2 pounds are mailed at the 2-pound rate plus the fee in R100.9.0.

3.0 RATE APPLICATION—PERIODICALS

* * * * *

3.2 Applying Pound Rate

[Amend 3.2 by replacing “Regular and Preferred outside-county” with “Outside-County and Science-of-Agriculture Outside-County” in the second sentence to read as follows:]

* * * Outside-County and Science-of-Agriculture Outside-County pound rates are based on the weight of the advertising portion of the mail sent to each postal zone (as computed from the entry office) and the weight of the nonadvertising portion without regard to zone. * * *

[Amend 3.3 by replacing “Classroom rate” with “Classroom” in the fourth and last sentences.]

* * * * *

[Amend the title of 5.0 by replacing “Standard Mail (B)” with “Package Services” to read as follows:]

5.0 RATE APPLICATION—PACKAGE SERVICES

* * * * *

[Revise the heading of 5.4 to read as follows:]

5.4 Media Mail

[Amend 5.4 by replacing “Special Standard Mail” with “Media Mail”; no other changes to text.]

* * * * *

[Amend the heading of 8.0 by replacing “Standard Mail (A)” with “Standard Mail.”]

[Amend the heading of 9.0 by replacing “Standard Mail (B)” with “Package Services” to read as follows:]

9.0 COMPUTING POSTAGE—PACKAGE SERVICES

[Revise 9.0 in its entirety to clarify how to calculate postage for Package Services to read as follows:]

9.1 Parcel Post (including Parcel Select), Media Mail, Library Mail, and Single-Piece Bound Printed Matter—Permit Imprint

To compute the total postage for a mailing, for each weight increment, multiply the number of pieces by the applicable rate per piece. Round each product off to four decimal places. Add the products and round up the total postage to the nearest whole cent.

9.2 Parcel Post (including Parcel Select), Media Mail, Library Mail, and Single-Piece Bound Printed Matter—Postage Affixed

For each piece, affix the postage for the weight increment and, if applicable, the zone to which the piece is addressed, as shown in R700. To calculate the total postage for the mailing, add all of the affixed postage amounts for each piece.

9.3 Presorted and Carrier Route Bound Printed Matter—Permit Imprint

Presorted and Carrier Route Bound Printed Matter mailings paid with permit imprint are charged a per pound rate and a per piece rate as follows:

a. Per pound rate:

(1) For pieces 1 pound or less, compute the per pound rate by multiplying the total number of addressed pieces by the 1-pound rate for the rate category and zone. Do not round this result.

(2) For pieces weighing more than 1 pound, compute the per pound rate by multiplying the unrounded total weight of the addressed pieces by the pound rate for the category and zone. Do not round this result.

b. Per piece rate. Multiply the total number of addressed pieces by the applicable piece rate.

c. Total Postage. Calculate total postage by adding the total per piece calculation to the total per pound calculation. Round off the total postage to the nearest whole cent.

9.4 Presorted and Carrier Route Bound Printed Matter—Postage Affixed

Presorted and Carrier Route Bound Printed Matter mailings with postage affixed are charged a per pound rate and a per piece rate as follows:

a. For each addressed piece, calculate the per pound rate:

(1) If the piece weighs 1 pound or less, the per pound rate is the rate listed in R700.2.0 for the rate category and zone.

(2) If the piece weighs more than 1 pound, compute the per pound rate by multiplying the unrounded weight of the piece by the pound rate for the category and zone. Do not round this result.

b. Postage per piece. Compute the postage for each piece by adding the calculated per pound rate to the per piece rate for the category and zone. Round this number up to the next tenth of a cent. Affix this amount of postage to the piece.

c. Total Postage for Mailing. Add all of the affixed postage amounts for each piece in the mailing.

P014 Refunds and Exchanges

* * * * *

2.0 POSTAGE AND FEES REFUNDS

* * * * *

[Amend 2.3 by replacing “Standard Mail (B)” with “Package Services”; no other changes to text.]

2.4 Full Refund

[Amend 2.4 by revising 2.4f and 2.4i to read as follows:]

A full refund (100%) may be made when:

* * * * *

f. Fees are paid for special handling, certified mail, Delivery Confirmation, or Signature Confirmation and the article fails to receive the special service for which the fee is paid.

* * * * *

i. An annual presort mailing fee is paid for Presorted First-Class Mail, Standard Mail, Presorted Media Mail, or Presorted Library Mail or a destination entry mailing fee is paid for destination entry Parcel Post and Bound Printed Matter and no mailings are made during the corresponding 12-month period.

* * * * *

[Effective November 5, 2000, the Postal Service added new P014.2.11 to clarify procedures for refunds for stamps affixed to business reply mail.]

[Amend the fourth sentence of 2.11 to add the new quarterly fee for Qualified Business Reply Mail:]

2.11 Business Reply Mail

A business reply mail (BRM) permit holder may request a credit or refund for postage stamps affixed to returned BRM pieces. Only the value of the postage stamps affixed may be credited or refunded. Refunds are not given for foreign postage stamps affixed to BRM. To receive a refund for postage stamps affixed to returned BRM pieces, the permit holder must submit a completed Form 3533 to the postmaster, documenting the excess postage payment for which a credit or refund is desired. The permit holder also must present to the designated office properly faced and banded packages of 100 identical BRM pieces with identical amounts of postage affixed. A charge of $15 per hour, or fraction thereof, is assessed for the workhours used to process the refund. With permission from the postmaster, a BRM permit holder may submit a package with fewer than 100 BRM pieces. Refunds are not given for any BRM or QBRM per piece charges, annual accounting fees, quarterly fees, or monthly maintenance fees.

* * * * *

4.0 REFUND REQUEST FOR EXCESS POSTAGE (VALUE ADDED REFUND)—AT TIME OF MAILING

[Amend 4.1, 4.13, 4.14c, 4.14d, 4.17a(5) and 4.17a(6) and by changing “Standard Mail (A)” to “Standard Mail”; no other changes to text.]

* * * * *

P021 Stamped Stationery

* * * * *

2.0 PERSONALIZED STAMPED ENVELOPE

* * * * *

2.5 Optional information

[Amend 2.5b by changing “Standard Mail (A)” to “Standard Mail”; no other changes to text.]

* * * * *

P022 Postage Stamps

1.0 PURCHASE AND USE

1.2 Postage Due

[Amend 1.2 by removing the second sentence to read as follows:]

Postage due must be paid in cash.

* * * * *

P023 Precanceled Stamps

1.0 BASIC INFORMATION

* * * * *

1.2 Use

[Amend 1.2 by replacing “Standard Mail (A)” with “Standard Mail”; no other changes to text.]

* * * * *

3.0 MAILER PRECANCELLATION

* * * * *

3.5 Content of Postmark

[Amend 3.5a by replacing “Standard Mail (A)” with “Standard Mail”; no other changes to text.]

* * * * *

P030 Postage Meters and Meter Stamps

1.0 BASIC INFORMATION

* * * * *

[Amend 1.5 by replacing “Special Standard Mail” with “Media Mail”; no other changes to text.]

* * * * *

3.0 METER SETTING

* * * * *

[Amend the title of 3.5 by replacing “Setting” with “Service” to read as follows:]

3.5 On-Site Meter Service Program

[Amend the last sentence of 3.5 to show the new categories for on-site meter setting and add a new sentence to exclude secured postage devices from the meter service fees to read as follows:]

* * * The licensee must pay applicable on-site meter service fees in R900 and postage by check or advance deposit account at the time of the meter service. Secured postage meters are not subject to checking in/checking out fees.

* * * * *

4.0 METER STAMPS

* * * * *

[Amend 4.8 and 4.9 by replacing “Standard Mail” with “Standard Mail and Package Services”; no other changes to text.]

* * * * *

5.0 MAILINGS

[Amend 5.1 by replacing “Special Standard Mail” with “Media Mail” and by replacing “Standard Mail (A)” with “Standard Mail”; no other changes to text.]

* * * * *

P040 Permit Imprints

1.0 BASIC INFORMATION

[Amend 1.1 by replacing “Standard Mail (A)” with “Standard Mail” and “Standard Mail (B)” with “Package Services”; no other changes to text.]

* * * * *

2.0 INDICIA PREPARATION

* * * * *

[Amend 2.5 by replacing “Standard Mail (A)” with “Standard Mail”; no other changes to text.]

3.0 INDICIA CONTENT

* * * * *

[Amend 3.2 by replacing “Standard Mail” with “Standard Mail and Package Services” in the heading and content.]

* * * * *

[Amend 3.4a by replacing “Standard Mail” with “Standard Mail and Package Services.”]

[Amend 3.4b by replacing “Standard Mail (A” with “Standard Mail”; no other changes to text.]

4.0 INDICIA FORMAT

* * * * *

[Amend heading of Exhibit 4.1a by replacing “Standard Mail (A) Official Mail” with “Standard Mail Official Mail” and “Standard Mail (B) Official Mail” with “Package Services Official Mail”; replace indicia example “SPECIAL STANDARD MAIL” with “MEDIA MAIL”; no other changes to exhibit.]

* * * * *

[Amend the title of Exhibit 4.1b to read as follows:]

Exhibit 4.1b Indicia Formats for First-Class Mail, Standard Mail, and Package Services

[Amend Exhibit 4.1b by replacing “Standard Mail (A)” with “Standard Mail,” “Special Standard Mail” with “Media Mail,” and “PP D/S” with “Parcel Select.”]

* * * * *

P070 Mixed Classes

1.0 ATTACHMENTS OF DIFFERENT CLASSES

[Amend 1.1 by replacing “Standard Mail” with “Standard Mail and Package Service Mail”; no other changes to text.]

[Amend 1.2 and 1.3 by replacing “Standard Mail (A)” with “Standard Mail”; no other changes to text.]

* * * * *

2.0 ENCLOSURE IN PERIODICALS PUBLICATION

[Amend 2.1 through 2.10 by replacing “Standard Mail (A)” with “Standard Mail”; no other changes to text.]

[Revise heading of 3.0 to read as follows:]

3.0 ENCLOSURE IN STANDARD MAIL AND PACKAGE SERVICES MAIL

[Amend 3.2 by replacing “Standard Mail (A)” with “Standard Mail”; no other changes to text.]

* * * * *

[Amend heading of 5.0 by replacing “Special Standard Mail” with “Media Mail” to read as follows:]

5.0 COMBINED MAILINGS OF MEDIA MAIL AND BOUND PRINTED MATTER

* * * * *

5.4 Rating of Unmarked Parcel

[Amend 5.4 by replacing “Special Standard Mail” with “Media Mail” and amend the introductory paragraph in 5.4 to include Inter-BMC/ASF rates to read as follows:]

A parcel containing Bound Printed Matter and Media Mail is charged postage at the Inter-BMC/ASF Parcel Post rates if it:

* * * * *

P200 Periodicals

1.0 BASIC INFORMATION

* * * * *

[Amend 1.4 by replacing “Standard Mail” with “Standard Mail and Package Services”; no other changes to text.]

* * * * *

[Amend 1.9 by replacing “Standard Mail” with “Standard Mail and Package Services'; no other changes to text.]

* * * * *

P600 Standard Mail

1.0 BASIC INFORMATION

[Amend 1.1 by redesignating 1.1b as P700.1.1, redesignating 1.1a as 1.1, and replacing “Standard Mail (A)” with “Standard Mail”; no other changes to text.]

* * * * *

[Amend the heading of 2.0 to delete “Standard Mail (A)” to read as follows:]

2.0 PRESORTED AND ENHANCED CARRIER ROUTE RATES

* * * * *

[Amend the heading of 3.0 to delete “Standard Mail (A)” to read as follows:]

3.0 AUTOMATION RATES

* * * * *

[Add new 4.0 to read as follows:]

4.0 MACHINABLE PARCEL BARCODED DISCOUNT

4.1 All Parcels in Mailing Eligible

If 100% of the pieces in a mailing are eligible for the machinable parcel barcoded discount under E610 and E620, then the mailing may be paid with meter stamps, permit imprint, or precanceled postage under the applicable standards.

4.2 Less than 100% Eligibility

If less than 100% of the parcels in the mailing are eligible for the machinable parcel barcoded discount, then the following standards apply:

a. Payment with precanceled stamps is not permitted.

b. Metered postage may be used only if exact postage is affixed to each piece in the mailing.

c. Payment with permit imprint is permitted only under a manifest mailing system (P910).

[Add new 5.0 to read as follows:]

5.0 MAIL WITH SPECIAL SERVICES

5.1 Bulk Insurance

Mailings on which bulk insurance is requested must have postage and fees paid with permit imprint under a manifest mailing system (P910).

5.2 Electronic Option Delivery Confirmation

If electronic option Delivery Confirmation is requested for all of the pieces in the mailing and the mailing consists of pieces of identical weight, then postage may be paid with metered postage or permit imprint under the applicable standards in 2.0. If electronic option Delivery Confirmation is not requested for all of the pieces in the mailing, or if the pieces are not identical weight, then either the exact metered postage must be affixed to each piece or postage must be paid with permit imprint under a manifest mailing system (P910). Use of precanceled stamps is not permitted with Delivery Confirmation.

5.3 Return Receipt for Merchandise

If return receipt for merchandise is requested for all of the pieces in the mailing and the mailing consists of pieces of identical weight, then postage may be paid with metered postage or permit imprint under the applicable standards in 2.0. If return receipt for merchandise is not requested for all of the pieces in the mailing, or if the pieces are not identical weight, then either the exact metered postage must be affixed to each piece or postage must be paid with permit imprint under a manifest mailing system (P910). Use of precanceled stamps is not permitted with return receipt for merchandise.

[Redesignate the heading P700 as P900. Redesignate the heading and contents of P710, P720, P730, P750, and P760 as P910, P920, P930, P950, and P960, respectively.]

[Add new P700 to read as follows:]

P700 Package Services

1.0 BASIC INFORMATION

1.1 Payment Method

[Redesignate P600.1.1b as the contents of 1.1 and amend for clarity to read as follows:]

The mailer is responsible for proper postage payment. Subject to the corresponding standards, postage for Package Services mail may be paid by any method except precanceled stamps. Pieces with postage affixed must bear the correct postage unless excepted by standard. Permit imprint may be used for mailings that contain nonidentical-weight pieces only under P910, P920, or P930. Permit imprint may be used for identical weight pieces provided the mail can be separated at acceptance into groups that each contain pieces subject to the same zone and same combination of rates (e.g., all are zone 4, Inter-BMC, with a BMC presort discount and a barcoded discount). Identical weight permit imprint mail also may be mailed under P910, P920, or P930.

1.2 Postage Statement and Documentation

A complete, signed postage statement, using the correct USPS form or an approved facsimile, must accompany each presorted and/or destination entry rate Package Services mailing, and any mailing paid with permit imprint. The postage statement must be supported by documentation as required by P012 and the rate claimed unless the correct rate is affixed to each piece or if each piece is of identical weight and the pieces are separated by rate when presented for acceptance.

P900 Special Postage Payment Systems

* * * * *

P920 Optional Procedure (OP) Mailing System

1.0 BASIC INFORMATION

[Amend 1.1 by replacing “Standard Mail” with “Standard Mail and Package Services Mail”; no other changes to text.]

* * * * *

P950 Plant-Verified Drop Shipment (PVDS)

1.0 DESCRIPTION

* * * * *

[Amend 1.2c and 1.3b by replacing “Standard Mail” with “Standard Mail and Package Services”; no other changes to text.]

* * * * *

2.0 PROGRAM PARTICIPATION

* * * * *

[Amend 2.3e and 2.5 by replacing “Standard Mail” with “Standard Mail and Package Services”; no other changes to text.]

* * * * *

[Amend 2.7 by replacing “Standard Mail (A)” with “Standard Mail”; no other changes to text.]

[Revise heading of 2.8 to read as follows:]

2.8 Postage Statement—Package Services Mail

[Amend 2.8 by replacing “Standard Mail (B)” with “Package Services”; no other changes to text.]

* * * * *

4.0 POSTAGE

* * * * *

[Amend 4.2 by replacing “Standard Mail (A)” with “Standard Mail”; no other changes to text.]

[Revise heading of 4.3 to read as follows:]

4.3 Package Services Mail

[Amend 4.3 by replacing “Standard Mail (B)” with “Package Services”; no other changes to text.]

* * * * *

[Amend the heading of 5.0 by replacing “Standard Mail (A)” with “Standard Mail”; no other changes to text.]

* * * * *

[Revise heading of 6.0 to read as follows:]

6.0 PACKAGE SERVICES PVDS OPTION

* * * * *

[Amend 6.2 by replacing “Standard Mail (B)” with “Package Services”; no other changes to text.]

* * * * *

[Amend heading of P960 by removing “(A)” to read as follows:]

P960 First-Class or Standard Mail Mailings With Different Payment Methods

* * * * *

[Amend entire R module to read as follows:]

BILLING CODE 7710-12-P

BILLING CODE 7710-12-C

S SPECIAL SERVICES

S000 Miscellaneous Services

S010 Indemnity Claims

* * * * *

2.0 GENERAL FILING INSTRUCTIONS

2.1 Who May File

[Amend 2.1 by revising 2.1a and 2.1c to read as follows:]

A claim may be filed by:

a. Only the sender, for the complete loss of a registered, insured, COD, or Express Mail item (including merchandise return service parcels to which special services were added and paid for by the sender).

* * * * *

c. Only the merchandise return permit holder, for merchandise return service parcels that are registered or insured as indicated by the permit holder on the MRS label.

* * * * *

S070 Mixed Classes

1.0 BASIC INFORMATION

1.1 Priority Mail Drop Shipment

[Amend 1.1 by replacing “Standard Mail (B)” with “Package Services”; and by providing for use of Delivery Confirmation and Signature Service with enclosed mail to read as follows:]

For a Priority Mail drop shipment, enclosed First-Class Mail may be sent certified or special handing; enclosed Standard Mail may be sent with electronic option Delivery Confirmation; enclosed Package Services mail may be sent special handling, electronic option Delivery Confirmation, or electronic option Signature Confirmation. Enclosed mail may not be sent registered, insured, or collect on delivery (COD). No special services may be added to the Priority Mail segment of the drop shipment.

1.2 Special Handling

[Amend 1.2 by replacing “Standard Mail (B)” with “Package Services”; no other changes to text.]

* * * * *

S500 Special Services for Express Mail

* * * * *

[Amend 2.0 by changing “Standard Mail” to “Package Services” and by providing for use of electronic option Delivery Confirmation and electronic option Signature Service with enclosed mail to read as follows:]

2.0 EXPRESS MAIL DROP SHIPMENT

Mail enclosed in an Express Mail drop shipment may be sent certified (if First-Class Mail) or special handling. For an Express Mail drop shipment, enclosed First-Class Mail may be sent certified or, if Priority Mail, with electronic option Delivery Confirmation service; enclosed Standard Mail parcels may be sent with electronic option Delivery Confirmation service; enclosed Package Services mail may be sent with special handling, electronic option Delivery Confirmation service, or electronic option Signature Confirmation service. The enclosed mail may not be sent collect on delivery (COD), insured, or registered. For Express Mail indemnity coverage, the content of each Express Mail pouch is considered one mailpiece.

S900 Special Postal Services

S910 Security and Accountability

S911 Registered Mail

1.0 BASIC INFORMATION

* * * * *

1.5 Additional Services

[Amend 1.5 by clarifying the additional services that can be used with registered mail to read as follows:]

Purchasing registered mail service allows customers to then purchase restricted delivery service or a return receipt. The following additional services may be combined with registered mail if the applicable standards for the services are met and the additional service fees are paid:

a. COD.

b. Delivery Confirmation.

c. Signature Confirmation.

* * * * *

S912 Certified Mail

1.0 BASIC INFORMATION

* * * * *

1.4 Additional Services

[Revise 1.4 to read as follows:]

Purchasing certified mail service allows customers to then purchase restricted delivery service or a return receipt.

[Add new 1.5 to specify that mailers may request a receipt after mailing to read as follows:]

1.5 Delivery Record

Mailers may request a delivery record after mailing under S915.

2.0 MAILING

* * * * *

2.5 Procedure

[Amend 2.5 by revising 2.5a to read as follows:]

A mailer of certified mail must:

a. Enter on Form 3800 the name and complete address of the person or firm to whom the mail is addressed.

* * * * *

S913 Insured Mail

1.0 BASIC INFORMATION

* * * * *

1.2 Eligible Matter

[Amend 1.2 by changing the class names, removing the “Standard Mail Enclosed” marking requirement, and adding bulk insurance to Standard Mail to read as follows:]

The following types of mail matter may be insured:

a. Package Services.

b. First-Class Mail (including Priority Mail), if it contains matter that may be mailed as Package Services.

c. Standard Mail pieces subject to the residual shape surcharge (bulk insurance only).

d. Official government mail endorsed “Postage and Fees Paid.”

1.3 Ineligible Matter

[Amend 1.3 by revising 1.3f to read as follows:]

The following types of mail may not be insured:

* * * * *

f. Standard Mail cards, letters, and flats (i.e., pieces that are not subject to the residual shape surcharge).

* * * * *

1.5 Additional Services

[Revise 1.5 to read as follows:]

Insuring an item for more than $50 allows customers to then purchase restricted delivery service or a return receipt. The following additional services may be combined with insurance if the applicable standards for the services are met and the additional service fees are paid:

a. Delivery Confirmation.

b. Parcel airlift service (PAL).

d. Return receipt for merchandise (for items insured for up to $50).

f. Signature Confirmation.

g. Special handling.

[Add new 1.6 to show that customers may request a delivery record after mailing to read as follows:]

1.6 Delivery Record

Mailers may request a delivery record after mailing under S915.

* * * * *

2.0 MAILING

* * * * *

[Effective November 30, 2000, the Postal Service revised DMM S913.2.0 to include new information about integrated barcodes. See Postal Bulletin 22038 (11-30-00). The revisions below reflect those changes.]

2.5 Integrated Barcodes

[Amend 2.5 to include information about Signature Confirmation to read as follows:]

There are two other options available for mailers who print their own labels:

a. An integrated barcode may be used by Delivery Confirmation electronic option mailers who wish to combine insurance with Delivery Confirmation or insurance with Signature Confirmation into a single barcode on the shipping label to eliminate multiple labels and barcodes on packages. Additional information on the integrated barcode solution can be found in Publication 91, Delivery Confirmation Technical Guide, November 2000 edition (which includes the Addendum on Signature Confirmation and integrated barcodes.)

b. Mailers have a third option for privately printed labels with insurance. The privately printed form must meet the specifications described in Publication 91 (see Exhibit 2.4). Applicable certification procedures must be followed, also as specified in Publication 91.

* * * * *

4.0 DELIVERY

[Amend 4.0 by changing “parcel” to “item” to read as follows:]

An item insured for $50 or less is delivered as ordinary mail. Delivery of insured mail is subject to D042.

S914 Certificate of Mailing

1.0 BASIC INFORMATION

1.1 Description

[Amend 1.1 to read as follows:]

Certificate of mailing service provides evidence that mail has been presented to the Postal Service for mailing. Certificate of mailing service does not provide a record of delivery.

[Revise heading of 1.2 to read as follows:]

1.2 Eligible Matter—Bulk Quantities

[Amend 1.2 by clarifying text to read as follows:]

Form 3606 is used for a bulk mailing as a certificate to specify the number of pieces mailed. This certificate is provided only for a mailing of identical pieces of First-Class Mail, Standard Mail, and Package Services. This certificate states only the total number of articles mailed and must not be used as an itemized list. A certificate of mailing cannot be issued for a bulk mailing paid with a permit imprint.

[Revise heading of 1.3 to read as follows:]

1.3 Eligible Matter—Single Pieces

[Amend 1.3 by clarifying text to read as follows:]

Form 3817 is used for a certificate for a single piece of First-Class Mail (including Priority Mail) or Package Services. Privately printed forms also may be used.

[Revise heading of 1.4 to read as follows:]

1.4 Eligible Matter—Three or More Single Pieces

[Amend 1.4 by clarifying the first sentence to read as follows:]

When requesting a certificate of mailing for three or more pieces of single-piece rate mail presented at one time, a mailer may use Form 3877 (firm mailing book) or a privately printed facsimile, subject to payment of the applicable fee for each item listed. * * *

* * * * *

[Add new 1.7 to read as follows:]

1.7 Additional Services

The following services may be combined with certificate of mailing on single pieces if the applicable standards for the services are met and the additional service fees are paid:

a. Parcel airlift service (PAL).

b. Special handling.

* * * * *

S915 Return Receipt

1.0 BASIC INFORMATION

1.1 Description

[Revise 1.1 to show that the return receipt is mailed back to sender:]

Return receipt service provides a mailer with evidence of delivery (to whom the mail was delivered and date of delivery). After delivery, the return receipt is mailed back to the sender. A return receipt requested before mailing also supplies the recipient's actual delivery address, if the delivery address is different from the address used by the sender. A return receipt may be requested before or after mailing.

[Revise 1.2 to read as follows:]

1.2 Eligible Matter

Return receipt service is available for Express Mail. It is available also for First-Class Mail (including Priority Mail) and Package Services when purchased at the time of mailing with one of the following services:

a. Certified mail.

b. COD.

c. Insurance (for more than $50).

d. Registered mail.

* * * * *

[Add new 1.7 to show additional services to read as follows:]

1.7 Additional Services

If return receipt service has already been purchased with one of the services listed in 1.2, then one or more of the following special services may be combined with those services at the time of mailing if the applicable standards for the services are met and the additional service fees are paid:

a. Delivery Confirmation (Priority Mail and Package Services only).

b. Parcel airlift service (PAL) (Priority Mail and Package Services only).

c. Restricted delivery.

d. Signature Confirmation (Priority Mail and Package Services only).

e. Special handling.

2.0 OBTAINING SERVICE

* * * * *

2.2 After Mailing

[Revise 2.2 to clarify how to apply for a delivery record after mailing:]

The mailer may request a delivery record after mailing for Express Mail, certified mail, registered mail, COD mail, and mail insured for more than $50. When a delivery record is available, the USPS provides the mailer information from that record, including to whom the mail was delivered and the date of delivery. The mailer requests a delivery record by completing Form 3811-A, paying the appropriate fee in R900, and submitting the request to one of the following offices:

a. For items mailed to an APO/FPO, U.S. territory or possession, or freely associated state (with the exception of Puerto Rico and the U.S. Virgin Islands), the form should be sent to the office of delivery.

b. For items delivered prior to activation of the signature capture process (August 1, 2000), send the form to the office of delivery.

c. For items delivered on or after activation of the signature capture process (August 1, 2000), send the form to any post office.

[Add new 2.3 to show the time limits for requesting a delivery record after mailing:]

2.3 Time Limit

A request for a return receipt after mailing for Express Mail must be submitted within 90 days after the date of mailing. All other requests must be submitted within 2 years from the date of mailing.

* * * * *

4.0 REQUESTS FOR DELIVERY INFORMATION

* * * * *

[Amend 4.2 to remove references to the “actual delivery record” to read as follows:]

4.2 Form 3811-A

The mailer must complete a Form 3811-A at any post office. The applicable fee is waived if the mailer can produce a receipt showing the applicable return receipt fee was paid.

* * * * *

S916 Restricted Delivery

1.0 BASIC INFORMATION

* * * * *

[Revise the heading and text of 1.2 to clarify that restricted delivery cannot be used with Standard Mail to read as follows:]

1.2 Eligible Matter

Restricted delivery service is available for First-Class Mail (including Priority Mail) and Package Services that is sent COD, insured for more than $50, registered, or certified.

* * * * *

[Add new 1.7 to read as follows:]

1.7 Additional Services

In addition to the prerequisites listed in 1.2, the following services may be combined with restricted delivery if the applicable standards for the services are met and the additional service fees are paid:

a. Delivery Confirmation.

b. Parcel airlift service (PAL).

c. Signature Confirmation.

d. Special handling.

* * * * *

S917 Return Receipt for Merchandise

1.0 BASIC INFORMATION

1.1 Description

[Add the following sentence after the first sentence:]

* * * After delivery, the return receipt is mailed back to the sender. * * *

* * * * *

[Revise heading of 1.2 to read as follows:]

1.2 Eligible Matter

[Amend 1.2 to add return receipt for merchandise service to Standard Mail:]

Return receipt for merchandise is available for merchandise sent as Priority Mail, Standard Mail pieces subject to the residual shape surcharge, and Package Services.

1.3 Additional Services

[Amend 1.3 by clarifying text to read as follows:]

The following services may be combined with return receipt for merchandise if the applicable standards for the services are met and the additional service fees are paid:

a. Delivery Confirmation.

b. Insurance (for up to $50).

c. Parcel airlift service (PAL).

d. Special handling.

* * * * *

[Add new 2.7 to specify how a mailer applies for a delivery record:]

2.7 Receipt Not Received

A mailer who does not receive return receipt for merchandise service for which the mailer has paid may request information from the delivery record, at no additional charge, by using Form 3811-A. Any request must be filed within 2 years after the date of mailing. Mailers cannot request a delivery record unless the item originally was sent with return receipt for merchandise.

3.0 DELIVERY

[Amend 3.0 to delete information about delivery records to read as follows:]

Delivery of return receipt for merchandise mail is subject to D042.

S918 Delivery Confirmation

1.0 BASIC INFORMATION

* * * * *

1.2 Eligible Matter

[Amend 1.2 by adding availability of electronic option to Standard Mail subject to residual shape surcharge to read as follows:]

Delivery Confirmation service is available for Priority Mail, Standard Mail pieces subject to the residual shape surcharge (electronic option only), and Package Services.

[Revise the heading and text of 1.3 to read as follows:]

1.3 Ineligible Matter

Delivery Confirmation is not available for the following:

a. Mail addressed to APO/FPO destinations or to United States territories, possessions, and freely-associated states listed in G011 (except for Puerto Rico and U.S. Virgin Islands, to which service is available).

b. Mail paid with precanceled stamps.

c. Standard Mail cards, letters, and flats (i.e., pieces that are not subject to the residual shape surcharge).

* * * * *

3.0 BARCODES

* * * * *

[Effective November 30, 2000, the Postal Service revised DMM S918.3.4 and S918.4.0c to include new information about integrated barcodes. See Postal Bulletin 22038 (11-30-00). The revisions below reflect those changes.]

3.4 Integrated Barcodes

An integrated barcode may be used by mailers printing their own barcodes and using the electronic service option. Mailers may combine Delivery Confirmation and insurance services into a single barcode on the shipping label and eliminate multiple labels and barcodes on packages. Mailers must still meet existing specifications in 3.1 and 3.2. Minor modifications allow users to request multiple special services on Priority Mail and Package Services. Two required changes are:

a. Change the text above the barcode to identify the service requested. Exhibits are included in Publication 91, Delivery Confirmation Technical Guide, November 2000 edition (which includes the Addendum on Signature Confirmation and integrated barcode).

b. Change the service type code in the barcode to identify the class of mail and/or type of special services combined with Delivery Confirmation. Additional information on the Service Type Code Matrix can be found in the Publication 91, Delivery Confirmation Technical Guide, November 2000 edition.

4.0 ELECTRONIC FILE TRANSMISSION

* * * * *

c. Mailers using the electronic option are required to include additional fields in the electronic file when planning to use the integrated barcode. For more information consult Publication 91, Delivery Confirmation Technical Guide, November 2000 edition.

5.0 ACCEPTANCE

[Amend 5.0 by deleting the last sentence in 5.0a.]

* * * * *

[Add new S919 for Signature Confirmation to read as follows:]

S919 Signature Confirmation

1.0 BASIC INFORMATION

1.1 Description

Signature Confirmation service provides the mailer with information about the date and time an article was delivered and, if delivery was attempted but not successful, the date and time of the delivery attempt. A delivery record, including the recipient's signature, is maintained by the USPS and is available, via fax or mail, upon request. No acceptance record is kept at the office of mailing. Signature Confirmation service is available only at the time of mailing. Signature Confirmation service does not include insurance.

1.2 Eligible Matter

Signature Confirmation is available for Priority Mail and Package Services.

1.3 Ineligible Matter

Signature Confirmation service is not available for the following:

a. Mail addressed to APO/FPO destinations or to United States territories, possessions, and freely-associated states listed in G011 (except for Puerto Rico and U.S. Virgin Islands, to which service is available).

b. Mail paid with precanceled stamps.

1.4 Service Options

The two Signature Confirmation service options are:

a. Retail option: Available at post offices at the time of mailing. A mailing receipt is provided. Mailers can access delivery information over the Internet at www.usps.com or by calling 1-800-222-1811 toll-free and providing the article number.

b. Electronic option: Available to mailers who apply identifying barcodes to each piece, establish an electronic link with the Postal Service to exchange acceptance and delivery data, provide an electronic file of Signature Confirmation pieces that are entered for mailing, and retrieve delivery status information electronically. No mailing receipt is provided. Mailers can access delivery information over the Internet at www.usps.com or through their electronic file. Requests for delivery records can be made over the Internet or by calling 1-800-222-1811 toll-free and providing the article number.

1.5 Fees and Postage

The applicable Signature Confirmation fee in R900 must be paid in addition to the correct postage. The fee and postage may be paid with postage stamps, meter stamps, or permit imprint.

1.6 Additional Services

The following special services may be combined with Signature Confirmation if the applicable standards for the services are met and the additional service fees are paid:

a. Collect on delivery (COD).

b. Insurance.

c. Registered mail.

d. Restricted delivery (if purchased with insurance for more than $50, COD, or registry service).

e. Special handling.

1.7 Where to Mail

A mailer may mail articles with retail option Signature Confirmation at a post office, branch, or station, or give articles to a rural carrier.

1.8 Firm Mailing Books

If three or more articles are presented for mailing at one time, the mailer may use Form 3877, Firm Mailing Book for Accountable Mail, provided by the Postal Service at no charge, or privately printed firm mailing bills. Privately printed or computer-generated firm mailing bills that contain the same information as Form 3877 may be used if approved by the local postmaster. The mailer may omit columns from Form 3877 that are not applicable to Signature Confirmation mail. Required elements are the package identification code (PIC), 5-digit destination ZIP Code, and applicable fees. If the mailer wants the firm mailing bills receipted by the Postal Service, the mailer must present the books with the articles to be mailed at a post office. The sheets of the books are the mailer's receipts. All entries made in firm mailing books must be made by typewriter or ink. Alterations must be initialed by the mailer and accepting postal employee. All unused portions of the addressee column must be obliterated with a diagonal line. A receipt is required for refund requests.

1.9 Signature Waiver

Customers who waive the signature requirement must accept the delivery employee's signature and date of delivery as proof of delivery. Customers who waive the signature requirement will be provided only the date of delivery in the delivery record, unless a special request for the delivery employee's signature is made. For retail labels, detach both parts of the gummed label and attach to the mailpiece. Waiver of signature is not available when Signature Confirmation is combined with other special services.

2.0 LABELS

2.1 Types of Labels

Mailers may use one of the three Signature Confirmation label options shown in Exhibit 2.1. Additional information may be found in a supplement to Publication 91, Delivery Confirmation Technical Guide (November 2000 edition):

a. Form 153 obtained from the post office at no charge. This form may be used only with the retail option (see Exhibit 2.1a).

[Exhibit 2.1a, PS Form 153, will be published at a later date.]

b. USPS Label 315, available at no charge to electronic option mailers (see Exhibit 2.1b).

[Exhibit 2.1b, Label 315, will be published at a later date.]

c. Privately printed barcoded labels that meet the requirements in 2.0 and 3.0 (see Exhibit 2.1c).

[Exhibit 2.1c, Privately Printed Label, will be published at a later date.]

2.2 Label Placement

The barcoded label section of Label 315 or Form 153 must be placed either above the delivery address and to the right of the return address or to the left of the delivery address. A privately printed Signature Confirmation label that is separate from a privately printed address label must be placed in close proximity to the address label. In all cases, the entire Signature Confirmation label must be placed on the address side of the mailpiece and not overlap any adjacent side.

3.0 BARCODES

3.1 Symbology

Labels printed by mailers must meet the following symbology requirements:

a. Mailers printing their own barcodes and using the retail option (1.4a) must print their barcodes using Automatic Identification Manufacturers' (AIM) Uniform Specifications for USS Code Interleaved 2 of 5.

b. Mailers printing their own barcodes and using the electronic option (1.4b) must use one of the following barcode symbologies: UCC/EAN 128, USS Code Interleaved 2 of 5, USS Code 39, or USS Code 128. Each barcode must represent a unique Package Identification Code (PIC) as specified in 3.2. The barcodes must meet the specifications in Publication 91.

3.2 Package Identification Code (PIC)

Each barcode symbology must represent a unique PIC:

a. For UCC/EAN 128, each barcode must represent a unique PIC and be made up of five fields totaling from 16 to 22 characters. Additional information and specifications can be found in Publication 91. The five required data fields are:

(1) Application Identifier (AI): two characters; identifies the barcode as a postal barcode.

(2) Service Type Code (STC): two characters; identifies the type of product or service used for each item.

(3) Customer ID: nine characters; DUNS® number that uniquely identifies the customer.

(4) Package Sequence Number (PSN): variable from 2 to 8 numbers.

(5) Modulus 10 Check digit: one character. See Publication 91 for use of the concatenated barcode for routing purposes.

b. For USS Code Interleaved 2 of 5, USS Code 39, and USS Code 128, each barcode must contain a unique PIC and be made up of four fields totaling 20 characters. The four required data fields are fields 2 through 5 above with a fixed sequential number of 8 digits. Additional information and specifications can be found in Publication 91. These symbologies do not use an Application Identifier (AI).

3.3 Printing

Labels printed by mailers must meet the following specifications:

a. Each barcoded label must bear a unique Signature Confirmation PIC barcode as specified in 3.2 and have “USPS SIGNATURE CONFIRMATION” printed between ⅛ inch and ½ inch above the barcode in minimum 12-point bold sans serif type. Human-readable characters that represent the barcode ID must be printed between ⅛ inch and ½ inch under the barcode in minimum 10-point bold sans serif type. These characters must be parsed in accordance with Publication 91. There must be a minimum of ⅛-inch clearance between the barcode and any printing. The preferred range of widths of narrow bars and spaces is 0.015 inch to 0.017 inch. The width of the narrow bars or spaces must be at least 0.013 inch but no more than 0.021 inch. All bars must be at least ¾ inch high. Bold (1/16 inch minimum) bars must appear between ⅛ inch and ½ inch above and below the human-readable endorsements to segregate the Signature Confirmation barcode from other areas of the shipping label. The line length must be equal to the length of the barcode (see Exhibit 2.1b).

b. Each barcode must meet the requirements in 3.1 for the type of service requested.

c. Mailers must obtain Postal Service certification for each printer used to print barcoded Signature Confirmation labels. For certification, a mailer must forward for evaluation and approval 20 barcoded labels/forms generated by each printer to the National Customer Support Center (NCSC), Attention Barcode Certification (see G043 for address). The Postal Service will issue the mailer a PS Form 3152, Delivery Confirmation Certification, for each printer certified. All barcodes must be in accordance with 2.0 and 3.0. Further certification instructions are included in Publication 91.

d. Barcodes that do not meet specifications will not be accepted by the USPS. The USPS will contact the mailer if problems with the barcodes are found and will try to resolve the problem. The USPS may suspend a mailer's certification if electronic file quality does not meet specifications.

e. Mailers who have previously received certification for label printing under the Delivery Confirmation program are not required to obtain any additional certification to use Signature Confirmation.

3.4 Integrated Barcodes

An integrated barcode may be used by mailers printing their own barcodes and using the electronic service option. Mailers may combine Signature Confirmation and insurance into a single barcode on the shipping label and eliminate multiple labels and barcodes on packages. Mailers must still meet existing specifications in 3.1 and 3.2. Minor modifications allow users to request multiple special services on Priority Mail and Package Services. Two required changes are:

a. Change the text above the barcode to identify the service requested. Exhibits are included in Publication 91, Delivery Confirmation Technical Guide, November 2000 edition (which includes the Addendum on Signature Confirmation and integrated barcode).

b. Change the service type code in the barcode to identify the class of mail and/or type of special services combined with Signature Confirmation. Additional information on the Service Type Code Matrix can be found in the Publication 91, Delivery Confirmation Technical Guide, November 2000 edition.

4.0 ELECTRONIC FILE TRANSMISSION

Mailers must meet the following standards for electronic file transmission:

a. Publication 91 contains specifications for electronic file transmission. A test file transmission must be uploaded and approved before mailings begin. Upon certification, USPS will issue to the mailer a Form 3152, Delivery Confirmation Certification.

b. Mailers using the electronic option will be required to transmit a file with a unique record for each article mailed. The USPS may suspend a mailer's certification if the electronic file quality does not meet specifications. In addition, USPS acceptance units will be notified to charge the customer the retail option Signature Confirmation fee.

c. Mailers who have previously received certification for electronic file transmission under the Delivery Confirmation program are not required to obtain any additional certification for Signature Confirmation service use.

d. Mailers using the electronic option are required to include additional fields in the electronic file when planning to use the integrated barcode. For more information, consult Publication 91.

5.0 ACCEPTANCE

Customers must meet the following requirements when presenting electronic option Signature Confirmation mail for acceptance:

a. Presorted or permit imprint mailings containing pieces for which fees are paid for Signature Confirmation service must be presented to a post office business mail entry unit (BMEU), detached mail unit (DMU) at the mailer's plant, bulk mail center or auxiliary service facility business mail entry unit, or other postal facility capable of properly verifying the mailing and at which the mailer has obtained the necessary permits or license and paid any applicable mailing fee.

b. Mailers who use the electronic option must submit a completed Form 3152 with each mailing. Each Form 3152 must contain the electronic file number or barcode equivalent, date of mailing, and, if available, the total number of pieces by class of mail. The barcode format must comply with standards in Publication 91.

S920 Convenience

S921 Collect on Delivery (COD) Mail

1.0 BASIC INFORMATION

1.1 Description

[Amend 1.1 to show the new $1,000 limit for COD to read as follows:]

Any mailer may use collect on delivery (COD) service to mail an article for which the mailer has not been paid and have its price and the cost of the postage collected from the recipient. If the recipient pays the amount due by check payable to the mailer, the USPS forwards the check to the mailer. If the recipient pays the amount due in cash, the USPS collects the money order fee(s) from the recipient and sends a postal money order(s) to the mailer. The amount collected from the recipient may not exceed $1,000. COD service provides the mailer with a mailing receipt, and a delivery record is maintained by the Postal Service.

[Amend 1.2 by replacing “Standard Mail (B)” with “Package Services” and “Special Standard Mail” with “Media Mail”; no other changes to text.]

* * * * *

[Amend title of 1.4 by replacing “Other” with “Additional” to read as follows:]

1.4 Additional Services

[Amend 1.4 by clarifying the text to read as follows:]

Purchasing COD service allows customers to then purchase restricted delivery service or a return receipt. The following additional services may be combined with COD if the applicable standards for the services are met and the additional service fees are paid:

a. Delivery Confirmation (not available with Express Mail COD).

b. Registered mail.

c. Signature Confirmation.

d. Special handling.

* * * * *

[Effective November 5, 2000, the Postal Service completely rewrote DMM standards for business reply mail (see Postal Bulletin 22035 (10-19-00), available via www.usps.com). This rewrite was done for clarity and consistency. Therefore, standards for business reply mail in this final rule have been reorganized to reflect the new structure of DMM units E150, P014, R900, and S922. There have been no substantive changes to these standards since publication in the proposed rule.]

S922 Business Reply Mail (BRM)

* * * * *

3.0 POSTAGE, PER PIECE CHARGES, AND ACCOUNTING FEES

* * * * *

3.3 Annual Accounting Fee and Advance Deposit Account

[Amend 3.3 to show that BRM no longer requires a unique advance deposit account:]

A permit holder may choose to pay an annual accounting fee and establish an advance deposit account, which qualifies returned BRM pieces for the high-volume per piece charge. The accounting fee must be paid once each 12-month period at each post office where a permit holder holds an advance deposit account. Payment of the accounting fee is based on the anniversary date of the initial payment. The fee may be paid in advance only for the next 12-month period and only during the last 60 days of the current 12-month period. The fee charged is that which is in effect on the date of payment. An advance deposit account can be used for BRM under these conditions:

* * * * *

7.0 ADDITIONAL STANDARDS FOR QUALIFIED BUSINESS REPLY MAIL (QBRM)

* * * * *

[Add new 7.7 and 7.8 for the quarterly fee to read as follows:]

7.7 Quarterly Fee for High-Volume QBRM

Mailers may choose to pay a quarterly fee in addition to the annual accounting fee; payment of the quarterly fee entitles mailers to a lower per piece charge (the high-volume QBRM per piece charge listed in R900.4.4). The quarterly fee (and annual accounting fee) must be paid at each post office where mail is returned and for each separate billing desired. Mailers are committed to the “quarterly fee system” only for the time they pay the quarterly fee (i.e., mailers can opt out of the quarterly fee and high-volume QBRM per piece charges by simply not paying the fee for the next quarter). The quarterly fee cannot be paid or renewed retroactively to receive a lower per piece charge on pieces already paid for and delivered. The quarterly fee can be paid for any three consecutive calendar months.

7.8 Payment Period for Quarterly Fee

The quarterly fee must be paid in advance for at least one but no more than four quarterly periods. A quarterly period begins on either the first day of the month (if a mailer pays on or before the 15th of the month) or the first day of the following month (if a mailer pays after the 15th of the month) and continues for three consecutive calendar months. A mailer who pays the quarterly fee is entitled to the high-volume QBRM per piece charge from the date of payment through the end of the quarterly period. The fee paid is that which is in effect on the date of payment.

* * * * *

S923 Merchandise Return Service

1.0 BASIC INFORMATION

1.1 Description

[Amend 1.1 by replacing “Standard Mail (B)” with “Package Services” and “Special Standard Mail” with “Media Mail” and by deleting references to the per piece fee to read as follows:]

Merchandise return service allows an authorized permit holder to pay the postage and special service fees on single-piece rate First-Class Mail, Priority Mail, and Package Services parcels that are returned to the permit holder by the permit holder's customers via a special label produced by the permit holder.

* * * * *

1.3 Payment Guarantee

[Revise 1.3 to read as follows:]

The permit holder guarantees payment of the proper postage and special service fees (except for insurance purchased by the sender) on all parcels returned via a special label produced by the permit holder.

* * * * *

1.8 Priority Mail Reshipment

[Amend 1.8 by replacing “Standard Mail” with “Package Services”; no other changes to text.]

* * * * *

1.11 Mailer Markings and Endorsements

[Amend 1.11 to show that unmarked pieces will be treated as Parcel Post to read as follows:]

It is recommended but not required that permit holders preprint a rate marking on the merchandise return service labels they distribute. Preprinting a rate marking guarantees that returned parcels will be given service and charged postage according to the wishes of the permit holder. Regardless of weight, all unmarked parcels will be treated as Parcel Post and charged Parcel Post rates.

[Remove item 1.12.]

2.0 PERMITS

* * * * *

2.3 Multiple Accounts

[Amend 2.3 to clarify the reference to the annual accounting fee:]

When an advance deposit account is kept at each entry location, a separate permit is needed and the annual merchandise return service permit and annual accounting fees must be paid at each office.

* * * * *

2.7 Permit Cancellation

[Amend 2.7 to remove references to the per piece fee and to delete the last sentence to read as follows:]

The USPS may cancel a permit if the permit holder refuses to accept and pay postage and fees on merchandise return service parcels, fails to keep sufficient funds in the advance deposit account to cover postage and fees, or distributes merchandise return labels or tags that do not meet USPS standards.

* * * * *

[Revise 3.0 to read as follows:]

3.0 POSTAGE AND FEES

3.1 Postage

Merchandise return service parcels are charged single-piece rate postage and special service fees based on the class or subclass marking on the label. If a parcel is unmarked, then it is charged Parcel Post rates. If the postage for the returned parcel is zoned and there is no way to determine where it was sent from (i.e., no postmark or return address), then postage is calculated at zone 4 (for Priority Mail) or zone 4 Inter-BMC/ASF rates (for Parcel Post). Postage is deducted from an advance deposit account.

3.2 Per Piece Charge

There is no per piece charge for returned parcels.

3.3 Permit Fee

A permit fee is charged once each 12-month period on the anniversary date of the permit. The fee may be paid in advance only for the next year and only during the last 60 days of the current service period. The fee charged is that which is in effect on the date of payment.

3.4 Advance Deposit Account and Annual Accounting Fee

The permit holder must pay postage and special service fees through an advance deposit account and must pay an annual accounting fee (see R900). The accounting fee is charged once each 12-month period on the anniversary date of the initial accounting fee payment. The fee may be paid in advance only for the next year and only during the last 60 days of the current service period. The fee charged is that which is in effect on the date of payment. A separate advance deposit account for MRS is not required; the annual accounting fee is charged if MRS postage and fees are paid from an existing account.

a. For each withdrawal, only one statement is provided for each annual accounting fee paid.

b. The permit holder must pay an annual accounting fee for each separate statement (accounting) requested. If only one annual account fee is paid, then the permit holder receives only one statement.

4.0 ADDITIONAL FEATURES

[Amend heading of 4.1 by adding “Indicated by Permit Holder” to read as follows:]

4.1 Insurance Indicated by Permit Holder

[Amend 4.1 by clarifying text to read as follows:]

The permit holder may obtain insured mail service with MRS. Only Package Services matter (i.e., matter not required to be mailed at First-Class Mail rates under E110) may be insured. Insured mail may be combined with Delivery Confirmation and special handling, or both. To request insured mail service, the permit holder must preprint or rubber-stamp “Insurance Desired by Permit Holder for $____(value)” to the left of and above the “Merchandise Return Label” legend and below the “Total Postage and Fees Due” statement on the merchandise return label. The value part of the endorsement, showing the dollar amount of insurance for the article, may be handwritten by the permit holder. If insurance is paid for by the MRS permit holder, then only the MRS permit holder may file a claim (S010).

[Remove current 4.2. Add new 4.2 to read as follows:]

4.2 Insurance Added by Sender

If the permit holder has not indicated insured mail service on the MRS label, then the sender has the option of adding insurance and paying the applicable insured fee. If insurance is paid by the sender, then only the sender may file a claim (S010). The permit holder pays postage upon receipt, but does not pay the insured fee when insurance is added by the sender.

[Revise the title of 4.3 to read “Insured Markings”; no other changes to text.]

* * * * *

5.0 FORMAT

* * * * *

5.6 Format Elements

[Amend 5.6 by revising 5.6c to clarify that rate markings are optional on MRS labels.]

Format standards required for the merchandise return label are shown in Exhibit 5.6a, Exhibit 5.6b, Exhibit 5.6c, and Exhibit 5.6d, and described as follows:

* * * * *

c. Rate Marking. If the rate marking recommended in 1.11 is used, it must be placed in the space to the right and above the “Merchandise Return Label” legend. The marking must be at least 3/16 inch high and printed or rubber-stamped. Only the permit holder may apply this marking.

* * * * *

[Amend the postage and fee markings shown in 5.6d(2) to remove the entry for the merchandise return service fee.]

[Amend the postage and fee markings shown in 5.6e(2) to remove the entry for the merchandise return service fee.]

[Amend Exhibits 5.6a, 5.6b, 5.6d, and 5.6c to remove the entry for the merchandise return service fee.]

* * * * *

S924 Bulk Parcel Return Service

1.0 BASIC INFORMATION

1.1 Description

[Amend 1.1 to change “Standard Mail (A)” to “Standard Mail” and to add payment information:]

Bulk parcel return service (BPRS) allows mailers of large quantities of Standard Mail machinable parcels that are either undeliverable-as-addressed or opened and remailed by addressees to be returned to designated postal facilities. The mailer has the option of picking up all returned parcels from a designated postal facility at a predetermined frequency specified by the Postal Service or having them delivered by the Postal Service in a manner and frequency specified by the Postal Service. For this service a mailer pays an annual permit fee and a per piece charge for each parcel returned. Payment for the returned pieces is deducted from an advance deposit account.

1.2 Availability

[Amend 1.2 by replacing “Standard Mail (A)” with “Standard Mail” and “Standard Mail (B)” with “Package Services” in 1.2i; no other changes to text.]

* * * * *

[Add new 1.4 to indicate that bulk parcel return service cannot be used with special services to read as follows:]

1.4 Special Services

Special services cannot be added to pieces returned via bulk parcel return service.

* * * * *

[Amend 3.0 by replacing “Postage” with “Charges” to read as follows:]

3.0 CHARGES AND FEES

* * * * *

[Renumber current 3.2 as 3.5. Add new 3.2 through 3.4 to clarify the per piece charges and to describe the new annual accounting fee to read as follows:]

3.2 Per Piece Charge

Each piece returned through BPRS is charged only the per piece charge in R900. Postage is not charged for pieces returned through BPRS.

3.3 Advance Deposit Account

The permit holder must pay BPRS fees through an advance deposit account and pay an annual accounting fee (see R900). This fee covers the administrative cost of maintaining the account and provides the mailer with a single accounting of all charges deducted from that account. The accounting fee is charged once each 12-month period on the anniversary date of the initial accounting fee payment. The fee may be paid in advance only for the next year and only during the last 60 days of the current service period. The fee charged is that which is in effect on the date of payment.

3.4 Existing Advance Deposit Account

A separate advance deposit account for BPRS is not required; the annual accounting fee is charged if BPRS postage and fees are paid from an existing account.

[Amend the title and content of renumbered 3.5 to clarify the payment guarantee to read as follows:]

3.5 Payment Guarantee

The permit holder guarantees payment of all applicable fees. The post office returns BPRS items to the permit holder only when there are sufficient funds in the advance deposit account to pay the fees on returned pieces.

* * * * *

5.0 FORMAT

[Amend Exhibit 5.0 to change the class marking to “Standard Mail.”]

* * * * *

5.4 Class Endorsement

[Amend 5.4 to change “STANDARD MAIL A” to “STANDARD MAIL.” No other changes to text.]

* * * * *

S930 Handling

1.0 SPECIAL HANDLING

* * * * *

1.2 Availability

[Amend 1.2 by replacing “Standard Mail (B)” with “Package Services” and “Special Standard Mail” with “Media Mail”; no other changes to text.]

1.3 Additional Services

[Amend 1.3 to clarify the opening sentence, to change “Standard Mail (B)” to “Package Services,” and to add Signature Confirmation to read as follows:]

The following special services may be combined with special handling if the applicable standards for the services are met and the additional service fees are paid:

a. COD.

b. Delivery Confirmation.

c. Insurance.

d. PAL (for Package Services only).

e. Return receipt for merchandise.

f. Signature Confirmation.

* * * * *

[Add new 1.7 to clarify that the nonmachinable surcharge is not charged on pieces sent special handling:]

1.7 Nonmachinable Parcels

The Parcel Post nonmachinable surcharge is not charged on parcels sent special handling.

2.0 PARCEL AIRLIFT SERVICE (PAL)

* * * * *

[Amend 2.2 by replacing “Standard Mail (B)” with “Package Services”; no other changes to text.]

2.3 Additional Services

[Amend 2.3 to clarify the opening sentence to read as follows:]

The following special services may be combined with PAL if the applicable standards for the services are met and the additional service fees are paid:

* * * * *

An appropriate amendment to 39 CFR 111 to reflect these changes will be published.

Stanley F. Mires,
Chief Counsel, Legislative.

[FR Doc. 00-31357 Filed 12-14-00; 8:45 am]

BILLING CODE 7710-12-P